DEPARTMENT OF HEALTH AND HUMAN SERVICES

Centers for Medicare & Medicaid Services

[CMS-1488-N]

RIN 0938-AO12

Medicare Program; Hospital Inpatient Prospective Payment Systems and Fiscal Year 2007 Rates: Final Fiscal Year 2007 Wage Indices and Payment Rates After Application of Revised Occupational Mix Adjustment to Wage Index

AGENCY: Centers for Medicare & Medicaid Services (CMS), HHS.

ACTION: Notice.

SUMMARY: This notice contains tables listing the final occupational mix adjusted wage indices, hospital reclassifications, payment rates, impacts, and other related tables as a result of the application of the occupational mix adjustment to 100 percent of the wage index effective for fiscal year (FY) 2007.

DATES: Effective Date: This notice is effective on October 1, 2006.

FOR FURTHER INFORMATION CONTACT: Valerie Miller, (410) 786-4535, Wage Index Issues. Brian Slater, (410) 786-5229, Geographic Reclassification Issues. Marc Hartstein, (410) 786-4548, All Other Issues.

SUPPLEMENTARY INFORMATION:

I. Background

In the August 18, 2006 Federal Register (71 FR 47870) (hereinafter referred to as the FY 2007 IPPS final rule), we set forth our final rule for the Medicare inpatient prospective payment system (IPPS). Due to the decision in the case Bellevue Hosp. Center v. Leavitt, 443 F. 3d 163 (2nd Cir. 2006), we stated that we would publish the FY 2007 occupational mix adjusted wage index tables, rates, and impacts on our Web site and in a Federal Register document subsequent to the FY 2007 IPPS final rule. (See the FY 2007 IPPS final rule for a full explanation of the reasons for such subsequent publication.) This notice includes such wage index tables, rates, and impacts.

II. Final FY 2007 Occupational Mix Adjusted Wage Indices, Rates, and Impacts

A. Wage Index and Occupational Mix Adjustment

1. Implementation of the New Occupational Mix Adjustment for the FY 2007 Wage Index

The final wage index values for FY 2007 (except those for hospitals receiving wage index adjustments under section 505 of Pub. L. 108-173) are included in Tables 4A-1, 4A-2, 4B, 4C-1, 4C-2, and 4F of the Addendum to this notice and are posted on our Web site at http://www.cms.hhs.gov/AcuteInpatientPPS/. For hospitals that are receiving a wage index adjustment under section 505 of Pub. L. 108-173, the hospital's final wage index will reflect the adjustment shown in Table 4J of the Addendum to this notice. Tables 3A and 3B of the Addendum to this notice and on our Web site reflect the 3-year average of the average hourly wage for each labor market area before the redesignation of hospitals, used for FYs 2005, 2006, and 2007. Table 3A lists average hourly wages for urban areas and Table 3B lists these data for rural areas. In addition, Table 2 in the Addendum to this notice includes the occupational mix adjusted average hourly wage for each hospital from the FYs 2001, 2002, and 2003 cost reporting periods. The average hourly wages for FYs 2001 and 2002 reflect a 10 percent occupational mix adjustment using the survey data used to develop the FYs 2005 and 2006 wage indices, respectively. The FY 2003 average hourly wages reflect a 100 percent occupational mix adjustment using the recently collected survey data and were used to calculate the FY 2007 wage index.

2. Proxy Occupational Mix Adjustment for Hospitals With No Survey Data

As stated in the FY 2007 IPPS final rule (71 FR 48014), we have applied the average occupational mix adjustment for a hospital's labor market area to the wage data of hospitals that did not submit occupational mix survey data or that submitted survey data that could not be used because we determined it to be aberrant. For example, a hospital's individual nurse category average hourly wages were out of range (that is, unusually high or low), and the hospital did not provide sufficient documentation to explain the aberrancy, or the hospital did not submit any registered nurse staff salaries or hours data.

In calculating the average occupational mix adjustment factor for an area, we replicated Steps 1 through 6 of the calculation for the occupational mix adjustment (see 71 FR 48009). However, instead of performing these steps at the hospital level, we aggregated the data at the labor market area level. In following these steps, for example, for Core-Based Statistical Areas (CBSAs) that contain providers that did not submit occupational mix survey data, the occupational mix adjustment factor ranged from a low of 0.8944 (CBSA 39820, Redding, CA), to a high of 1.0924 (CBSA 38220, Pine Bluff, AR). Also, in computing a hospital's occupational mix adjusted salaries and wage-related costs for nursing employees (Step 7 of the calculation (see 71 FR 48010)) in the absence of occupational mix survey data, we multiplied the hospital's total salaries and wage-related costs by the percentage of the area's total workers attributable to the area's total nursing category. There were also two CBSAs in which none of the providers submitted the occupational mix survey (CBSA 49740, Yuma, AZ, and CBSA 25020, Guayama, P.R.). In the absence of any data in these labor market areas, we applied an occupational mix adjustment factor of 1.0 to all providers.

3. Analysis of the Final FY 2007 Wage Index

Using the new occupational mix survey data and applying the occupational mix adjustment to 100 percent of the FY 2007 wage index results in a national average hourly wage of $29.6529 and a Puerto-Rico specific average hourly wage of $13.0943. We calculated the FY 2007 wage index using the Worksheet S-3 cost report data of 3,570 hospitals and occupational mix survey data from 3,239 hospitals (90.7 percent response rate). Although more than 3,239 hospitals submitted occupational mix survey data for the January through March 2006 collection period, we excluded the data for 37 hospitals that did not have FY 2003 Worksheet S-3 cost report data for use in calculating the FY 2007 wage index. Also, we excluded the occupational mix survey data of another 30 hospitals because their data was incomplete or aberrant. Using the occupational mix data of 3,239 hospitals, the FY 2007 national average hourly wages for each occupational mix nursing subcategory as calculated in Step 2 of the occupational mix calculation are as follows:

Occupational mix nursing subcategory | Average hourly wage
National RN Management | $38.5908
National RN Staff | 33.3739
National LPN | 19.2721
National Nurse Aides, Orderlies, and Attendants | 13.6906
National Medical Assistants | 15.6304
National Nurse Category | 28.7431

The national average hourly wage for the entire nurse category as computed in Step 5 of the occupational mix calculation is $28.7431. Hospitals with a nurse category average hourly wage (as calculated in Step 4) of greater than national nurse category average hourly wage receive an occupational mix adjustment factor (as calculated in Step 6) of less than 1.0. Hospitals with a nurse category average hourly wage (as calculated in Step 4) of less than national nurse category average hourly wage receive an occupational mix adjustment factor (as calculated in Step 6) of greater than 1.0.

Based on the January through March 2006 occupational mix survey data, we determined (in Step 7 of the occupational mix calculation) that the national percentage of hospital employees in the Nurse category is 42.9 percent, and the national percentage of hospital employees in the All Other Occupations category is 57.1 percent. At the CBSA level, the percentage of hospital employees in the Nurse category ranged from a low of 23.0 percent in one CBSA, to a high of 85.5 percent in another CBSA.

After adjusting the FY 2007 wage indices by 100 percent for occupational mix, the wage index values for a total of 250 hospitals in 73 labor market areas are assigned a statewide rural wage index value (“the rural floor”) according to section 4410 of Pub. L. 105-33, or an imputed floor, for hospitals located in all-urban States, according to § 412.64(h).

a. Effect of the 2006 Occupational Data on the FY 2007 Wage Index (Unadjusted Relative to Adjusted Wage Index). We compared the FY 2007 unadjusted wage indices for each CBSA to the FY 2007 wage indices adjusted for occupational mix. In implementing an occupational mix adjusted wage index based on the above calculation, the final wage index values for 14 rural areas (29.8 percent) and 201 urban areas (52.1 percent) would decrease as a result of the adjustment. Six rural areas (12.8 percent) and 108 urban areas (28.0 percent) would experience a decrease of 1 percent or greater in their wage index values. The largest negative impacts would be 2.7 percent and 6.0 percent. In addition, 33 rural areas (70.2 percent) and 181 urban areas (46.9 percent) would experience an increase in their wage index values. The largest increase for a rural area would be 3.16 percent and the largest increase for an urban area would be 8.39 percent. Four urban areas would be unaffected. These results indicate that a larger percentage of rural areas benefit from an occupational mix adjustment than do urban areas. However, as was the case with the previous occupational mix data, close to a third of rural CBSAs (29.8 percent) continue to experience a decrease in their wage indices as a result of the occupational mix adjustment.

b. Effect of the 2006 Occupational Mix Survey Data Relative to the 2003 Survey Data. We also analyzed the effect on the FY 2007 wage index of applying the January through March 2006 occupational mix survey data, relative to applying the 2003 occupational mix survey data. In this analysis, we compared the FY 2007 wage index adjusted 100 percent using 2003 and 2006 survey data. By controlling for changes in hospitals' wage data and geographic reclassification, we determined that the wage index values for 27 rural areas (57.4 percent) and 183 urban areas (47.4 percent) would decrease as a result of applying the 2006 survey data instead of the 2003 survey data. Ten rural areas (21.3 percent) and 96 urban areas (24.9 percent) would experience a decrease of 1 percent or greater in their wage index values. The largest negative impact for a rural area would be 3.6 percent. Six urban areas (1.2 percent) would be decreasing by greater than 5 percent; the largest urban decrease would be 20.9 percent, and the second largest decrease for an urban area would be 7.7 percent. One rural and one urban area would be unaffected by the change in the occupational mix data. In addition, 19 rural areas (40.4 percent) and 202 urban areas (52.3 percent) would experience an increase in their wage index values. The largest increase for a rural area would be 2.6 percent and the largest increase for an urban area would be 7.15 percent.

B. Final FY 2007 Hospital Reclassifications/Redesignations

1. Withdrawals and Terminations

As we stated in the FY 2007 IPPS final rule (71 FR 48020), for FY 2007, rather than hospitals withdrawing or terminating their 3-year reclassifications within 45 days of the publication of the IPPS proposed rule, hospitals would be subject to special procedures unique to FY 2007.

These procedures are as follows:

• Hospitals had 15 days from the display date of the FY 2007 IPPS final rule to notify us of whether, in the absence of viewing the final 100 percent occupational mix-adjusted wage index data, they wish to choose a particular wage index for which they are eligible (such as to definitively maintain, terminate, or withdraw from a reclassification that they received ).

• If we did not receive notice from the hospital within the 15-day timeframe, we made our best efforts to give the hospital the highest wage index among its available options. We made reclassification withdrawal and termination decisions based on what we perceived would be most advantageous to the hospital. (See 71 FR 48020 for an explanation of the reclassifications and adjustment we chose among.) Please note that in some cases we terminated a hospital's Lugar reclassification under section 1886(d)(8)(B) of the Act in order to receive the out-migration adjustment. Because this termination would result in the hospital losing urban status, we published a separate table (Table 9D) identifying these hospitals that move from Lugar/urban status to rural status with the out-migration adjustment. Also, in some cases, we may have made half-year terminations/withdrawals on behalf of section 508 hospitals (or groups containing section 508 hospitals) using the procedures identified in the FY 2007 IPPS final rule. (See 71 FR 48021 for an explanation of the half-year reclassifications that could occur for section 508 hospitals and groups containing section 508 hospitals.

• We have posted the final occupational mix-adjusted wage indices, out-migration adjustments, and our decisions on hospital reclassification on the CMS Web site at http://www.cms.hhs.gov/AcuteInpatientPPS/WIFN/list.asp. We have posted the same table on the CMS Web site that appeared in the Federal Register final notice of the occupational mix-adjusted wage indices.

• In the FY 2007 IPPS final rule, we acknowledged that hospitals may base termination/withdrawal decisions on factors other than simply what results in the highest wage index for the upcoming fiscal year. For this reason, we allowed a hospital to change a decision that is made by CMS on its behalf. Hospitals now have a 30-day period from the date these final data and our final decisions appear on the CMS Web site to notify CMS in writing, with a copy to the MGCRB, of whether they wish to reverse the reclassification decision made by CMS or to choose another reclassification for which they are eligible. Hospitals are able to determine the reclassification decision applied on their behalf by reviewing Tables 9A through 9C for hospitals that are reclassified under section 1886(d)(8)(B) of the Act, section 508 of Pub. L. 108-173, or section 1886(d)(10) of the Act. The applicable wage index for these hospitals will be found on Table 2. If a hospital is not listed in Tables 9A through 9C, CMS has made a decision not to reclassify the hospital and its home wage index will apply, including the effect of any out-migration adjustment (if applicable). Again, the wage index that will apply to the hospital is found in Table 2. Any applicable out-migration adjustment for the hospital is found in Table 4J. As indicated above in this section, we are publishing a separate table identifying hospitals that we move from Lugar/urban status to rural status with the out-migration adjustment in Table 9D.

• Requests to reverse a decision made on behalf of a hospital by CMS and to choose another reclassification or adjustment for which the hospital is otherwise eligible must be received by CMS no later than 5 p.m., e.s.t., with a copy sent to the MGCRB by October 30, 2006 (or within 30 days from the date the information appears on the CMS Web site at http://www.cms.hhs.gov/AcuteInpatientPPS/WIFN/list.asp at the following addresses: Division of Acute Care, C4-08-06, 7500 Security Boulevard, Baltimore, MD 21244, Attn: Marianne Myers; and a copy to Medicare Geographic Classification Review Board, 2520 Lord Baltimore Drive, Suite L, Baltimore, MD 21244-2670.

As required under § 412.273(c), requests by groups of hospitals must be made by all hospitals that are a party to the application or reclassification. The reclassification or adjustment chosen by the hospital must be one for which the hospital would otherwise be eligible had CMS not made the withdrawal or termination decision on the hospital's behalf.

• If a hospital (or group of hospitals) fails to notify CMS that it is revising a determination made on its behalf within 30 days from the date the information appears on the CMS Web site, the decision made by CMS on the hospital's behalf will be final for FY 2007. Therefore, if CMS made a decision on a hospital's (or group of hospitals) behalf to terminate or withdraw a reclassification and the hospital does not reverse or modify CMS's decision within 30 days of posting the decision on the CMS Web site, we will deem the hospital's reclassification is withdrawn or terminated. If the hospital does not reverse or modify CMS's decision within 30 days of posting of the decision on the CMS Web site, once CMS's decision on the hospital's behalf is in effect, it will be treated in the same manner as if the hospital(s) had made the reclassification decision on its own. Thus, for example, because a hospital cannot have overlapping reclassifications, if we decide a hospital should accept a FY 2007 through 2009 reclassification and the hospital does not modify or reverse CMS's decision within 30 days of posting the decision on the CMS Web site, any reclassification the hospital previously had for FY 2006 through 2008 would be permanently terminated.

Hospitals should note that we will not recalculate the wage indices or budget neutrality factors now that CMS has made their decisions regarding what is most advantageous to each hospital using the 100 percent occupational mix-adjusted wage data. That is, we will not further recalculate the wage indices (including any rural floors or imputed rural floors) or standardized amounts based on hospital decisions that further revise decisions made by CMS on the hospitals' behalf.

In addition, we note that rural areas that include a section 508 hospital (specifically a hospital with wages relatively higher than the wages of other hospitals) may experience a decrease in their wage index for the second half of FY 2007. This is because section 508 hospitals are not considered reclassified under section 1886(d)(10) of the Act, and therefore, are not subject to the rule in section 1886(d)(8)(C)(ii) of the Act requiring rural area wage indices to be calculated exclusive of hospitals reclassified under section 1886(d)(10) of the Act, if doing so would increase the rural wage index. Thus, for the first half of the year, a section 508 hospital may be included in the home wage index of a rural area, while the hospitals reclassified under section 1886(d)(10) of the Act are excluded, since such exclusion increases the wage index of the rural area. However, for the second half of the year, the hospital is no longer a section 508 hospital. If the former section 508 hospital is reclassified under section 1886(d)(10) of the Act, it is grouped with other hospitals so reclassified. The high wages of the section 508 hospital may operate such that, for the second half of the year, it is more advantageous for all of the reclassified hospitals to be included in the wage index of the rural area (rather than excluded as they were in the first half of the year). However, because the other reclassified hospitals are now included in the wage index, and not just the sole section 508 hospital with high wages, the area may see a decline in the wage index. We view this scenario as arising due to the rural area's higher than expected wage index during the first half of the year from including only the section 508 hospital and not any reclassified hospitals. If we did not establish special rules that allowed for one-half year reclassifications, the section 508 hospital likely would have reclassified for the entire year under section 1886(d)(10) of the Act. In that case, the wage index for the second-half of FY 2007 would have applied for the entire year.

2. MGCRB Applications for FY 2008

Section 1886(d)(10)(C)(ii) of the Act indicates that a hospital requesting a change in geographic classification for a fiscal year must submit its application to the MGCRB no later than the first day of the 13-month period ending on September 30 of the preceding fiscal year. Thus, the statute requires that FY 2008 reclassification applications be submitted to the MGCRB no later than September 1, 2006. For this reason, hospitals must have filed a FY 2008 reclassification application by the September 1, 2006 deadline even though the average hourly wage data used to develop the final FY 2007 wage indices was not available.

The MGCRB, in evaluating a hospital's request for reclassification for FY 2008 for the wage index, must utilize the official data used to develop the FY 2007 wage index. The wage data used to support the hospital's wage comparisons must be from the CMS hospital wage survey. Generally, the source for these data is the IPPS final rule. However, the wage tables identifying the 3-year average hourly wages of hospitals were not available in time to include them in the FY 2007 IPPS final rule and by the September 1, 2006 deadline for submitting FY 2008 geographic reclassification applications.

As outlined in § 412.256(c)(2), hospitals with incomplete applications have the opportunity to request that the MGCRB grant a hospital that has submitted an application by September 1, 2006, an extension beyond September 1, 2006, to complete its application. Thus, while hospitals must file an application for reclassification to the MGCRB by September 1, 2006, they are able to supplement the reclassification application with official data used to develop the FY 2007 wage index after filing their initial application.

Therefore, as we stated in the FY 2007 IPPS final rule (71 FR 48022 through 48023), we are allowing hospitals 30 days after the final wage data is posted on the CMS Web site or by October 30, 2006 to file a supplement to the reclassification application they filed by September 1, 2006. The supplement would include the official data (Attachment H in the MGCRB Application) used to develop the FY 2007 wage index. Supplements must be received within 30 days this final data is posted on the CMS Web site or by October 30, 2006. The 3-year average hourly wage information necessary for FY 2008 reclassification applications appears in Tables 2, 3A, and 3B of the Addendum to this notice. The information also is available on the CMS Web site at: http://www.cms.hhs.gov/AcuteInpatientPPS/WIFN/list.asp and then by accessing the page titled “MGCRB Reclassification Data for FY 2008 Applications.” Applications and other information about MGCRB reclassifications may be obtained via the CMS Internet Web site at: http://www.cms.hhs.gov/mgcrb/, or by calling the MGCRB at (410) 786-1174. The mailing address of the MGCRB is: 2520 Lord Baltimore Drive, Suite L, Baltimore, MD 21244-2670.

3. Cancellations of Previous Withdrawals or Terminations for FY 2008 and Subsequent Fiscal Years

We are also allowing a 30-day period from the date the final wage data is posted on the CMS Web site to cancel a previous withdrawal or termination in order for a hospital to reinstate its reclassification for FY 2008 (for a FY 2006-2008 reclassification) or FY 2008 and FY 2009 (for a FY 2007-2009 reclassification). Because we have made termination or withdrawal decisions on behalf of hospitals, hospitals should look carefully at these decisions and determine whether they want to cancel such withdrawals or terminations for FY 2008 or FY 2009 if the reclassification time period includes these years. Hospitals must request to reinstate a reclassification that includes FY 2008 within 30 days of posting the Web site data for the reclassification to continue in that year even if they agree with the decision we made on their behalf for FY 2007.

Hospitals must request to reinstate a reclassification that includes FY 2008 within 30 days of when the data are posted to the CMS Web site or by October 30, 2006.

Requests to cancel a withdrawal or termination in order to reinstate a hospital's reclassification for FY 2008 or FY 2009, or both fiscal years, should be forwarded to the following addresses: Medicare Geographic Classification Review Board, 2520 Lord Baltimore Drive, Suite L, Baltimore, MD 21244-2670; and a copy to Division of Acute Care, C4-08-06, 7500 Security Boulevard, Baltimore, MD 21244, Attn: Marianne Myers.

All requests must be received within 30 days of this posting of CMS final wage data and final reclassification decisions on the CMS Web site or by October 30, 2006.

C. Final FY 2007 Prospective Payment Systems Payment Rates for Hospital Operating and Capital Related Costs

As discussed in the FY 2007 IPPS final rule, due to the unusual circumstances imposed by the order of the Court of Appeals for the Second Circuit in the decision in Bellevue Hospital Center v. Leavitt, we did not publish the final FY 2007 budget neutrality factors, standardized amounts, fixed-loss cost threshold, outlier offset factor, DRG weights, or wage indices in the FY 2007 IPPS final rule. Because the occupational mix adjustment affects the calculation of the outlier threshold as well as the outlier offset and budget neutrality factors that are applied to the standardized amounts, we were only able to provide tentative figures in that final rule. As discussed above in this notice, we are publishing final occupation mix-adjusted wage indices. Accordingly, in this section of this notice, we are discussing the final FY 2007 prospective payment rates for Medicare hospital inpatient operating costs and Medicare hospital inpatient capital-related costs. We calculated these final rates using the methodology we adopted in the FY 2007 IPPS final rule.

We note that, because hospitals excluded from the IPPS are paid on a cost basis (and not by the IPPS), these hospitals were not affected by the tentative figures for standardized amounts, offsets, and budget neutrality factors. Therefore, the rate-of-increase percentages for updating the target amounts for hospitals and hospital units excluded from the IPPS that are effective October 1, 2006 were finalized in the FY 2007 IPPS final rule (71 FR 48164) and are not included in this notice.

1. Final FY 2007 Prospective Payment Rates for Hospital Inpatient Operating Costs

a. Final FY 2007 Standardized Amount. We calculated the final FY 2007 standardized amounts using the methodology we adopted in the FY 2007 IPPS final rule. For a complete description of this methodology, please see the FY 2007 IPPS final rule (71 FR 48145 through 48155). Tables 1A and 1B in the Addendum to this notice contain the final national standardized amount that we are applying to all hospitals, except hospitals in Puerto Rico. The final Puerto Rico-specific amounts are shown in Table 1C. The final amounts shown in Tables 1A and 1B differ only in that the labor-related share applied to the final standardized amounts in Table 1A is 69.7 percent, and the labor-related share applied to the final standardized amounts in Table 1B is 62 percent. (The labor-related share is 62 percent for all hospitals (other than those in Puerto Rico) whose wage indices are less than or equal to 1.0000.)

In addition, Tables 1A and 1B include final standardized amounts reflecting the full 3.4 percent update for FY 2007, and final standardized amounts reflecting the 2.0 percentage point reduction to the update (a 1.4 percent update) applicable for hospitals that fail to submit quality data consistent with section 1886(b)(3)(B)(viii) of the Act.

In the FY 2007 IPPS final rule, we did not supply a table that illustrated the changes from the FY 2006 national average standardized amount because we were only setting the standardized amounts tentatively, but we stated that we would provide the table in the subsequent Federal Register notice. Therefore, in this notice, we include below a table that details the calculation of the final standardized amounts.

Comparison of FY 2006 Standardized Amounts to Final FY 2007 Single Standardized Amount With Full Update and Reduced Update
| Full update (3.4 percent) | Reduced update (1.4 percent)
FY 2006 Base Rate, after removing reclassification budget neutrality, demonstration budget neutrality, wage index transition budget neutrality factors and outlier offset (based on the proposed labor and nonlabor market share percentage for FY 2007) | Labor: $3,505.76 Nonlabor: $1,524.03 | Labor: $3,505.76. Nonlabor: $1,524.03.
Final FY 2007 Update Factor | 1.034. | 1.014.
Final FY 2007 DRG Recalibrations and Wage Index Budget Neutrality Factor | 0.995662. | 0.995662.
Final FY 2007 Reclassification Budget Neutrality Factor | 0.992355. | 0.992355.
Adjusted for Blend of FY 2006 DRG Recalibration and Wage Index Budget Neutrality Factors | Labor: $3,581.64 Nonlabor: $1,557.01 | Labor: $3,512.37. Nonlabor: $1,526.90.
Final FY 2007 Outlier Factor | 0.948968. | 0.948968.
Final FY 2007 Labor Market Wage Index Transition Budget Neutrality Factor | 0.999700. | 0.999700.
Final Rural Demonstration Budget Neutrality Factor | 0.999905. | 0.999905.
Final Rate for FY 2007 (after multiplying FY 2006 base rate by above factors) where the wage index is less than or equal to 1.0000 | Labor: $3,022.18 Nonlabor: $1,852.31 | Labor: $2,963.73. Nonlabor: $1,816.48.
Final Rate for FY 2007 (after multiplying FY 2006 base rate by above factors) where the wage index is greater than 1.0000 | Labor: $3,397.52 Nonlabor: $1,476.97 | Labor: $3,331.80. Nonlabor: $1,448.40.

The final labor-related and nonlabor-related portions of the national average standardized amounts for Puerto Rico hospitals for FY 2007 are set forth in Table 1C in the Addendum to this notice. (The labor-related share applied to the Puerto Rico-specific standardized amount is 58.7 percent, or 62 percent, depending on which is more advantageous to the hospital.

b. Final Adjustments for Area Wage Levels. The final occupational mix adjusted wage indices by geographic area are listed in Tables 4A-1, 4A-2, 4B, 4C-1, 4C-2, and 4F in the Addendum to this notice. (These tables are also available on the CMS Web site.)

c. FY 2007 Final Outlier Fixed-Loss Cost Threshold. Using the methodology we adopted in the FY 2007 IPPS final rule, we are establishing a final outlier fixed-loss cost threshold for FY 2007 equal to the prospective payment rate for the DRG, plus any IME and DSH payments, and any add-on payments for new technology, plus $24,485.

d. DRG Weights. Because we rely on the wage index data as one of the standardizing factors that we use in calculating both the charge-based and the cost-based relative weights that we are blending to set the FY 2007 transitional relative weights, we have recalculated the FY 2007 relative weights. We list the final DRG weights in Table 5 of the Addendum to this notice.

2. Final FY 2007 Prospective Payment Rates for Acute Care Hospital Inpatient Capital-Related Costs

We have calculated the final FY 2007 capital Federal rates, offsets, and budget neutrality factors using the methodology we adopted in the FY 2007 IPPS final rule. For a complete description of this methodology, please see the FY 2007 IPPS final rule (71 FR 48155 through 48156).

a. Inpatient Hospital Capital-Related Prospective Payment Rate Update. The factors used in the update framework are not affected by the occupational mix information used to adjust the wage index. Therefore, the update factor for FY 2007 was not revised from the capital PPS standard Federal rate update factor published in the FY 2007 IPPS final rule and remains at 1.10 percent for FY 2007. A full discussion of the update framework is provided in the FY 2007 IPPS final rule (71 FR 48156 through 48158).

b. Outlier Payment Adjustment Factor. Based on the final thresholds as set forth in section II.C. of this notice, we estimate that final outlier payments for capital-related costs will equal 4.32 percent for inpatient capital-related payments based on the final Federal rate in FY 2007. Therefore, we are applying a final outlier adjustment factor of 0.9568 to the final capital Federal rate. Thus, we estimate that the percentage of capital outlier payments to total capital standard payments for FY 2007 will be slightly lower than the percentages for FY 2006.

The outlier thresholds for FY 2007 are in section II.C.1. of this notice. For FY 2007, a case qualifies as a cost outlier if the cost for the case plus the IME and DSH payments are greater than the prospective payment rate for the DRG plus $24,485.

c. Budget Neutrality Adjustment Factor for Changes in DRG Classifications and Weights and the GAF. Using the methodology discussed in the FY 2007 IPPS final rule (71 FR 48158 through 48161), for FY 2007, we are establishing a final GAF/DRG budget neutrality factor of 0.9986. The GAF/DRG budget neutrality factors are built permanently into the capital rates; that is, they are applied cumulatively in determining the capital Federal rate. This follows from the requirement that estimated aggregate payments each year be no more or less than they would have been in the absence of the annual DRG reclassification and recalibration and changes in the GAF. The final incremental change in the adjustment from FY 2006 to FY 2007 is 0.9986. The final cumulative change in the capital Federal rate due to this adjustment is 0.9906 (the product of the incremental factors for FYs 1993 though 2006 and the final incremental factor of 0.9986 for FY 2007). (We note that averages of the incremental factors that were in effect during FYs 2005 and 2006, respectively, were used in the calculation of the final cumulative adjustment of 0.9986 for FY 2007.)

This factor accounts for DRG reclassifications and recalibration and for changes in the GAF as well as the revised wage index as adjusted by occupational mix data. It also incorporates the effects on the final GAF of FY 2007 geographic reclassification decisions made by the MGCRB compared to FY 2006 decisions. However, it does not account for changes in payments due to changes in the DSH and IME adjustment factors or in the large urban add-on.

d. Exceptions Payment Adjustment Factor. The adjustments made to the wage index as a result of the application of occupational mix data had no effect on capital exceptions payments. Therefore, the special exceptions adjustment factor remains at 0.9997 as discussed in section III.A.4. of FY 2007 IPPS final rule (71 FR 48161). We also explained that the adjustments for regular exception payments are no longer necessary as they were only applicable during the capital transition period (cost reporting periods beginning on or after October 1, 1991 and before October 1, 2001).

e. Capital Standard Federal Rate for FY 2007. We are providing a chart that shows how each of the factors and adjustments for FY 2007 affected the computation of the final FY 2007 capital Federal rate in comparison to the FY 2006 capital Federal rate. The FY 2007 update factor has the effect of increasing the final capital Federal rate by 1.1 percent compared to the average FY 2006 Federal rate. The final GAF/DRG budget neutrality factor has the effect of decreasing the final capital Federal rate by 0.14 percent. The final FY 2007 outlier adjustment factor has the effect of increasing the final capital Federal rate by 0.56 percent compared to the average FY 2006 capital Federal rate. The FY 2007 exceptions payment adjustment factor remains unchanged from the FY 2006 exceptions payment adjustment factor, and therefore, has a 0.0 percent net effect on the final FY 2007 capital Federal rate. The combined effect of all the changes is to increase the capital Federal rate by 1.52 percent compared to the average FY 2006 capital Federal rate.

Comparison of Factors and Adjustments: FY 2006 Capital Federal Rate and FY 2007 Capital Federal Rate
| FY 2006 | FY 2007 | Change | Percent change
Update Factor ¹ | 1.0080 | 1.0110 | 1.0110 | 1.10
GAF/DRG Adjustment Factor ¹ | 1.0008 | ³ 0.9986 | 0.9986 | −0.14
Outlier Adjustment Factor ² | 0.9515 | ³ 0.9568 | 1.0056 | 0.56
Exceptions Adjustment Factor ² | 0.9997 | 0.9997 | 0.0000 | 0.00
Capital Federal Rate | $420.65 | ³ $427. 03 | 1.0152 | 1.52
¹ The update factor and the GAF/DRG budget neutrality factors are built permanently into the capital rates. Thus, for example, the incremental change from FY 2006 to FY 2007 resulting from the application of the final GAF/DRG budget neutrality factor for FY 2007 is 0.9986.
² The outlier reduction factor and the exceptions adjustment factor are not built permanently into the capital rates; that is, these factors are not applied cumulatively in determining the capital rates. Thus, for example, the net change resulting from the application of the final FY 2007 outlier adjustment factor would be 0.9568/0.9515, or 1.0056.
³ Final factors for FY 2007, as discussed in section II.E. of this notice.

We provided a chart in the FY 2007 IPPS final rule (71 FR 48162) that compared the tentative FY 2007 capital Federal rate to the proposed FY 2007 capital Federal rate (71 FR 24158 through 24159). We are now providing a chart that shows how the final FY 2007 capital Federal rate differs from the tentative FY 2007 capital Federal rate as presented in the FY 2007 IPPS final rule.

Comparison of Factors and Adjustments: FY 2007 Tentative Capital Federal Rate and FY 2007 Final Capital Federal Rate
| Tentative FY 2007 ¹ | Final FY 2007 ² | Change | Percent change
Update Factor ¹ | 1.0110 | 1.0110 | 0 | 0
GAF/DRG Adjustment Factor ¹ | 0.9994 | 0.9986 | 0.0008 | −0.08
Outlier Adjustment Factor ² | 0.9568 | 0.9568 | 0 | 0
Exceptions Adjustment Factor ² | 0.9997 | 0.9997 | 0.0000 | 0.00
Capital Federal Rate | $427.38 | $427.03 | 0.0008 | 0.08
¹ As published in the FY 2007 IPPS final rule without the application of occupational mix data to the wage index.
² Final capital inpatient factors and rates after occupational mix adjustment to wage index in accordance with the order of the Second Circuit Court.

As a final comparison, we are providing a chart that shows how the final FY 2007 capital Federal rate differs from the proposed FY 2007 capital Federal rate presented in the FY 2007 IPPS proposed rule (71 FR 24158 through 24159).

Comparison of Factors and Adjustments: Proposed FY 2007 Capital Federal Rate and Final FY 2007 Capital Federal Rate
| Proposed FY 2007 | Final FY 2007 | Change | Percent change
Update Factor | 1.0080 | 1.0110 | 1.0030 | 0.30
GAF/DRG Adjustment Factor | 1.0012 | * 0.9986 | 0.9974 | −0.26
Outlier Adjustment Factor | 0.9513 | * 0.9568 | 1.0058 | 0.58
Exceptions Adjustment Factor | 0.9997 | 0.9997 | 0.0000 | 0.00
Capital Federal Rate | $424.42 | * $427.03 | 1.0061 | 0.61
* Final factors for FY 2007, as discussed in section II.C.2 of this notice.

g. Special Capital Rate for Puerto Rico Hospitals. Using the methodology discussed in the FY 2007 IPPS final rule (71 FR 48104), the final FY 2007 special capital rate for Puerto Rico is $203.06. (See the FY 2007 IPPS final rule (71 FR 48163) for additional information on the calculation of FY 2007 capital PPS payments.)

D. Final FY 2007 Inpatient Operating and Capital-Related Impacts

1. Final FY 2007 Inpatient Operating Impacts (Quantitative Effects of the Final Occupational Mix Adjusted Wage Indices)

The impact analysis for policy changes under the IPPS for operating costs was included in the FY 2007 IPPS final rule. As stated in that impact section (71 FR 48332), we were unable to provide final occupational mix adjusted wage indices because of our obligation to collect new occupational mix survey data consistent with the order of the Court of Appeals in the Second Circuit. We were also unable to provide final relative weights, budget neutrality calculations, the outlier threshold and outlier offsets to the standardized amounts because these figures are all dependent on final wage indices. However, we also indicated that when 100 percent occupational mix adjusted wage data were available, we would recalculate the impacts and provide them in a subsequent Federal Register notice prior to October 1, 2006. Now that the new occupational mix survey data are available and the final 100 percent occupational mix adjusted wage data have been prepared, we are providing the final impacts for FY 2007 including the effect of the occupational mix adjusted wage data. Since there are statutory budget neutrality requirements applied to changes in DRGs and recalibration, wage index and geographic reclassifications, our payment estimates for hospitals overall are consistent with our estimate from the FY 2007 IPPS final rule (71 FR 48331). That is, the revisions to these figures do not increase or decrease aggregate total IPPS payments relative to those we earlier calculated. We continue to estimate that the changes in the FY 2007 IPPS final rule, in conjunction with the final IPPS rates included in this notice, will result in an approximate $3.4 billion increase in operating and capital payments. (See the FY 2007 IPPS final rule (71 FR 48331) for a more detailed explanation of how we estimated this $3.4 billion increase).

a. Analysis of Impact Table I. Table I displays the results of our analysis of the payment changes for FY 2007 that are affected by use of the 100 percent occupational-mix adjusted wage data using occupational-mix survey data from January through March. These impacts update the tentative ones that were shown in the FY 2007 IPPS final rule. As explained in the FY 2007 IPPS final rule and this notice, the FY 2006 occupational-mix survey data were unavailable in time for the completion of the IPPS final rule that was made available to the public on August 1. In this notice, we are only displaying the columns that were affected by the change to the 100 percent occupational-mix adjusted wage data and therefore we are not reprinting the impacts to the quality data rate difference or the MDH changes from section 5003 of the Deficit Reduction Act that were published in the FY 2007 IPPS final rule. (See the FY 2007 IPPS final rule (71 FR 48333 through 48341) for a full discussion of the FY 2007 regulatory impact analysis.)

Table I categorizes hospitals by various geographic and special payment consideration groups to illustrate the varying impacts on different types of hospitals. The top row of the table shows the overall impact on the 3,595 hospitals included in the analysis. The next four rows of Table I contain hospitals categorized according to their geographic location: all urban, which is further divided into large urban and other urban; and rural. There are 2,590 hospitals located in urban areas included in our analysis. Among these, there are 1,441 hospitals located in large urban areas (populations over 1 million), and 1,149 hospitals in other urban areas (populations of 1 million or fewer). In addition, there are 1,005 hospitals in rural areas. The next two groupings are by bed-size categories, shown separately for urban and rural hospitals. The final groupings by geographic location are by census divisions, also shown separately for urban and rural hospitals.

The second part of Table I shows hospital groups based on hospitals' FY 2007 payment classifications, including any reclassifications under section 1886(d)(10) of the Act. For example, the rows labeled urban, large urban, other urban, and rural show that the number of hospitals paid based on these categorizations after consideration of geographic reclassifications (including reclassifications under sections 1886(d)(8)(B) and 1886(d)(8)(E) of the Act, which have implications for capital payments) are 2,607, 1,448, 1,159, and 988, respectively.

The next three groupings examine the impacts of the changes on hospitals grouped by whether or not they have GME residency programs (teaching hospitals that receive an IME adjustment) or receive DSH payments, or some combination of these two adjustments. There are 2,511 non-teaching hospitals in our analysis, 843 teaching hospitals with fewer than 100 residents, and 241 teaching hospitals with 100 or more residents.

In the DSH categories, hospitals are grouped according to their DSH payment status, and whether they are considered urban or rural for DSH purposes. The next category groups hospitals considered urban after geographic reclassification, in terms of whether they receive the IME adjustment, the DSH adjustment, both, or neither.

The next five rows examine the impacts of the changes on rural hospitals by special payment groups (sole community hospitals (SCHs), rural referral centers (RRCs), and Medicare dependent hospitals (MDHs)), as well as rural hospitals not receiving a special payment designation. There were 187 RRCs, 376 SCHs, 146 MDHs, 98 hospitals that are both SCHs and RRCs, and 8 hospitals that are both MDHs and RRCs.

The next two groupings are based on type of ownership and the hospital's Medicare utilization expressed as a percent of total patient days. These data are taken primarily from the FY 2004 Medicare cost reports, if available, (otherwise FY 2003 data are used).

The next series of groupings concern the geographic reclassification status of hospitals. The first grouping displays all urban hospitals that were reclassified by the MGCRB for FY 2007. The next grouping shows the MGCRB rural reclassifications. The final three rows in Table I contain hospitals located in urban counties, but deemed to be rural under section 1886(d)(8)(E) of the Act, hospitals located in rural counties but deemed to be urban under section 1886(d)(8)(B) of the Act, and hospitals currently reclassified under section 508 of Pub. L. 108-173, which expires on March 31, 2007.

Table I.—Impact Analysis of Changes for FY 2007
| Number of hospitals ¹ (1) | FY 2007 Transitional 1/3 Cost 2/3 charge weights & DRG changes ² (2) | FY 2007 wage data ³ (3) | FY 2007 DRG, Rel. Wts. and Wage index changes ⁴ (4) | FY 2007 wage index transition for hospitals moving from urban to rural ⁵ (5) | FY 2007 MGCRB reclassifications ⁶ (6) | FY 2007 out-migration adjustment ⁷ (7) | All FY 2007 changes ⁸ (8)
All Hospitals | 3,595 | 0.3 | 0.2 | 0.0 | 0.0 | 0.0 | 0.1 | 3.5
By Geographic Location:
Urban hospitals | 2,590 | 0.2 | 0.1 | 0.0 | 0.0 | −0.3 | 0.1 | 3.4
Large urban areas (populations over 1 million) | 1,441 | 0.4 | 0.0 | −0.1 | 0.0 | −0.4 | 0.0 | 3.5
Other urban areas (populations of 1 million or fewer) | 1,149 | 0.1 | 0.3 | 0.0 | 0.0 | −0.1 | 0.2 | 3.4
Rural hospitals | 1,005 | 0.3 | 0.3 | 0.4 | 0.3 | 2.1 | 0.1 | 3.9
Bed Size (Urban):
0-99 beds | 651 | 0.4 | 0.1 | 0.0 | 0.0 | −0.5 | 0.1 | 3.5
100-199 beds | 867 | 0.6 | 0.2 | 0.3 | 0.0 | −0.1 | 0.1 | 3.8
200-299 beds | 492 | 0.3 | 0.1 | 0.0 | 0.0 | −0.3 | 0.1 | 3.6
300-499 beds | 413 | 0.1 | 0.2 | −0.2 | 0.0 | −0.3 | 0.1 | 3.3
500 or more beds | 167 | 0.0 | 0.1 | −0.3 | 0.0 | −0.3 | 0.0 | 3.2
Bed Size (Rural):
0-49 beds | 348 | 0.5 | 0.2 | 0.6 | 0.1 | 0.8 | 0.2 | 4.7
50-99 beds | 370 | 0.5 | 0.2 | 0.4 | 0.2 | 1.1 | 0.2 | 4.9
100-149 beds | 174 | 0.4 | 0.4 | 0.5 | 0.5 | 2.5 | 0.1 | 3.6
150-199 beds | 68 | 0.3 | 0.4 | 0.3 | 0.4 | 3.4 | 0.1 | 3.3
200 or more beds | 45 | 0.0 | 0.3 | −0.1 | 0.0 | 3.1 | 0.0 | 3.0
Urban by Region:
New England | 128 | 0.4 | 1.1 | 1.0 | 0.0 | 0.3 | 0.1 | 3.5
Middle Atlantic | 357 | 0.5 | 0.6 | 0.7 | 0.0 | −0.1 | 0.2 | 3.9
South Atlantic | 388 | 0.1 | −0.2 | −0.5 | 0.0 | −0.4 | 0.0 | 3.2
East North Central | 395 | 0.2 | 0.3 | 0.1 | 0.0 | −0.3 | 0.0 | 3.4
East South Central | 165 | −0.1 | −0.6 | −1.0 | 0.0 | −0.4 | 0.1 | 2.7
West North Central | 157 | 0.0 | −0.4 | −0.8 | 0.0 | −0.6 | 0.0 | 2.8
West South Central | 374 | 0.2 | −0.1 | −0.3 | 0.0 | −0.5 | 0.0 | 3.4
Mountain | 149 | 0.2 | 0.2 | 0.0 | 0.0 | −0.2 | 0.0 | 3.7
Pacific | 424 | 0.4 | 0.1 | 0.1 | 0.0 | −0.3 | 0.1 | 3.7
Puerto Rico | 53 | 0.3 | −1.4 | −1.5 | 0.0 | −0.6 | 0.0 | 2.0
Rural by Region:
New England | 19 | 0.5 | −0.2 | 0.1 | 0.0 | 2.0 | 0.1 | 6.0
Middle Atlantic | 72 | 0.5 | 0.2 | 0.5 | 0.1 | 2.3 | 0.0 | 5.2
South Atlantic | 176 | 0.4 | 0.4 | 0.5 | 0.2 | 2.2 | 0.2 | 3.8
East North Central | 125 | 0.2 | −0.2 | −0.1 | 0.1 | 1.6 | 0.0 | 3.8
East South Central | 180 | 0.3 | 0.6 | 0.5 | 0.2 | 2.5 | 0.1 | 3.5
West North Central | 116 | 0.2 | 0.2 | 0.2 | 0.0 | 2.0 | 0.1 | 4.3
West South Central | 193 | 0.4 | 0.9 | 0.9 | 0.5 | 2.8 | 0.2 | 4.1
Mountain | 81 | 0.3 | −0.2 | −0.1 | 2.1 | 0.8 | 0.1 | 2.7
Pacific | 43 | 0.3 | −0.3 | −0.2 | 0.0 | 1.8 | 0.1 | 3.2
By Payment Classification:
Urban hospitals | 2,607 | 0.2 | 0.1 | 0.0 | 0.0 | −0.3 | 0.1 | 3.4
Large urban areas (populations over 1 million) | 1,448 | 0.4 | 0.0 | −0.1 | 0.0 | −0.4 | 0.0 | 3.5
Other urban areas (populations of 1 million or fewer) | 1,159 | 0.1 | 0.3 | 0.0 | 0.0 | −0.1 | 0.2 | 3.4
Rural areas | 988 | 0.3 | 0.3 | 0.4 | 0.3 | 2.0 | 0.1 | 4.0
Teaching Status:
Nonteaching | 2,511 | 0.4 | 0.1 | 0.1 | 0.0 | 0.2 | 0.1 | 3.8
Fewer than 100 residents | 843 | 0.2 | 0.1 | −0.1 | 0.0 | −0.2 | 0.1 | 3.4
100 or more residents | 241 | 0.1 | 0.3 | −0.1 | 0.0 | −0.3 | 0.0 | 3.1
Urban DSH:
Non−DSH | 906 | 0.2 | 0.1 | −0.1 | 0.0 | −0.1 | 0.1 | 3.6
100 or more beds | 1,520 | 0.2 | 0.1 | 0.0 | 0.0 | −0.3 | 0.1 | 3.4
Less than 100 beds | 346 | 0.6 | 0.0 | 0.2 | 0.0 | −0.3 | 0.1 | 3.6
Rural DSH:
SCH | 386 | 0.3 | 0.2 | 0.4 | 0.2 | 0.6 | 0.1 | 4.6
RRC | 199 | 0.2 | 0.4 | 0.3 | 0.2 | 3.4 | 0.0 | 3.5
Other Rural:
100 or more beds | 55 | 0.6 | 0.7 | 0.9 | 0.9 | 0.7 | 0.2 | 3.5
Less than 100 beds | 183 | 0.6 | 0.5 | 0.7 | 0.4 | 0.9 | 0.4 | 3.8
Urban teaching and DSH:
Both teaching and DSH | 815 | 0.2 | 0.1 | −0.1 | 0.0 | −0.3 | 0.0 | 3.3
Teaching and no DSH | 201 | 0.1 | 0.3 | 0.0 | 0.0 | −0.1 | 0.2 | 3.3
No teaching and DSH | 1,051 | 0.5 | 0.1 | 0.1 | 0.0 | −0.1 | 0.1 | 3.7
No teaching and no DSH | 540 | 0.3 | 0.0 | −0.2 | 0.0 | −0.3 | 0.0 | 3.5
Special Hospital Types:
RRC | 187 | 0.2 | 0.5 | 0.3 | 0.2 | 3.1 | 0.1 | 3.5
SCH | 376 | 0.3 | 0.1 | 0.3 | 0.2 | 0.4 | 0.1 | 3.6
MDH | 146 | 0.5 | 0.2 | 0.5 | 0.0 | 0.7 | 0.1 | 9.0
SCH and RRC | 98 | 0.1 | −0.1 | −0.1 | 0.0 | 1.9 | 0.0 | 3.1
MDH and RRC | 8 | 0.3 | −0.1 | 0.3 | 0.0 | 1.0 | 0.0 | 14.0
Type of Ownership:
Voluntary | 2,102 | 0.2 | 0.2 | 0.1 | 0.0 | 0.0 | 0.1 | 3.5
Proprietary | 880 | 0.4 | −0.1 | −0.2 | 0.1 | −0.1 | 0.0 | 3.5
Government | 603 | 0.3 | 0.0 | −0.2 | 0.0 | 0.1 | 0.1 | 3.4
Unknown | 10 | 2.2 | 0.1 | 1.7 | 0.0 | −0.3 | 0.2 | 7.6
Medicare Utilization as a Percent of Inpatient Days:
0-25 | 243 | 0.6 | −0.1 | 0.1 | 0.0 | −0.3 | 0.0 | 3.6
25-50 | 1,328 | 0.2 | 0.0 | −0.2 | 0.0 | −0.4 | 0.0 | 3.3
50-65 | 1,478 | 0.3 | 0.3 | 0.2 | 0.0 | 0.4 | 0.1 | 3.7
Over 65 | 462 | 0.2 | 0.3 | 0.1 | 0.0 | 0.5 | 0.1 | 3.8
Unknown | 84 | 1.0 | −0.4 | 0.1 | 0.0 | −0.5 | 0.1 | 4.4
Urban Hospitals Reclassified by the Medicare Geographic Classification Review Board: First Half FY 2007 Reclassifications | 281 | 0.3 | 0.3 | 0.1 | 0.0 | 2.4 | 0.0 | 3.7
Urban Nonreclassified, First Half FY 2007: | 2,284 | 0.2 | 0.1 | −0.1 | 0.0 | −0.6 | 0.1 | 3.4
All Urban Hospitals Reclassified Second Half FY 2007: | 341 | 0.3 | 0.4 | 0.2 | 0.0 | 1.8 | 0.0 | 3.5
Urban Nonreclassified Hospitals Second Half FY 2007: | 2,224 | 0.2 | 0.1 | −0.1 | 0.0 | −0.6 | 0.1 | 3.4
All Rural Hospitals Reclassified Full Year FY 2007: | 369 | 0.2 | 0.3 | 0.2 | 0.1 | 3.6 | 0.0 | 3.6
Rural Nonreclassified Hospitals Full Year FY 2007: | 578 | 0.5 | 0.3 | 0.5 | 0.6 | −0.3 | 0.3 | 4.4
All Section 401 Reclassified Hospitals: | 30 | 0.2 | 0.8 | 0.8 | 0.0 | −0.1 | 0.0 | 5.4
Other Reclassified Hospitals (Section 1886(d)(8)(B)) | 57 | 0.6 | 0.3 | 0.6 | 0.0 | 3.6 | 0.0 | 4.4
Section 508 Hospitals | 108 | 0.2 | 0.6 | 0.4 | 0.0 | −0.2 | 0.0 | 1.9
Specialty Hospitals |  |  |  |  |  |  |  |
Cardiac Specialty Hospitals | 21 | −2.0 | 0.0 | −2.4 | 0.0 | −0.6 | 0.0 | 1.2
¹ Because data necessary to classify some hospitals by category were missing, the total number of hospitals in each category may not equal the national total. Discharge data are from FY 2005, and hospital cost report data are from reporting periods beginning in FY 2004 and FY 2003.
² This column displays the final payment impact of the changes to the V24 GROUPER and the recalibration of the DRG cost weights based on FY 2005 MedPAR data in accordance with section 1886(d)(4)(C)(iii) of the Act.
³ This column displays the final payment impact of updating the wage index data with the 100 percent occupational mix adjustment applied to the FY 2003 cost report data.
⁴ This column displays the final payment impact of the 0.995662 budget neutrality factor for DRG and wage index changes (with a 100 percent occupational mix adjustment applied to the wage index) data in accordance with section 1886(d)(4)(C)(iii) of the Act and section 1886(d)(3)(E) of the Act.
⁵ Shown here are the final effects of providing rural hospitals formerly located in urban areas with urban wage index values in FY 2007. The effects reflected here are budget neutral: this column therefore includes the effect of the 0.999700 adjustment that we have applied to the rates to ensure budget neutrality.
⁶ Shown here are the final effects of geographic reclassifications by the Medicare Geographic Classification Review Board (MGCRB) and CMS decisions made on behalf of the hospital for FY 2007. The effects demonstrate the FY 2007 payment impact of going from no reclassifications to the reclassifications scheduled to be in effect for FY 2007. Reclassification for prior years has no bearing on the payment impacts shown here. This column reflects the geographic budget neutrality factor of 0.992355.
⁷ This column displays the final impact of the FY 2007 implementation of section 505 of Pub. L. 108-173, which provides for an increase in a hospital's wage index if the hospital qualifies by meeting a threshold percentage of residents of the county where the hospital is located who commute to work at hospitals in counties with higher wage indices.
⁸ This column shows final changes in payments from FY 2006 to FY 2007. It incorporates all of the changes displayed in Columns 2, 3, 4,5, and 6 (the changes displayed in Columns 2 and 3 are included in Column 4), as well as those displayed in columns 2 and 3 (related to the quality data differential in the IPPS update and implementation of the MDH DRA provisions) of the FY 2007 IPPS final rule. It also reflects the impact of the FY 2007 update, changes in hospitals' reclassification status in FY 2007 compared to FY 2006, and the changes in payments as a result of continuing the reclassifications under section 508 of Pub. L. 108-173. The product of these impacts may be different from the percentage changes shown here due to rounding and interactive effects.

(1) Effects of the Changes to the DRG Reclassifications and Relative Cost-Based Weights (Column 2). In Column 2 of Table I, we present the combined effects of the DRG reclassifications and recalibration, as discussed in section II. of the preamble to the FY 2007 IPPS final rule (71 FR 47879 through 47979). Section 1886(d)(4)(C)(i) of the Act requires us annually to make appropriate classification changes in order to reflect changes in treatment patterns, technology, and any other factors that may change the relative use of hospital resources.

As discussed in the preamble of the FY 2007 IPPS final rule (71 FR 47882 through 47898), we are changing the relative weight calculation methodology from a charge-based to a cost-based method. Further, we are implementing the new methodology under a 3-year transition such that weights in FY 2007 are ⅓ cost-based and ⅔ charge-based. As part of the methodology for determining cost weights, we standardize hospital charges by the wage index to remove the effect of area wage differences. Since the wage index data has been updated to reflect a 100 percent occupational mix adjustment based on the latest survey data available, we recalculated the relative weights for the FY 2007 by standardizing charges using the 100 percent occupational mix adjusted wage indices. The use of occupational mix adjusted wage indices to standardize hospital charges resulted in very small changes to the DRG relative weights. No DRG weight changed by greater or less than 1 percent from those shown in Table 5 of the FY 2007 IPPS final rule. The revised and final FY 2007 DRG relative weights are shown in Table 5 of the Addendum to this notice.

In column 2, we compare aggregate payments using the FY 2007 blended relative weights (GROUPER Version 24) to the FY 2006 DRG relative charge weights (GROUPER Version 23.0) so the percentages shown here illustrate the effect of changes to the DRGs and relative weights. The method of calculating the relative weights and the reclassification changes to the GROUPER are described in more detail in section II. of the preamble to the FY 2007 IPPS final rule. The impacts shown in this column are generally very consistent by hospital category with those shown in column 4 of Table I of the FY 2007 IPPS final rule (71 FR 48335). With the exception of using occupational mix adjusted wage indices to standardize hospital charges, the data and methodology that we modeled in this column are identical to the FY 2007 IPPS final rule. Therefore, any differences in the impacts shown in this column from column 6 of Table I of the FY 2007 IPPS final rule and column 4 of the table above are due to the use of occupational mix adjusted wage data. We note that this column reflects the impact of changes to the DRG classifications and relative weights only and is not budget neutral. Consistent with section 1886(d)(4)(C)(iii) of the Act, we apply a single budget neutrality factor to ensure that the combined overall payment impact of changes to the DRG classification, relative weights, and wage index is budget neutral. The budget neutrality factor for the combined changes to the DRGs, relative weights, and wage index are shown in the table above entitled, “Comparison of FY 2006 Standardized Amounts to Final FY 2007 Single Standardized Amount with Full Update and Reduced Update.”

(2) Effects of Wage Index Changes (Column 3). Section 1886(d)(3)(E) of the Act requires that, beginning October 1, 1993, we annually update the wage data used to calculate the wage index. In accordance with this requirement, the wage index for FY 2007 is based on data submitted for hospital cost reporting periods beginning on or after October 1, 2002 and before October 1, 2003. In the IPPS FY 2007 IPPS final rule, due to the decision in Bellevue Hosp. Center v. Leavitt, in which the Court of Appeals for the Second Circuit ordered CMS to apply the occupational mix adjustment to 100 percent of the wage index effective for FY 2007 (see section III.C. of the FY 2007 IPPS final rule for more details of this Court decision (71 FR 48006)), we were unable to show the impact of the 100 percent occupational mix adjustment as the necessary data were unavailable in time for making the final IPPS rule available to the public on August 1. This column now shows the final estimated effect of updating the wage index with wage data from FY 2003 hospital cost reports and moving to a 100 percent occupational mix adjusted wage index using occupational mix survey data for January through March of this year.

The estimated impact on hospital payments of the new wage data with the 100 percent occupational mix adjustment applied using the new survey data is isolated in Column 3 by holding the other payment parameters constant. That is, Column 3 shows the percentage changes in payments when going from a model using the FY 2006 wage index, based on FY 2002 wage data and having a 10-percent occupational mix adjustment applied, to a model using the FY 2007 pre-reclassification wage index, based on FY 2003 wage data with a 100 percent occupational mix adjustment based on the latest occupational mix survey data. The wage data collected on the FY 2003 cost report are the same as the FY 2002 wage data that were used to calculate the FY 2006 wage index.

Hospitals located in urban New England are estimated to receive the greatest benefit from the new wage and occupational mix data. Payments to hospitals in urban New England are estimated to increase 1.1 percent while rural hospitals located in the West South Central region experience an increase of 0.9 percent from these data. Puerto Rico hospitals see the least benefit from the change to the wage and occupational mix data with a 1.4 percent estimated decrease in payments.

The national average hourly wage increased 5.9 percent compared to FY 2006 from the new wage data. Therefore, the only manner in which to maintain or exceed the previous year's wage index was to match the national 5.9 increase in average hourly wage. Of the 3,491 hospitals with wage data for both FYs 2006 and 2007, 1,706, or 48.9 percent, also experienced an average hourly wage increase of 5.9 percent or more.

The following chart compares the shifts in wage index values for hospitals for FY 2007 relative to FY 2006. Among urban hospitals, 40 will experience an increase of between 5 percent and 10 percent and 15 will experience an increase of more than 10 percent. No rural hospitals will experience an increase greater than 5 percent, but 790 will experience increases between 0 and 5 percent. On the negative side, 79 urban hospitals will experience decreases in their wage index values of at least 5 percent, but less than 10 percent. Eight urban hospitals will experience decreases in their wage index values greater than 10 percent.

The following chart shows the projected impact for urban and rural hospitals:

Percentage change in area wage index values | Number of hospitals: Urban | Number of hospitals: Rural
Increase more than 10 percent | 15 | 0
Increase more than 5 percent and less than 10 percent | 40 | 0
Increase or decrease less than 5 percent | 2,354 | 986
Decrease more than 5 percent and less than 10 percent | 79 | 5
Decrease more than 10 percent | 8 | 4

(3) Combined Effects of DRG and Wage Index Changes, Including Budget Neutrality Adjustment (Column 4). Section 1886(d)(4)(C)(iii) of the Act requires that changes to DRG reclassifications and the relative weights cannot increase or decrease aggregate payments. In addition, section 1886(d)(3)(E) of the Act specifies that any updates or adjustments to the wage index are to be budget neutral. As noted in the Addendum to this final rule, in determining the budget neutrality factor, we equated simulated aggregate payments for FY 2006 and FY 2007 using the FY 2005 Medicare utilization data after applying the changes to the DRG relative weights and the wage index.

We computed a wage and DRG recalibration budget neutrality factor of 0.995662. The 0.0 percent impact for all hospitals demonstrates that these changes, in combination with the budget neutrality factor, are budget neutral. In Table I, the combined overall impacts of the effects of both the DRG reclassifications and the updated wage index are shown in Column 4. The changes in this column are the sum of the changes in Columns 2 and 3, combined with the budget neutrality factor for the wage index, including the wage index floor for urban areas required by section 4410 of Pub. L. 105-33. There also may be some variation of plus or minus 0.1 percentage point due to rounding. As indicated above, the changes in the relative weights are generally consistent with those we showed in Table I of the FY 2007 IPPS final rule while the impacts due to the wage data may be somewhat different than those shown there because of the new occupational mix survey and a 100 percent adjustment to the wage index. Any changes between column 6 of Table I of the FY 2007 IPPS final rule and column 4 of Table I of this notice are due to use of a 100 percent adjustment for occupational mix and the new survey data.

(4) Effects of the 3-Year Provision Allowing Urban Hospitals that Were Converted to Rural as a Result of the FY 2005 Labor Market Area Changes to Maintain the Wage Index of the Urban Labor Market Area in Which They Were Formerly Located (Column 5). To help alleviate the decreased payments for urban hospitals that became rural under the new labor market area definitions, for purposes of the wage index, we adopted a policy in FY 2005 to allow them to maintain the wage index assignment of the MSA where they were located for the 3-year period FY 2005, FY 2006, and FY 2007. Column 5 shows the impact of the remaining labor market area transition, for those hospitals that were urban under the old labor market area designations and are now considered rural hospitals. Section 1886(d)(3)(E) of the Act specifies that any updates or adjustments to the wage index are to be budget neutral. Therefore, we applied a adjustment of 0.999700 to ensure that the effects of reclassification are budget neutral as indicated by the zero effect on payments to hospitals overall. The rural hospital row shows a 0.3 percent benefit from this provision as these hold-harmless hospitals are now classified as geographically rural.

(5) Effects of MGCRB Reclassifications (Column 6). Our impact analysis up to this point has assumed hospitals are paid on the basis of their actual geographic location (with the exception of ongoing policies that provide that certain hospitals receive payments on other bases than where they are geographically located, such as hospitals in rural counties that are deemed urban under section 1886(d)(8)(B) of the Act). The changes in Column 6 reflect the per case payment impact of moving from this baseline to a simulation incorporating the MGCRB decisions for FY 2007 which affect hospitals' wage index area assignments.

By February 28 of each year, the MGCRB makes reclassification determinations that will be effective for the next fiscal year, which begins on October 1. The MGCRB may approve a hospital's reclassification request for the purpose of using another area's wage index value. The FY 2007 wage index values incorporate all of the MGCRB's reclassification decisions for FY 2007 as well as any decisions made by the CMS Administrator through the appeals and review process.

For FY 2007, as stated in the FY 2006 IPPS final rule (70 FR 47382, August 12, 2005), we established procedural rules under section 1886(d)(10)(D)(v) of the Act to address specific circumstances where individual and group reclassifications involve a section 508 hospital. The rules were designed to recognize the special circumstances of section 508 hospital reclassifications ending midyear during FY 2007 and were intended to allow previously approved reclassifications to continue through March 31, 2007, and new section 1886(d)(10) reclassifications to begin April 1, 2007, upon the conclusion of the section 508 reclassifications. Under these procedural rules, some section 1886(d)(10) hospital reclassifications are only in effect for the second half of the fiscal year.

The first and second half fiscal year section 1886(d)(10) reclassifications permitted under these procedural rules have implications for the calculation of the reclassified wage indices and the reclassification budget neutrality factor. Section 1886(d)(8)(c) of the Act provides requirements for determining the wage index values for hospitals that were reclassified as a result of the MGCRB decisions under 1886(d)(10) of the Act. As provided in the statute, we are required to calculate a separate wage index for hospitals reclassified to an area if including the wage data for the reclassified hospitals would reduce the area wage index by more than 1 percent.

Because of the half-year reclassifications permitted under the procedural rules, in this final rule, we are issuing two separate wage indices for affected areas (one effective from October 1, 2006, through March 31, 2007 and a second reclassified wage index effective April 1, 2007, through September 30, 2007). The FY 2007 wage index values are calculated based on the wage data for hospitals reclassified to the area in the respective half of the fiscal year. The impact of this policy is modeled in Column 6 of Table I of this notice.

The overall effect of geographic reclassification is required by section 1886(d)(8)(D) of the Act to be budget neutral. In this final rule, we are calculating one budget neutrality adjustment that reflects the average of the adjustments required for first and second half fiscal year reclassifications, respectively. Therefore, we applied an adjustment of 0.992355 to ensure that the effects of the section 1886(d)(10) reclassifications are budget neutral. (See section II.A. of the Addendum to FY 2007 IPPS final rule (71 48146).) As noted in section II.B. of this notice, CMS applied reclassification decisions for FY 2007 on behalf of hospitals to give them the highest wage index. Hospitals have 30 days from the date of the posting of these data on the CMS Web site to revise the decision that CMS made on their behalf.

The impacts shown in Column 6 of Table 1 above reflect the CMS reclassification decisions on behalf of hospitals, which reflect the area that would give the hospital the highest wage index using a 100 percent occupational-mix adjustment and the most recent survey data. As a group, rural hospitals benefit most from reclassification. We estimate that their payments will rise 2.1 percent in FY 2007. Payments to urban hospitals will decline by 0.3 percent. Hospitals in other urban areas will experience an overall decrease in payments of 0.1 percent, while hospitals in large urban areas will lose 0.4 percent. Among urban hospital groups (that is, bed size, census division and IME/DSH status), payments generally would decline.

A positive impact is evident among all of the rural hospital groups. The smallest increase among rural census divisions is 0.8 percent for the Mountain region. The largest increases are in the rural West South Central and rural East South Central regions with 2.8 and 2.5 percent, respectively. Urban hospitals reclassified for FY 2007 are expected to receive an increase of 2.4 percent, while rural reclassified hospitals are expected to benefit from the MGCRB changes with a 3.6 percent increase in payments. Payments to urban and rural hospitals that did not reclassify are expected to decrease slightly due to the MGCRB changes, decreasing by 0.6 percent for urban hospitals and 0.3 percent for rural hospitals.

(6) Effects of the Wage Index Adjustment for Out-Migration (Column 7). Section 1886(d)(13) of the Act, as added by section 505 of Pub. L. 108-173, provides for an increase in the wage index for hospitals located in certain counties that have a relatively high percentage of hospital employees who reside in the county, but work in a different area with a higher wage index. Hospitals located in counties that qualify for the payment adjustment are to receive an increase in the wage index that is equal to a weighted average of the difference between the wage index of the resident county and the higher wage index work area(s), weighted by the overall percentage of workers who are employed in an area with a higher wage index.

Using our established criteria, 583 providers in 282 counties are eligible for this adjustment. Due to the statutory formula to calculate the adjustment and the small number of counties that qualify, the impact on hospitals is minimal, with an overall impact on all hospitals of 0.1 percent.

(7) Effects of All Changes (Column 8). Column 8 compares our estimate of payments per case between FY 2006 and FY 2007, incorporating all changes reflected in the FY 2007 IPPS final rule and in this notice (including statutory changes). This column reflects the impact of all FY 2007 changes relative to FY 2006, including the impact of the quality data changes and the MDH changes from section 5003 of the DRA (see 70 FR 48335) and the impacts shown in Columns 2 through 8 as well as other factors that are not applied until the final rates are calculated. The average increase for all hospitals is approximately 3.5 percent. This increase includes the effects of the 3.4 percent market basket update. It also reflects the 0.5 percentage point difference between the projected outlier payments in FY 2006 (5.1 percent of total DRG payments) and the current estimate of the percentage of actual outlier payments in FY 2006 (4.6 percent), as described in the introduction to this Appendix and the Addendum to this final rule. As a result, payments are projected to be 0.5 percentage points lower in FY 2006 than originally estimated, resulting in a 0.5 percentage point greater increase for FY 2007 than would otherwise occur. In addition, the impact of section 505 adjustments accounted for a 0.1 percent increase. Indirect medical education formula changes for teaching hospitals under section 502 of Pub. L. 108-173, changes in payments due to the difference between the FY 2006 and FY 2007 wage index values assigned to providers reclassified under section 508 of Pub. L. 108-173, and changes in the incremental increase in payments from section 505 of Pub. L. 108-173 out-migration adjustments account for the remaining −0.6 percent.

There might also be interactive effects among the various factors comprising the payment system that we are not able to isolate. For these reasons, the values in Column 8 may not equal the product of the percentage changes described above. We estimate that payments will increase across all hospitals in each category shown in column 8.

We estimate that the average payment per case will increase in FY 2007 by 3.5 percent across all hospitals, 3.4 percent for hospitals in urban areas, 3.5 percent for hospitals in large urban areas, 3.4 percent for hospitals in other urban areas and 3.9 percent for hospitals in rural areas.

Among urban census divisions, we estimate the largest payment increases would be 3.9 percent in the Mid Atlantic region and 3.7 percent in the Pacific and Mountain regions. We estimate that the smallest urban increase will be 2.0 percent in Puerto Rico.

Among rural areas, the New England and Middle Atlantic regions would benefit the most from changes in the FY 2007 IPPS final rule, with 6.0 and 5.2 percent increases, respectively. The smallest increase would occur in the Mountain region, with a 2.7 percent increase in payments.

Among special categories of rural hospitals in Column 8, MDH/RRC providers receive an increase in payments of 14.0 percent and MDH providers receive an increase of 9.0 percent, primarily due to the changes to MDH payments set forth in section 5003 of Pub. L. 109-171 (see 70 FR 48062).

Urban hospitals reclassified for the first half of FY 2007 are anticipated to receive an increase of 3.7 percent, while urban hospitals that reclassified for the second half of FY 2007 are expected to receive an increase of 3.5 percent. The same set of rural hospitals is reclassified for the first and second half of FY 2007. Rural hospitals reclassifying for the entire year of FY 2007 are anticipated to receive a 3.6 percent payment increase. Those hospitals located in rural counties, but deemed to be urban under section 1886(d)(8)(B) of the Act are expected to receive an increase in payments of 4.4 percent. Hospitals that were reclassified under section 508 of Pub. L. 108-173, which is only effective through March 31, 2007, are expected to receive an increase of 1.9 percent. This lower estimated increase in payment than the average for all hospitals is due to the expiration of the higher section 508 wage indices in effect for 6 months of FY 2007.

b. Analysis of Impact Table II. Table II presents the projected impact of the changes for FY 2007 for urban and rural hospitals and for the different categories of hospitals shown in Table I. It compares the estimated payments per case for FY 2006 with the average estimated per case payments for FY 2007, as calculated under our models. Thus, this table presents, in terms of the average dollar amounts paid per discharge, the combined effects of the changes presented in Table I. The percentage changes shown in the last column of Table II equal the percentage changes in average payments from Column 8 of Table I.

TABLE II.—Impact Analysis of Changes for FY 2007 Operating Prospective Payment System
[Payments per case]
| Number of hospitals (1) | Average FY 2006 payment per case ¹ (2) | Average FY 2007 payment per case ¹ (3) | All FY 2007 changes (4)
All hospitals | 3,595 | 8,540 | 8,838 | 3.5
By Geographic Location:
Urban hospitals | 2,590 | 8,951 | 9,258 | 3.4
Large urban areas (populations over 1 million) | 1,441 | 9,368 | 9,692 | 3.5
Other urban areas (populations of 1 million or fewer) | 1,149 | 8,446 | 8,731 | 3.4
Rural hospitals | 1,005 | 6,228 | 6,474 | 3.9
Bed Size (Urban):
0-99 beds | 651 | 6,730 | 6,964 | 3.5
100-199 beds | 867 | 7,490 | 7,772 | 3.8
200-299 beds | 492 | 8,403 | 8,702 | 3.6
300-499 beds | 413 | 9,405 | 9,719 | 3.3
500 or more beds | 167 | 11,388 | 11,748 | 3.2
Bed Size (Rural):
0-49 beds | 348 | 5,222 | 5,466 | 4.7
50-99 beds | 370 | 5,622 | 5,897 | 4.9
100-149 beds | 174 | 6,199 | 6,425 | 3.6
150-199 beds | 68 | 6,933 | 7,163 | 3.3
200 or more beds | 45 | 7,898 | 8,134 | 3.0
Urban by Region:
New England | 128 | 9,391 | 9,717 | 3.5
Middle Atlantic | 357 | 9,833 | 10,217 | 3.9
South Atlantic | 388 | 8,476 | 8,747 | 3.2
East North Central | 395 | 8,561 | 8,854 | 3.4
East South Central | 165 | 8,209 | 8,433 | 2.7
West North Central | 157 | 8,689 | 8,929 | 2.8
West South Central | 374 | 8,447 | 8,737 | 3.4
Mountain | 149 | 8,812 | 9,140 | 3.7
Pacific | 424 | 10,742 | 11,144 | 3.7
Puerto Rico | 53 | 4,190 | 4,272 | 2.0
Rural by Region:
New England | 19 | 8,137 | 8,627 | 6.0
Middle Atlantic | 72 | 6,291 | 6,616 | 5.2
South Atlantic | 176 | 6,033 | 6,264 | 3.8
East North Central | 125 | 6,457 | 6,700 | 3.8
East South Central | 180 | 5,973 | 6,181 | 3.5
West North Central | 116 | 6,422 | 6,696 | 4.3
West South Central | 193 | 5,669 | 5,902 | 4.1
Mountain | 81 | 6,589 | 6,768 | 2.7
Pacific | 43 | 7,608 | 7,850 | 3.2
By Payment Classification:
Urban hospitals | 2,607 | 8,939 | 9,245 | 3.4
Large urban areas (populations over 1 million) | 1,448 | 9,357 | 9,682 | 3.5
Other urban areas (populations of 1 million or fewer) | 1,159 | 8,431 | 8,714 | 3.4
Rural areas | 988 | 6,278 | 6,530 | 4.0
Teaching Status:
Non-teaching | 2,511 | 7,124 | 7,393 | 3.8
Fewer than 100 Residents | 843 | 8,640 | 8,932 | 3.4
100 or more Residents | 241 | 12,605 | 13,001 | 3.1
Urban DSH:
Non-DSH | 906 | 7,725 | 8,001 | 3.6
100 or more beds | 1,520 | 9,424 | 9,746 | 3.4
Less than 100 beds | 346 | 6,159 | 6,383 | 3.6
Rural DSH:
SCH | 386 | 5,816 | 6,080 | 4.6
RRC | 199 | 6,946 | 7,186 | 3.5
Other Rural:
100 or more beds | 55 | 5,737 | 5,936 | 3.5
Less than 100 beds | 183 | 5,104 | 5,301 | 3.8
Urban teaching and DSH:
Both teaching and DSH | 815 | 10,367 | 10,707 | 3.3
Teaching and no DSH | 201 | 8,601 | 8,889 | 3.3
No teaching and DSH | 1,051 | 7,617 | 7,899 | 3.7
No teaching and no DSH | 540 | 7,283 | 7,539 | 3.5
Rural Hospital Types:
RRC | 187 | 7,277 | 7,529 | 3.5
SCH | 376 | 6,216 | 6,439 | 3.6
MDH | 146 | 5,190 | 5,657 | 9.0
SCH and RRC | 98 | 7,408 | 7,637 | 3.1
MDH and RRC | 8 | 6,439 | 7,341 | 14.0
Unknown |  |  |  |
Type of Ownership:
Voluntary | 2,102 | 8,680 | 8,984 | 3.5
Proprietary | 880 | 7,714 | 7,984 | 3.5
Government | 603 | 8,779 | 9,078 | 3.4
Unknown | 10 | 13,196 | 14,194 | 7.6
Medicare Utilization as a Percent of Inpatient Days:
0-25 | 243 | 12,182 | 12,620 | 3.6
25-50 | 1,328 | 9,739 | 10,057 | 3.3
50-65 | 1,478 | 7,438 | 7,714 | 3.7
Over 65 | 462 | 6,662 | 6,915 | 3.8
Unknown | 84 | 9,920 | 10,354 | 4.4
Hospitals Reclassified by the Medicare Geographic Classification Review Board: FY 2005 Reclassifications:
Urban Hospitals Reclassified by the Medicare Geographic Classification Review Board: First Half FY 2007 Reclassifications: | 281 | 8,778 | 9,099 | 3.7
Urban Nonreclassified, First Half FY 2007: | 2,284 | 8,983 | 9,288 | 3.4
All Urban Hospitals Reclassified Second Half FY 2007: | 341 | 9,038 | 9,351 | 3.5
Urban Nonreclassified Hospitals Second Half FY 2007: | 2,224 | 8,947 | 9,253 | 3.4
All Rural Hospitals Reclassified Second Half FY 2007: | 369 | 6,759 | 7,004 | 3.6
Rural Nonreclassified Hospitals Second Half FY 2007: | 578 | 5,559 | 5,806 | 4.4
All Section 401 Reclassified Hospitals: | 30 | 7,030 | 7,408 | 5.4
Other Reclassified Hospitals (Section 1886(d)(8)(B)) | 57 | 5,839 | 6,097 | 4.4
Section 508 Hospitals | 108 | 9,268 | 9,446 | 1.9
Specialty Hospitals |  |  |  |
Cardiac Specialty Hospitals | 21 | 11,363 | 11,497 | 1.2
¹ These payment amounts per case do not reflect any estimates of annual case-mix increase.

2. Final FY 2007 Capital-Related Impacts (Quantitative Effects of the Final Occupational Mix Adjusted Wage Indices)

(a) General Considerations. In accordance with § 412.312, the basic methodology for determining a capital PPS payment is:

(Standard Federal Rate) × (DRG weight) × (Geographic Adjustment Factor (GAF)) × (Large Urban Add-on, if applicable) × (COLA for hospitals located in Alaska and Hawaii) × (1 + Disproportionate Share (DSH) Adjustment Factor + Indirect Medical Education (IME) Adjustment Factor, if applicable).

In addition, hospitals may also receive outlier payments for those cases that qualify under the threshold established for each fiscal year.

The data used in developing the impact analysis presented below are taken from the March 2006 update of the FY 2005 MedPAR file and the March 2006 update of the Provider-Specific File that is used for payment purposes. Although the analyses of the changes to the capital prospective payment system do not incorporate cost data, we used the March 2006 update of the most recently available hospital cost report data (FYs 2003 and 2004) to categorize hospitals. Our analysis has several qualifications. First, we do not make adjustments for behavioral changes that hospitals may adopt in response to policy changes. Second, due to the interdependent nature of the IPPS, it is very difficult to precisely quantify the impact associated with each change. Third, we draw upon various sources for the data used to categorize hospitals in the tables. In some cases (for instance, the number of beds), there is a fair degree of variation in the data from different sources. We have attempted to construct these variables with the best available sources overall. However, for individual hospitals, some miscategorizations are possible.

Using cases from the March 2006 update of the FY 2005 MedPAR file, we simulated payments under the capital PPS for FY 2006 and FY 2007 for a comparison of total payments per case. Any short-term, acute care hospitals not paid under the general IPPS (Indian Health Service hospitals and hospitals in Maryland) are excluded from the simulations.

We modeled payments for each hospital by multiplying the capital Federal rate by the GAF and the hospital's case-mix. We then added estimated payments for indirect medical education, disproportionate share, large urban add-on, and outliers, if applicable. For purposes of this impact analysis, the model includes the following assumptions:

• We estimate that the Medicare case-mix index will increase by 1.0 percent in both FYs 2006 and 2007.

• We estimate that the Medicare discharges will be 13.5 million in FY 2006 and 13.1 million in FY 2007 for a 3.0 percent decrease from FY 2006 to FY 2007.

• The capital Federal rate was updated beginning in FY 1996 by an analytical framework that considers changes in the prices associated with capital-related costs and adjustments to account for forecast error, changes in the case-mix index, allowable changes in intensity, and other factors. The FY 2007 update is 1.1 percent (see section II.E.2. of this notice).

• In addition to the FY 2007 update factor, the FY 2007 capital Federal rate was calculated based on a GAF/DRG budget neutrality factor of 0.9986, an outlier adjustment factor of 0.9568, and an exceptions adjustment factor of 0.9997.

(b) Results. We used the actuarial model described above to estimate the potential impact of our changes for FY 2007 on total capital payments per case, using a universe of 3,595 hospitals. As described above, the individual hospital payment parameters are taken from the best available data, including the March 2006 update of the FY 2005 MedPAR file, the March 2006 update to the Provider-Specific File, and the most recent cost report data from the March 2006 update of HCRIS. In Table III, we present a comparison of total payments per case for FY 2006 compared to FY 2007 based on the FY 2007 payment policies. Column 2 shows estimates of payments per case under our model for FY 2006. Column 3 shows estimates of payments per case under our model for FY 2007. Column 4 shows the total percentage change in payments from FY 2006 to FY 2007. The change represented in Column 4 includes the 1.1 percent update to the capital Federal rate, a 0.0 percent increase in case-mix, changes in the adjustments to the capital Federal rate (for example, the effect of the hospital wage index on the GAF), and reclassifications by the MGCRB. The comparisons are provided by: (1) Geographic location; (2) region; and (3) payment classification.

The simulation results show that, on average, capital payments per case can be expected to increase 2.4 percent in FY 2007. In addition to the 1.1 percent increase due to the capital market basket update, this projected increase in capital payments per case is largely attributable to the change in the DRG recalibration process methodology for FY 2007 as discussed in section II.C. of the preamble of the FY 2007 IPPS final rule (71 FR 48006). To a lesser extent, the final outlier factor also contributes to the increase in capital payments per case, while the final GAF has the opposite effect on capital payments (0.2 percent and −0.1 percent, respectively).

The results of our comparisons by geographic location and by region are consistent with the results we expected after applying the changes to the DRG recalibration methodology. The geographic comparison shows that urban hospitals are expected to experience a 2.3 percent increase in IPPS capital payments per case, while rural hospitals are expected to experience a 2.4 percent increase in capital payments per case. This difference is mostly due to the changes to the methodology used to recalibrate DRGs discussed in the FY 2007 IPPS final rule (71 FR 47882). The capital impact is largely consistent with the impacts in the FY 2007 IPPS final rule (71 FR 48348). However the capital GAF is somewhat affected by the wage index changes resulting from using the revised occupational mix survey data and applying a 100 percent occupational mix adjustment. Any changes from the impact presented in the FY 2007 IPPS final rule would be due to the revised wage indices and the new occupational mix adjustment. Due to circumstances described in the FY 2007 IPPS final rule (71 FR 48005), the wage index used in these calculations is final.

All regions are estimated to receive an increase in total capital payments per case from FY 2006 to FY 2007. Changes vary by region from a minimum increase of 0.14 percent in Puerto Rico for (urban) to a maximum increase of 3.1 percent in the West South Central rural region and the Middle Atlantic rural region. The change in payments per case for all hospitals is 2.4 percent and is the same as indicated in the FY 2007 IPPS final rule.

Section 1886(d)(10) of the Act established the MGCRB. Before FY 2005, hospitals could apply to the MGCRB for reclassification for purposes of the standardized amount, wage index, or both. Section 401(c) of Pub. L. 108-173 equalized the standardized amounts under the operating IPPS. Therefore, beginning in FY 2005, there is no longer reclassification for the purposes of the standardized amounts; however, hospitals still may apply for reclassification for purposes of the wage index for FY 2007. Reclassification for wage index purposes also affects the GAF because that factor is constructed from the hospital wage index.

As discussed in the FY 2007 IPPS final rule (71 FR 48067), procedural rules were established in the FY 2006 IPPS final rule (70 FR 47382) to recognize the special circumstances of section 508 hospital reclassifications ending midyear during FY 2007. Under these procedural rules, some section 1886(d)(10) hospital reclassifications are only in effect for the second half of the fiscal year. These half fiscal year reclassifications have implications for the calculation of reclassified wage indices and therefore, affect capital payments because GAF values are calculated from the hospital wage index.

To present the effects of the hospitals being reclassified for FY 2007, we show the average payments per case for reclassified hospitals for each half of FY 2007 compared to the average payments per case for the same time period in FY 2006. The reclassified groups are compared to all other nonreclassified hospitals for the same time period. These categories are further identified by urban and rural designation. In general, the average payments per case in the first half of FY 2007 is the same or 0.1 percent less as the average payments per case in the second half of FY 2007 for each category of reclassified hospitals shown in Table III . The exception to that generalization is rural nonreclassified hospitals, which are expected to have the largest increases in payments, as well as the largest increase from the first half to the second half of FY 2007, that is, 2.7 percent in the first half of FY 2007, and 3.0 percent in the second half of FY 2007. Urban reclassified hospitals are expected to increase 2.6 percent and 2.5 percent in the first and second halves of FY 2007, respectively. Reclassified rural hospitals and nonreclassified urban hospitals are projected to have the same increase of 2.3 percent in the first half, while in the second half, the increase in payments per discharge to urban nonreclassified hospitals will remain at 2.3 percent but payments per discharge to rural reclassified hospitals are expected to decrease by 0.1 percent to 2.2 percent from the first half of FY 2007 to the second half of FY 2007.

Table III.—Comparison of Total Payments Per Case
[FY 2006 payments compared to FY 2007 payments]
| Number of hospitals | Average FY 2006 payments/ case | Average FY 2007 payments/ case | Change
By Geographic Location:
All hospitals | 3,595 | 753 | 771 | 2.4
Large urban areas (populations over 1 million) | 1,441 | 849 | 869 | 2.4
Other urban areas (populations of 1 million or fewer) | 1,149 | 731 | 747 | 2.3
Rural areas | 1,005 | 513 | 526 | 2.4
Urban hospitals | 2,590 | 796 | 814 | 2.3
0-99 beds | 651 | 617 | 631 | 2.3
100-199 beds | 867 | 673 | 690 | 2.6
200-299 beds | 492 | 751 | 769 | 2.4
300-499 beds | 413 | 827 | 845 | 2.2
500 or more beds | 167 | 1,005 | 1,027 | 2.2
Rural hospitals | 1,005 | 513 | 526 | 2.4
0-49 beds | 348 | 422 | 435 | 3.1
50-99 beds | 370 | 469 | 482 | 2.8
100-149 beds | 174 | 516 | 528 | 2.3
150-199 beds | 68 | 564 | 576 | 2.2
200 or more beds | 45 | 642 | 654 | 1.9
By Region:
Urban by Region | 2,590 | 796 | 814 | 2.3
New England | 128 | 853 | 874 | 2.5
Middle Atlantic | 357 | 873 | 898 | 2.9
South Atlantic | 388 | 755 | 771 | 2.0
East North Central | 395 | 782 | 801 | 2.5
East South Central | 165 | 720 | 731 | 1.6
West North Central | 157 | 783 | 795 | 1.6
West South Central | 374 | 740 | 758 | 2.4
Mountain | 149 | 787 | 808 | 2.6
Pacific | 424 | 920 | 942 | 2.4
Puerto Rico | 53 | 347 | 348 | 0.1
Rural by Region | 1,005 | 513 | 526 | 2.4
New England | 19 | 686 | 696 | 1.5
Middle Atlantic | 72 | 518 | 534 | 3.1
South Atlantic | 176 | 497 | 511 | 2.7
East North Central | 125 | 547 | 560 | 2.2
East South Central | 180 | 476 | 487 | 2.3
West North Central | 116 | 540 | 551 | 2.2
West South Central | 193 | 464 | 479 | 3.1
Mountain | 81 | 535 | 542 | 1.3
Pacific | 43 | 616 | 627 | 1.7
By Payment Classification:
All hospitals | 3,595 | 753 | 771 | 2.4
Large urban areas (populations over 1 million) | 1,448 | 848 | 869 | 2.4
Other urban areas (populations of 1 million or fewer) | 1,159 | 730 | 746 | 2.3
Rural areas | 988 | 515 | 527 | 2.4
Teaching Status:
Non-teaching | 2,511 | 630 | 645 | 2.5
Fewer than 100 Residents | 843 | 765 | 782 | 2.2
100 or more Residents | 241 | 1,100 | 1,125 | 2.3
Urban DSH:
100 or more beds | 1,520 | 821 | 840 | 2.4
Less than 100 beds | 346 | 543 | 557 | 2.5
Rural DSH:
Sole Community (SCH/EACH) | 386 | 464 | 477 | 2.7
Referral Center (RRC/EACH) | 199 | 570 | 582 | 2.1
Other Rural:
100 or more beds | 55 | 475 | 486 | 2.3
Less than 100 beds | 183 | 423 | 435 | 3.0
Urban teaching and DSH:
Both teaching and DSH | 815 | 902 | 922 | 2.3
Teaching and no DSH | 201 | 816 | 835 | 2.3
No teaching and DSH | 1,051 | 667 | 683 | 2.5
No teaching and no DSH | 540 | 700 | 716 | 2.3
Rural Hospital Types:
Non special status hospitals | 2,490 | 799 | 818 | 2.3
RRC/EACH | 44 | 707 | 722 | 2.2
SCH/EACH | 39 | 627 | 640 | 2.1
Medicare-dependent hospitals (MDH) | 18 | 421 | 433 | 2.8
SCH, RRC and EACH | 16 | 736 | 756 | 2.7
Hospitals Reclassified by the Medicare Geographic Classification Review Board: FY2007 Reclassifications:
All Urban Reclassified 1st Half | 281 | 777 | 797 | 2.6
All Urban Non-Reclassified 1st Half | 2,284 | 799 | 818 | 2.3
All Rural Reclassified 1st Half | 358 | 555 | 568 | 2.3
All Rural Non-Reclassified 1st Half | 589 | 460 | 473 | 2.7
All Urban Reclassified 2nd Half | 341 | 807 | 826 | 2.5
All Urban Non-Reclassified 2nd Half | 2,224 | 795 | 814 | 2.3
ALL Rural Reclassified 2nd Half | 369 | 559 | 571 | 2.2
All Rural Non-Reclassified 2nd Half | 578 | 451 | 464 | 3.0
All Section 401 Reclassified Hospitals | 30 | 553 | 565 | 2.3
Other Reclassified Hospitals (Section 1886(d)(8)(B)) | 53 | 516 | 528 | 2.2
Type of Ownership:
Voluntary | 2,102 | 771 | 790 | 2.4
Proprietary | 880 | 679 | 695 | 2.3
Government | 603 | 740 | 757 | 2.3
Medicare Utilization as a Percent of Inpatient Days:
0-25 | 243 | 999 | 1,026 | 2.7
25-50 | 1,328 | 855 | 874 | 2.2
50-65 | 1,478 | 663 | 680 | 2.5
Over 65 | 462 | 597 | 611 | 2.4

III. Collection of Information Requirements

This document does not impose information collection and recordkeeping requirements. Consequently, it need not be reviewed by the Office of Management and Budget under the authority of the Paperwork Reduction Act of 1995.

Authority: Program; No. 93.773 Medicare—Hospital Insurance Program; and No. 93.774, Medicare—Supplementary Medical Insurance Program)

Dated: September 21, 2006.
Mark B. McClellan,
Administrator, , Centers for Medicare & Medicaid Services.
Approved: September 27, 2006.
Michael O. Leavitt,
Secretary.

Addendum

This addendum includes tables referred to throughout the notice which contain data relating to the FY 2007 wage indices and the hospital reclassifications and payment amounts for operating and capital-related costs that are affected by the new occupational mix survey data discussed in section II. of this notice.

Table 1A—National Adjusted Operating Standardized Amounts, Labor/Nonlabor (69.7 Percent Labor Share/30.3 Percent Nonlabor Share If Wage Index Is Greater Than 1)

Table 1B—National Adjusted Operating Standardized Amounts, Labor/Nonlabor (62 Percent Labor Share/38 Percent Nonlabor Share If Wage Index Is Less Than or Equal To 1)

Table 1C—Adjusted Operating Standardized Amounts for Puerto Rico, Labor/Nonlabor

Table 1D—Capital Standard Federal Payment Rate

Table 2—Hospital Case-Mix Indexes for Discharges Occurring in Federal Fiscal Year 2005; Hospital Wage Indexes for Federal Fiscal Year 2007; Hospital Average Hourly Wage for Federal Fiscal Years 2005 (2001 Wage Data), 2006 (2002 Wage Data), and 2007 (2003 Wage Data); Wage Indexes and 3-Year Average of Hospital Average Hourly Wages

Table 3A—FY 2007 and 3-Year Average Hourly Wage for Urban Areas by CBSA

Table 3B—FY 2007 and 3-Year Average Hourly Wage for Rural Areas by CBSA

Table 4A—1—Wage Index and Capital Geographic Adjustment Factor (GAF) for Urban Areas by CBSA—FY 2007

Table 4A—2—Wage Index and Capital Geographic Adjustment Factor (GAF) for Certain Urban Areas by CBSA for the Period April 1 through September 30, 2007

Table 4B—1—Wage Index and Capital Geographic Adjustment Factor (GAF) for Rural Areas by CBSA—FY 2007

Table 4B—2—Wage Index and Capital Geographic Adjustment Factor (GAF) for Certain Rural Areas by CBSA for the Period April 1 through September 30, 2007*

Table 4C—1—Wage Index and Capital Geographic Adjustment Factor (GAF) for Hospitals That Are Reclassified by CBSA—FY 2007

Table 4C—2—Wage Index and Capital Geographic Adjustment Factor (GAF) for Certain Hospitals That Are Reclassified by CBSA for the Period April 1 through September 30, 2007

Table 4F—Puerto Rico Wage Index and Capital Geographic Adjustment Factor (GAF) by CBSA—FY 2007

Table 4J—Out-Migration Adjustment—FY 2007

Table 5—List of Diagnosis-Related Groups (DRGs), Relative Weighting Factors, and Geometric and Arithmetic Mean Length of Stay (LOS)

Table 9A—Hospital Reclassifications and Redesignations by Individual Hospitals and CBSA for FY 2007

Table 9B—Hospital Reclassifications and Redesignations by Individual Hospital Under Section 508 of Pub. L. 108-173 for FY 2007

Table 9C—Hospitals Redesignated as Rural under Section 1886(d)(8)(E) of the Act for FY 2007

Table 9D—Hospitals who waived Lugar status to receive Out-migration Adjustment

Table 10—Geometric Mean Plus the Lesser of 0.75 of the National Adjusted Operating Standardized Payment Amount (Increased to Reflect the Difference Between Costs and Charges) or 0.75 of One Standard Deviation of Mean Charges by Diagnosis-Related Group (DRG)—September 2006

Table 1A.—National Adjusted Operating Standardized; Labor/Nonlabor
[69.7 Percent Labor Share/30.3 Percent Nonlabor Share If Wage Index Greater Than 1]
Full Update (3.4 Percent): Labor-related | Full Update (3.4 Percent): Nonlabor-related | Reduced Update (1.4 Percent): Labor-related | Reduced Update (1.4 Percent): Nonlabor-related
$3,397.52 | $1,476.97 | $3,331.80 | $1,448.40

Table 1B.—National Adjusted Operating Standardized Amounts, Labor/Nonlabor
[62 Percent Labor Share/38 Percent Nonlabor Share If Wage Index Less Than or Equal to 1]
Full Update (3.4 Percent): Labor-related | Full Update (3.4 Percent): Nonlabor-related | Reduced Update (1.4 Percent): Labor-related | Reduced Update (1.4 Percent): Nonlabor-related
$3,022.18 | $1,852.31 | $2,963.73 | $1,816.48

Table 1C.—Adjusted Operating Standardized Amounts for Puerto Rico, Labor/Nonlabor
| Rates If Wage Index Greater Than 1: Labor | Rates If Wage Index Greater Than 1: Nonlabor | Rates If Wage Index Less Than or Equal to 1: Labor | Rates If Wage Index Less Than or Equal to 1: Nonlabor
National | $3,397.52 | $1,476.97 | $3,022.18 | $1,852.31
Puerto Rico | 1,436.12 | 880.20 | 1,359.68 | 956.64

Table 1D.—Capital Standard Federal Payment Rate
| Rate
National | $427.03
Puerto Rico | 203.03

Table 2.—Hospital Case-Mix Indexes for Discharges Occurring in Federal Fiscal Year 2005; Hospital Wage Indexes for Federal Fiscal Year 2007; Hospital Average Hourly Wages for Federal Fiscal Years 2005 (2001 Wage Data), 2006 (2002 Wage Data), and 2007 (2003 Wage Data); Wage Indexes and 3-Year Average of Hospital Average Hourly Wages
Provider No. | Case-mix index ² | FY 2007 wage index | Average hourly wage FY 2005 | Average hourly wage FY 2006 | Average hourly wage FY 2007 ¹ | Average hourly wage** (3 years)
010001 | 1.4913 | 0.7664 | 20.6563 | 21.6546 | 22.1989 | 21.5314
010004 | *** | * | 22.7585 | * | * | 22.7585
010005 ʰ | 1.1262 | 0.8889 | 20.4937 | 22.4906 | 23.6022 | 22.2289
010006 | 1.4596 | 0.7876 | 21.0241 | 23.4823 | 23.4975 | 22.6401
010007 | 1.0707 | 0.7664 | 16.8811 | 18.2430 | 19.9328 | 18.3636
010008 | 0.9820 | 0.7933 | 23.8333 | 20.4591 | 17.9533 | 20.5783
010009 | 0.9668 | 0.8756 | 21.6422 | 23.2229 | 23.5626 | 22.8435
010010 ʰ | 1.0464 | 0.9226 | 22.3021 | 21.4974 | 27.0386 | 23.4333
010011 | 1.5930 | 0.8889 | 24.8166 | 27.4850 | 27.6658 | 26.6785
010012 | 1.2376 | 0.8822 | 21.7622 | 22.7020 | 24.4059 | 22.9524
010015 | 1.0200 | 0.7664 | 20.4732 | 21.5111 | 22.3383 | 21.4818
010016 | 1.5194 | 0.8889 | 23.0414 | 25.1502 | 24.6488 | 24.2708
010018 | 1.4681 | 0.8889 | 20.5888 | 22.2990 | 23.7048 | 22.1788
010019 | 1.2315 | 0.7876 | 20.1336 | 22.0906 | 22.8766 | 21.7323
010021 ʰ | 1.2160 | 0.7664 | 20.7108 | 18.6785 | 19.7367 | 19.6613
010022 | 0.9818 | 0.9699 | 25.8797 | 24.5670 | 25.8403 | 25.4393
010023 | 1.9061 | 0.7933 | 23.7791 | 27.6174 | 25.4272 | 25.5461
010024 | 1.6733 | 0.7933 | 20.0067 | 20.7265 | 22.0819 | 20.8864
010025 | 1.2764 | 0.8371 | 19.8561 | 21.2674 | 22.7635 | 21.2709
010027 | 0.7773 | 0.7664 | 14.9585 | 15.3704 | 16.4681 | 15.5470
010029 | 1.5790 | 0.8371 | 21.6724 | 22.6976 | 23.9007 | 22.7914
010031 | *** | * | 20.9463 | * | * | 20.9463
010032 | 0.8962 | 0.7664 | 18.5073 | 19.1555 | 19.3311 | 19.0281
010033 | 2.0668 | 0.8889 | 25.5165 | 26.3784 | 27.4181 | 26.4464
010034 | 0.9985 | 0.7933 | 17.1625 | 16.9686 | 17.7457 | 17.3133
010035 | 1.2645 | 0.8889 | 23.1319 | 22.2870 | 24.2425 | 23.2085
010036 | 1.1237 | 0.7664 | 20.5125 | 22.9747 | 21.5796 | 21.7075
010038 | 1.3446 | 0.8059 | 20.3935 | 21.4509 | 23.7039 | 21.9034
010039 | 1.6165 | 0.8967 | 23.4151 | 25.8820 | 26.9919 | 25.4654
010040 | 1.5959 | 0.8060 | 21.6708 | 22.8851 | 24.3207 | 22.9524
010043 | 1.0507 | 0.8889 | 19.5422 | 22.5945 | 21.9775 | 21.4194
010044 | 1.0646 | 0.8889 | 23.0220 | 21.4036 | 22.5009 | 22.2925
010045 | 1.1547 | 0.8889 | 20.5658 | 19.8803 | 20.4927 | 20.3026
010046 | 1.4907 | 0.8060 | 20.8935 | 21.6965 | 23.4219 | 21.9636
010047 | 0.8902 | 0.7819 | 19.5937 | 21.0604 | 26.4851 | 22.3753
010049 | 1.1436 | 0.7664 | 17.7801 | 20.2413 | 21.7888 | 19.9912
010050 | 1.0226 | 0.8889 | 21.5625 | 22.1584 | 22.9620 | 22.2007
010051 | 0.8417 | 0.8761 | 14.7053 | 15.2208 | 18.7700 | 16.2601
010052 | 0.8872 | 0.7767 | 21.3673 | 16.4959 | 25.9233 | 21.5543
010053 | 1.0524 | * | 17.4160 | 19.0108 | * | 18.2193
010054 | 1.0884 | 0.8756 | 23.1894 | 22.5554 | 23.3624 | 23.0327
010055 | 1.5280 | 0.7664 | 19.1847 | 22.3800 | 22.5396 | 21.3292
010056 | 1.5788 | 0.8889 | 22.7183 | 23.7144 | 23.7398 | 23.3988
010058 | 0.9540 | 0.8889 | 20.3182 | 18.5537 | 19.5091 | 19.5962
010059 | 1.0302 | 0.8756 | 23.6963 | 21.3237 | 23.0012 | 22.7246
010061 | 1.0116 | 0.8170 | 20.5683 | 21.9370 | 24.1185 | 22.2906
010062 | 1.0689 | 0.7664 | 18.1323 | 18.3435 | 21.4805 | 19.2652
010064 | 1.6993 | 0.8889 | 25.4345 | 26.1110 | 24.8155 | 25.4466
010065 | 1.4873 | 0.7933 | 20.0108 | 21.3785 | 23.0477 | 21.5043
010066 | 0.8394 | 0.7664 | 17.0935 | 17.6152 | 19.8692 | 18.2085
010068 | *** | * | 17.5690 | 19.0789 | 22.7156 | 19.7871
010069 | 1.0221 | 0.7664 | 19.6317 | 21.3608 | 23.1243 | 21.2883
010072 | *** | * | 21.5419 | 21.8169 | 24.4989 | 22.5892
010073 | 0.9710 | 0.7664 | 16.4043 | 16.4168 | 18.3963 | 17.0851
010078 | 1.5086 | 0.8059 | 21.0633 | 21.6857 | 23.5279 | 22.1019
010079 | 1.1637 | 0.8967 | 20.4254 | 21.8199 | 22.7337 | 21.6778
010083 ʰ | 1.1649 | 0.7871 | 20.2166 | 22.3041 | 22.4279 | 21.6675
010084 | 1.5041 | 0.8889 | 22.5219 | 24.7127 | 26.3238 | 24.5148
010085 | 1.3171 | 0.8756 | 23.7007 | 24.4710 | 24.2609 | 24.1411
010086 | 1.0946 | 0.7664 | 19.4332 | 18.6081 | 22.2096 | 20.0606
010087 | 1.9800 | 0.7847 | 21.6226 | 22.5225 | 22.4318 | 22.1820
010089 | 1.2666 | 0.8889 | 22.2508 | 22.8448 | 25.0811 | 23.4064
010090 | 1.7203 | 0.7847 | 21.4322 | 23.6948 | 26.0494 | 23.6535
010091 | 0.9645 | 0.7664 | 19.4222 | 18.6912 | 23.1309 | 20.2880
010092 | 1.6031 | 0.8761 | 22.0709 | 24.4592 | 26.6796 | 24.3552
010095 | 0.8478 | 0.8761 | 13.4426 | 13.9326 | 16.5250 | 14.6585
010097 | 0.7204 | 0.7933 | 17.1735 | 16.7548 | 19.4511 | 17.7707
010098 | 1.0596 | * | 19.6717 | 14.3076 | * | 16.5936
010099 | 0.9988 | 0.7664 | 18.1849 | 18.7909 | 20.8383 | 19.2535
010100 ʰ | 1.6823 | 0.7871 | 20.0027 | 21.2915 | 23.8919 | 21.8071
010101 | 1.1315 | 0.7997 | 21.0085 | 21.6593 | 24.2575 | 22.2800
010102 | 0.9487 | 0.7664 | 19.9196 | 21.0903 | 25.6158 | 22.2527
010103 | 1.8923 | 0.8889 | 24.2201 | 26.1163 | 27.8272 | 26.0578
010104 | 1.8099 | 0.8889 | 24.1929 | 24.7394 | 27.6471 | 25.5331
010108 | 1.1555 | 0.7933 | 23.7803 | 28.4624 | 24.6740 | 25.5797
010109 | 0.9897 | 0.8115 | 21.7128 | 21.6194 | 17.6733 | 20.3002
010110 | 0.7990 | 0.7664 | 19.2706 | 17.5957 | 26.0039 | 20.5257
010112 | 1.0377 | 0.7664 | 17.2963 | 16.8902 | 17.1833 | 17.1259
010113 | 1.6543 | 0.7847 | 20.4181 | 21.4121 | 22.3282 | 21.3874
010114 | 1.3860 | 0.8889 | 21.5319 | 22.3752 | 25.6152 | 23.1874
010115 | 0.8661 | * | 17.5985 | 21.7478 | * | 19.2200
010118 | 1.2128 | 0.8362 | 18.8560 | 19.7673 | 21.4630 | 20.1843
010119 | *** | * | 21.8215 | * | * | 21.8215
010120 | 0.9876 | 0.7664 | 20.5855 | 20.9450 | 20.9019 | 20.8146
010121 | *** | * | 17.0329 | 24.0867 | * | 19.3686
010125 | 1.0409 | 0.7664 | 16.8419 | 18.4114 | 21.5123 | 18.8320
010126 | 1.1468 | 0.7933 | 23.1856 | 23.1381 | 23.9327 | 23.4131
010128 | 0.8695 | 0.7664 | 17.9354 | 21.4201 | 23.6648 | 21.1327
010129 ʰ | 1.0101 | 0.7968 | 18.7821 | 21.3555 | 22.1574 | 20.8452
010130 | 0.9443 | 0.8889 | 18.4944 | 23.2488 | 23.7528 | 21.6390
010131 | 1.3815 | 0.8967 | 24.2197 | 25.7837 | 26.4297 | 25.5385
010137 | 1.2390 | 0.8889 | 29.7665 | 24.7366 | 27.5782 | 27.2371
010138 | 0.6122 | 0.7664 | 13.5082 | 13.8475 | 16.7601 | 14.7816
010139 | 1.5771 | 0.8889 | 24.9410 | 25.3014 | 26.8726 | 25.7394
010143 | 1.1687 | 0.8889 | 22.1312 | 22.0215 | 26.2762 | 23.4710
010144 | 1.5743 | 0.7847 | 20.6425 | 20.8209 | 22.5133 | 21.3563
010145 | 1.3832 | 0.8761 | 23.1976 | 24.9531 | 24.5092 | 24.2395
010146 | 1.1039 | 0.8059 | 19.9944 | 20.8917 | 22.6586 | 21.2025
010148 | 0.8960 | 0.7664 | 18.5309 | 20.5589 | 23.9246 | 21.0046
010149 | 1.2672 | 0.7933 | 23.1593 | 26.5854 | 24.4805 | 24.6823
010150 | 1.0581 | 0.8152 | 20.6738 | 21.6377 | 23.6081 | 21.9568
010152 | 1.1825 | 0.7847 | 22.1626 | 22.6202 | 22.4075 | 22.4009
010157 | 1.1543 | 0.7876 | 21.3574 | 24.3560 | 23.3829 | 23.0158
010158 | 1.1398 | 0.8065 | 22.4440 | 24.3531 | 23.5533 | 23.4497
010161 | *** | * | 27.5119 | * | * | 27.5119
010162 | *** | * | * | * | 33.8778 | 33.8778
010164 | 1.1726 | 0.7997 | * | * | * | *
010165 | 1.5088 | 0.8967 | * | * | * | *
010166 | 1.6844 | 0.8761 | * | * | * | *
020001 | 1.6874 | 1.1916 | 31.6091 | 32.8120 | 35.4232 | 33.3471
020004 | 1.1410 | 1.0702 | 29.9926 | 32.0966 | 31.8004 | 31.3123
020006 | 1.2700 | 1.1916 | 33.4210 | 36.0540 | 34.3752 | 34.6332
020008 | 1.2785 | 1.2055 | 34.5856 | 35.9236 | 36.1251 | 35.5664
020012 | 1.3355 | 1.0993 | 29.3419 | 31.8995 | 32.5975 | 31.2913
020014 | 1.1955 | 1.0702 | 32.1233 | 32.0893 | 29.4472 | 31.1605
020017 | 1.9901 | 1.1916 | 32.9281 | 33.5852 | 35.4119 | 33.9602
020018 | 0.9378 | 1.9343 | * | * | * | *
020019 | 0.9085 | 1.9343 | * | * | * | *
020020 | 0.8722 | * | * | * | * | *
020024 | 1.1254 | 1.0702 | 27.9799 | 33.0644 | 29.5195 | 30.2029
020026 | 1.6132 | 1.9343 | * | * | * | *
020027 | 0.8940 | 1.9343 | * | * | * | *
030001 | 1.4281 | 1.0146 | 27.7572 | 29.9840 | 32.4791 | 30.1381
030002 | 2.0911 | 1.0146 | 27.9628 | 29.0519 | 30.2200 | 29.0083
030006 | 1.6285 | 0.9390 | 24.0169 | 25.8872 | 27.0599 | 25.7641
030007 | 1.4071 | 1.1073 | 26.9442 | 29.6174 | 31.1928 | 29.3442
030009 | *** | * | 21.4065 | 22.3992 | 26.5408 | 22.6580
030010 | 1.3731 | 0.9390 | 22.8647 | 24.8275 | 28.5684 | 25.4056
030011 | 1.4469 | 0.9390 | 22.8422 | 25.1361 | 28.1423 | 25.5193
030012 | 1.3762 | 0.9748 | 25.5205 | 26.3859 | 27.3895 | 26.4764
030013 | 1.4295 | 0.9269 | 23.5229 | 25.7050 | 27.0111 | 25.4677
030014 | 1.4878 | 1.0146 | 25.1189 | 25.6259 | 29.6582 | 26.7569
030016 | 1.2207 | 1.0146 | 27.1583 | 26.7003 | 29.1980 | 27.7047
030017 | 2.0849 | 1.0146 | 24.4055 | 26.2452 | 30.6008 | 27.1050
030018 | 1.2384 | 1.0146 | 24.4308 | 28.9476 | 29.4567 | 27.3566
030019 | 1.3107 | 1.0146 | 28.4917 | 27.3156 | 29.5921 | 28.5143
030022 | 1.5662 | 1.0146 | 25.1461 | 26.4404 | 30.5710 | 27.4209
030023 | 1.6988 | 1.1538 | 28.4112 | 33.8333 | 34.2142 | 32.1557
030024 | 2.0618 | 1.0146 | 28.3470 | 31.6658 | 31.9247 | 30.7056
030027 | 0.9474 | * | 21.0527 | 20.4031 | * | 20.7264
030030 | 1.5463 | 1.0146 | 24.6005 | 30.2712 | 32.0993 | 28.8311
030033 | 1.2690 | 1.1073 | 26.6009 | 26.6531 | 28.7508 | 27.3705
030036 | 1.4179 | 1.0146 | 26.5708 | 30.3521 | 30.9834 | 29.5043
030037 | 2.2619 | 1.0146 | 30.3907 | 28.6453 | 31.2878 | 30.1945
030038 | 1.6872 | 1.0146 | 26.5178 | 29.5509 | 29.9314 | 28.8772
030040 | 0.9065 | 0.9269 | 22.5130 | 24.8145 | 27.5322 | 24.9809
030043 | 1.2654 | 0.9269 | 26.0825 | 24.7932 | 26.5834 | 25.8015
030044 | 0.8433 | * | 19.5714 | * | * | 19.5714
030055 ʰ | 1.4168 | 1.1148 | 23.1837 | 24.5202 | 27.1473 | 25.0480
030059 | *** | * | 24.7676 | * | * | 24.7676
030060 | 1.1881 | 0.9269 | 22.3551 | 24.3523 | 24.8373 | 23.8179
030061 | 1.6331 | 1.0146 | 23.4722 | 25.5529 | 28.0696 | 25.7847
030062 | 1.2612 | 0.9269 | 21.9849 | 23.8068 | 26.6881 | 24.2112
030064 | 1.9613 | 0.9390 | 24.6732 | 25.4922 | 28.3853 | 26.2854
030065 | 1.5988 | 1.0146 | 25.6738 | 27.1646 | 29.5883 | 27.5688
030067 | 1.0785 | 0.9269 | 19.1332 | 20.4376 | 20.7590 | 20.1031
030068 | 1.1498 | 0.9269 | 19.7030 | 20.8846 | 23.1394 | 21.2604
030069 ʰ | 1.3722 | 1.1148 | 25.6243 | 26.3518 | 30.2224 | 27.2876
030071 | 0.9150 | 1.4448 | * | * | * | *
030073 | 0.8489 | 1.4448 | * | * | * | *
030074 | 0.9110 | 1.4448 | * | * | * | *
030077 | 0.8100 | 1.4448 | * | * | * | *
030078 | 0.9644 | 1.4448 | * | * | * | *
030080 | 1.4636 | 0.9390 | 24.3573 | 25.2077 | 27.1360 | 25.5290
030083 | 1.3648 | 1.0146 | 24.9269 | 27.5353 | 27.4983 | 26.6771
030084 | 0.8727 | 1.4448 | * | * | * | *
030085 | 1.5795 | 0.9390 | 23.2070 | 24.5792 | 26.8364 | 24.9731
030087 | 1.5934 | 1.0146 | 26.3878 | 26.6594 | 29.5962 | 27.6820
030088 | 1.3693 | 1.0146 | 23.2478 | 26.6796 | 27.8604 | 25.9831
030089 | 1.5137 | 1.0146 | 26.2166 | 27.1835 | 28.9068 | 27.5504
030092 | 1.4265 | 1.0146 | 25.4127 | 27.3203 | 31.7512 | 28.3500
030093 | 1.2271 | 1.0146 | 23.5623 | 25.8955 | 26.4430 | 25.4779
030094 | 1.3649 | 1.0146 | 26.9985 | 29.5948 | 31.5422 | 29.4037
030099 | 0.8324 | 0.9269 | 26.7996 | 26.3236 | 27.1402 | 26.7623
030100 | 2.0680 | 0.9390 | * | 29.0691 | 31.5628 | 30.3333
030101 ʰ | 1.4490 | 1.1148 | 25.0077 | 26.1927 | 27.8302 | 26.3906
030102 | 2.6120 | 1.0146 | * | 29.0942 | 31.6285 | 30.4080
030103 | 1.6687 | 1.0146 | 28.2832 | 30.1994 | 31.7322 | 30.0675
030105 | 2.3289 | 1.0146 | 27.6900 | 31.3094 | 31.2970 | 30.3890
030106 | 1.6799 | 1.0146 | 30.4791 | 34.7222 | 32.9840 | 32.3777
030107 | 1.9370 | 1.0146 | * | * | 35.6197 | 35.6197
030108 | 2.0799 | 1.0146 | * | * | * | *
030109 | 2.6500 | 1.0146 | * | * | 16.5905 | 16.5905
030110 | 1.4264 | 1.0146 | * | * | 31.4852 | 31.4852
030111 | 1.0600 | 0.9390 | * | * | * | *
030112 | 1.9402 | 1.0146 | * | * | * | *
030113 | 0.9319 | 1.4448 | * | * | * | *
030114 | 1.3877 | 0.9390 | * | * | * | *
030115 | 1.3290 | 1.0146 | * | * | * | *
030116 | 2.1291 | * | * | * | * | *
040001 | 1.0908 | 0.9027 | 23.1475 | 23.7718 | 22.9327 | 23.2665
040002 | 1.2196 | 0.7475 | 19.3429 | 20.1384 | 21.2021 | 20.2735
040003 | 1.2374 | * | 18.5000 | * | * | 18.5000
040004 | 1.6187 | 0.9027 | 23.3504 | 25.0286 | 27.1741 | 25.2030
040007 | 1.7035 | 0.9704 | 23.4565 | 25.7142 | 40.1291 | 29.6908
040010 | 1.3929 | 0.9027 | 22.0984 | 23.0274 | 24.2315 | 23.1437
040011 | 1.0337 | 0.7475 | 19.0319 | 20.3970 | 21.0968 | 20.2388
040014 | 1.4604 | 0.9265 | 24.0846 | 25.3451 | 26.4777 | 25.2922
040015 | 1.0455 | 0.7475 | 18.0793 | 19.2831 | 20.4279 | 19.2708
040016 | 1.6832 | 0.9704 | 22.7219 | 22.1228 | 25.8056 | 23.5485
040017 | 1.1272 | 0.8816 | 19.4365 | 21.9875 | 21.9147 | 21.1493
040018 | 1.0700 | 0.7850 | 23.8515 | 23.6044 | 24.0026 | 23.8116
040019 | 1.1015 | 0.8984 | 21.5316 | 23.7328 | 23.8705 | 23.0548
040020 | 1.5654 | 0.8984 | 20.9136 | 21.6603 | 22.6497 | 21.7619
040021 | 1.2737 | 0.9704 | 24.7771 | 25.6917 | 25.4047 | 25.3035
040022 | 1.5286 | 0.9027 | 23.7462 | 25.4052 | 29.5000 | 26.1298
040024 | 0.6959 | * | 20.1101 | * | * | 20.1101
040026 | 1.5264 | 0.8829 | 24.3053 | 25.4072 | 27.7931 | 25.9042
040027 | 1.4577 | 0.8412 | 19.9348 | 21.1412 | 21.4252 | 20.8384
040029 | 1.5455 | 0.9704 | 22.8770 | 24.0704 | 24.8409 | 23.9749
040032 | *** | * | 18.5171 | * | * | 18.5171
040035 | *** | * | 13.4265 | * | * | 13.4265
040036 | 1.6111 | 0.9704 | 24.2851 | 26.3226 | 27.6234 | 26.1793
040039 | 1.2926 | 0.8353 | 17.7976 | 19.5998 | 21.2712 | 19.5845
040041 | 1.1431 | 0.9265 | 22.0188 | 22.1531 | 23.7787 | 22.6793
040042 | 1.3631 | 0.9307 | 18.9550 | 19.9627 | 21.1716 | 20.0582
040045 | 0.9923 | * | 18.7952 | 17.2280 | * | 17.9500
040047 | 1.1022 | 0.8353 | 21.5334 | 21.9163 | 22.4250 | 21.9377
040050 | 1.1632 | 0.7475 | 15.4782 | 16.3930 | 17.6906 | 16.5483
040051 | 0.9570 | 0.7475 | 18.8943 | 19.1401 | 21.3342 | 19.8090
040053 | 1.0148 | * | 20.8153 | 20.7824 | * | 20.7984
040054 | 1.1388 | 0.7475 | 16.7370 | 18.2684 | 18.0510 | 17.6860
040055 | 1.5959 | 0.7850 | 22.2237 | 23.3156 | 23.0448 | 22.8516
040062 | 1.7015 | 0.7850 | 21.6403 | 23.3083 | 23.8994 | 22.9604
040066 | *** | * | 23.4616 | * | * | 23.4616
040067 | 1.0263 | 0.7475 | 15.1441 | 16.8799 | 19.0471 | 16.9179
040069 | 1.0365 | 0.8984 | 21.7607 | 24.4662 | 24.8060 | 23.6538
040071 | 1.4687 | 0.9265 | 22.9350 | 24.3824 | 25.4680 | 24.2630
040072 | 1.0609 | 0.7475 | 20.8269 | 19.9009 | 22.4741 | 21.0044
040074 | 1.1734 | 0.9704 | 22.6147 | 25.2423 | 25.2700 | 24.2961
040075 | 0.9763 | * | 16.2583 | 18.3254 | * | 17.2857
040076 | 1.0169 | 0.9265 | 21.0442 | 20.6272 | 23.5742 | 21.7288
040077 | 0.9627 | * | 18.3261 | 18.2082 | * | 18.2646
040078 | 1.6285 | 0.9265 | 24.4589 | 24.5378 | 23.5915 | 24.1852
040080 | 1.0358 | 0.8345 | 21.3483 | 22.3392 | 24.1921 | 22.7065
040081 | 0.8428 | 0.7475 | 13.7148 | 15.1081 | 16.8436 | 15.2255
040084 | 1.1782 | 0.9704 | 22.6441 | 24.7225 | 27.7626 | 25.1456
040085 | 1.0419 | 0.7475 | 18.0756 | 29.8444 | 22.9916 | 22.7039
040088 | 1.3247 | 0.8688 | 21.2974 | 22.6183 | 22.4860 | 22.1468
040091 | 1.2014 | 0.8107 | 23.0252 | 23.1320 | 24.2398 | 23.4639
040100 | 1.3467 | 0.9265 | 19.3560 | 20.0460 | 21.3051 | 20.2851
040105 | 1.0208 | * | 15.8171 | 18.2182 | * | 16.9121
040109 | 1.1303 | * | 18.8624 | 22.8801 | * | 20.7540
040114 | 1.7605 | 0.9704 | 23.5628 | 24.8992 | 26.7581 | 25.1160
040118 | 1.4309 | 0.8345 | 24.2547 | 24.7363 | 26.0389 | 24.9780
040119 | 1.4108 | 0.9265 | 20.1631 | 21.0103 | 24.3680 | 21.8564
040126 | 0.8957 | * | 12.5944 | 14.0701 | 15.6984 | 14.0818
040132 | *** | * | 36.5525 | 28.1390 | * | 32.3748
040134 | 2.4378 | 0.9704 | * | 27.3412 | 31.9325 | 29.6807
040137 | 1.3158 | 0.9704 | 23.4672 | 25.2907 | 25.9979 | 24.8946
040138 | 1.3474 | 0.9027 | 23.3615 | 25.7513 | 27.8584 | 25.9401
040140 | *** | * | 25.1224 | * | * | 25.1224
040141 | 0.8250 | 0.9027 | * | 24.0901 | 26.1041 | 25.1761
040142 | 1.4241 | 0.8829 | * | 27.9695 | 21.4222 | 24.3073
040143 | *** | * | * | * | 37.1976 | 37.1976
040144 | *** | * | * | * | 21.4007 | 21.4007
040145 | 1.7851 | 0.8345 | * | * | * | *
040147 | 1.7154 | 0.9704 | * | * | * | *
050002 | 1.3823 | 1.5617 | 31.9709 | 34.1948 | 35.5184 | 33.9903
050006 | 1.6010 | 1.2203 | 27.6176 | 30.5373 | 33.5751 | 30.3271
050007 | 1.4646 | 1.5419 | 37.5804 | 38.7033 | 43.4440 | 39.9548
050008 | 1.3293 | 1.5445 | 36.9371 | 39.1539 | 49.3166 | 41.9596
050009 | 1.7661 | 1.4095 | 35.5384 | 39.6393 | 43.0584 | 39.5056
050013 | 1.9243 | 1.4095 | 31.7637 | 31.9837 | 35.7592 | 33.1828
050014 | 1.1607 | 1.2986 | 29.5726 | 33.0373 | 36.0305 | 33.0187
050015 | 1.2479 | 1.1202 | 30.1398 | 30.7940 | 32.2188 | 31.0764
050016 | 1.3066 | 1.1305 | 25.5735 | 26.2162 | 24.5768 | 25.4173
050017 | 2.0706 | 1.2986 | 30.5863 | 36.6593 | 39.6653 | 35.6426
050018 | 1.1919 | 1.1686 | 20.3179 | 22.3472 | 23.3204 | 21.9572
050022 | 1.5562 | 1.1202 | 28.2773 | 29.8632 | 31.6467 | 30.0139
050024 | 1.1462 | 1.1202 | 26.9378 | 27.5587 | 29.4062 | 27.9891
050025 | 1.9310 | 1.1202 | 31.7242 | 36.1622 | 33.5466 | 33.8328
050026 | 1.5374 | 1.1202 | 26.6406 | 28.3027 | 31.5250 | 28.9332
050028 | 1.2575 | 1.1202 | 21.5448 | 26.6160 | 27.3826 | 24.7519
050029 | *** | * | 34.3934 | * | * | 34.3934
050030 | 1.2476 | 1.1202 | 22.9148 | 24.9707 | 27.2945 | 25.0204
050036 | 1.6440 | 1.1202 | 27.4915 | 32.7929 | 33.8000 | 31.4474
050038 | 1.5531 | 1.5324 | 35.0441 | 38.7527 | 44.2265 | 39.3929
050039 | 1.6651 | 1.1202 | 29.8179 | 31.6734 | 35.2630 | 32.1614
050040 | 1.3176 | 1.1686 | 31.8983 | 34.3279 | 35.8322 | 34.0141
050042 | 1.4741 | 1.2203 | 29.8062 | 33.9415 | 37.3760 | 33.6941
050043 | 1.6384 | 1.5617 | 39.6054 | 43.1589 | 45.4887 | 42.6954
050045 | 1.2887 | 1.1202 | 22.7051 | 23.8408 | 25.0150 | 23.8863
050046 | 1.1821 | 1.1525 | 25.2786 | 25.6875 | 26.1926 | 25.7298
050047 | 1.7523 | 1.5445 | 39.3993 | 40.9874 | 55.9367 | 45.8065
050054 | 1.2126 | 1.1202 | 27.1437 | 24.1262 | 21.3650 | 24.0140
050055 | 1.2484 | 1.5445 | 36.9386 | 37.5879 | 42.9516 | 39.0065
050056 | 1.3357 | 1.1686 | 29.4829 | 27.9330 | 30.6126 | 29.3527
050057 | 1.6734 | 1.1202 | 26.2099 | 29.4351 | 30.0236 | 28.5928
050058 | 1.5474 | 1.1686 | 27.3584 | 33.8215 | 33.1409 | 31.4044
050060 | 1.5254 | 1.1202 | 26.5515 | 27.3282 | 29.9762 | 27.9723
050061 | *** | * | * | 32.2172 | * | 32.2172
050063 | 1.3269 | 1.1686 | 32.0515 | 33.3039 | 34.0906 | 33.1167
050065 | 1.8250 | 1.1525 | 33.8223 | 34.0280 | 34.9110 | 34.2663
050067 | 1.1481 | 1.1735 | 29.6982 | 31.9597 | 38.8070 | 33.9918
050069 | 1.6715 | 1.1525 | 28.6752 | 31.2172 | 34.6353 | 31.5321
050070 | 1.2884 | 1.5419 | 40.5645 | 45.3382 | 47.4099 | 44.7713
050071 | 1.2950 | 1.5617 | 41.1036 | 44.9464 | 50.7602 | 46.0847
050072 | 1.2895 | 1.5617 | 40.8108 | 44.2651 | 49.4344 | 45.2871
050073 | 1.2440 | 1.5617 | 41.3430 | 45.9765 | 49.9730 | 46.2034
050075 | 1.1895 | 1.5617 | 43.7101 | 47.2356 | 54.4089 | 49.0009
050076 | 1.7287 | 1.5617 | 43.0845 | 46.4990 | 52.3788 | 47.8548
050077 | 1.5565 | 1.1202 | 29.6264 | 32.0245 | 34.8660 | 32.3083
050078 | 1.2226 | 1.1686 | 25.6814 | 31.1425 | 32.0133 | 29.3832
050079 | 1.4970 | 1.5617 | 42.7385 | 47.8597 | 47.3448 | 46.0427
050082 | 1.6400 | 1.1439 | 28.9139 | 37.7783 | 38.2878 | 35.2197
050084 | 1.5674 | 1.2029 | 28.2664 | 33.0179 | 35.5196 | 32.1347
050088 | *** | * | 26.4093 | 25.7385 | * | 26.0862
050089 | 1.3319 | 1.1525 | 29.4884 | 33.5323 | 33.9593 | 32.4106
050090 | 1.2881 | 1.5260 | 31.1774 | 32.9584 | 33.8953 | 32.6836
050091 | 1.1230 | 1.1686 | 30.1534 | 30.8560 | 32.1301 | 31.0759
050093 | 1.5061 | 1.1202 | 31.1083 | 33.4119 | 36.9481 | 33.8765
050096 | 1.2727 | 1.1686 | 24.2277 | 24.6680 | 34.9236 | 28.0644
050097 | *** | * | 26.6788 | * | * | 26.6788
050099 | 1.4964 | 1.1525 | 28.7711 | 31.0437 | 33.4174 | 31.1779
050100 | 1.8441 | 1.1202 | 28.0303 | 29.6949 | 31.4404 | 29.7728
050101 | 1.3366 | 1.5617 | 35.4655 | 40.3195 | 42.4588 | 39.5443
050102 | 1.3128 | 1.1202 | 24.9381 | 29.1364 | 32.0616 | 28.5338
050103 | 1.5647 | 1.1686 | 28.7375 | 34.2529 | 34.0935 | 32.3903
050104 | 1.3779 | 1.1686 | 29.1240 | 29.7326 | 32.3043 | 30.4154
050107 | 1.4629 | 1.1202 | 27.6002 | 33.1358 | 32.5846 | 31.0605
050108 | 1.9357 | 1.2986 | 31.4271 | 35.5711 | 38.8672 | 35.5484
050110 | 1.2698 | 1.1202 | 20.0769 | 26.1453 | 26.8408 | 24.0659
050111 | 1.3184 | 1.1686 | 26.6345 | 28.1588 | 28.7875 | 27.9310
050112 | 1.5285 | 1.1686 | 34.0258 | 36.8026 | 37.7281 | 36.2500
050113 | 1.3113 | 1.5419 | 34.2851 | 33.8064 | 39.4882 | 35.9070
050114 | 1.4274 | 1.1686 | 29.2858 | 31.1294 | 34.0309 | 31.5876
050115 | 1.4751 | 1.1202 | 27.5207 | 30.9288 | 28.8051 | 29.0865
050116 | 1.6889 | 1.1686 | 28.8193 | 34.5110 | 36.8825 | 33.4540
050117 | 2.3561 | 1.1873 | 28.2227 | 32.4414 | 34.2020 | 31.0046
050118 | 1.1820 | 1.2029 | 33.0650 | 35.4044 | 39.9682 | 36.1405
050121 | 1.2703 | 1.1202 | 25.5962 | 27.9537 | 30.6105 | 28.1711
050122 | 1.5505 | 1.2029 | 29.7629 | 34.2416 | 33.9812 | 32.7589
050124 | 1.2995 | 1.1686 | 26.7065 | 28.0288 | 30.2522 | 28.3801
050125 | 1.3913 | 1.5324 | 40.9218 | 41.7020 | 44.9523 | 42.5088
050126 | 1.4154 | 1.1686 | 29.6203 | 29.3360 | 31.7619 | 30.2508
050127 | 1.3262 | 1.2986 | 23.6208 | 26.1222 | 32.0355 | 26.5981
050128 | 1.5338 | 1.1202 | 28.3278 | 31.0662 | 31.1308 | 30.2212
050129 | 1.7927 | 1.1525 | 27.8488 | 32.2680 | 34.7359 | 31.8447
050131 | 1.3098 | 1.5419 | 38.6834 | 40.5321 | 45.3152 | 41.4420
050132 | 1.3859 | 1.1686 | 29.4317 | 35.1544 | 35.9199 | 33.5661
050133 | 1.4906 | 1.1372 | 27.6030 | 31.3530 | 31.9527 | 30.3390
050135 | 1.0146 | 1.1686 | 24.9415 | 24.3927 | 25.1813 | 24.9002
050136 | 1.2800 | 1.5260 | 35.2834 | 37.4560 | 43.3747 | 38.6810
050137 | 1.3472 | 1.1686 | 36.5409 | 38.4827 | 39.1496 | 38.1206
050138 | 2.1425 | 1.1686 | 43.8671 | 46.9557 | 45.3728 | 45.4025
050139 | 1.3186 | 1.1686 | 35.1013 | 37.6217 | 37.8986 | 36.8930
050140 | 1.3895 | 1.1525 | 37.5473 | 39.6269 | 40.9725 | 39.4753
050144 | 1.3908 | 1.1686 | 32.4042 | 33.5109 | 33.6662 | 33.2263
050145 | 1.3605 | 1.4220 | 39.5676 | 42.3134 | 42.2921 | 41.4134
050148 | 1.0941 | 1.1202 | 24.7063 | 27.3005 | 28.2305 | 26.7960
050149 | 1.4779 | 1.1686 | 30.1596 | 33.2270 | 35.8821 | 33.4099
050150 | 1.2279 | 1.2986 | 31.5333 | 31.7560 | 33.6583 | 32.3465
050152 | 1.4758 | 1.5445 | 40.3464 | 43.6487 | 46.1553 | 43.4147
050153 | 1.5471 | 1.5324 | 40.4446 | 43.3190 | 42.8955 | 42.2727
050155 | *** | * | 21.8829 | 21.8550 | 16.9516 | 19.9648
050158 | 1.3036 | 1.1686 | 33.6400 | 35.1326 | 35.7805 | 34.9098
050159 | 1.2083 | 1.1439 | 30.8069 | 31.3199 | 32.5704 | 31.6137
050167 | 1.2947 | 1.2029 | 25.9850 | 28.5179 | 31.4798 | 28.6280
050168 | 1.6535 | 1.1525 | 30.8036 | 33.2506 | 37.9784 | 34.1091
050169 | 1.4280 | 1.1686 | 26.2864 | 27.4644 | 29.4693 | 27.8379
050172 | 1.2615 | * | 27.1497 | 28.5604 | * | 27.8554
050173 | 1.2388 | 1.1525 | 27.6097 | 30.3582 | 29.0576 | 28.9733
050174 | 1.6319 | 1.5260 | 36.3117 | 40.1747 | 44.4199 | 40.3075
050175 | 1.2512 | 1.1686 | 31.5615 | 30.5733 | 33.3061 | 31.8069
050177 | *** | * | 24.7531 | 25.1442 | 24.0717 | 24.6630
050179 | 1.2169 | 1.1735 | 25.8072 | 27.1155 | 30.4973 | 28.0977
050180 | 1.5858 | 1.5617 | 40.8101 | 40.2504 | 42.0358 | 41.0704
050188 | 1.4240 | 1.5324 | 39.3507 | 39.5110 | 41.0943 | 39.9979
050189 | 1.0412 | 1.4220 | 20.0709 | 29.1280 | 30.1155 | 26.4779
050191 | 1.5121 | 1.1686 | * | 34.2091 | 37.7805 | 35.9193
050192 | 1.0053 | 1.1202 | 21.2448 | 27.0424 | 27.1401 | 25.1605
050193 | 1.2486 | 1.1525 | 30.7341 | 29.6421 | 33.9520 | 31.4458
050194 | 1.3581 | 1.5108 | 38.6750 | 40.9096 | 44.7107 | 41.4882
050195 | 1.5046 | 1.5617 | 43.9696 | 48.4358 | 48.8595 | 47.1589
050196 | 1.0903 | 1.1202 | 25.2168 | 32.1933 | 34.0955 | 30.7710
050197 | 2.0246 | 1.5617 | 40.8832 | 48.9052 | 50.0728 | 46.5930
050204 | 1.4506 | 1.1686 | 25.2512 | 28.6423 | 32.0121 | 28.5691
050205 | 1.4300 | 1.1686 | 28.0504 | 27.8611 | 29.3334 | 28.4470
050207 | 1.2588 | 1.1202 | 27.0216 | 29.5215 | 30.0062 | 28.8170
050211 | 1.2854 | 1.5617 | 38.3319 | 41.2166 | 35.0514 | 38.0606
050214 | *** | * | 24.4785 | 23.9972 | 25.4647 | 24.6387
050215 | 1.8352 | 1.5324 | 41.6886 | 43.7985 | 48.8112 | 44.7172
050217 | 1.2206 | * | 23.6286 | * | * | 23.6286
050219 | 1.2040 | 1.1686 | 22.9226 | 22.4065 | 26.4143 | 23.9545
050222 | 1.6335 | 1.1202 | 26.3882 | 29.1094 | 32.3882 | 29.4132
050224 | 1.6696 | 1.1525 | 26.7916 | 29.3143 | 32.5010 | 29.5025
050225 | 1.4619 | 1.1202 | 29.5184 | 29.9656 | 34.0836 | 31.3086
050226 | 1.5853 | 1.1525 | 29.2259 | 30.5867 | 32.4411 | 30.8007
050228 | 1.3602 | 1.5617 | 40.1362 | 42.4226 | 43.7939 | 42.1033
050230 | 1.4633 | 1.1525 | 34.1417 | 32.9555 | 34.0600 | 33.7136
050231 | 1.6358 | 1.1686 | 30.1298 | 30.9607 | 32.1813 | 31.1097
050232 | 1.6119 | 1.1305 | 24.4383 | 27.4099 | 26.3004 | 26.0053
050234 | 1.2193 | 1.1202 | 29.2421 | 29.6560 | 32.3725 | 30.4116
050235 | 1.5333 | 1.1686 | 27.8965 | 29.2979 | 30.5405 | 29.2413
050236 | 1.4058 | 1.1439 | 28.1969 | 32.1647 | 33.0686 | 31.1130
050238 | 1.4869 | 1.1686 | 29.1481 | 31.1764 | 33.3346 | 31.3169
050239 | 1.5982 | 1.1686 | 28.2327 | 31.0963 | 33.1148 | 30.8373
050240 | 1.6431 | 1.1686 | 35.2284 | 35.5735 | 36.1154 | 35.6475
050242 | 1.3743 | 1.5108 | 39.7629 | 44.3130 | 46.4844 | 43.6095
050243 | 1.5345 | 1.1202 | 31.8153 | 31.4883 | 32.9385 | 32.1106
050245 | 1.3329 | 1.1525 | 27.0949 | 28.6527 | 27.3866 | 27.7236
050248 | 1.0132 | 1.4220 | 31.6240 | 35.3864 | * | 33.4763
050251 | 1.0297 | 1.1202 | 26.5021 | 27.2675 | 27.8452 | 27.2522
050253 | *** | * | 22.2450 | 24.0044 | 23.5381 | 23.1900
050254 | 1.2450 | 1.2986 | 24.1512 | 27.0041 | 31.2386 | 27.5193
050256 | 1.6386 | 1.1686 | 28.4728 | 29.8194 | 29.6793 | 29.3205
050257 | 0.9830 | 1.1202 | 20.8367 | 21.3216 | 20.1830 | 20.7129
050261 | 1.3082 | 1.1202 | 25.3005 | 27.3234 | 29.2150 | 27.4408
050262 | 2.0811 | 1.1686 | 36.1162 | 44.0256 | 39.9946 | 40.0775
050264 | 1.3604 | 1.5617 | 41.3478 | 41.1211 | 47.7024 | 43.4930
050267 | *** | * | 26.7060 | * | * | 26.7060
050270 | 0.8638 | 1.1202 | 30.0540 | 32.4812 | 33.6855 | 32.1141
050272 | 1.3489 | 1.1525 | 25.9103 | 27.1989 | 29.4671 | 27.5457
050276 | 1.2459 | 1.5617 | 41.2251 | 39.3778 | 41.1406 | 40.5997
050277 | 1.0096 | 1.1686 | 35.8246 | 32.5213 | 35.4443 | 34.4246
050278 | 1.5335 | 1.1686 | 28.0351 | 29.9244 | 31.8712 | 30.0483
050279 | 1.1779 | 1.1525 | 25.5299 | 27.6573 | 29.7118 | 27.6742
050280 | 1.6857 | 1.2450 | 30.6723 | 35.2030 | 38.8341 | 34.8751
050281 | 1.4210 | 1.1686 | 26.2623 | 27.3824 | 29.4882 | 27.7172
050283 | 1.4252 | 1.5617 | 38.5600 | 43.0638 | 44.3122 | 42.0650
050286 | *** | * | 19.4973 | * | * | 19.4973
050289 | 1.6373 | 1.5419 | 38.6875 | 41.1774 | 44.2814 | 41.4520
050290 | 1.5790 | 1.1686 | 32.6388 | 34.5482 | 37.3563 | 34.8783
050291 | 1.8385 | 1.5260 | 29.6162 | 35.3653 | 38.4366 | 34.3153
050292 | 1.0979 | 1.1202 | 27.0775 | 26.8879 | 26.9786 | 26.9804
050295 | 1.4627 | 1.1202 | 31.5960 | 36.1950 | 34.7383 | 34.3567
050296 | 1.1644 | 1.5324 | 34.9952 | 39.0061 | 39.9842 | 38.1164
050298 | 1.1633 | 1.1525 | 25.8232 | 27.7416 | 30.2022 | 27.9356
050299 | 1.3599 | 1.1686 | 27.7535 | 31.5435 | 35.1249 | 31.6510
050300 | 1.4916 | 1.1525 | 28.3862 | 30.7148 | 30.2874 | 29.8366
050301 | 1.3253 | 1.1202 | 28.5769 | 31.9995 | 35.9490 | 32.3183
050305 | 1.4147 | 1.5617 | 40.9978 | 44.8630 | 44.9681 | 43.6141
050308 | 1.4700 | 1.5324 | 38.0564 | 43.0691 | 43.7413 | 41.6020
050309 | 1.4129 | 1.2986 | 28.9181 | 34.4145 | 38.2659 | 34.1832
050312 | *** | * | 32.6846 | 33.9022 | 36.8498 | 34.2537
050313 | 1.2209 | 1.2029 | 27.5321 | 31.8003 | 35.0479 | 31.7666
050315 | 1.3325 | 1.1202 | 26.1224 | 28.5933 | 33.2038 | 29.4498
050320 | 1.2498 | 1.5617 | 36.3252 | 40.2352 | 45.7686 | 40.6332
050324 | 1.8676 | 1.1202 | 30.9958 | 32.9792 | 34.5503 | 32.9848
050325 | 1.1370 | 1.1378 | 30.2280 | 30.6117 | 31.3730 | 30.7522
050327 | 1.7458 | 1.1525 | 29.8327 | 33.0087 | 33.9507 | 32.3300
050329 | 1.2527 | 1.1202 | 26.8021 | 26.2120 | 23.2927 | 25.4012
050331 | 1.2280 | * | 20.9847 | 20.2692 | * | 20.6171
050333 | 1.1134 | 1.1202 | 15.3119 | 23.4009 | 19.6352 | 18.9052
050334 | 1.6668 | 1.4220 | 38.7635 | 40.7467 | 43.9656 | 41.1996
050335 | 1.4584 | 1.1378 | 27.4046 | 28.9403 | 30.9928 | 29.1535
050336 | 1.2343 | 1.2029 | 25.3062 | 28.5659 | 30.4664 | 28.2054
050342 | 1.2359 | 1.1202 | 24.7654 | 26.8507 | 29.2244 | 27.0322
050348 | 1.6978 | 1.1525 | 33.2676 | 37.7898 | 31.5156 | 34.1296
050349 | 0.9599 | 1.1202 | 16.9251 | 17.4791 | 24.4864 | 19.6872
050350 | 1.3676 | 1.1686 | 29.4262 | 31.1833 | 31.0136 | 30.5845
050351 | 1.5247 | 1.1686 | 29.3082 | 30.8661 | 30.6599 | 30.2977
050352 | 1.3521 | 1.2986 | 24.2931 | 33.9362 | 36.7673 | 31.5149
050353 | 1.5321 | 1.1686 | 26.6332 | 31.8291 | 29.4215 | 29.2166
050355 | *** | * | 11.2498 | * | * | 11.2498
050357 | 1.4364 | 1.1202 | 26.7265 | 32.3095 | 32.6763 | 30.1138
050359 | 1.2192 | 1.1202 | 23.6030 | 25.7739 | 29.8345 | 26.4944
050360 | 1.5305 | 1.5419 | 38.8658 | 37.0769 | 47.4497 | 41.1219
050366 | 1.2087 | 1.1202 | 25.7692 | 31.1854 | 33.6715 | 30.0643
050367 | 1.4254 | 1.5617 | 34.4959 | 38.7727 | 38.6329 | 37.5738
050369 | 1.4148 | 1.1686 | 27.1327 | 29.5697 | 30.6439 | 29.1392
050373 | 1.3742 | 1.1686 | 32.2315 | 31.9271 | 35.1380 | 33.1243
050376 | 1.5441 | 1.1686 | 30.7562 | 32.9393 | 34.3539 | 32.7049
050377 | *** | * | 20.2484 | * | * | 20.2484
050378 | 0.9844 | 1.1686 | 33.9087 | 34.2417 | 37.9904 | 35.4690
050379 | *** | * | 31.7645 | 32.9575 | * | 32.3515
050380 | 1.6100 | 1.5324 | 39.1098 | 42.0782 | 46.0276 | 42.2717
050382 | 1.3879 | 1.1686 | 26.0927 | 29.4323 | 30.4014 | 28.6935
050385 | 1.3152 | 1.5260 | 25.5735 | 34.5184 | 36.8107 | 32.2632
050390 | 1.1621 | 1.1202 | 28.7761 | 26.0066 | 27.3183 | 27.2656
050391 | *** | * | 21.3012 | 18.1004 | 17.2141 | 18.6587
050392 | 1.2020 | * | 22.7209 | * | * | 22.7209
050393 | 1.4296 | 1.1686 | 28.2369 | 30.0661 | 34.1743 | 30.7057
050394 | 1.5878 | 1.1439 | 26.0074 | 27.5061 | 27.4861 | 27.0365
050396 | 1.5934 | 1.1202 | 30.5470 | 33.5699 | 32.4918 | 32.2135
050397 | 0.8803 | 1.1202 | 27.4716 | 28.1640 | 28.3671 | 28.0135
050407 | 1.1762 | 1.5445 | 35.6035 | 37.9066 | 42.2749 | 38.7172
050410 | *** | * | 19.4995 | 21.3814 | * | 20.4290
050411 | 1.5452 | 1.1686 | 37.3817 | 37.8064 | 38.8294 | 38.0498
050414 | 1.2911 | 1.2986 | 28.8561 | 34.6672 | 38.7585 | 34.0180
050417 | 1.2514 | 1.1202 | 25.2930 | 29.5031 | 32.9341 | 29.2963
050419 | 1.3320 | * | 28.4471 | 33.3125 | * | 30.8677
050420 | 1.1777 | 1.1686 | 26.1838 | 24.9401 | 35.2869 | 28.4351
050423 | 0.9632 | 1.1202 | 28.5944 | 30.6416 | 28.3768 | 29.2408
050424 | 2.0029 | 1.1202 | 29.9133 | 31.0730 | 34.5680 | 31.9323
050425 | 1.3412 | 1.2986 | 38.5317 | 42.4177 | 49.2245 | 43.9305
050426 | 1.3733 | 1.1525 | 30.0077 | 30.6899 | 33.2030 | 31.2980
050430 | 0.9590 | 1.1713 | 24.6684 | 25.0607 | 23.9045 | 24.4689
050432 | 1.6418 | 1.1686 | 30.3547 | 30.8030 | 33.1876 | 31.4607
050433 | 0.9337 | 1.1202 | 20.7565 | 23.0806 | 21.3574 | 21.7258
050434 | 1.1058 | 1.1202 | 25.9506 | 26.1621 | 32.6256 | 28.5792
050435 | 1.1466 | 1.1202 | 32.2183 | 28.0306 | 30.6531 | 30.1967
050438 | 1.5700 | 1.1686 | 26.4668 | 27.2662 | 36.3026 | 30.1499
050441 | 1.9822 | 1.5324 | 38.2823 | 42.9765 | 44.5694 | 41.9504
050444 | 1.3300 | 1.1873 | 27.6971 | 30.5504 | 34.6313 | 31.2077
050447 | 0.9591 | 1.1202 | 21.8552 | 25.2573 | 26.7960 | 24.7104
050448 | 1.2706 | 1.1202 | 25.0983 | 27.9759 | 30.6201 | 27.9782
050454 | 1.8552 | 1.5445 | 36.8383 | 43.5311 | 38.5833 | 39.6847
050455 | 1.5956 | 1.1202 | 24.5314 | 22.7235 | 30.4606 | 25.8673
050456 | 1.1261 | 1.1686 | 22.1675 | 22.5630 | 21.6261 | 21.9834
050457 | 1.6077 | 1.5445 | 40.2725 | 45.5829 | 47.8947 | 44.5967
050464 | 1.6823 | 1.1735 | 37.1342 | 37.3692 | 38.3058 | 37.5977
050468 | 1.5043 | 1.1686 | 29.4280 | 29.5448 | 31.1111 | 30.0666
050469 | 1.1467 | 1.1202 | 27.3281 | 28.9079 | 30.6502 | 28.9560
050470 | 1.0615 | 1.1202 | 18.4689 | 24.6755 | 27.8678 | 24.0395
050471 | 1.7553 | 1.1686 | 34.5484 | 34.5211 | 35.4768 | 34.8480
050476 | 1.4352 | 1.1459 | 30.9974 | 34.6585 | 38.7856 | 34.6344
050477 | 1.3492 | 1.1686 | 34.6400 | 34.6995 | 37.7668 | 35.7856
050478 | 1.0004 | 1.1202 | 30.9865 | 33.3998 | 40.2556 | 34.9669
050481 | 1.4204 | 1.1686 | 31.9177 | 33.7446 | 36.1394 | 33.9350
050485 | 1.6266 | 1.1686 | 28.8459 | 31.4233 | 36.1488 | 32.1490
050488 | 1.3296 | 1.5617 | 40.5313 | 42.9904 | 42.6854 | 42.1042
050491 | *** | * | 30.6461 | 32.1379 | 34.3597 | 32.1132
050492 | 1.5153 | 1.1202 | 27.4933 | 27.1540 | 28.0826 | 27.5900
050494 | 1.4200 | 1.2817 | 35.1457 | 35.9909 | 38.1177 | 36.4266
050496 | 1.7749 | 1.5617 | 38.2871 | 42.2672 | 48.2467 | 43.0259
050497 | *** | * | 15.9501 | * | * | 15.9501
050498 | 1.3332 | 1.2986 | 28.2667 | 33.0298 | 37.1667 | 32.9092
050502 | 1.7123 | 1.1686 | 28.7200 | 29.5615 | 28.7046 | 29.0024
050503 | 1.4525 | 1.1202 | 29.2001 | 31.6418 | 34.0994 | 31.7841
050506 | 1.6735 | 1.1305 | 32.4509 | 36.0164 | 37.7420 | 35.5222
050510 | 1.2151 | 1.5617 | 44.3883 | 47.5510 | 52.5376 | 48.6080
050512 | 1.3525 | 1.5617 | 41.8921 | 46.9233 | 50.9264 | 47.2122
050515 | 1.3793 | 1.1202 | 37.4251 | 38.9978 | 38.9543 | 38.4957
050516 | 1.4811 | 1.2986 | 29.4936 | 36.2772 | 39.8161 | 35.0756
050517 | 1.2133 | 1.1525 | 23.6034 | 23.9007 | 20.0213 | 22.2544
050523 | 1.3275 | 1.5617 | 34.7491 | 35.5452 | 40.6535 | 36.9799
050526 | 1.2474 | 1.1525 | 29.9495 | 31.3744 | 28.1997 | 29.7074
050528 | 1.1660 | 1.1202 | 28.6273 | 29.6838 | 31.4941 | 30.0548
050531 | 1.0315 | 1.1686 | 25.0157 | 26.9420 | 27.1974 | 26.4070
050534 | 1.4460 | 1.1202 | 29.7546 | 29.8603 | 33.1666 | 30.9274
050535 | 1.4912 | 1.1525 | 32.3646 | 32.3723 | 34.6143 | 33.2035
050537 | 1.4619 | 1.2986 | 27.4196 | 31.3844 | 34.9931 | 31.3766
050539 | 1.2494 | * | 28.0586 | 29.8242 | * | 29.0033
050541 | 1.5030 | 1.5617 | 43.7765 | 46.1121 | 52.5908 | 47.7289
050543 | 0.7329 | 1.1525 | 25.7161 | 26.1103 | 29.4443 | 27.0500
050545 | 0.7250 | 1.1686 | 42.9451 | 30.5554 | 31.3079 | 35.1359
050546 | 0.7178 | 1.1202 | 52.7180 | 30.2329 | 33.2245 | 38.3907
050547 | 0.9892 | 1.5260 | 45.1842 | 33.2205 | 34.8400 | 38.0953
050548 | 0.7079 | 1.1525 | 37.1314 | 30.3775 | 39.2233 | 35.6910
050549 | 1.5798 | 1.2818 | 33.8288 | 34.9818 | 35.2792 | 34.7104
050550 | 1.3091 | 1.1525 | 31.1918 | 30.2302 | 30.9612 | 30.7860
050551 | 1.3252 | 1.1525 | 31.6782 | 31.6165 | 34.0467 | 32.4689
050552 | 1.0915 | 1.1686 | 26.8274 | 27.1744 | 33.0711 | 29.0925
050557 | 1.5384 | 1.1735 | 28.3111 | 31.8048 | 33.3654 | 31.3154
050559 | *** | * | 26.9662 | * | * | 26.9662
050561 | 1.2834 | 1.1686 | 37.5863 | 38.8651 | 38.0196 | 38.1604
050567 | 1.5530 | 1.1525 | 30.1167 | 32.9829 | 35.7063 | 33.0025
050568 | 1.1784 | 1.1264 | 22.5008 | 24.4061 | 25.2337 | 24.0827
050569 | 1.2251 | 1.4116 | 30.4874 | 33.0259 | 31.6785 | 31.7510
050570 | 1.5461 | 1.1525 | 32.6896 | 34.0171 | 34.5161 | 33.7750
050571 | 1.2096 | 1.1686 | 32.1656 | 33.6156 | 34.7627 | 33.5372
050573 | 1.6877 | 1.1202 | 30.5249 | 34.1991 | 34.7279 | 33.1788
050575 | 1.1689 | 1.1686 | 23.2447 | 25.2513 | 25.1457 | 24.6365
050577 | *** | * | 28.7060 | 30.8841 | 32.3744 | 30.7024
050578 | 1.4763 | 1.1686 | 31.5953 | 33.8825 | 35.2390 | 33.5020
050579 | *** | * | 40.2740 | 39.4976 | 42.5081 | 40.6599
050580 | 1.2604 | 1.1525 | 29.4337 | 31.6256 | 31.5806 | 30.8643
050581 | 1.4067 | 1.1686 | 32.0823 | 32.1801 | 34.0136 | 32.7981
050583 | 1.6855 | 1.1202 | 33.5209 | 33.3697 | 34.5747 | 33.8027
050584 | 1.4318 | 1.1525 | 24.5757 | 24.8180 | 30.3434 | 26.6143
050585 | 1.2170 | 1.1525 | 27.2982 | 22.7121 | 22.2521 | 23.7456
050586 | 1.2743 | 1.1525 | 25.3551 | 27.4173 | 26.4782 | 26.3460
050588 | 1.2716 | 1.1686 | 32.3603 | 32.8212 | 32.7556 | 32.6569
050589 | 1.2035 | 1.1525 | 30.6273 | 30.9547 | 34.5100 | 32.0611
050590 | 1.3728 | 1.2986 | 31.5987 | 32.2142 | 38.4971 | 34.2056
050591 | 1.1708 | 1.1686 | 28.5915 | 28.8549 | 30.6106 | 29.3830
050592 | 1.1327 | 1.1525 | 32.5000 | 24.4542 | 27.3606 | 27.8692
050594 | 1.9222 | 1.1525 | 34.6747 | 34.7946 | 36.5256 | 35.3266
050597 | 1.2186 | 1.1686 | 25.4868 | 27.5691 | 28.8295 | 27.3013
050599 | 1.8973 | 1.2986 | 30.8420 | 38.1975 | 32.7835 | 33.9374
050601 | 1.5102 | 1.1686 | 35.0325 | 34.7409 | 36.0572 | 35.2836
050603 | 1.3782 | 1.1525 | 28.6982 | 30.2464 | 34.0275 | 31.1144
050604 | 1.3849 | 1.5324 | 45.4433 | 49.9429 | 55.0821 | 50.5390
050608 | 1.3380 | 1.1202 | 22.1999 | 23.3630 | 30.4169 | 25.2399
050609 | 1.3781 | 1.1525 | 38.4561 | 41.1797 | 41.7208 | 40.5323
050613 | 1.0078 | 1.5419 | * | * | 42.8105 | 42.8105
050615 | 1.0963 | 1.1686 | 32.8786 | 33.2909 | 35.9547 | 34.0424
050616 | 1.3821 | 1.1439 | 28.5636 | 36.9017 | 37.7284 | 34.6404
050618 | 0.9782 | 1.1202 | 25.4500 | 27.4539 | 31.3183 | 28.1589
050623 | *** | * | 29.6550 | 32.0627 | * | 30.7447
050624 | 1.2715 | 1.1686 | 28.1941 | 32.2907 | 33.9594 | 31.5331
050625 | 1.7561 | 1.1686 | 33.5137 | 36.3631 | 38.6591 | 36.2037
050630 | *** | * | 28.0726 | 30.9410 | * | 29.5481
050633 | 1.2263 | 1.1305 | 33.4771 | 35.3734 | 36.8303 | 35.2594
050636 | 1.3118 | 1.1202 | 27.2360 | 30.5156 | 32.5576 | 30.1670
050641 | 1.1720 | 1.1686 | 20.4720 | 21.4612 | 39.6921 | 25.1547
050644 | 0.9033 | 1.1686 | 25.6614 | 27.6547 | 28.8237 | 27.4079
050662 | 0.8777 | 1.5324 | 47.5065 | 32.6362 | 33.2447 | 38.3228
050663 | 1.1413 | 1.1686 | 25.1493 | 25.7747 | 27.7334 | 26.1922
050667 | 0.8949 | 1.4095 | 25.9250 | 26.3937 | 24.2771 | 25.5661
050668 | 1.0956 | 1.5445 | * | 31.8065 | 56.6555 | 40.5623
050674 | 1.2957 | 1.2986 | 38.4454 | 42.6866 | 48.0894 | 43.5231
050677 | 1.4891 | 1.1686 | 37.3389 | 38.7984 | 38.5770 | 38.2896
050678 | 1.3229 | 1.1525 | 29.1159 | 30.7220 | 32.4473 | 30.8749
050680 | 1.2209 | 1.5617 | 35.6614 | 38.3946 | 38.2871 | 37.6296
050681 | 1.7997 | 1.1686 | * | * | * | *
050682 | 0.9902 | 1.1202 | 21.7264 | 21.7791 | 17.9077 | 20.1030
050684 | 1.1436 | 1.1202 | 25.2575 | 26.4234 | 27.5256 | 26.4105
050686 | 1.2893 | 1.1202 | 38.5595 | 40.9486 | 41.0188 | 40.2696
050688 | 1.2391 | 1.5324 | 41.3305 | 41.9325 | 44.1511 | 42.5500
050689 | 1.4993 | 1.5617 | 40.3815 | 42.2018 | 45.0951 | 42.6213
050690 | 1.2757 | 1.5260 | 43.9228 | 47.2769 | 50.9094 | 47.7953
050693 | 1.3127 | 1.1525 | 34.8040 | 35.0621 | 34.5798 | 34.8155
050694 | 1.0811 | 1.1202 | 26.7041 | 28.9544 | 30.7858 | 28.8478
050695 | 1.0919 | 1.2029 | 30.1226 | 35.6549 | 39.6004 | 35.5145
050696 | 2.1349 | 1.1686 | 36.9314 | 35.9220 | 37.3837 | 36.7347
050697 | 1.0815 | 1.2450 | 19.2603 | 25.1984 | 16.6605 | 19.8559
050698 | 1.0543 | 1.1202 | * | * | * | *
050699 | *** | * | 25.6818 | 26.8210 | 28.9082 | 27.1586
050701 | 1.3401 | 1.1202 | 29.6896 | 29.6253 | 31.9529 | 30.7478
050704 | 1.0476 | 1.1686 | 24.6609 | 25.3488 | 29.7740 | 26.8344
050707 | 1.1988 | 1.5419 | 32.4877 | 34.0550 | 35.7311 | 34.0717
050708 | 1.6962 | 1.1202 | 21.2163 | 22.5034 | 30.5860 | 24.5174
050709 | 1.4049 | 1.1525 | 21.9079 | 25.6119 | 26.8549 | 24.7524
050710 | 1.3641 | 1.1202 | 34.8311 | 39.9858 | 45.8021 | 40.7733
050713 | *** | * | 20.7448 | 20.2803 | 21.1273 | 20.6573
050714 | 1.3795 | 1.5108 | 32.4491 | 33.6676 | 31.9527 | 32.6539
050717 | 1.6681 | 1.1686 | 34.5519 | 38.0796 | 39.3227 | 37.1972
050718 | 1.1405 | 1.1202 | 15.4037 | 21.4996 | 25.5140 | 20.3162
050720 | 0.9434 | 1.1525 | 24.8117 | 30.0812 | 29.4726 | 28.3760
050722 | 0.9491 | 1.1202 | * | * | 31.4867 | 31.4867
050723 | 1.2769 | 1.1686 | 34.9814 | 35.0119 | 38.5446 | 36.2599
050724 | 1.9863 | 1.1202 | * | 34.4267 | 31.6910 | 32.9742
050725 | 0.9894 | 1.1686 | 22.0946 | 21.7816 | 24.3100 | 22.6726
050726 | 1.5734 | 1.1735 | 27.0928 | 27.8433 | 30.6479 | 28.7808
050727 | 1.3048 | 1.1686 | 23.7179 | 24.3026 | 33.9118 | 27.6309
050728 | 1.3608 | 1.5260 | 31.4768 | 36.0820 | 39.3581 | 35.2411
050729 | 1.4064 | 1.1686 | * | 34.2580 | 36.5432 | 35.4092
050730 | 1.1559 | 1.1686 | * | 51.5425 | 37.0629 | 43.8573
050732 | 2.4544 | 1.1202 | * | * | * | *
050733 | 1.5502 | 1.2450 | * | * | * | *
050735 | 1.4627 | 1.1686 | * | * | * | *
050736 | 1.2134 | 1.1686 | * | * | * | *
050737 | 1.4924 | 1.1686 | * | * | * | *
050738 | 1.3628 | 1.1686 | * | * | * | *
050739 | 1.6628 | 1.1686 | * | * | * | *
050740 | 1.2672 | 1.1686 | * | * | * | *
050741 | 1.4585 | 1.1686 | * | * | * | *
050742 | 1.4555 | 1.1686 | * | * | * | *
050743 | 1.1726 | 1.1686 | * | * | * | *
050744 | 2.0256 | 1.1379 | * | * | * | *
050745 | 1.2873 | 1.1379 | * | * | * | *
050746 | 1.7748 | 1.1379 | * | * | * | *
050747 | 1.3755 | 1.1379 | * | * | * | *
050749 | 1.2621 | 1.1439 | * | * | * | *
050750 | 2.3783 | 1.1735 | * | * | * | *
050751 | 1.9927 | 1.1686 | * | * | * | *
050752 | 1.3824 | 1.1686 | * | * | * | *
060001 | 1.5405 | 1.0555 | 24.9410 | 26.8470 | 29.6191 | 27.1542
060003 | 1.4532 | 1.0555 | 24.7856 | 24.2224 | 29.4809 | 26.1917
060004 | 1.3034 | 1.0719 | 28.0656 | 29.9649 | 32.4609 | 30.2066
060006 | 1.4080 | 0.9091 | 22.7493 | 24.5704 | 25.2139 | 24.1949
060007 | *** | * | 21.4792 | * | * | 21.4792
060008 | 1.2490 | 0.9091 | 21.8037 | 23.3859 | 23.0947 | 22.7895
060009 | 1.4538 | 1.0719 | 27.0511 | 28.7645 | 31.5210 | 29.1966
060010 | 1.7117 | 0.9386 | 27.2290 | 28.9850 | 27.1916 | 27.7894
060011 | 1.5312 | 1.0719 | 26.1958 | 27.2833 | 35.1573 | 29.4531
060012 | 1.4921 | 0.9091 | 24.1557 | 26.2469 | 27.3885 | 25.9174
060013 | 1.4258 | 0.9091 | 24.9708 | 24.5994 | 26.8676 | 25.4904
060014 | 1.8045 | 1.0719 | 29.6744 | 31.2588 | 31.0542 | 30.6493
060015 | 1.6893 | 1.0719 | 30.1158 | 30.4533 | 32.5285 | 30.9302
060016 | 1.2537 | 0.9091 | 23.9655 | 25.6527 | 26.5428 | 25.4113
060018 | 1.2920 | 0.9091 | 23.6620 | 25.7628 | 24.1086 | 24.5180
060020 | 1.5924 | 0.9091 | 22.2052 | 22.6748 | 24.5992 | 23.1908
060022 | 1.6182 | 0.9475 | 25.7832 | 26.5238 | 28.2944 | 26.8827
060023 | 1.7037 | 1.0555 | 26.7285 | 27.7644 | 29.5760 | 28.0282
060024 | 1.8007 | 1.0719 | 28.7231 | 29.0130 | 30.0279 | 29.2786
060027 | 1.5713 | 1.0555 | 26.6348 | 28.0909 | 29.6121 | 28.2088
060028 | 1.4292 | 1.0719 | 27.9686 | 30.0448 | 31.6900 | 29.9400
060030 | 1.3866 | 0.9386 | 26.0011 | 26.6251 | 27.8642 | 26.8679
060031 | 1.5479 | 0.9475 | 25.6207 | 26.3650 | 27.8345 | 26.6058
060032 | 1.5218 | 1.0719 | 28.2234 | 30.4247 | 31.0686 | 29.8864
060034 | 1.6709 | 1.0719 | 28.4604 | 29.8445 | 30.9359 | 29.7630
060036 | 1.1556 | 0.9091 | 20.4635 | 20.7131 | 20.3226 | 20.5024
060041 | 0.9159 | 0.9091 | 22.7123 | 23.4978 | 24.6142 | 23.6373
060043 | 1.0578 | 0.9091 | 20.0939 | 18.7896 | 18.2142 | 19.0158
060044 | 1.1647 | 1.0555 | 25.2471 | 25.0360 | 26.5611 | 25.6008
060049 | 1.3863 | 0.9233 | 26.8089 | 29.0598 | 29.3724 | 28.4549
060050 | *** | * | 21.9108 | * | * | 21.9108
060054 | 1.4653 | 0.9767 | 23.5803 | 22.3490 | 24.3389 | 23.4176
060057 | *** | * | 26.9891 | * | * | 26.9891
060064 | 1.6763 | 1.0719 | 30.0963 | 31.3105 | 32.3681 | 31.2601
060065 | 1.3928 | 1.0719 | 28.5282 | 31.1987 | 32.4735 | 30.6917
060071 | 1.1611 | 0.9091 | 20.2706 | 25.7248 | 27.6658 | 24.7362
060075 | 1.2848 | 1.0378 | 30.7835 | 32.7563 | 32.2545 | 31.9445
060076 | 1.2450 | 0.9091 | 25.5406 | 26.8236 | 26.5631 | 26.3246
060096 | 1.5427 | 1.0555 | 27.4085 | 30.0602 | 32.1310 | 29.8666
060100 | 1.7198 | 1.0719 | 29.7690 | 32.1537 | 32.6104 | 31.5134
060103 | 1.3046 | 1.0555 | 28.8063 | 30.3002 | 31.6314 | 30.2903
060104 | 1.3928 | 1.0719 | 30.8625 | 32.0889 | 32.4232 | 31.7749
060107 | 1.4001 | 1.0719 | 26.8267 | 26.1883 | 26.8388 | 26.6135
060111 | *** | * | 31.2571 | * | * | 31.2571
060112 | 1.6920 | 1.0719 | * | * | 34.9272 | 34.9272
060113 | 1.2801 | 1.0719 | * | * | * | *
060114 | 1.2895 | 1.0719 | * | * | * | *
060115 | 0.8229 | 0.9091 | * | * | * | *
060116 | 1.2586 | 1.0284 | * | * | * | *
060117 | 1.2771 | 0.9091 | * | * | * | *
070001 | 1.6277 | 1.2851 | 32.2718 | 34.0302 | 35.8958 | 34.0563
070002 | 1.8171 | 1.1988 | 29.0663 | 31.1530 | 33.4398 | 31.2193
070003 | 1.0815 | 1.1988 | 31.3716 | 32.4197 | 34.1352 | 32.6566
070004 | 1.1931 | 1.1988 | 27.3004 | 29.2544 | 29.4448 | 28.6613
070005 | 1.3646 | 1.2851 | 29.3265 | 32.1668 | 33.7813 | 31.8765
070006 | 1.3639 | 1.3124 | 33.9310 | 36.8469 | 37.9148 | 36.2310
070007 | 1.3022 | 1.2031 | 30.3648 | 31.7125 | 35.9617 | 32.7355
070008 | 1.2429 | 1.1988 | 24.9176 | 26.4806 | 28.5506 | 26.6856
070009 | 1.2252 | 1.1988 | 28.8649 | 30.2706 | 32.9299 | 30.7068
070010 | 1.7838 | 1.3124 | 33.1535 | 32.5798 | 35.3730 | 33.7345
070011 | 1.3944 | 1.1988 | 27.5391 | 29.9105 | 31.8987 | 29.7848
070012 | 1.1780 | 1.1988 | 40.3337 | 44.1424 | 29.4216 | 36.6050
070015 | 1.3750 | 1.1988 | 30.9728 | 33.4595 | 35.3385 | 33.3123
070016 | 1.3832 | 1.2851 | 29.6662 | 31.0903 | 31.4930 | 30.7535
070017 | 1.3804 | 1.2851 | 30.3951 | 31.7223 | 34.0490 | 32.0928
070018 | 1.3399 | 1.3124 | 35.7189 | 37.6081 | 39.7515 | 37.8041
070019 | 1.3176 | 1.2851 | 29.6290 | 31.8148 | 34.5125 | 32.0051
070020 | 1.3725 | 1.2061 | 29.9507 | 31.0935 | 33.6453 | 31.5617
070021 | 1.2493 | 1.1997 | 31.4397 | 33.2357 | 36.9241 | 33.8921
070022 | 1.7511 | 1.2851 | 32.3625 | 35.4120 | 39.0462 | 35.6388
070024 | 1.3625 | 1.2031 | 31.0243 | 32.0430 | 35.2323 | 32.7934
070025 | 1.7937 | 1.1988 | 29.2540 | 30.9938 | 32.4085 | 30.9015
070027 | 1.3370 | 1.1988 | 27.3487 | 31.8018 | 29.8513 | 29.7253
070028 | 1.6327 | 1.3124 | 29.5653 | 31.5036 | 35.1966 | 32.1039
070029 | 1.3097 | 1.1988 | 26.3871 | 27.7213 | 30.9299 | 28.3559
070031 | 1.3067 | 1.2851 | 27.2359 | 28.9190 | 30.1915 | 28.8298
070033 | 1.3587 | 1.3124 | 35.5355 | 37.1929 | 40.1594 | 37.7106
070034 | 1.4051 | 1.3124 | 35.6831 | 36.3899 | 38.3965 | 36.8448
070035 | 1.2927 | 1.1988 | 27.1816 | 27.5585 | 30.7440 | 28.4859
070036 | 1.6615 | 1.2536 | 34.0555 | 36.1610 | 38.3413 | 36.2392
070038 | 1.1293 | 1.2399 | 31.1133 | 25.7516 | 25.7914 | 26.4172
070039 | 0.9388 | 1.2851 | 35.0164 | 31.2269 | 36.1368 | 34.0454
080001 | 1.6237 | 1.0633 | 30.2463 | 30.0242 | 32.0105 | 30.7967
080002 | *** | * | 26.4192 | 27.7932 | 29.6800 | 27.9942
080003 | 1.5782 | 1.0633 | 27.1131 | 29.2266 | 30.7697 | 29.0947
080004 | 1.4760 | 1.0570 | 26.0092 | 27.4921 | 30.1094 | 27.9303
080006 | 1.2843 | 1.0009 | 24.4204 | 25.6160 | 27.4749 | 25.8999
080007 | 1.4513 | 1.0336 | 24.6485 | 27.0074 | 30.1100 | 27.3014
090001 | 1.7673 | 1.0977 | 31.3552 | 35.0413 | 36.6577 | 34.3712
090002 | *** | * | 29.6780 | * | * | 29.6780
090003 | 1.2576 | 1.0977 | 27.0514 | 29.2660 | 31.0419 | 29.1969
090004 | 1.9193 | 1.0977 | 29.9785 | 32.2021 | 35.6964 | 32.6312
090005 | 1.3406 | 1.0977 | 30.2504 | 30.7728 | 33.0178 | 31.3326
090006 | 1.4551 | 1.0977 | 25.9086 | 29.5590 | 29.4912 | 28.3058
090007 | *** | * | 30.1419 | * | * | 30.1419
090008 | 1.3936 | 1.0977 | 29.6744 | 29.1059 | 32.0745 | 30.1717
090011 | 2.0633 | 1.0977 | 32.4412 | 34.0693 | 36.7579 | 34.3904
100001 | 1.5464 | 0.9281 | 25.2381 | 24.4060 | 26.4631 | 25.3882
100002 | 1.4095 | 0.9535 | 22.1269 | 25.3389 | 27.2350 | 24.9594
100004 | 0.8950 | * | 16.2637 | 16.5974 | * | 16.4390
100006 | 1.6312 | 0.9575 | 26.2372 | 26.3789 | 29.1505 | 27.2566
100007 | 1.6674 | 0.9575 | 25.4333 | 26.5378 | 28.5702 | 26.9172
100008 | 1.7223 | 0.9821 | 25.7377 | 27.4314 | 29.1705 | 27.5517
100009 | 1.4600 | 0.9821 | 24.4666 | 25.9381 | 27.4424 | 25.9449
100010 | *** | * | 26.9486 | * | * | 26.9486
100012 | 1.6716 | 0.9460 | 24.5762 | 26.3788 | 28.4600 | 26.5368
100014 | 1.3936 | 0.9321 | 22.3054 | 24.5862 | 25.1524 | 24.0248
100015 | 1.3953 | 0.9265 | 22.5781 | 24.6038 | 26.0916 | 24.3631
100017 | 1.6141 | 0.9321 | 22.9545 | 26.1580 | 27.9654 | 25.7954
100018 | 1.6468 | 1.0107 | 27.8582 | 28.1481 | 30.2423 | 28.7763
100019 | 1.6747 | 0.9547 | 25.5566 | 27.6179 | 28.6630 | 27.3589
100020 | *** | * | 23.6106 | 23.9414 | 27.1257 | 24.9125
100022 | 1.6889 | 1.0320 | 29.0519 | 29.9345 | 32.8088 | 30.7076
100023 | 1.5049 | 0.9575 | 21.4015 | 23.0074 | 25.2652 | 23.1917
100024 | 1.2664 | 0.9821 | 27.6476 | 30.2395 | 29.1894 | 28.9778
100025 | 1.6759 | 0.8733 | 21.1174 | 22.1580 | 23.3843 | 22.2470
100026 | 1.5933 | 0.8733 | 21.3533 | 21.4703 | 23.4730 | 22.1335
100027 | 0.9083 | 0.8733 | 12.0314 | 16.1223 | 18.9433 | 15.6380
100028 | 1.3355 | 0.9547 | 23.7818 | 26.8661 | 27.7497 | 26.1615
100029 | 1.2695 | 0.9821 | 26.9307 | 27.5844 | 28.8842 | 27.8024
100030 | 1.3127 | 0.9575 | 22.4887 | 24.0943 | 24.6314 | 23.8140
100032 | 1.7818 | 0.9265 | 23.0174 | 25.2450 | 26.8162 | 25.0796
100034 | 1.9037 | 0.9821 | 24.4064 | 25.9415 | 28.1280 | 26.0553
100035 | 1.5586 | 0.9743 | 25.3590 | 26.9407 | 29.4803 | 27.2447
100038 | 1.9601 | 1.0320 | 27.4422 | 29.8583 | 31.3403 | 29.6015
100039 | 1.4632 | 1.0320 | 26.6016 | 28.4627 | 28.2531 | 27.7905
100040 | 1.7005 | 0.9281 | 23.5372 | 23.6443 | 26.2429 | 24.4804
100043 | 1.3480 | 0.9265 | 22.8963 | 25.2273 | 26.4221 | 24.8888
100044 | 1.4396 | 0.9866 | 26.3208 | 28.3596 | 30.3659 | 28.3803
100045 | 1.3377 | 0.9575 | 23.0520 | 26.9641 | 29.7375 | 26.6960
100046 | 1.2870 | 0.9265 | 26.6169 | 26.3673 | 26.9469 | 26.6450
100047 | 1.7647 | 0.9738 | 24.4212 | 25.0404 | 26.7674 | 25.4543
100048 | 0.9433 | 0.8733 | 18.3767 | 18.8771 | 19.3226 | 18.8647
100049 | 1.1970 | 0.9056 | 22.9532 | 22.9810 | 24.0385 | 23.3402
100050 | 1.1346 | 0.9821 | 20.6893 | 19.8713 | 21.5101 | 20.6851
100051 | 1.3474 | 0.9575 | 22.3311 | 23.1940 | 28.0945 | 24.5496
100052 | 1.3124 | 0.9056 | 20.9078 | 22.3920 | 23.6796 | 22.3593
100053 | 1.2507 | 0.9821 | 27.3383 | 27.3224 | 28.5118 | 27.7190
100054 | 1.2320 | 0.8733 | 25.7279 | 28.0512 | 28.7646 | 27.4784
100055 | 1.3545 | 0.9265 | 22.1051 | 23.5332 | 25.6243 | 23.6414
100056 | *** | * | 25.7945 | * | * | 25.7945
100057 | 1.5520 | 0.9575 | 22.6038 | 25.3897 | 24.8010 | 24.2932
100061 | 1.5485 | 0.9821 | 26.7673 | 29.2565 | 31.4413 | 29.1651
100062 | 1.7005 | 0.8793 | 24.1413 | 25.2340 | 25.1280 | 24.8453
100063 | 1.2623 | 0.9265 | 21.5566 | 24.7026 | 25.5097 | 23.9301
100067 | 1.4089 | 0.9265 | 23.9333 | 26.1213 | 26.8628 | 25.6148
100068 | 1.7592 | 0.9321 | 24.9025 | 25.9202 | 26.1341 | 25.6436
100069 | 1.3305 | 0.9265 | 22.4386 | 24.7442 | 25.7450 | 24.2629
100070 | 1.7307 | 0.9743 | 23.7746 | 24.8883 | 26.8461 | 25.1171
100071 | 1.2351 | 0.9265 | 23.4176 | 24.9682 | 26.3768 | 24.9867
100072 | 1.3773 | 0.9321 | 24.2934 | 26.0459 | 25.7962 | 25.4285
100073 | 1.7645 | 1.0320 | 25.3685 | 30.3358 | 30.5845 | 28.7448
100075 | 1.4896 | 0.9265 | 23.3503 | 25.1691 | 25.7612 | 24.7961
100076 | 1.2186 | 0.9821 | 21.0777 | 21.9483 | 23.4551 | 22.0827
100077 | 1.3555 | 0.9738 | 24.3478 | 26.0347 | 30.6925 | 26.9874
100079 | 1.6357 | * | * | * | * | *
100080 | 1.8116 | 0.9535 | 26.3596 | 27.0126 | 28.2188 | 27.2307
100081 | 1.0726 | 0.8733 | 16.9168 | 15.6662 | 16.9756 | 16.5056
100084 | 1.7983 | 0.9575 | 25.4140 | 26.3393 | 27.4947 | 26.3972
100086 | 1.2726 | 1.0320 | 26.4817 | 28.2641 | 28.5971 | 27.7722
100087 | 1.8922 | 0.9743 | 25.9909 | 27.1531 | 29.5823 | 27.6390
100088 | 1.6379 | 0.9281 | 24.8729 | 25.9182 | 26.7574 | 25.8681
100090 | 1.5337 | 0.9281 | 24.0501 | 24.2422 | 26.5703 | 24.9740
100092 | 1.5375 | 0.9547 | 26.0856 | 28.4789 | 27.8341 | 27.4734
100093 | 1.7528 | 0.8733 | 21.1547 | 21.3524 | 21.6438 | 21.3874
100098 | *** | * | 21.2505 | * | * | 21.2505
100099 | 1.0833 | 0.9056 | 20.4328 | 21.3036 | 25.8454 | 22.5611
100102 | 1.1386 | 0.8858 | 22.8850 | 23.8596 | 26.1015 | 24.2912
100103 | 0.9737 | * | 21.7494 | * | * | 21.7494
100105 | 1.4701 | 0.9886 | 24.9503 | 26.8091 | 29.9745 | 27.2337
100106 | 0.9704 | 0.8733 | 20.2882 | 24.0389 | 24.7650 | 23.0934
100107 | 1.2033 | 0.9460 | 24.4484 | 26.1337 | 27.4760 | 26.0486
100108 | 0.8099 | 0.8733 | 16.3757 | 22.0750 | 21.3540 | 19.9366
100109 | 1.3123 | 0.9575 | 23.8836 | 24.9951 | 25.5669 | 24.8206
100110 | 1.6054 | 0.9575 | 28.3699 | 29.1494 | 29.4788 | 29.0275
100113 | 1.9748 | 0.9420 | 25.0067 | 26.3806 | 28.0440 | 26.5361
100114 | 1.3111 | 0.9821 | 27.7413 | 29.2195 | 29.2862 | 28.7488
100117 | 1.1933 | 0.9281 | 26.0451 | 26.4536 | 27.7198 | 26.7684
100118 | 1.3355 | 0.9131 | 23.6669 | 28.0569 | 27.6438 | 26.7909
100121 | 1.1049 | 0.9056 | 24.0937 | 24.8579 | 26.2990 | 25.0954
100122 | 1.2251 | 0.8733 | 21.2597 | 23.4751 | 24.6285 | 23.1068
100124 | 1.1802 | 0.8733 | 21.6483 | 22.7023 | 24.0333 | 22.8131
100125 | 1.2462 | 0.9821 | 25.3532 | 26.7452 | 29.7750 | 27.4535
100126 | 1.3357 | 0.9265 | 23.2996 | 24.4515 | 29.6247 | 25.8173
100127 | 1.6100 | 0.9265 | 21.3223 | 24.4485 | 26.0923 | 24.0085
100128 | 2.1062 | 0.9265 | 25.6763 | 29.4979 | 29.2566 | 28.2264
100130 | 1.1701 | 0.9535 | 22.8324 | 24.2046 | 26.0268 | 24.3054
100131 | 1.3340 | 0.9821 | 25.8316 | 29.2462 | 27.8164 | 27.6277
100132 | 1.2356 | 0.9265 | 23.0428 | 24.3293 | 26.0526 | 24.5196
100134 | 0.8984 | 0.8733 | 19.5337 | 20.9244 | 20.7366 | 20.4127
100135 | 1.6167 | 0.8959 | 22.3071 | 24.0024 | 26.7030 | 24.2814
100137 | 1.2153 | 0.9056 | 23.3692 | 25.1974 | 24.8519 | 24.5488
100139 | 0.8417 | 0.9420 | 14.5046 | 17.5489 | 18.2197 | 16.8625
100140 | 1.1403 | 0.9281 | 24.8165 | 26.4720 | 26.1352 | 25.8497
100142 | 1.2146 | 0.8733 | 20.7219 | 22.9577 | 24.8853 | 22.8722
100150 | 1.3085 | 0.9821 | 25.7122 | 26.1990 | 26.8492 | 26.2510
100151 | 1.8217 | 0.9281 | 26.1848 | 28.1322 | 30.6447 | 28.4405
100154 | 1.5616 | 0.9821 | 26.3703 | 27.6127 | 28.2506 | 27.4698
100156 | 1.1229 | 0.8858 | 22.2757 | 26.7092 | 27.5706 | 25.5636
100157 | 1.5921 | 0.9265 | 25.9133 | 27.3851 | 29.7455 | 27.7488
100160 | 1.2343 | 0.8733 | 27.2019 | 26.9851 | 30.7454 | 28.3902
100161 | 1.5324 | 0.9575 | 28.3607 | 28.8077 | 28.0545 | 28.4084
100166 | 1.4991 | 0.9743 | 24.4251 | 27.9618 | 28.8685 | 27.0088
100167 | 1.2687 | 1.0320 | 26.8584 | 30.3694 | 30.2166 | 29.1294
100168 | 1.4247 | 0.9535 | 26.0864 | 27.1292 | 27.6739 | 26.9486
100172 | 1.3332 | 0.9821 | 18.4651 | 18.2735 | 20.7857 | 19.1686
100173 | 1.7335 | 0.9265 | 22.4866 | 24.8721 | 26.5436 | 24.6249
100175 | 0.9868 | 0.8964 | 22.0666 | 23.5455 | 23.9665 | 23.2366
100176 | 1.9619 | 0.9866 | 29.8326 | 31.2694 | 30.7087 | 30.6163
100177 | 1.2940 | 0.9547 | 25.3973 | 26.6781 | 28.0089 | 26.7699
100179 | 1.7746 | 0.9281 | 26.6537 | 29.5619 | 29.1111 | 28.4820
100180 | 1.3300 | 0.9265 | 26.3299 | 27.1804 | 29.9238 | 27.8921
100181 | 1.0971 | 0.9821 | 19.5022 | 21.8540 | 24.3708 | 22.2363
100183 | 1.2054 | 0.9821 | 26.7893 | 27.4951 | 29.0270 | 27.7882
100187 | 1.2353 | 0.9821 | 26.1394 | 27.3653 | 27.8144 | 27.1054
100189 | 1.2957 | 1.0320 | 26.5763 | 28.4136 | 28.8320 | 27.9981
100191 | 1.2912 | 0.9265 | 24.3553 | 26.6340 | 28.3710 | 26.5244
100200 | 1.4194 | 1.0320 | 28.0926 | 29.8963 | 28.7694 | 28.9347
100204 | 1.5539 | 0.9420 | 24.4697 | 25.7537 | 27.4763 | 25.9442
100206 | 1.3170 | 0.9265 | 23.0340 | 25.2196 | 27.0295 | 25.1380
100208 | *** | * | 24.9854 | * | * | 24.9854
100209 | 1.3780 | 0.9821 | 25.0778 | 26.6246 | 26.8473 | 26.2262
100210 | 1.5743 | 1.0320 | 28.6449 | 28.9486 | 29.8515 | 29.1402
100211 | 1.1966 | 0.9265 | * | 24.7095 | 24.7533 | 24.7320
100212 | 1.5442 | 0.8793 | 24.2669 | 24.7566 | 26.1846 | 25.1112
100213 | 1.5878 | 0.9743 | 25.1893 | 27.1936 | 27.9282 | 26.7868
100217 | 1.2291 | 0.9866 | 25.2635 | 25.2907 | 27.3989 | 26.0415
100220 | 1.6503 | 0.9460 | 25.0154 | 26.0905 | 28.3868 | 26.5820
100223 | 1.5397 | 0.8733 | 23.4556 | 24.7015 | 25.0332 | 24.4003
100224 | 1.2347 | 1.0320 | 23.3593 | 24.8077 | 26.6446 | 24.9810
100225 | 1.2268 | 1.0320 | 27.9473 | 28.4316 | 28.5259 | 28.2940
100226 | 1.2326 | 0.9281 | 27.8003 | 29.3317 | 28.8165 | 28.6850
100228 | 1.3939 | 1.0320 | 27.2873 | 29.8952 | 28.1396 | 28.4955
100230 | 1.3497 | 1.0320 | 26.3690 | 28.1703 | 29.8493 | 28.0929
100231 | 1.7195 | 0.8733 | 24.6994 | 25.5175 | 25.7037 | 25.3245
100232 ʰ | 1.2507 | 0.9281 | 23.9405 | 24.9322 | 28.5537 | 25.7586
100234 | 1.3905 | 0.9535 | 25.2574 | 26.3601 | 27.4456 | 26.3418
100236 | 1.4137 | 0.9738 | 25.9282 | 26.6585 | 28.9955 | 27.2146
100237 | 1.9184 | 1.0320 | 25.6112 | 31.3543 | 31.7848 | 29.3573
100238 | 1.6235 | 0.9265 | 27.1748 | 28.4302 | 30.1094 | 28.6270
100239 | 1.2918 | 0.9743 | 26.9668 | 27.7592 | 28.6893 | 27.8452
100240 | 0.9279 | 0.9821 | 23.4830 | 25.3265 | 27.3523 | 25.4118
100242 | 1.4339 | 0.8733 | 21.5130 | 24.0990 | 25.6083 | 23.7414
100243 | 1.5820 | 0.9265 | 25.2987 | 26.1131 | 27.4534 | 26.3676
100244 | 1.3465 | 0.9460 | 24.1515 | 25.2584 | 26.6876 | 25.4268
100246 | 1.5881 | 0.9866 | 27.6382 | 28.9894 | 29.3310 | 28.6770
100248 | 1.5692 | 0.9265 | 25.9170 | 27.7797 | 28.8082 | 27.5357
100249 | 1.3057 | 0.9265 | 23.4021 | 23.2084 | 24.9876 | 23.8607
100252 | 1.2191 | 0.9866 | 24.9860 | 25.8540 | 27.8256 | 26.2449
100253 | 1.3737 | 0.9535 | 24.4051 | 25.7121 | 27.4927 | 25.9011
100254 | 1.5413 | 0.8959 | 25.0192 | 25.7338 | 26.1406 | 25.6593
100255 | 1.2759 | 0.9265 | 22.2341 | 24.4808 | 26.5570 | 24.4495
100256 | 1.8563 | 0.9265 | 26.0629 | 28.8856 | 30.3081 | 28.4725
100258 | 1.5210 | 1.0320 | 31.8772 | 31.2482 | 31.2203 | 31.4361
100259 | 1.2661 | 0.9265 | 24.9404 | 26.0175 | 27.4809 | 26.1720
100260 | 1.3662 | 0.9866 | 25.2630 | 27.5188 | 26.7129 | 26.5422
100262 | *** | * | 26.3954 | * | * | 26.3954
100264 | 1.2611 | 0.9265 | 25.0250 | 25.5489 | 26.8216 | 25.7971
100265 | 1.3040 | 0.9265 | 23.4758 | 24.1454 | 25.7432 | 24.5258
100266 | 1.4177 | 0.8733 | 22.6614 | 23.2340 | 23.0208 | 22.9808
100267 | 1.2934 | 0.9743 | 26.5059 | 27.3768 | 28.7259 | 27.4997
100268 | 1.1879 | 0.9535 | 29.8289 | 29.2898 | 29.0668 | 29.3827
100269 | 1.3968 | 0.9535 | 25.3228 | 26.7450 | 26.6047 | 26.2648
100275 | 1.3032 | 0.9535 | 24.3059 | 26.0361 | 26.8943 | 25.8067
100276 | 1.2537 | 1.0320 | 27.2589 | 30.0576 | 29.7606 | 29.0605
100277 | 1.4184 | 0.9821 | 47.3905 | 16.5427 | 20.4791 | 22.3428
100279 | 1.3023 | 0.9460 | 25.4909 | 26.8606 | 28.6383 | 27.1157
100281 | 1.3368 | 1.0320 | 27.0864 | 28.6660 | 29.6698 | 28.5549
100284 | 1.0852 | 0.9821 | 22.5927 | 23.8170 | 22.3134 | 22.9032
100285 | 1.2180 | 1.0320 | * | * | * | *
100286 | 1.6225 | 1.0107 | 27.1051 | 29.4284 | 28.3645 | 28.3421
100287 | 1.3360 | 0.9535 | 28.2229 | 28.3427 | 28.1051 | 28.2241
100288 | 1.5523 | 0.9535 | 37.4785 | 33.8141 | 28.7902 | 32.8594
100289 | 1.7459 | 1.0320 | 28.4504 | 29.2915 | 29.6376 | 29.1710
100290 | 1.1712 | 0.9315 | * | 23.5080 | 27.1011 | 25.2897
100291 | 1.2990 | 0.9547 | * | * | 28.4722 | 28.4722
100292 | 1.2991 | 0.8733 | * | * | 26.7063 | 26.7063
100293 | *** | * | * | * | 32.7963 | 32.7963
100294 | *** | * | * | * | 30.7557 | 30.7557
100295 | *** | * | * | * | 26.1984 | 26.1984
100296 | 1.3525 | 0.9821 | * | * | * | *
100298 | 0.8795 | 0.8959 | * | * | * | *
100299 | 1.2958 | 0.9743 | * | * | * | *
100300 | 1.3542 | 0.9743 | * | * | * | *
110001 | 1.2731 | 0.9793 | 25.1164 | 25.3102 | 26.4338 | 25.6244
110002 | 1.3410 | 0.9793 | 21.8616 | 25.3897 | 26.4715 | 24.6188
110003 | 1.2581 | 0.9281 | 20.0968 | 21.4002 | 22.7066 | 21.4287
110004 | 1.2773 | 0.8948 | 22.7929 | 23.9911 | 24.9978 | 23.9083
110005 | 1.2279 | 0.9793 | 22.3645 | 22.9000 | 28.1209 | 24.5854
110006 | 1.4658 | 0.9456 | 25.0719 | 28.6090 | 28.3839 | 27.3103
110007 | 1.5951 | 0.9056 | 30.7430 | 23.8729 | 26.6396 | 26.6582
110008 | 1.2927 | 0.9793 | 23.4662 | 27.1711 | 29.2947 | 26.6955
110010 | 2.1808 | 0.9793 | 28.7690 | 29.7142 | 31.7185 | 30.0899
110011 | 1.2365 | 0.9793 | 25.4620 | 26.0899 | 28.0599 | 26.5310
110015 | 1.1256 | 0.9793 | 25.5661 | 26.6610 | 28.1274 | 26.8684
110016 | 1.1750 | 0.7825 | 18.8376 | 21.7610 | 22.7263 | 21.0503
110018 | 1.1837 | 0.9793 | 25.6485 | 28.2431 | 26.8016 | 26.9090
110020 | 1.3216 | 0.9793 | 24.8735 | 26.8501 | 28.3822 | 26.7786
110023 | 1.3232 | 0.9793 | 25.3746 | 27.3029 | 29.8062 | 27.5717
110024 | 1.4005 | 0.9139 | 23.8091 | 25.7205 | 27.0225 | 25.4856
110025 | 1.4670 | 1.0478 | 31.5253 | 26.1311 | 31.0703 | 29.3670
110026 | 1.1055 | 0.7825 | 20.5740 | 21.2826 | 21.8018 | 21.2258
110027 | 1.0719 | 0.8212 | 19.2323 | 20.2175 | 22.6058 | 20.5759
110028 | 1.8256 | 0.9640 | 25.1836 | 28.1619 | 30.4641 | 27.9113
110029 | 1.7459 | 0.9793 | 25.2335 | 24.8893 | 27.3618 | 25.9487
110030 | 1.2271 | 0.9793 | 25.0842 | 26.4770 | 29.6841 | 27.2126
110031 | 1.2787 | 0.9793 | 24.1711 | 24.7874 | 27.1989 | 25.4247
110032 | 1.1284 | 0.7825 | 20.7211 | 21.9407 | 23.2586 | 21.9694
110033 | 1.3700 | 0.9793 | 25.2326 | 28.3210 | 30.3415 | 28.0866
110034 | 1.6784 | 0.9640 | 24.4141 | 26.9986 | 27.2338 | 26.2690
110035 | 1.6167 | 0.9793 | 25.7562 | 27.4583 | 28.9408 | 27.4538
110036 | 1.8136 | 0.9139 | 25.4854 | 26.8789 | 26.6664 | 26.3681
110038 | 1.4929 | 0.8489 | 20.5880 | 21.2138 | 22.2720 | 21.3810
110039 | 1.4454 | 0.9640 | 19.4032 | 24.7248 | 26.3503 | 23.2514
110040 | 1.1186 | 0.9793 | 18.8744 | 19.7509 | 20.9487 | 19.8426
110041 | 1.2480 | 0.9456 | 21.5402 | 23.4074 | 24.8864 | 23.2210
110042 | 1.0820 | 0.9793 | 26.8321 | 28.6873 | 34.9954 | 30.1769
110043 | 1.7845 | 0.9139 | 25.2788 | 26.6323 | 27.8477 | 26.5830
110044 | 1.1532 | 0.7825 | 19.6940 | 20.9654 | 23.3039 | 21.2906
110045 | 1.1325 | 0.9793 | 21.3922 | 24.9821 | 24.4275 | 23.6022
110046 | 1.1529 | 0.9793 | 24.0022 | 23.8292 | 26.7464 | 24.8445
110049 | *** | * | 19.8706 | * | * | 19.8706
110050 | 1.1084 | 0.8955 | 25.6020 | 26.1320 | 27.5985 | 26.4636
110051 | 1.1406 | 0.7825 | 19.0995 | 19.4276 | 20.1756 | 19.6094
110054 | 1.3977 | 0.9793 | 22.2250 | 25.7085 | 28.9254 | 25.6688
110056 | 0.9186 | * | 23.0080 | * | * | 23.0080
110059 | 1.1330 | 0.7825 | 18.7097 | 20.5565 | 23.2138 | 20.6555
110063 | *** | * | 20.3760 | * | * | 20.3760
110064 | 1.4831 | 0.8530 | 23.8739 | 24.2739 | 24.1219 | 24.0962
110069 | 1.2904 | 0.9443 | 22.3006 | 24.1669 | 26.2085 | 24.2858
110071 | 1.0425 | 0.7825 | 13.3731 | 18.0224 | 21.3963 | 17.3306
110073 | 1.0765 | 0.7825 | 16.3610 | 18.6336 | 18.5753 | 17.7815
110074 | 1.5359 | 0.9456 | 27.5836 | 27.1207 | 27.9190 | 27.5465
110075 | 1.2854 | 0.9023 | 20.9973 | 22.0935 | 23.7585 | 22.3216
110076 | 1.4229 | 0.9793 | 25.2424 | 26.3506 | 28.7871 | 26.8106
110078 | 2.0301 | 0.9793 | 27.8627 | 29.5779 | 29.9625 | 29.1837
110079 | 1.4423 | 0.9793 | 24.5255 | 23.1024 | 26.8412 | 24.7843
110080 | 1.2828 | 0.9793 | 21.5482 | 22.3213 | 18.4714 | 20.7691
110082 | 1.9031 | 0.9793 | 28.9731 | 29.8366 | 30.8320 | 29.9122
110083 | 1.9213 | 0.9793 | 26.2604 | 27.8245 | 30.4287 | 28.2139
110086 | 1.2855 | 0.7825 | 20.8557 | 21.1509 | 21.6898 | 21.2396
110087 | 1.4602 | 0.9793 | 26.2872 | 28.0471 | 28.1633 | 27.5194
110089 | 1.1177 | 0.7825 | 21.2013 | 21.9509 | 23.9026 | 22.3784
110091 | 1.2769 | 0.9793 | 26.3857 | 26.5523 | 29.5337 | 27.6143
110092 | 1.0499 | 0.7825 | 18.7397 | 18.5527 | 20.8911 | 19.3785
110095 | 1.4359 | 0.8632 | 21.8709 | 23.4846 | 26.3075 | 23.9099
110096 | 0.9724 | * | 19.4498 | * | * | 19.4498
110100 | 0.9648 | 0.7825 | 16.5833 | 16.5600 | 16.2575 | 16.4514
110101 | 1.0859 | 0.7825 | 14.4630 | 16.4270 | 19.4256 | 16.6428
110104 | 1.0425 | 0.7825 | 19.5575 | 18.7951 | 20.3777 | 19.5859
110105 | 1.2943 | 0.7825 | 20.6270 | 21.1077 | 23.1405 | 21.6320
110107 | 1.9344 | 0.9798 | 26.0763 | 26.2526 | 28.9352 | 27.1700
110109 | 0.9988 | 0.7825 | 20.4726 | 21.4280 | 23.0376 | 21.7482
110111 | 1.1905 | 0.9640 | 20.5577 | 29.2190 | 25.1270 | 24.4796
110112 | 0.9195 | 0.7825 | 21.0612 | 24.2463 | 22.7672 | 22.5600
110113 | 1.0313 | 0.9640 | 16.7641 | 19.1753 | 21.3417 | 19.1306
110115 | 1.7085 | 0.9793 | 29.8699 | 32.0197 | 31.5074 | 31.1529
110121 | 1.0256 | 0.7825 | 21.2534 | 21.6637 | 26.2336 | 23.1172
110122 | 1.5462 | 0.8802 | 22.0210 | 23.7589 | 25.1934 | 23.6859
110124 | 1.0268 | 0.8253 | 20.9334 | 22.7058 | 22.9212 | 22.1901
110125 | 1.3198 | 0.9443 | 22.1458 | 22.4238 | 23.7834 | 22.7748
110128 | 1.2475 | 0.9023 | 23.2576 | 24.4596 | 25.7839 | 24.5520
110129 | 1.5065 | 0.8530 | 22.4202 | 23.3631 | 25.9625 | 23.9322
110130 | 0.9196 | 0.7825 | 17.6529 | 18.7549 | 19.1284 | 18.5478
110132 | 1.0220 | 0.7825 | 18.9927 | 19.2307 | 20.2502 | 19.4901
110135 | 1.2396 | 0.7825 | 20.0057 | 20.4411 | 22.5346 | 21.1020
110136 | *** | * | 22.7715 | 15.8573 | 18.8212 | 19.2514
110142 | 0.9619 | 0.7825 | 17.3328 | 18.1980 | 21.3935 | 19.0415
110143 | 1.3859 | 0.9793 | 25.4932 | 27.7055 | 28.6583 | 27.3468
110146 | 1.0797 | 0.8630 | 19.9221 | 23.9067 | 27.0987 | 23.5994
110149 | *** | * | 24.7686 | 27.1477 | 28.4040 | 26.9572
110150 | 1.2473 | 0.9793 | 23.8157 | 22.6624 | 25.3742 | 23.8995
110153 | 1.1488 | 0.9443 | 22.8660 | 24.5368 | 25.7467 | 24.4337
110161 | 1.4855 | 0.9793 | 27.4435 | 29.3201 | 30.4885 | 29.1179
110163 | 1.3814 | 0.9056 | 25.5461 | 26.0764 | 28.2169 | 26.5897
110164 | 1.5878 | 0.9798 | 26.4450 | 27.0600 | 28.8946 | 27.4989
110165 | 1.3710 | 0.9793 | 24.3897 | 26.8378 | 27.0977 | 26.1136
110166 | *** | * | 25.2264 | 26.8070 | * | 26.0253
110168 | 1.8671 | 0.9793 | 24.6321 | 27.0022 | 28.5700 | 26.7717
110172 | 1.2061 | 0.9793 | 27.0240 | 29.1703 | 31.1234 | 29.1343
110177 | 1.7152 | 0.9640 | 25.0129 | 26.7504 | 28.8356 | 26.9030
110179 | *** | * | 26.1173 | 26.0759 | * | 26.0961
110183 | 1.2171 | 0.9793 | 27.6020 | 29.6133 | 28.6209 | 28.6681
110184 | 1.1745 | 0.9793 | 25.5420 | 26.5240 | 28.3545 | 26.9173
110186 | 1.3395 | 0.8530 | 23.2348 | 25.0299 | 27.4925 | 25.2601
110187 | 1.2422 | 0.9793 | 22.5730 | 24.2933 | 25.2139 | 24.1099
110189 | 1.0972 | 0.9793 | 23.9404 | 26.7653 | 26.1418 | 25.6509
110190 | 1.0640 | 0.8007 | 19.1054 | 14.2517 | 23.3204 | 18.4486
110191 | 1.2821 | 0.9793 | 25.8409 | 26.8277 | 27.7760 | 26.8257
110192 | 1.3475 | 0.9793 | 25.7406 | 26.7852 | 28.8267 | 27.1606
110193 | *** | * | 27.8223 | 27.3341 | 27.9161 | 27.6860
110194 | 0.9307 | 0.7825 | 16.3148 | 18.4776 | 19.1919 | 18.0639
110198 | 1.3364 | 0.9793 | 30.8014 | 31.7748 | 31.0557 | 31.2165
110200 | 1.8336 | 0.8530 | 21.2177 | 22.3249 | 24.9236 | 22.7176
110201 | 1.4301 | 0.9798 | 27.0388 | 28.2232 | 31.0841 | 28.8164
110203 | 0.9786 | 0.9793 | 25.8951 | 26.8768 | 29.7888 | 27.5748
110205 | 1.1484 | 0.9793 | 20.6150 | 19.7409 | 22.0207 | 20.8493
110209 | 0.5449 | 0.7825 | 19.1000 | 19.0450 | 21.1534 | 19.8407
110212 | 1.0916 | 0.8632 | 20.9365 | 40.5120 | * | 32.6453
110214 | *** | * | * | * | 37.1448 | 37.1448
110215 | 1.2879 | 0.9793 | 23.9657 | 25.7886 | 27.5566 | 25.8696
110218 | *** | * | 26.1073 | * | * | 26.1073
110219 | 1.3686 | 0.9793 | 27.1880 | 27.0362 | 28.8814 | 27.7093
110220 | *** | * | * | * | 37.5739 | 37.5739
110221 | *** | * | * | * | 28.0500 | 28.0500
110222 | *** | * | * | * | 35.6189 | 35.6189
110224 | 1.2679 | 0.9798 | * | * | * | *
110225 | 1.1580 | 0.9793 | * | * | * | *
110226 | 1.1751 | 0.9793 | * | * | * | *
120001 | 1.7470 | 1.0911 | 31.7108 | 34.7715 | 34.1385 | 33.5501
120002 | 1.1929 | 1.0627 | 26.9900 | 29.9913 | 32.3784 | 29.9272
120004 | 1.2404 | 1.0911 | 28.3569 | 28.6527 | 30.0668 | 28.9863
120005 | 1.2997 | 1.0627 | 26.9053 | 29.3405 | 31.1985 | 29.0894
120006 | 1.2452 | 1.0911 | 29.6751 | 31.2285 | 31.6786 | 30.8697
120007 | 1.6780 | 1.0911 | 28.7964 | 30.4247 | 30.2473 | 29.8341
120010 | 1.8793 | 1.0911 | 27.1265 | 30.1659 | 29.5714 | 28.8285
120011 | 1.4124 | 1.0911 | 31.7447 | 34.1643 | 37.1792 | 34.4536
120014 | 1.2894 | 1.0627 | 28.0786 | 28.6416 | 30.3463 | 29.0519
120016 | *** | * | 52.1034 | 19.6034 | * | 31.3542
120019 | 1.1559 | 1.0627 | 28.9661 | 30.3809 | 30.4257 | 29.9613
120022 | 1.8325 | 1.0911 | 24.7875 | 26.6100 | 29.9527 | 27.0886
120024 | 0.8986 | * | * | * | * | *
120025 | *** | * | 48.7148 | 30.2358 | * | 39.4887
120026 | 1.3757 | 1.0911 | 28.5048 | 30.3293 | 32.4566 | 30.5540
120027 | 1.3069 | 1.0911 | 26.4630 | 28.6717 | 28.7905 | 27.9738
120028 | 1.3517 | 1.0911 | 31.3195 | 30.3794 | 32.4847 | 31.4126
120029 | 2.0189 | 1.0911 | * | * | * | *
130002 | 1.4008 | 0.9313 | 21.6626 | 23.6078 | 24.7871 | 23.4445
130003 | 1.3799 | 0.9978 | 25.4904 | 27.6345 | 28.6158 | 27.2882
130005 | *** | * | 25.2550 | 25.7523 | * | 25.4954
130006 | 1.7910 | 0.9445 | 24.3982 | 25.3221 | 27.2158 | 25.7084
130007 | 1.7747 | 0.9445 | 24.8764 | 24.9562 | 28.7246 | 26.1776
130011 | 1.1958 | * | 22.9336 | * | * | 22.9336
130013 | 1.3191 | 0.9445 | 26.3118 | 27.9209 | 30.9609 | 28.4102
130014 | 1.2907 | 0.9445 | 23.4789 | 24.3884 | 27.2543 | 25.0229
130018 | 1.6800 | 0.9204 | 23.9798 | 26.4125 | 27.3439 | 25.9628
130021 | *** | * | 18.9400 | 16.1658 | * | 17.6183
130024 | 1.0804 | 0.8843 | 21.7853 | 23.3347 | 23.6212 | 22.9207
130025 | 1.2184 | 0.8568 | 19.7066 | 20.1452 | 21.1998 | 20.3710
130026 | *** | * | 25.4020 | * | * | 25.4020
130028 | 1.3899 | 0.9204 | 25.2938 | 26.3443 | 27.2195 | 26.4364
130036 | *** | * | 16.7907 | * | * | 16.7907
130049 | 1.5536 | 1.0244 | 24.5841 | 26.9749 | 27.3597 | 26.3413
130060 | *** | * | 26.7516 | * | * | 26.7516
130062 | 0.4992 | 0.9127 | 16.7951 | 20.6642 | 25.6467 | 20.2308
130063 | 1.3170 | 0.9445 | 20.9502 | 22.5904 | 26.0955 | 23.1804
130065 | 1.8549 | 0.9127 | * | * | 21.9792 | 21.9792
130066 | 2.0224 | 0.9576 | * | * | * | *
130067 | 1.1199 | 0.9127 | * | * | * | *
140001 | 1.0835 | 0.8358 | 21.4779 | 22.3170 | 22.3001 | 22.0343
140002 | 1.3226 | 0.8998 | 24.4908 | 24.6954 | 27.0165 | 25.3917
140003 | *** | * | 22.6230 | * | * | 22.6230
140007 | 1.3229 | 1.0670 | 26.7943 | 28.3482 | 30.7378 | 28.6514
140008 | 1.4480 | 1.0670 | 27.2211 | 28.5297 | 29.1767 | 28.3071
140010 | 1.5072 | 1.0670 | 31.5774 | 35.1024 | 31.8806 | 32.8561
140011 | 1.1495 | 0.8358 | 20.6338 | 22.4091 | 23.8575 | 22.3078
140012 | 1.1871 | 1.0564 | 24.3675 | 28.6564 | 29.0336 | 27.3314
140013 | 1.4048 | 0.9126 | 22.6022 | 23.3065 | 23.9269 | 23.2600
140015 | 1.4177 | 0.8889 | 22.2266 | 23.0600 | 24.4687 | 23.2637
140016 | 1.0262 | * | 17.1372 | 18.1242 | * | 17.6389
140018 | 1.4132 | 1.0670 | 27.3334 | 27.7548 | 26.3533 | 27.1487
140019 | 0.9332 | 0.8358 | 18.4554 | 18.9228 | 21.3438 | 19.5637
140024 | 1.0363 | * | 16.9672 | 17.5249 | * | 17.2349
140026 | 1.1434 | 0.8704 | 21.6847 | 23.0470 | 25.9669 | 23.5256
140027 | *** | * | 22.6208 | * | * | 22.6208
140029 | 1.5819 | 1.0670 | 27.7304 | 28.6565 | 30.2688 | 28.9563
140030 | 1.5647 | 1.0670 | 28.7623 | 29.7771 | 30.2776 | 29.6264
140032 | 1.2512 | 0.8889 | 22.8157 | 24.0574 | 26.7310 | 24.5432
140033 | 1.2029 | 1.0798 | 26.1553 | 25.6068 | 27.9993 | 26.5352
140034 | 1.2185 | 0.8889 | 22.1003 | 23.0034 | 24.0470 | 23.0607
140040 | 1.1746 | 0.8966 | 20.0269 | 22.2969 | 23.2293 | 21.7520
140043 | 1.2700 | 0.9828 | 26.0330 | 26.7996 | 27.3470 | 26.7278
140045 | 1.0697 | * | 21.0042 | 20.6548 | * | 20.8316
140046 | 1.4750 | 0.8889 | 22.5022 | 23.2127 | 24.7334 | 23.5891
140048 | 1.2695 | 1.0670 | 27.0874 | 28.2222 | 29.3877 | 28.2118
140049 | 1.5162 | 1.0670 | 26.6533 | 27.4009 | 29.0976 | 27.7293
140051 | 1.5325 | 1.0670 | 27.9935 | 27.7901 | 30.9696 | 28.9022
140052 | 1.2827 | 0.8998 | 22.2588 | 23.5662 | 25.9617 | 23.9400
140053 | 1.8870 | 0.8951 | 23.5477 | 24.8455 | 27.4518 | 25.2478
140054 | 1.4543 | 1.0670 | 31.7265 | 31.8564 | 33.1406 | 32.2116
140058 | 1.2184 | 0.8889 | 22.1269 | 22.8423 | 24.6058 | 23.1976
140059 | 1.1145 | 0.8998 | 22.7121 | 22.4651 | 22.6743 | 22.6149
140061 | 1.0686 | * | 30.9925 | 20.8063 | * | 25.9797
140062 | 1.2106 | 1.0670 | 31.2359 | 34.7704 | 34.1230 | 33.3538
140063 | 1.4113 | 1.0670 | 26.5584 | 27.8306 | 28.6559 | 27.7359
140064 | 1.1907 | 0.8966 | 21.7470 | 22.0407 | 23.8639 | 22.5902
140065 | 1.3830 | 1.0670 | 26.1904 | 29.4678 | 30.1856 | 28.6478
140066 | 1.1268 | 0.8998 | 20.4353 | 21.9771 | 22.1524 | 21.5121
140067 | 1.8109 | 0.9126 | 23.5906 | 25.3986 | 28.3506 | 25.8096
140068 | 1.1930 | 1.0670 | 25.8963 | 27.3956 | 28.3938 | 27.2467
140075 | 1.2757 | 1.0670 | 26.9257 | 27.9325 | 26.2626 | 27.0784
140077 | 1.0413 | 0.8998 | 19.0922 | 19.1363 | 20.3999 | 19.5250
140079 | *** | * | 29.3040 | * | * | 29.3040
140080 | 1.4393 | 1.0670 | 26.0109 | 23.2575 | 28.8791 | 25.8555
140082 | 1.4747 | 1.0670 | 26.8077 | 25.6645 | 28.3429 | 26.9404
140083 | 1.0315 | 1.0670 | 24.6491 | 26.2972 | 26.8919 | 25.9773
140084 | 1.2295 | 1.0798 | 27.6819 | 29.2515 | 30.5036 | 29.1891
140088 | 1.8434 | 1.0670 | 31.0364 | 32.4978 | 30.5450 | 31.3321
140089 | 1.1873 | 0.8358 | 22.1227 | 23.3401 | 24.1066 | 23.1482
140091 | 1.8211 | 0.9582 | 26.1075 | 26.8518 | 27.8536 | 26.9704
140093 | 1.1799 | 0.9554 | 22.1540 | 25.3127 | 28.3299 | 24.9634
140094 | 1.0394 | 1.0670 | 25.3678 | 27.9273 | 27.3841 | 26.9242
140095 | 1.2495 | 1.0670 | 29.9746 | 27.6799 | 28.7617 | 28.8255
140100 | 1.2994 | 1.0798 | 32.8743 | 37.0819 | 41.3374 | 37.5441
140101 | 1.1667 | 1.0670 | 25.4784 | 28.5365 | 29.4081 | 27.9410
140102 | *** | * | 21.2278 | * | * | 21.2278
140103 | 1.1933 | 1.0670 | 21.7512 | 23.3258 | 23.6406 | 22.9147
140105 | 1.2772 | 1.0670 | 26.3054 | 27.4531 | 29.5274 | 27.7174
140109 | 1.0886 | * | 17.8103 | 19.5675 | * | 18.6923
140110 | 1.0875 | 1.0564 | 25.6561 | 27.9844 | 28.6364 | 27.4425
140113 | 1.5713 | 0.9582 | 23.5337 | 26.7969 | 29.5452 | 26.4452
140114 | 1.4152 | 1.0670 | 25.7968 | 28.3014 | 28.2151 | 27.4930
140115 | 1.0859 | 1.0670 | 26.3677 | 25.1498 | 26.0383 | 25.8616
140116 | 1.2914 | 1.0670 | 30.5166 | 31.9902 | 34.5537 | 32.4348
140117 | 1.5368 | 1.0670 | 25.6314 | 26.8802 | 27.7201 | 26.7483
140118 | 1.6169 | 1.0670 | 27.7392 | 29.7570 | 32.5518 | 29.9912
140119 | 1.7689 | 1.0670 | 33.6302 | 36.1419 | 34.2118 | 34.6281
140120 | 1.2168 | 0.9126 | 22.5795 | 22.7375 | 23.9724 | 23.1437
140122 | 1.4292 | 1.0670 | 26.4991 | 28.4188 | 30.5653 | 28.4691
140124 | 1.3358 | 1.0670 | 35.2798 | 36.1327 | 35.7563 | 35.7220
140125 | 1.1965 | 0.8998 | 20.7189 | 20.4014 | 22.7571 | 21.2893
140127 | 1.6235 | 0.9140 | 22.8172 | 24.1658 | 25.6668 | 24.2120
140130 | 1.2441 | 1.0798 | 26.3518 | 29.5247 | 32.6210 | 29.6539
140133 | 1.2976 | 1.0670 | 26.1599 | 28.0339 | 31.0269 | 28.2512
140135 | 1.4700 | 0.8358 | 21.2104 | 22.3264 | 23.3196 | 22.3265
140137 | 1.0247 | 0.8998 | 20.5053 | 21.4700 | 23.4173 | 21.8843
140140 | *** | * | 21.4710 | * | * | 21.4710
140141 | 1.0468 | * | 23.0515 | 21.7871 | * | 22.4305
140143 | 1.2220 | 0.8966 | 23.8255 | 26.2954 | 27.4498 | 25.8938
140144 | *** | * | 27.8046 | * | * | 27.8046
140145 | 1.0887 | 0.8998 | 21.6168 | 23.4608 | 26.0875 | 23.7613
140147 | 1.0976 | 0.8358 | 19.5896 | 19.8541 | 21.0686 | 20.1703
140148 | 1.7291 | 0.8951 | 23.0022 | 24.7031 | 25.5677 | 24.3492
140150 | 1.6333 | 1.0670 | 33.9013 | 35.2711 | 52.0970 | 40.8033
140151 | 0.8184 | 1.0670 | 22.4842 | 23.4879 | 27.0312 | 24.3445
140152 | 1.0939 | 1.0670 | 29.6882 | 27.6086 | 30.2209 | 29.1503
140155 | 1.2892 | 1.0564 | 27.6610 | 28.9724 | 29.5734 | 28.7857
140158 | 1.4147 | 1.0670 | 23.8542 | 27.0986 | 27.3722 | 25.9304
140160 | 1.2535 | 0.9828 | 22.7002 | 24.5373 | 25.8684 | 24.4086
140161 | 1.1453 | 1.0564 | 24.1071 | 23.1647 | 25.2898 | 24.1984
140162 | 1.6053 | 0.9140 | 26.0312 | 27.4472 | 29.4121 | 27.6488
140164 | 1.7878 | 0.8889 | 22.0424 | 23.7457 | 24.6009 | 23.4644
140165 | 1.0582 | * | 15.9312 | 16.6304 | * | 16.2816
140166 | 1.1850 | 0.8358 | 21.7776 | 23.1005 | 26.4800 | 23.8158
140167 | 1.1217 | 0.8358 | 19.7610 | 22.8911 | 22.8703 | 21.8280
140168 | *** | * | 20.0225 | * | * | 20.0225
140170 | 0.9592 | * | 17.1608 | * | * | 17.1608
140172 | 1.4070 | 1.0670 | 27.1121 | 29.8568 | 32.1220 | 30.0105
140174 | 1.4703 | 1.0670 | 24.7011 | 27.8131 | 30.5905 | 27.6886
140176 | 1.2002 | 1.0670 | 28.9378 | 31.3490 | 32.9794 | 31.1817
140177 | 0.9911 | 1.0670 | 19.3328 | 22.5610 | 26.4340 | 23.0166
140179 | 1.3023 | 1.0670 | 26.3200 | 27.6376 | 29.3657 | 27.7872
140180 | 1.2039 | 1.0670 | 27.4366 | 28.3629 | 27.8887 | 27.8969
140181 | 1.1966 | 1.0670 | 23.6034 | 25.0100 | 25.0226 | 24.5453
140182 | 1.5610 | 1.0670 | 28.0337 | 28.2211 | 30.1755 | 28.6376
140184 | 1.2352 | 0.8358 | 20.1279 | 21.1802 | 25.2327 | 22.4037
140185 | 1.4516 | 0.8998 | 22.0222 | 23.8531 | 25.2423 | 23.7296
140186 | 1.5500 | 1.0564 | 28.1977 | 30.6951 | 29.8022 | 29.6224
140187 | 1.5300 | 0.8998 | 22.0674 | 23.2892 | 24.8332 | 23.4161
140189 | 1.1765 | 0.9096 | 25.6954 | 23.7198 | 22.5965 | 24.0163
140190 | 1.0748 | * | 18.8530 | 19.8297 | * | 19.3398
140191 | 1.2979 | 1.0670 | 25.2817 | 25.8678 | 28.5836 | 26.6009
140193 | *** | * | 22.9443 | * | * | 22.9443
140197 | 1.3210 | 1.0670 | 21.8060 | 23.0684 | 24.0463 | 22.8812
140199 | 1.0471 | * | 21.3464 | 22.0315 | * | 21.6914
140200 | 1.4725 | 1.0670 | 24.9217 | 26.3379 | 28.8435 | 26.6579
140202 | 1.5687 | 1.0798 | 27.4336 | 29.7870 | 32.7915 | 30.2241
140203 | *** | * | 28.2212 | * | * | 28.2212
140205 | 1.7125 | 1.0211 | * | * | * | *
140206 | 1.0864 | 1.0670 | 27.5481 | 30.6561 | 29.7953 | 29.3812
140207 | 1.2426 | 1.0670 | 25.7331 | 24.1048 | 26.0535 | 25.2825
140208 | 1.6504 | 1.0670 | 27.6586 | 29.4708 | 29.5380 | 28.9138
140209 | 1.5769 | 0.9126 | 23.3886 | 24.5376 | 26.3230 | 24.7727
140210 | 1.1302 | 0.8358 | 16.6729 | 19.2639 | 20.6954 | 18.8291
140211 | 1.2952 | 1.0670 | 29.5114 | 29.7054 | 30.3286 | 29.8828
140213 | 1.2114 | 1.0670 | 29.1649 | 30.2945 | 31.6926 | 30.3982
140215 | *** | * | 22.3097 | * | * | 22.3097
140217 | 1.4960 | 1.0670 | 29.3711 | 31.5324 | 32.1277 | 30.9714
140223 | 1.4778 | 1.0670 | 29.2540 | 30.4923 | 31.7267 | 30.4940
140224 | 1.3623 | 1.0670 | 29.0350 | 28.2177 | 29.6181 | 28.9621
140228 | 1.5659 | 1.0048 | 25.0074 | 25.6419 | 27.9456 | 26.1931
140231 | 1.4835 | 1.0670 | 28.3545 | 30.6410 | 30.0236 | 29.7211
140233 | 1.6157 | 1.0564 | 27.3379 | 28.6305 | 29.7093 | 28.6138
140234 | 1.0927 | 0.8966 | 23.2604 | 23.6928 | 24.5476 | 23.8450
140239 | 1.5446 | 1.0048 | 24.2112 | 29.0092 | 31.1879 | 28.1166
140240 | 1.4016 | 1.0670 | 27.2654 | 28.7310 | 31.5637 | 29.1193
140242 | 1.4813 | 1.0670 | 30.4005 | 32.0522 | 34.6120 | 32.4400
140245 | *** | * | 16.0772 | * | * | 16.0772
140250 | 1.1848 | 1.0670 | 27.4628 | 28.5971 | 29.6305 | 28.5866
140251 | 1.3410 | 1.0670 | 26.7266 | 27.1687 | 28.0622 | 27.3178
140252 | 1.3921 | 1.0670 | 30.2656 | 33.3351 | 34.4268 | 32.7497
140258 | 1.5354 | 1.0670 | 27.9478 | 30.2639 | 34.2333 | 30.9152
140271 | 0.8890 | * | 18.8535 | * | * | 18.8535
140275 | 1.3319 | 0.8836 | 25.2824 | 26.1473 | 27.8186 | 26.4002
140276 | 1.8198 | 1.0670 | 27.5936 | 29.8325 | 31.6359 | 29.7289
140280 | 1.4341 | 0.8836 | 21.9302 | 23.4447 | 24.9401 | 23.3818
140281 | 1.6800 | 1.0670 | 29.2602 | 30.4838 | 33.3903 | 31.0381
140285 | *** | * | 17.7824 | 20.7576 | * | 19.1679
140286 | 1.1244 | 1.0670 | 28.4378 | 29.1543 | 30.3237 | 29.3213
140288 | 1.5563 | 1.0670 | 26.9581 | 29.3988 | 31.5197 | 29.3022
140289 | 1.3118 | 0.8998 | 22.3274 | 22.6211 | 23.8452 | 22.9498
140290 | 1.3524 | 1.0670 | 28.6926 | 31.7341 | 31.8135 | 30.8270
140291 | 1.5010 | 1.0564 | 28.2338 | 29.8958 | 31.9052 | 30.1168
140292 | 1.1576 | 1.0670 | 26.1781 | 27.6285 | 28.5094 | 27.4893
140294 | 1.1608 | 0.8358 | 22.6123 | 23.4504 | 24.0750 | 23.3919
140300 | 1.1256 | 1.0670 | 33.3983 | 34.8568 | 35.1494 | 34.4550
140301 | 1.2606 | 1.0670 | * | 31.7073 | 49.9507 | 37.2543
140303 | 1.8630 | 1.0670 | * | * | 29.6470 | 29.6470
150001 | 1.1113 | 0.9769 | 27.1021 | 29.6844 | 28.9076 | 28.5842
150002 | 1.4352 | 1.0564 | 23.3804 | 25.0063 | 26.6222 | 24.9683
150003 | 1.6225 | 0.8777 | 23.3196 | 25.3458 | 26.7586 | 25.1237
150004 | 1.4916 | 1.0564 | 24.8884 | 26.8458 | 28.7336 | 26.8380
150005 | 1.1814 | 0.9769 | 25.4443 | 27.2369 | 29.5371 | 27.5141
150006 | 1.3516 | 0.9721 | 24.8976 | 26.4061 | 25.6265 | 25.6444
150007 | 1.3519 | 0.9657 | 23.5841 | 26.6073 | 29.4971 | 26.6826
150008 | 1.4462 | 1.0564 | 23.6953 | 26.6928 | 27.5703 | 26.0637
150009 | 1.3856 | 0.9155 | 20.4993 | 22.2147 | 25.4496 | 22.7673
150010 | 1.4095 | 0.9657 | 23.9740 | 26.8524 | 27.2272 | 25.9937
150011 | 1.1796 | 0.9619 | 23.2249 | 24.3490 | 25.3178 | 24.3148
150012 | 1.5616 | 0.9914 | 22.9314 | 27.3029 | 30.0348 | 26.5266
150013 | 1.0068 | * | 19.7689 | 21.8465 | * | 20.8053
150014 | *** | * | 26.5785 | * | * | 26.5785
150015 | 1.3194 | 1.0564 | 24.3015 | 26.2434 | 28.0931 | 26.2255
150017 | 1.7796 | 0.9283 | 23.7180 | 25.2342 | 26.3973 | 25.1400
150018 | 1.6551 | 0.9376 | 24.7048 | 26.3289 | 27.3689 | 26.1456
150021 | 1.7596 | 0.9283 | 27.8168 | 29.6967 | 28.9196 | 28.8209
150022 | 1.1126 | 0.8813 | 22.8035 | 22.6773 | 23.1041 | 22.8651
150023 | 1.5344 | 0.8806 | 23.1253 | 23.7159 | 26.9095 | 24.3494
150024 | 1.4036 | 0.9769 | 24.7879 | 27.1589 | 28.1656 | 26.7187
150026 | 1.2898 | 0.9376 | 23.7185 | 28.1127 | 28.6517 | 26.9683
150027 | 1.0217 | * | 21.2855 | 17.4862 | * | 19.1736
150029 | 1.3955 | 0.9914 | 23.4103 | 26.9680 | 28.7187 | 26.0327
150030 | 1.1543 | 0.9619 | 24.4361 | 26.9533 | 29.1493 | 26.8916
150033 | 1.6423 | 0.9769 | 25.8851 | 27.9995 | 28.6838 | 27.5306
150034 | 1.5435 | 1.0564 | 23.9388 | 26.0465 | 28.6429 | 26.3135
150035 | 1.5470 | 0.9480 | 26.0952 | 26.6620 | 26.9700 | 26.5906
150037 | 1.3021 | 0.9769 | 27.7009 | 28.5451 | 31.0935 | 29.1215
150038 | 1.1294 | 0.9769 | 24.4188 | 28.8054 | 29.3156 | 27.5259
150042 | 1.4437 | 0.8564 | 21.9917 | 23.0102 | 22.8786 | 22.6362
150044 | 1.3829 | 0.9155 | 23.1200 | 23.7065 | 25.2137 | 24.0706
150045 ʰ | 1.0469 | 0.9699 | 24.2899 | 25.2225 | 26.9818 | 25.5105
150046 | 1.4064 | 0.8806 | 21.0417 | 21.9369 | 24.5593 | 22.5538
150047 | 1.7515 | 0.9283 | 24.5455 | 25.8349 | 25.5194 | 25.3061
150048 | 1.3731 | 0.9522 | 24.5864 | 27.1817 | 27.1233 | 26.2805
150049 | 1.2079 | * | 20.2178 | 22.3370 | * | 21.2543
150051 | 1.5936 | 0.9619 | 22.6866 | 23.7061 | 26.5655 | 24.3118
150052 | 1.0624 | * | 19.6073 | 20.6339 | * | 20.1223
150056 | 1.9001 | 0.9769 | 27.6754 | 28.2842 | 28.8727 | 28.2800
150057 | 2.0303 | 0.9769 | 22.7804 | 24.8605 | 28.9529 | 25.4129
150058 | 1.5500 | 0.9914 | 26.9753 | 27.5341 | 29.1445 | 27.9361
150059 | 1.5327 | 0.9769 | 27.0792 | 28.5715 | 31.4987 | 29.0629
150060 | 1.0850 | * | 23.2409 | 24.8544 | * | 24.0586
150061 | 1.1346 | 0.8564 | 21.3640 | 22.2822 | 21.3711 | 21.6717
150062 | 1.0875 | * | 23.5550 | 24.6088 | * | 24.0884
150063 | *** | * | 19.0377 | * | * | 19.0377
150064 | 1.2094 | 0.8564 | 21.6370 | 23.7707 | 25.4987 | 23.6332
150065 | 1.2357 | 0.9619 | 24.4451 | 25.9461 | 27.9283 | 26.1247
150069 | 1.2455 | 0.9522 | 25.3445 | 25.2655 | 26.2028 | 25.6133
150070 | *** | * | 22.6260 | * | * | 22.6260
150072 | 1.1543 | 0.8564 | 20.3191 | 20.5111 | 21.2120 | 20.6926
150074 | 1.4535 | 0.9769 | 24.4374 | 25.2586 | 25.9321 | 25.2121
150075 | 1.0892 | 0.9283 | 24.2085 | 24.0745 | 25.1568 | 24.4755
150076 | 1.2756 | 0.9721 | 24.1434 | 28.1874 | 29.3249 | 27.1556
150078 | 1.0091 | * | 21.2476 | * | * | 21.2476
150079 | 1.1106 | * | 20.6486 | 21.4067 | * | 21.0466
150082 | 1.7142 | 0.8898 | 22.2054 | 25.5860 | 28.3494 | 25.3487
150084 | 1.7587 | 0.9769 | 28.7722 | 29.3905 | 31.1720 | 29.7450
150086 | 1.1986 | 0.9522 | 22.4471 | 23.9404 | 25.1992 | 23.9069
150088 | 1.2537 | 0.9619 | 23.0998 | 23.6253 | 27.2103 | 24.6426
150089 | 1.5788 | 0.8564 | 22.6545 | 25.0449 | 24.7233 | 24.0903
150090 | 1.5435 | 1.0564 | 24.6758 | 26.2899 | 30.4835 | 27.1134
150091 ʰ | 1.1169 | 0.9856 | 27.8087 | 30.6209 | 30.4235 | 29.7411
150096 | 0.9101 | * | 21.9091 | * | * | 21.9091
150097 | 1.1189 | 0.9769 | 24.4179 | 25.0367 | 27.7468 | 25.7862
150100 | 1.7129 | 0.8898 | 22.2687 | 24.3530 | 25.7997 | 24.0897
150101 | 1.0796 | 0.9283 | 27.9745 | 29.1657 | 29.0300 | 28.7724
150102 | 1.0335 | 0.9397 | 22.6870 | 24.5923 | 25.7424 | 24.3784
150104 | 1.0430 | 0.9769 | 21.8172 | 25.5871 | 28.2552 | 25.1795
150106 | 1.0601 | * | 20.9955 | 20.9387 | * | 20.9659
150109 | 1.4360 | 0.8777 | 24.3786 | 23.5865 | 25.3367 | 24.4270
150112 | 1.4112 | 0.9619 | 24.7455 | 26.5643 | 28.0068 | 26.4823
150113 | 1.2571 | 0.9619 | 23.0450 | 24.8760 | 24.7960 | 24.2644
150115 | 1.4456 | 0.8564 | 20.5215 | 19.3411 | 22.0747 | 20.5908
150122 | 1.1591 | 0.9619 | 24.2471 | 26.0173 | * | 25.1559
150123 | *** | * | 15.3050 | * | * | 15.3050
150124 | 1.1006 | * | 18.8218 | 21.3933 | * | 20.1237
150125 | 1.4955 | 1.0564 | 24.3872 | 26.7666 | 27.6535 | 26.2866
150126 | 1.4314 | 1.0564 | 25.5585 | 26.9887 | 28.9454 | 27.2077
150128 | 1.4221 | 0.9769 | 23.1660 | 26.4976 | 28.7810 | 26.1051
150129 | 1.1677 | 0.9769 | 35.4311 | 29.9099 | 29.7398 | 31.3352
150130 | 1.0936 | * | 21.5678 | 21.7399 | * | 21.6494
150132 | *** | * | 24.2559 | 25.6257 | 27.6560 | 25.8491
150133 | 1.2284 | 0.9283 | 21.8839 | 22.7293 | 25.1322 | 23.2323
150134 | 1.0654 | 0.9155 | 22.1085 | 23.8526 | 26.3248 | 24.0103
150136 | *** | * | 25.7004 | 26.2703 | * | 25.9880
150146 | 1.0527 | 0.9283 | 26.1168 | 29.3383 | 29.5256 | 28.3979
150147 | 1.2949 | 1.0564 | 32.3336 | 22.8456 | 27.2339 | 26.5823
150148 | *** | * | 27.2081 | * | * | 27.2081
150149 | 0.9789 | 0.8898 | 23.8554 | 23.6361 | 23.7026 | 23.7280
150150 | 1.2516 | 0.9283 | 26.5138 | 25.5331 | 27.0542 | 26.3875
150151 | *** | * | * | 38.1446 | * | 38.1446
150152 | *** | * | * | 44.7143 | * | 44.7143
150153 | 2.4889 | 0.9769 | * | * | 32.1022 | 32.1022
150154 | 2.5312 | 0.9769 | * | * | 29.8514 | 29.8514
150155 | *** | * | * | * | 45.0125 | 45.0125
150156 | *** | * | * | * | 25.9681 | 25.9681
150157 | 1.5340 | 0.9769 | * | * | * | *
150158 | 1.1765 | 0.9769 | * | * | * | *
150159 | 0.9340 | 0.8564 | * | * | * | *
150160 | 1.8626 | 0.9769 | * | * | * | *
160001 | 1.1593 | 0.9219 | 23.8657 | 25.1220 | 24.5108 | 24.4801
160003 | 0.8939 | * | 19.0037 | * | * | 19.0037
160005 | 1.1851 | 0.8709 | 21.1745 | 21.8950 | 23.1034 | 22.0673
160008 | 1.0862 | 0.8709 | 19.8066 | 20.7200 | 22.1402 | 20.8765
160013 | 1.2689 | 0.8927 | 23.0163 | 23.7163 | 24.0956 | 23.5930
160014 | 0.9603 | * | 19.2447 | 20.5882 | * | 19.9190
160016 | 1.5514 | 0.9009 | 21.2785 | 23.3619 | 24.5338 | 23.0645
160020 | 1.1036 | * | 19.0043 | 19.5554 | * | 19.2901
160024 | 1.6000 | 0.9170 | 24.2385 | 26.2392 | 27.4158 | 25.9688
160026 | 1.0127 | * | 24.2045 | 24.7424 | * | 24.4805
160028 | 1.3164 | 0.9399 | 26.0052 | 26.2948 | 27.8535 | 26.8171
160029 | 1.6096 | 0.9598 | 24.9493 | 27.9277 | 28.7324 | 27.2104
160030 | 1.4171 | 0.9745 | 24.9920 | 26.7068 | 28.7786 | 26.8184
160031 | 0.9885 | * | 18.5281 | 19.7368 | * | 19.1263
160032 | 1.0670 | 0.8981 | 22.3837 | 23.4727 | 25.4662 | 23.8323
160033 | 1.7526 | 0.8836 | 23.4148 | 24.6768 | 26.5315 | 24.9144
160034 | 0.9761 | * | 19.4837 | 19.3503 | * | 19.4156
160039 | 0.9847 | * | 20.9623 | 22.1180 | * | 21.5414
160040 | 1.2762 | 0.8709 | 21.8187 | 23.9053 | 25.9032 | 23.9141
160044 | 1.1479 | * | 19.5635 | * | * | 19.5635
160045 | 1.7219 | 0.8756 | 24.4957 | 25.4153 | 26.6463 | 25.5518
160047 | 1.4020 | 0.9399 | 24.5000 | 25.2072 | 26.0227 | 25.2497
160048 | 1.0438 | * | 19.5701 | 19.5832 | * | 19.5767
160050 | 1.1274 | * | 23.8830 | 24.5403 | * | 24.2221
160057 | 1.2427 | 0.9454 | 22.0472 | 23.0937 | 25.1272 | 23.4614
160058 | 1.9602 | 0.9598 | 25.5244 | 27.1646 | 28.4167 | 27.0670
160064 | 1.5239 | 0.9491 | 27.6301 | 28.6139 | 28.7669 | 28.4068
160066 | 1.0583 | * | 21.4631 | 22.7709 | * | 22.1300
160067 | 1.3113 | 0.8709 | 21.9418 | 23.4060 | 24.8137 | 23.5158
160069 | 1.5045 | 0.8994 | 22.7514 | 25.3402 | 27.4473 | 25.2028
160074 | 1.0988 | * | 20.2418 | * | * | 20.2418
160076 | *** | * | 20.9749 | * | * | 20.9749
160079 | 1.5445 | 0.8756 | 22.5299 | 23.7234 | 24.7372 | 23.6850
160080 | 1.3034 | 0.8836 | 23.5721 | 23.1837 | 25.8252 | 24.2266
160081 | 1.1639 | * | 21.3614 | 23.1930 | * | 22.2788
160082 | 1.8118 | 0.9170 | 23.8181 | 26.4398 | 27.4718 | 25.8854
160083 | 1.6842 | 0.9170 | 25.0617 | 28.2193 | 27.3004 | 26.8898
160089 | 1.2916 | 0.9009 | 21.5693 | 22.6551 | 23.2149 | 22.4971
160090 | 0.8236 | * | 21.2753 | * | * | 21.2753
160091 | 0.9379 | * | 18.0630 | 17.9862 | * | 18.0240
160092 | 0.9932 | * | 22.0841 | * | * | 22.0841
160101 | 1.1212 | 0.9170 | 24.2309 | 25.1000 | 25.0503 | 24.7943
160104 | 1.5160 | 0.8836 | 24.0075 | 24.9134 | 28.1891 | 25.7176
160106 | *** | * | 21.4912 | * | * | 21.4912
160107 | *** | * | 21.3754 | * | * | 21.3754
160110 | 1.5216 | 0.8709 | 24.1762 | 24.9434 | 26.6633 | 25.2722
160112 | 1.2343 | 0.8709 | 21.8901 | 23.0672 | 24.7957 | 23.3023
160113 | *** | * | 18.6599 | * | * | 18.6599
160115 | 1.0431 | * | 19.5764 | * | * | 19.5764
160116 | 1.0101 | * | 22.2019 | * | * | 22.2019
160117 | 1.3161 | 0.8994 | 23.4250 | 25.0278 | 25.4659 | 24.6501
160118 | *** | * | 18.3322 | 19.7764 | * | 19.0436
160122 | 1.1026 | 0.8709 | 22.9565 | 22.5872 | 23.9177 | 23.1647
160124 | 1.1569 | 0.8709 | 22.7223 | 23.1690 | 22.5482 | 22.8123
160126 | 1.0168 | * | 20.3748 | 19.8323 | * | 20.1046
160140 | 1.0468 | * | 22.5230 | * | * | 22.5230
160146 | 1.4552 | 0.9062 | 20.9583 | 22.9897 | 22.6949 | 22.1903
160147 | 1.3425 | 0.9009 | 26.6577 | 26.6438 | 28.6303 | 27.3539
160153 | 1.6240 | 0.9062 | 26.3671 | 28.9881 | 29.9378 | 28.4563
160154 | 0.8245 | * | * | * | * | *
170001 | 1.2230 | 0.8018 | 20.9837 | 21.9131 | 23.1260 | 21.9964
170006 | 1.2544 | 0.8626 | 20.6460 | 21.9019 | 24.2068 | 22.3015
170009 | 1.0730 | 0.9345 | 29.1979 | 29.2588 | 30.9025 | 29.7689
170010 | 1.2042 | 0.8310 | 21.2131 | 24.0008 | 23.9707 | 23.0819
170012 | 1.6403 | 0.8776 | 22.6869 | 24.7392 | 26.1367 | 24.4947
170013 | 1.5197 | 0.8776 | 23.1159 | 25.0419 | 25.2476 | 24.4806
170014 | 1.0370 | 0.9345 | 22.9772 | 23.5960 | 23.8135 | 23.4738
170015 | 1.0219 | * | 19.1902 | 20.2367 | * | 19.7243
170016 | 1.6343 | 0.8763 | 24.2336 | 25.9482 | 25.8061 | 25.3473
170017 | 1.1055 | 0.9016 | 23.3030 | 24.7771 | 26.9657 | 25.0890
170018 | 0.9384 | * | 17.9497 | * | * | 17.9497
170019 | 1.1578 | * | 20.3243 | 22.0251 | * | 21.1885
170020 | 1.5647 | 0.8776 | 22.2571 | 23.1800 | 23.2757 | 22.9031
170022 | 1.1216 | * | 22.9313 | 22.2878 | * | 22.6058
170023 | 1.4424 | 0.8776 | 23.2690 | 23.9808 | 24.0561 | 23.7670
170027 | 1.4371 | 0.8018 | 21.4678 | 22.5103 | 23.1766 | 22.3745
170033 | 1.3350 | 0.8776 | 20.0801 | 20.7865 | 21.9709 | 20.9382
170039 | 0.9529 | 0.9016 | 20.1983 | 21.5203 | 26.9852 | 22.6024
170040 | 1.9231 | 0.9345 | 27.1771 | 28.2856 | 28.4458 | 27.9951
170049 | 1.4626 | 0.9345 | 24.1208 | 24.7895 | 25.2070 | 24.7282
170052 | 1.2007 | * | 17.3794 | 18.5291 | * | 17.9769
170054 | *** | * | 17.5500 | * | * | 17.5500
170058 | 1.0573 | 0.9345 | 22.0398 | 23.3398 | 22.9209 | 22.7663
170068 | 1.2227 | 0.9248 | 20.8771 | 22.6087 | 23.0635 | 22.2050
170070 | 0.9776 | * | 16.4767 | 16.0162 | * | 16.2556
170074 | 1.2346 | 0.8018 | 20.4936 | 21.0565 | 23.7829 | 21.8361
170075 | 0.8407 | 0.8018 | 16.2047 | 16.5444 | 19.7760 | 17.4870
170085 | 0.9089 | * | 18.4867 | * | * | 18.4867
170086 | 1.5628 | 0.8763 | 22.7737 | 24.0812 | 26.1362 | 24.3755
170090 | *** | * | 15.9807 | * | * | 15.9807
170093 | 0.8364 | * | 16.8710 | 16.5553 | * | 16.7116
170094 | 0.9776 | 0.8018 | 20.3678 | 21.3887 | 21.5295 | 21.2055
170097 | *** | * | 20.3391 | * | * | 20.3391
170098 | 0.9881 | * | 20.0078 | 20.1242 | * | 20.0657
170103 | 1.2325 | 0.9016 | 21.4985 | 22.8707 | 23.8042 | 22.7657
170104 | 1.5046 | 0.9345 | 26.1866 | 26.9671 | 26.2990 | 26.4895
170105 | 1.0170 | 0.8018 | 19.6687 | 21.4422 | 21.9606 | 21.0348
170109 | 1.0424 | 0.9345 | 22.7166 | 23.2626 | 23.1089 | 23.0341
170110 | 0.9595 | 0.8018 | 21.8904 | 22.9195 | 23.3260 | 22.7144
170114 | 0.8803 | * | 18.1610 | 18.9158 | * | 18.5532
170116 | *** | * | 23.1127 | * | * | 23.1127
170120 | 1.3342 | 0.8626 | 19.8723 | 21.0499 | 22.0253 | 20.9846
170122 | 1.6347 | 0.9016 | 24.6532 | 25.3981 | 26.6605 | 25.5592
170123 | 1.6504 | 0.9016 | 26.4676 | 27.2239 | 27.6653 | 27.0980
170133 | 1.0473 | 0.9345 | 21.7748 | 22.9309 | 23.1226 | 22.6168
170137 | 1.2362 | 0.8018 | 22.7676 | 23.8863 | 24.7096 | 23.8060
170142 | 1.3490 | 0.8639 | 22.4095 | 22.5778 | 23.9527 | 23.0055
170143 | 1.1942 | * | 19.7643 | 20.4459 | * | 20.1017
170144 | *** | * | 24.4259 | 24.6260 | * | 24.5144
170145 | 1.0743 | 0.8018 | 21.4472 | 21.5756 | 23.2162 | 22.0629
170146 | 1.4609 | 0.9345 | 28.1965 | 29.1358 | 29.8858 | 29.0716
170147 | 2.0068 | 0.9016 | 23.1610 | 21.4753 | 22.4974 | 22.3452
170150 | 1.1855 | 0.8018 | 17.4916 | 18.5744 | 20.9448 | 19.0505
170166 | 1.0178 | 0.8018 | 18.5978 | 19.2842 | 21.0762 | 19.6365
170175 | 1.3744 | 0.8776 | 23.6262 | 23.9304 | 25.6281 | 24.4016
170176 | 1.4949 | 0.9345 | 24.2283 | 26.2366 | 27.2332 | 25.8724
170180 | *** | * | * | 25.1366 | 32.5016 | 27.5336
170182 | 1.4645 | 0.9345 | 24.3820 | 25.7443 | 27.3503 | 25.8409
170183 | 1.9822 | 0.9016 | 22.8633 | 24.5539 | 25.8340 | 24.4112
170185 | 1.3211 | 0.9345 | 24.8478 | 26.7797 | 27.8139 | 26.6943
170186 | 2.6912 | 0.9016 | 30.5157 | 31.7896 | 32.8392 | 31.7827
170187 | 1.4503 | 0.8018 | 21.0780 | 23.3702 | 22.8493 | 22.4498
170188 | 2.0361 | 0.9345 | 27.2225 | 29.9751 | 30.6844 | 29.3821
170190 | 1.0363 | 0.8639 | 22.4865 | 22.8729 | 22.9540 | 22.7638
170191 | 1.6075 | 0.8018 | 24.9599 | 21.3069 | 22.1197 | 22.8235
170192 | 2.0024 | 0.9016 | * | 27.9704 | 26.2724 | 27.0528
170193 | 1.6307 | 0.8776 | * | 24.7430 | 20.6821 | 22.6027
170194 | 1.3761 | 0.9345 | * | 27.9904 | 29.9014 | 29.1704
170195 | 2.0115 | 0.9345 | * | * | 30.1001 | 30.1001
170196 | 2.2556 | 0.9016 | * | * | * | *
180001 | 1.2877 | 0.9522 | 24.7647 | 25.4217 | 27.6917 | 25.9876
180002 | 1.0773 | 0.7805 | 21.6843 | 22.9727 | 25.7862 | 23.5332
180004 | 1.0803 | 0.7805 | 19.0834 | 19.5437 | 22.0798 | 20.2498
180005 | 1.0872 | 0.8681 | 22.8871 | 24.5561 | 24.9779 | 24.1687
180006 | 0.8758 | * | 15.7136 | 14.8011 | * | 15.2405
180007 | 1.4567 | 0.8965 | 21.8724 | 22.7606 | 25.7042 | 23.4417
180009 | 1.6459 | 0.8828 | 24.0971 | 25.3837 | 26.4101 | 25.3074
180010 | 1.9202 | 0.8965 | 26.4116 | 24.7256 | 25.6153 | 25.5471
180011 | 1.3634 | 0.8643 | 22.3183 | 22.7364 | 25.5463 | 23.5535
180012 | 1.4663 | 0.9155 | 22.9096 | 24.6642 | 25.6000 | 24.4113
180013 | 1.4623 | 0.9550 | 21.4728 | 22.9512 | 23.7075 | 22.7169
180016 | 1.3119 | 0.9155 | 22.2148 | 23.1832 | 24.8408 | 23.4361
180017 | 1.2736 | 0.8144 | 19.0694 | 20.8630 | 21.8885 | 20.6079
180018 | 1.3813 | 0.8643 | 18.3314 | 19.0992 | 20.9857 | 19.4553
180019 | 1.1119 | 0.9522 | 22.0379 | 24.1342 | 24.0283 | 23.3932
180020 | 1.0626 | 0.7805 | 22.3477 | 21.9494 | 24.6953 | 23.0320
180021 | 0.9566 | 0.7805 | 17.9346 | 18.5966 | 20.7950 | 19.1192
180024 | 1.1103 | 0.9155 | 23.6826 | 32.1824 | 31.1159 | 28.8617
180025 | 1.1078 | 0.9155 | 17.4781 | 19.1543 | 22.6897 | 19.7126
180026 | 1.0667 | * | 15.8431 | 18.2120 | * | 17.0401
180027 | 1.1918 | 0.8014 | 22.1072 | 23.8763 | 20.8303 | 22.1687
180028 | 0.9369 | * | 21.4766 | 24.7968 | * | 23.0070
180029 | 1.3613 | 0.8215 | 21.2110 | 23.0536 | 25.6479 | 23.3608
180035 | 1.6181 | 0.9522 | 26.7702 | 29.8438 | 31.0794 | 29.2980
180036 | 1.2003 | 0.8828 | 23.1636 | 25.1154 | 25.2972 | 24.4850
180037 | 1.2535 | 0.9155 | 24.4451 | 25.7361 | 26.3132 | 25.4961
180038 | 1.4731 | 0.8783 | 22.2750 | 24.6348 | 26.0440 | 24.2668
180040 | 2.0443 | 0.9155 | 24.5590 | 26.2125 | 27.9979 | 26.3498
180041 | *** | * | 18.5483 | * | * | 18.5483
180043 | 1.1644 | 0.7805 | 18.8436 | 19.0617 | 20.9326 | 19.5996
180044 | 1.6041 | 0.8681 | 21.6837 | 23.0971 | 24.4569 | 23.0785
180045 | 1.3358 | 0.9522 | 24.5856 | 25.8349 | 27.4732 | 25.9866
180046 | 1.0512 | 0.8965 | 24.7562 | 27.2244 | 27.1034 | 26.3870
180047 | 0.9201 | * | 20.4768 | 21.8037 | * | 21.1276
180048 | 1.2648 | 0.9155 | 22.3601 | 21.6571 | 23.9230 | 22.6272
180049 ʰ | 1.3774 | 0.8965 | 19.4488 | 23.3407 | 22.4769 | 21.7967
180050 | 1.1551 | 0.7805 | 21.7150 | 22.6473 | 26.3604 | 23.5163
180051 | 1.2714 | 0.8420 | 19.2100 | 21.3312 | 23.5299 | 21.4111
180053 | 1.0067 | 0.7805 | 18.6610 | 19.1578 | 21.3044 | 19.7765
180054 | *** | * | 19.0657 | * | * | 19.0657
180055 | 1.1303 | * | 21.1989 | 20.7237 | * | 20.9496
180056 | 1.1053 | 0.8898 | 21.4695 | 22.8910 | 24.3074 | 22.8882
180063 | 1.1270 | * | 15.9185 | 17.9741 | * | 17.0063
180064 | 1.2602 | 0.7805 | 15.3819 | 16.2638 | 17.1010 | 16.2746
180066 | 1.1315 | 0.9550 | 24.6359 | 24.9543 | 22.2713 | 23.9117
180067 | 2.0437 | 0.8965 | 24.0551 | 25.4080 | 26.0238 | 25.1529
180069 | 1.0849 | 0.8681 | 20.8797 | 22.3674 | 26.3701 | 23.2754
180070 | 1.1710 | 0.7805 | 17.4266 | 20.1308 | 20.6741 | 19.4068
180078 | 1.1193 | 0.8681 | 25.4196 | 26.2636 | 27.6806 | 26.4807
180079 | 1.1196 | 0.7805 | 19.5783 | 19.7791 | 20.2100 | 19.8774
180080 | 1.2862 | 0.8643 | 20.1651 | 21.7380 | 21.5818 | 21.1535
180087 | 1.1961 | 0.7805 | 17.7758 | 18.4331 | 20.8841 | 19.0598
180088 | 1.6309 | 0.9155 | 24.6053 | 27.5767 | 28.0916 | 26.7964
180092 | 1.1822 | 0.8965 | 22.4864 | 22.5679 | 23.7909 | 22.9525
180093 | 1.5107 | 0.8553 | 19.2748 | 20.5422 | 20.5807 | 20.1295
180095 | 1.0526 | 0.7805 | 17.1354 | 17.9677 | 17.9146 | 17.6813
180101 | 1.1141 | 0.8965 | 24.2242 | 25.4796 | 27.4505 | 25.7555
180102 | 1.6191 | 0.8014 | 19.1136 | 18.4388 | 21.0896 | 19.5180
180103 | 2.1786 | 0.8965 | 25.1577 | 26.9407 | 28.4583 | 26.8131
180104 | 1.6182 | 0.8014 | 22.8911 | 24.9441 | 25.6157 | 24.5153
180105 | 0.8727 | 0.7805 | 19.5364 | 19.7615 | 21.6002 | 20.2965
180106 | 0.9324 | 0.7805 | 15.7851 | 17.8020 | 20.2884 | 18.1134
180115 | 0.9398 | 0.7805 | 19.9316 | 20.9831 | 20.5539 | 20.4877
180116 | 1.2062 | 0.8248 | 21.8698 | 22.7353 | 23.5354 | 22.7278
180117 | 0.9702 | 0.7805 | 20.5952 | 21.1854 | 22.8469 | 21.5379
180124 | 1.2974 | 0.9550 | 21.4270 | 23.1917 | 24.8292 | 23.1576
180126 | 1.0694 | * | 15.1776 | * | * | 15.1776
180127 | 1.2937 | 0.9155 | 21.4633 | 23.4765 | 24.6774 | 23.2297
180128 | 0.9157 | 0.8087 | 20.5575 | 20.8406 | 22.6056 | 21.3498
180130 | 1.6564 | 0.9155 | 24.8441 | 26.0278 | 27.8900 | 26.2745
180132 | 1.4773 | 0.8643 | 22.2101 | 23.7652 | 24.5105 | 23.5278
180134 | 1.0266 | * | 17.3449 | 18.6779 | * | 18.0324
180138 | 1.2251 | 0.9155 | 25.1789 | 27.3400 | 28.1901 | 26.9211
180139 | 1.0358 | 0.8643 | 21.3797 | 23.5363 | 23.3569 | 22.7612
180141 | 1.8316 | 0.9155 | 24.3140 | 25.3042 | 25.3358 | 25.0026
180143 | 1.6110 | 0.8965 | 23.9125 | 25.1613 | 28.1924 | 25.9094
180144 | *** | * | * | * | 29.5053 | 29.5053
180147 | 1.6512 | 0.8082 | * | * | * | *
180148 | 1.8464 | 0.7805 | * | * | * | *
180149 | 0.9801 | 0.7805 | * | * | * | *
190001 | 1.1108 | 0.8649 | 19.5680 | 19.7516 | 22.1394 | 20.6159
190002 | 1.6691 | 0.8408 | 21.7000 | 22.0056 | 23.3368 | 22.3427
190003 | 1.4723 | 0.8408 | 21.8156 | 23.4977 | 25.8294 | 23.7039
190004 | 1.3170 | 0.8185 | 22.1835 | 23.3290 | 25.3473 | 23.6439
190005 | 1.4546 | 0.8649 | 20.7987 | 22.3208 | 22.6029 | 21.9167
190006 | 1.3351 | 0.8408 | 19.4573 | 22.2467 | 22.7979 | 21.4568
190007 | 1.1639 | 0.7660 | 18.7854 | 19.7528 | 21.8206 | 20.0897
190008 | 1.7441 | 0.8185 | 21.4137 | 24.0111 | 24.6074 | 23.4003
190009 | 1.1756 | 0.7961 | 18.8295 | 19.8404 | 21.1005 | 19.8550
190010 | 1.0742 | * | 19.9788 | 21.6889 | * | 20.8295
190011 | 1.0616 | 0.8074 | 18.1525 | 19.7319 | 21.4052 | 19.7587
190013 | 1.4955 | 0.7922 | 19.6346 | 20.8626 | 21.4573 | 20.6529
190014 | 1.2468 | 0.7660 | 17.4740 | 22.4596 | 22.7151 | 20.7373
190015 | 1.3197 | 0.8649 | 22.1046 | 22.8875 | 23.7789 | 22.9635
190017 ʰ | 1.3276 | 0.8643 | 18.6962 | 21.5033 | 24.5390 | 21.4075
190019 | 1.7264 | 0.7961 | 23.0704 | 23.7168 | 24.0468 | 23.6134
190020 | 1.1659 | 0.8085 | 19.8505 | 21.6136 | 22.1967 | 21.1781
190025 | 1.1943 | 0.7660 | 20.4651 | 20.8950 | 23.5007 | 21.6221
190026 | 1.5818 | 0.7961 | 21.3386 | 22.5087 | 23.7702 | 22.5754
190027 | 1.7065 | 0.7922 | 21.2449 | 21.2526 | 24.3007 | 22.2353
190034 | 1.1159 | 0.7660 | 17.5002 | 19.6943 | 20.7334 | 19.3253
190036 | 1.7084 | 0.8649 | 23.7356 | 24.8152 | 25.4164 | 24.6493
190037 | 1.0152 | 0.7922 | 16.7629 | 18.6393 | 19.4071 | 18.1994
190039 | 1.4772 | 0.8649 | 23.3105 | 25.6665 | 24.4386 | 24.4904
190040 | 1.3321 | 0.8649 | 23.8076 | 26.7428 | 28.6297 | 26.2612
190041 | 1.4753 | 0.8848 | 23.9082 | 24.6734 | 28.5376 | 25.5929
190043 | 0.9745 | * | 16.8944 | 17.3477 | * | 17.1195
190044 ʰ | 1.2786 | 0.8408 | 19.5304 | 19.5567 | 20.9993 | 20.0144
190045 | 1.5975 | 0.8649 | 24.0490 | 25.3854 | 25.8238 | 25.0923
190046 | 1.4254 | 0.8649 | 22.2884 | 24.2128 | 23.8552 | 23.4370
190048 | 1.0931 | * | 18.6148 | 19.6288 | * | 19.1025
190049 | *** | * | 20.1229 | * | * | 20.1229
190050 | 1.1067 | 0.7660 | 18.5287 | 19.1076 | 21.0259 | 19.5664
190053 | 1.0858 | 0.7660 | 15.7258 | 16.4968 | 17.9788 | 16.7792
190054 | 1.3101 | 0.7767 | 20.3525 | 20.1108 | 23.1471 | 21.2261
190059 | 0.8305 | * | 19.2396 | * | * | 19.2396
190060 | 1.4859 | 0.7922 | 22.2517 | 23.6278 | 23.7393 | 23.2026
190064 | 1.5764 | 0.8085 | 21.5514 | 23.3617 | 23.1358 | 22.7104
190065 | 1.5175 | 0.8085 | 23.0523 | 23.7450 | 22.1880 | 22.9778
190077 | 0.9229 | * | 18.4043 | 18.8409 | * | 18.6185
190078 ʰ | 1.0615 | 0.8643 | 21.5782 | 21.3786 | 22.2432 | 21.7436
190079 | 1.2813 | 0.8649 | 21.8158 | 21.2546 | 24.0985 | 22.4209
190081 | 0.8860 | 0.7660 | 14.9141 | 15.6146 | 20.0122 | 16.8709
190083 | 0.8253 | * | 19.2683 | * | * | 19.2683
190086 | 1.2378 | 0.8074 | 18.8306 | 19.8823 | 22.0610 | 20.2693
190088 ʰ | 1.0650 | 0.9553 | 22.5045 | 22.3480 | 23.8562 | 22.8805
190089 | 1.0009 | * | 16.2961 | * | * | 16.2961
190090 | 1.0438 | 0.7660 | 20.0745 | 20.2045 | 23.1241 | 21.2141
190095 | *** | * | 18.7302 | 18.0174 | * | 18.3606
190098 | 1.6553 | 0.8848 | 23.0802 | 24.6353 | 25.6854 | 24.4830
190099 | 0.9915 | 0.8085 | 21.1657 | 20.4597 | 22.0610 | 21.2491
190102 | 1.5576 | 0.8408 | 23.4618 | 25.2267 | 27.3126 | 25.3096
190106 | 1.1755 | 0.7961 | 21.5643 | 21.7228 | 23.5376 | 22.2922
190109 | 1.1008 | * | 17.4842 | 18.6524 | * | 18.0560
190110 | 0.9269 | * | 19.0611 | * | * | 19.0611
190111 | 1.6347 | 0.8848 | 25.2370 | 24.4998 | 25.5729 | 25.0944
190114 | 1.0617 | 0.7660 | 14.6258 | 15.8031 | 17.2677 | 15.9330
190115 | 1.1204 | 0.8848 | 26.0272 | 26.6295 | 28.2067 | 26.9308
190116 | 1.2672 | 0.7660 | 18.6074 | 20.3844 | 22.3710 | 20.4868
190118 | 0.9545 | 0.8848 | 19.0200 | 19.7025 | 22.8809 | 20.5837
190122 | 1.2834 | 0.8085 | 19.3131 | 23.7082 | 22.0072 | 21.5659
190124 | 1.5832 | 0.8649 | 23.4862 | 24.6675 | 26.0032 | 24.7034
190125 | 1.6555 | 0.8074 | 22.3976 | 23.9649 | 25.5463 | 23.9119
190128 | 1.0067 | 0.8085 | 24.7842 | 27.9136 | 28.3257 | 27.0431
190130 | 1.0390 | * | 16.6910 | * | * | 16.6910
190131 | 1.1780 | 0.8649 | 22.5032 | 25.1917 | 27.8465 | 25.2415
190133 | 0.9374 | 0.7898 | 14.3089 | 13.6266 | 18.2044 | 15.9159
190135 | 1.4966 | 0.8649 | 26.9920 | 26.8238 | 27.7540 | 27.1854
190140 | 1.0113 | 0.7660 | 17.0371 | 17.6936 | 18.9652 | 17.9144
190144 ʰ | 1.1488 | 0.9553 | 21.1658 | 21.7547 | 22.9181 | 21.9664
190145 | 0.9687 | 0.7660 | 17.3361 | 18.9678 | 19.9265 | 18.7714
190146 | 1.5834 | 0.8649 | 23.7721 | 26.1792 | 27.4824 | 25.7165
190148 | *** | * | 20.8321 | * | * | 20.8321
190149 | 0.9361 | * | 17.1671 | 18.8819 | * | 17.9835
190151 | 0.9783 | 0.7660 | 17.8741 | 18.6293 | 18.7467 | 18.4210
190152 | 1.3713 | 0.8649 | 27.4708 | 27.6099 | 28.1334 | 27.7337
190156 | 0.8841 | * | 18.3702 | * | * | 18.3702
190158 | 1.5509 | 0.8649 | 26.2352 | 26.3042 | 26.4787 | 26.3387
190160 | 1.5686 | 0.8074 | 20.0025 | 21.6740 | 22.9325 | 21.4638
190161 | 1.0937 | 0.7922 | 17.8794 | 19.1022 | 22.6187 | 19.7054
190162 | *** | * | 22.1781 | 25.0328 | 25.2952 | 24.1135
190164 | 1.0912 | 0.7961 | 21.4247 | 22.8599 | 25.2560 | 23.2755
190167 | 1.1962 | 0.7660 | 17.8604 | 24.3185 | 26.4669 | 22.7193
190175 | 1.3762 | 0.8649 | 24.6790 | 27.1531 | 26.0547 | 26.0095
190176 | 1.7623 | 0.8649 | 25.8482 | 25.6997 | 25.8826 | 25.8092
190177 | 1.6937 | 0.8649 | 25.4769 | 27.4621 | 27.7792 | 26.9287
190182 | 1.0531 | 0.8649 | 25.0837 | 28.4799 | 27.1682 | 26.8223
190183 | 1.1291 | 0.8185 | 18.3151 | 19.8084 | 22.6928 | 20.1357
190184 | 0.9625 | 0.7821 | 21.3191 | 23.9609 | 24.9476 | 23.4329
190185 | 1.4395 | 0.8649 | 24.4176 | 24.7912 | 25.6394 | 24.9988
190190 | 0.8828 | 0.7821 | 14.0052 | 16.1195 | 24.3328 | 19.1578
190191 ʰ | 1.3171 | 0.8085 | 22.3755 | 23.5734 | 24.1923 | 23.4096
190196 | 0.9256 | 0.8408 | 21.9355 | 24.7135 | 24.0385 | 23.5870
190197 | 1.3938 | 0.8074 | 22.9631 | 24.3735 | 25.8071 | 24.3487
190199 | 1.0924 | 0.8085 | 18.5317 | 14.1410 | 27.3304 | 19.2137
190200 | *** | * | 26.4258 | 27.5681 | 28.8173 | 27.4415
190201 | 1.4429 | 0.7922 | 22.5588 | 24.5877 | 25.1010 | 24.1146
190202 | 1.3470 | 0.8085 | 21.8900 | 24.7944 | 27.6084 | 24.9263
190203 | 5.8369 | 0.8649 | 26.9099 | 26.8795 | 28.1832 | 27.2998
190204 | 1.4639 | 0.8649 | 28.8777 | 28.3684 | 28.1033 | 28.4525
190205 | 1.7275 | 0.8408 | 21.7696 | 24.4540 | 26.6832 | 24.2969
190206 | 1.5338 | 0.8649 | 26.9117 | 26.0139 | 26.7401 | 26.5489
190208 | 0.8155 | 0.7660 | 24.8409 | 24.2586 | 28.7306 | 26.0391
190218 | 1.1787 | 0.8688 | 23.9182 | 25.0356 | 26.7262 | 25.2399
190236 | 1.4242 | 0.8848 | 23.8233 | 23.6824 | 24.7142 | 24.0796
190240 | *** | * | 13.9888 | * | * | 13.9888
190241 | 1.4547 | 0.8185 | 28.9620 | 23.9700 | 25.2123 | 25.8649
190242 | 1.1385 | 0.8085 | 20.5937 | 23.0072 | 24.8461 | 22.9349
190243 | *** | * | 30.6060 | * | * | 30.6060
190245 | 1.6195 | 0.8074 | * | 27.1786 | 25.5751 | 26.4103
190246 | 1.6846 | 0.7821 | * | * | * | *
190247 | *** | * | * | * | 32.7499 | 32.7499
190248 | *** | * | * | * | 23.2221 | 23.2221
190249 | 1.3588 | 0.8085 | * | * | 20.0468 | 20.0468
190250 | 2.2896 | 0.8649 | * | * | 31.5102 | 31.5102
190251 | 1.3358 | 0.8085 | * | * | 21.4464 | 21.4464
190252 | *** | * | * | * | 23.6921 | 23.6921
190253 | 1.0057 | 0.8649 | * | * | 22.8060 | 22.8060
190254 | *** | * | * | * | 32.9289 | 32.9289
190255 | 0.7976 | 0.8408 | * | * | 22.2413 | 22.2413
190256 | 1.0317 | 0.8649 | * | * | * | *
190257 | 1.6566 | 0.7660 | * | * | * | *
190258 | 1.6648 | 0.8848 | * | * | 31.3712 | 31.3712
190259 | 1.6861 | 0.8408 | * | * | * | *
190260 | 1.4933 | 0.8649 | * | * | * | *
190261 | 0.8547 | 0.8074 | * | * | * | *
190262 | 1.4612 | 0.8649 | * | * | * | *
190263 | 2.3858 | 0.8408 | * | * | * | *
190264 | 0.8850 | 0.7660 | * | * | * | *
190265 | 1.7399 | 0.8074 | * | * | * | *
190266 | 2.1688 | 0.8085 | * | * | * | *
190267 | 1.2267 | 0.8649 | * | * | * | *
190268 | 1.0791 | 0.8408 | * | * | * | *
190272 | 1.3853 | 0.8408 | * | * | * | *
200001 | 1.3795 | 0.9612 | 23.2210 | 25.1145 | 25.2542 | 24.5664
200002 | 1.1618 | 0.8522 | 24.1446 | 25.7478 | 25.7212 | 25.1676
200007 | 1.0627 | * | 22.3920 | * | * | 22.3920
200008 | 1.3474 | 0.9862 | 25.1741 | 27.4412 | 27.7137 | 26.7659
200009 | 1.9092 | 0.9862 | 28.1409 | 31.1056 | 30.7510 | 29.9948
200012 | 1.2208 | * | 24.1243 | 25.7623 | * | 24.9713
200013 | 1.0873 | * | 23.9048 | 24.4131 | * | 24.1576
200018 | 1.3054 | 0.8393 | 24.3294 | 23.6337 | 23.5632 | 23.8074
200019 | 1.2797 | 0.9862 | 24.0926 | 25.1367 | 25.6649 | 24.9808
200020 | 1.2476 | 1.0237 | 28.7351 | 31.7083 | 32.6436 | 31.0873
200021 | 1.2292 | 0.9862 | 25.1027 | 24.5519 | 27.1380 | 25.6456
200024 | 1.5488 | 0.9472 | 24.6484 | 26.0080 | 27.5410 | 26.1631
200025 | 1.1535 | 0.9862 | 24.3646 | 26.0573 | 26.3124 | 25.5690
200026 | *** | * | 21.9997 | * | * | 21.9997
200027 | 1.2026 | * | 23.2912 | 26.3118 | * | 24.7659
200028 | 1.0031 | * | 24.3061 | 24.3271 | * | 24.3172
200031 | 1.2782 | 0.8393 | 20.6202 | 21.9489 | 21.2370 | 21.2688
200032 | 1.1773 | 0.8859 | 24.2221 | 25.5227 | 26.3322 | 25.3678
200033 | 1.8616 | 0.9612 | 26.8727 | 28.6479 | 29.3109 | 28.2775
200034 | 1.3301 | 0.9472 | 26.1150 | 26.2926 | 27.0582 | 26.4957
200037 | 1.1683 | 0.8393 | 23.3490 | 23.2333 | 24.1732 | 23.5989
200039 | 1.2819 | 0.9472 | 24.0474 | 25.1196 | 25.1179 | 24.7718
200040 | 1.2346 | 0.9862 | 23.6791 | 25.5405 | 25.9893 | 25.0498
200041 | 1.1669 | 0.8393 | 23.6797 | 24.5532 | 24.9670 | 24.4227
200050 | 1.2140 | 0.9612 | 25.5233 | 26.4992 | 27.6825 | 26.5809
200052 | 1.1178 | 0.8393 | 22.7763 | 21.8726 | 22.5159 | 22.3874
200063 | 1.1531 | 0.9472 | 24.7235 | 25.0167 | 25.8623 | 25.2032
200066 | 1.1290 | * | 21.6354 | * | * | 21.6354
210001 | 1.4094 | 0.9443 | 26.3144 | 27.7561 | 28.2858 | 27.4567
210002 | 1.9797 | 0.9922 | 25.2859 | 26.4992 | 32.3005 | 27.8930
210003 | 1.6765 | 1.0977 | 32.3042 | 29.8684 | 34.1109 | 32.0785
210004 | 1.4263 | 1.0888 | 29.4300 | 34.2392 | 33.6056 | 32.4277
210005 | 1.2774 | 1.0848 | 27.1276 | 28.7557 | 28.9554 | 28.2840
210006 | 1.0947 | 0.9922 | 25.6396 | 25.4081 | 25.9005 | 25.6506
210007 | 1.9020 | 0.9922 | 28.4496 | 30.2548 | 31.8767 | 30.2102
210008 | 1.3683 | 0.9922 | 26.3008 | 25.2833 | 24.3341 | 25.2443
210009 | 1.7601 | 0.9922 | 24.6332 | 26.2360 | 27.7900 | 26.2273
210010 | *** | * | 24.5071 | 25.7775 | * | 25.1483
210011 | 1.4000 | 0.9922 | 24.8373 | 27.5031 | 30.8575 | 27.8034
210012 | 1.6649 | 0.9922 | 25.7934 | 27.4103 | 30.3078 | 27.9645
210013 | 1.3042 | 0.9922 | 23.9875 | 25.1348 | 28.5327 | 25.8589
210015 | 1.3239 | 0.9922 | 25.8532 | 28.2029 | 29.9261 | 28.0246
210016 | 1.8457 | 1.0888 | 28.6992 | 32.2081 | 32.3506 | 31.0721
210017 | 1.2232 | 0.8881 | 21.3983 | 23.2168 | 25.1890 | 23.3045
210018 | 1.2039 | 1.0888 | 27.5431 | 29.1870 | 29.5533 | 28.7862
210019 | 1.7900 | 0.8881 | 24.9252 | 26.1824 | 27.3731 | 26.1640
210022 | 1.3750 | 1.0888 | 30.1470 | 33.8015 | 35.4727 | 33.0908
210023 | 1.4346 | 1.0131 | 29.0844 | 30.4656 | 32.1812 | 30.6344
210024 | 1.7257 | 0.9922 | 27.1756 | 29.5579 | 30.6359 | 29.1340
210025 | 1.2558 | 0.8881 | 23.8943 | 26.0771 | 23.8552 | 24.4884
210027 | 1.4335 | 0.8881 | 23.9255 | 26.0111 | 24.6343 | 24.8754
210028 | 1.1088 | 0.9393 | 24.1265 | 25.9221 | 26.3469 | 25.4770
210029 | 1.2765 | 0.9922 | 31.2888 | 27.9741 | 31.0266 | 29.9864
210030 | 1.3401 | 0.8881 | 27.5507 | 29.5635 | 26.9764 | 28.0053
210032 | 1.1394 | 1.0570 | 25.7138 | 26.1829 | 27.0727 | 26.3385
210033 | 1.1855 | 0.9922 | 26.6113 | 29.0420 | 28.5534 | 28.0912
210034 | 1.2987 | 0.9922 | 26.3896 | 28.4308 | 30.2908 | 28.4088
210035 | 1.2624 | 1.0977 | 24.5198 | 26.1082 | 28.6484 | 26.4956
210037 | 1.2117 | 0.8881 | 24.1913 | 27.0973 | 27.3287 | 26.3152
210038 | 1.1800 | 0.9922 | 28.3414 | 29.5980 | 29.8121 | 29.2809
210039 | 1.1329 | 1.0977 | 25.8415 | 27.6940 | 30.4991 | 28.0360
210040 | 1.2314 | 0.9922 | 28.3723 | 29.3514 | 28.3559 | 28.7007
210043 | 1.3294 | 1.0131 | 24.3070 | 27.5657 | 26.6524 | 26.1522
210044 | 1.3531 | 0.9922 | 24.8083 | 28.8700 | 29.7339 | 27.7789
210045 | 1.0580 | 0.8881 | 15.0867 | 15.6380 | 14.2223 | 14.9750
210048 | 1.3008 | 1.0209 | 25.0617 | 28.4638 | 27.5043 | 27.0601
210049 | 1.2077 | 0.9922 | 25.9342 | 26.9656 | 26.0900 | 26.3249
210051 | 1.3111 | 1.0977 | 27.3692 | 29.2998 | 29.8892 | 28.8773
210054 | 1.3541 | 1.0977 | 24.6658 | 26.2295 | 27.4328 | 26.1740
210055 | 1.2013 | 1.0977 | 28.0014 | 29.9708 | 30.6941 | 29.5880
210056 | 1.2833 | 0.9922 | 26.6884 | 28.6091 | 30.0810 | 28.5239
210057 | 1.4087 | 1.0888 | 29.2233 | 32.2883 | 31.6787 | 31.1224
210058 | 1.0870 | 0.9922 | 24.8576 | 29.7841 | 31.0873 | 28.8006
210060 | 1.1529 | 1.0977 | 28.7531 | 28.5087 | 27.1764 | 28.0775
210061 | 1.3212 | 0.8881 | 24.1369 | 23.6662 | 23.1645 | 23.6063
220001 | 1.2571 | 1.1343 | 27.3238 | 29.0014 | 30.6070 | 28.9932
220002 | 1.3255 | 1.1343 | 28.9722 | 30.3598 | 32.4356 | 30.6685
220003 | 1.0789 | * | 20.5790 | 22.0549 | * | 21.3294
220006 | *** | * | 29.5946 | 30.8599 | 30.7673 | 30.4550
220008 | 1.2811 | 1.1343 | 27.1675 | 30.1043 | 31.3385 | 29.5889
220010 | 1.2576 | 1.1343 | 27.4161 | 29.7998 | 30.7804 | 29.3611
220011 | 1.1839 | 1.1343 | 32.6624 | 34.4064 | 34.7655 | 33.9600
220012 | 1.5044 | 1.2589 | 32.9791 | 35.7872 | 37.8763 | 35.6334
220015 | 1.1777 | 1.0757 | 25.5449 | 28.3397 | 29.6315 | 27.9301
220016 | 1.1124 | 1.0757 | 26.8798 | 28.0609 | 30.4813 | 28.4997
220017 | 1.2640 | 1.1765 | 28.8264 | 29.7108 | 31.6170 | 30.0573
220019 | 1.1445 | 1.1343 | 22.2294 | 23.2544 | 24.4009 | 23.3159
220020 | 1.1741 | 1.1343 | 24.2279 | 26.5305 | 28.5288 | 26.4682
220024 | 1.3141 | 1.0757 | 25.5837 | 27.3488 | 28.7342 | 27.2019
220025 | 1.0668 | 1.1343 | 24.5186 | 23.0637 | 25.6478 | 24.4025
220028 | 1.5225 | 1.1343 | 31.3592 | 32.0980 | 31.7122 | 31.7174
220029 | 1.1166 | 1.1343 | 28.1432 | 28.6970 | 30.6935 | 29.2047
220030 | 1.1035 | 1.0757 | 23.6257 | 24.4289 | 26.8849 | 25.0306
220031 | 1.6599 | 1.1765 | 32.2660 | 34.8183 | 36.8477 | 34.6797
220033 | 1.1722 | 1.1343 | 26.8049 | 28.2539 | 31.8249 | 28.9540
220035 | 1.4001 | 1.1343 | 27.5533 | 28.6238 | 31.4470 | 29.2909
220036 | 1.5276 | 1.1765 | 29.6296 | 31.5184 | 33.1436 | 31.4741
220041 | *** | * | 29.7464 | * | * | 29.7464
220046 | 1.4368 | 1.1050 | 27.7726 | 28.1396 | 30.4460 | 28.8367
220049 | 1.2182 | 1.1343 | 27.0464 | 27.7517 | 30.4740 | 28.4587
220050 | 1.1374 | 1.0757 | 24.9945 | 26.3768 | 28.3434 | 26.6118
220051 | 1.2550 | 1.0757 | 26.5575 | 29.8380 | 30.2552 | 28.8630
220052 | 1.1654 | 1.1765 | 28.0925 | 29.8577 | 32.4130 | 30.0033
220058 | 1.0047 | 1.1343 | 25.0598 | 24.9642 | 25.7247 | 25.2429
220060 | 1.1930 | 1.2156 | 30.8242 | 32.3362 | 32.5477 | 31.9429
220062 | 0.5767 | 1.1343 | 21.9489 | 24.2779 | 25.0766 | 23.7777
220063 | 1.2313 | 1.1343 | 25.5840 | 27.3967 | 30.2866 | 27.7358
220065 | 1.2384 | 1.0757 | 24.8737 | 26.5513 | 27.6008 | 26.3514
220066 | 1.3649 | 1.0757 | 26.2561 | 27.1317 | 27.8073 | 27.0980
220067 | 1.1644 | 1.1765 | 28.5220 | 29.8911 | 30.2222 | 29.5765
220070 | 1.1710 | 1.1343 | 28.9100 | 31.9283 | 33.1299 | 31.1606
220071 | 1.8443 | 1.1765 | 31.8322 | 32.2936 | 36.5065 | 33.6250
220073 | 1.2140 | 1.1343 | 29.2399 | 31.3566 | 34.2989 | 31.5750
220074 | 1.2997 | 1.1765 | 27.5763 | 28.4930 | 30.5607 | 28.9335
220075 | 1.5908 | 1.1765 | 27.9503 | 29.1588 | 30.9176 | 29.3379
220076 | *** | * | 27.2534 | 29.7507 | 27.5148 | 28.1088
220077 | 1.7132 | 1.0970 | 28.0935 | 30.2684 | 31.7325 | 30.0900
220080 | 1.2124 | 1.1343 | 27.1578 | 28.9835 | 29.9595 | 28.7641
220082 | 1.2837 | 1.1343 | 24.8060 | 26.9841 | 30.0611 | 27.3261
220083 | 1.1496 | 1.1765 | 29.9001 | 32.9143 | 34.5118 | 32.3792
220084 | 1.2299 | 1.1343 | 29.0505 | 32.5711 | 30.9527 | 30.8898
220086 | 1.8113 | 1.1765 | 31.7482 | 34.3667 | 34.2388 | 33.4363
220088 | 1.8517 | 1.1765 | 28.5711 | 28.5462 | 35.8255 | 30.6287
220089 | 1.2972 | 1.1252 | 32.4409 | 31.1708 | 32.6305 | 32.0650
220090 | 1.1951 | 1.1343 | 29.7945 | 30.8685 | 32.9011 | 31.2877
220095 | 1.1323 | 1.1343 | 24.9871 | 27.4273 | 28.0673 | 26.8577
220098 | 1.1206 | 1.1343 | 26.8538 | 28.8314 | 30.5869 | 28.7807
220100 | 1.3384 | 1.1765 | 28.4848 | 29.6912 | 31.9859 | 30.1232
220101 | 1.2602 | 1.1343 | 31.0834 | 33.1690 | 35.3464 | 33.3404
220105 | 1.2376 | 1.1343 | 30.0892 | 31.9421 | 33.2625 | 31.8413
220108 | 1.1458 | 1.1765 | 29.0804 | 30.6252 | 32.6131 | 30.7736
220110 | 1.9956 | 1.1765 | 35.4242 | 36.6084 | 39.2167 | 37.1574
220111 | 1.1994 | 1.1765 | 28.9092 | 31.1850 | 33.6167 | 31.3228
220116 | 1.9509 | 1.1765 | 32.2337 | 32.9988 | 36.4149 | 33.8060
220119 | 1.1208 | 1.1765 | 27.8372 | 30.1056 | 30.9965 | 29.7091
220126 | 1.1709 | 1.1765 | 26.7660 | 28.7805 | 31.4882 | 29.0005
220133 | *** | * | 31.2981 | 33.6003 | 29.4855 | 31.4913
220135 | 1.3341 | 1.2589 | 31.3246 | 33.9866 | 36.0204 | 33.8724
220153 | 0.9848 | 1.0757 | 18.9267 | * | * | 18.9267
220154 | 0.9275 | 1.1765 | 30.9009 | 28.6462 | * | 29.8324
220163 | 1.6447 | 1.1343 | 30.5056 | 33.6484 | 34.4874 | 32.8033
220171 | 1.7913 | 1.1343 | 28.9733 | 30.4036 | 32.7414 | 30.7623
220174 | 1.1970 | 1.1343 | 30.3356 | 31.7572 | 30.0406 | 30.6618
220176 | 1.5403 | 1.0852 | * | * | * | *
230001 | 1.0768 | * | 24.3660 | * | * | 24.3660
230002 | 1.2924 | 1.0411 | 27.0305 | 29.1410 | 32.9010 | 29.6675
230003 | 1.2105 | 1.0280 | 25.2596 | 26.1278 | 27.5824 | 26.3760
230004 | 1.7219 | 1.0451 | 25.5573 | 26.7206 | 29.3933 | 27.2951
230005 ʰ | 1.2738 | 1.0678 | 22.1018 | 24.1902 | 25.8768 | 23.9997
230006 | 1.1131 | * | 22.7656 | 23.8835 | * | 23.3472
230013 | 1.3542 | 1.0442 | 22.7014 | 23.7822 | 24.6511 | 23.6944
230015 | 1.0340 | 0.9387 | 23.4512 | 24.6570 | 26.2782 | 24.8017
230017 | 1.6748 | 1.0797 | 27.3259 | 29.5178 | 31.8821 | 29.6573
230019 | 1.5655 | 1.0442 | 27.6563 | 28.4575 | 32.3401 | 29.4214
230020 | 1.7229 | 1.0502 | 26.8516 | 29.2869 | 28.5646 | 28.2520
230021 | 1.5575 | 0.9164 | 23.4663 | 24.9551 | 26.5659 | 25.0307
230022 | 1.2785 | 0.9896 | 22.2528 | 23.3000 | 25.6683 | 23.7468
230024 | 1.5454 | 1.0502 | 27.6555 | 30.0813 | 32.1483 | 29.9620
230027 | 1.1116 | * | 22.5736 | 23.5511 | * | 23.0457
230029 | 1.6042 | 1.0442 | 27.9012 | 29.0935 | 32.3538 | 29.7300
230030 | 1.2780 | 0.9028 | 20.9867 | 22.3174 | 23.8082 | 22.4064
230031 | 1.3662 | 1.0108 | 23.2910 | 25.4678 | 29.7232 | 25.9464
230034 | 1.3322 | 0.9028 | 20.9195 | 26.7967 | 24.4846 | 24.0745
230035 | 1.3003 | 0.9554 | 20.9197 | 21.2317 | 24.8822 | 22.3344
230036 | 1.3772 | 1.0323 | 26.5854 | 28.3622 | 29.3754 | 28.0904
230037 | 1.2798 | 1.0502 | 24.7875 | 26.2000 | 28.9244 | 26.6763
230038 | 1.7584 | 1.0176 | 25.2499 | 26.3480 | 28.2012 | 26.6334
230040 | 1.2051 | 0.9554 | 21.9813 | 24.2349 | 25.5154 | 23.9790
230041 | 1.5361 | 1.0161 | 25.2518 | 26.1760 | 27.8853 | 26.4751
230042 | 1.2203 | * | 24.3640 | 26.2037 | * | 25.3026
230046 | 1.8667 | 1.0678 | 29.2683 | 30.3591 | 31.6235 | 30.4859
230047 | 1.4851 | 1.0331 | 26.2447 | 28.1351 | 31.1771 | 28.5765
230053 | 1.6033 | 1.0502 | 28.3030 | 29.8703 | 32.5711 | 30.1870
230054 | 1.9975 | 0.9573 | 24.0137 | 24.9905 | 25.7591 | 24.9339
230055 | 1.2481 | 0.9028 | 23.7671 | 25.4143 | 27.4349 | 25.5202
230058 | 1.1661 | 0.9028 | 21.9308 | 24.0657 | 25.9291 | 23.9790
230059 | 1.5538 | 1.0176 | 23.1451 | 25.5350 | 27.9091 | 25.6093
230060 | 1.2059 | 0.9028 | 24.5073 | 25.5015 | 28.2873 | 26.0729
230065 | *** | * | 27.9179 | 28.4631 | 32.6255 | 29.1713
230066 | 1.3033 | 1.0451 | 25.8517 | 27.4928 | 30.6184 | 28.1658
230069 | 1.1384 | 1.0602 | 27.6815 | 29.5556 | 30.2663 | 29.1683
230070 | 1.6440 | 0.9211 | 25.1587 | 24.2342 | 25.6778 | 25.0070
230071 | 0.8889 | 1.0442 | 24.7707 | 26.3907 | 28.3064 | 26.5185
230072 | 1.4159 | 1.0280 | 24.1560 | 24.4933 | 26.2838 | 25.0178
230075 | 1.3099 | 0.9811 | 24.1482 | 27.6193 | 28.2540 | 26.6577
230077 | 2.0231 | 1.0602 | 27.3117 | 27.6157 | 29.8538 | 28.2916
230078 | 1.0344 | 0.9028 | 21.9200 | 23.9901 | 25.6809 | 23.9487
230080 | 1.2969 | 0.9028 | 21.2840 | 21.2314 | 24.1573 | 22.2347
230081 | 1.1996 | 0.9028 | 20.6777 | 23.0788 | 24.7374 | 22.8590
230082 | 0.9762 | * | 23.1240 | 22.2165 | * | 22.6498
230085 | 1.2326 | 1.0797 | 22.2569 | 22.7314 | 23.4959 | 22.8465
230086 | 1.1553 | * | 20.8759 | * | * | 20.8759
230087 | *** | * | * | 16.9168 | * | 16.9168
230089 | 1.3467 | 1.0502 | 23.9486 | 28.7015 | 31.0522 | 27.8258
230092 | 1.3456 | 1.0106 | 24.3768 | 26.3584 | 28.6829 | 26.5066
230093 | 1.2117 | 0.9554 | 24.5055 | 26.4967 | 25.5804 | 25.5235
230095 | 1.3539 | 0.9028 | 19.2244 | 21.3915 | 22.8681 | 21.1860
230096 | 1.1629 | 1.0797 | 26.7578 | 28.7681 | 30.6024 | 28.6974
230097 | 1.7856 | 1.0176 | 25.2104 | 26.5773 | 28.2526 | 26.7006
230099 | 1.2237 | 1.0502 | 25.0390 | 26.4882 | 29.0221 | 26.8789
230100 | 1.2241 | 0.9028 | 20.4565 | 21.8895 | 24.1881 | 22.1951
230101 | 1.1571 | 0.9028 | 23.1349 | 24.3772 | 25.4839 | 24.3698
230103 | 1.0628 | * | 18.4304 | 21.6609 | * | 19.9258
230104 | 1.6297 | 1.0502 | 27.8864 | 30.5570 | 32.4634 | 30.2435
230105 | 1.9751 | 1.0062 | 24.6853 | 27.2705 | 32.4583 | 28.1815
230106 | 1.0950 | 1.0191 | 24.1128 | 24.3980 | 25.3243 | 24.6281
230108 | 1.1243 | 0.9028 | 22.4966 | 18.4063 | 20.2538 | 20.2585
230110 | 1.2875 | 0.9028 | 22.7621 | 28.7704 | 27.0040 | 26.2349
230117 | 1.8669 | 1.0797 | 29.6361 | 29.4775 | 32.7994 | 30.5541
230118 | 1.0673 | 0.9028 | 21.4886 | 22.3636 | 23.6110 | 22.4945
230119 | 1.3053 | 1.0502 | 29.2509 | 30.2441 | 30.7488 | 30.0939
230120 | 1.1119 | * | 21.7894 | 24.1485 | * | 22.9553
230121 | 1.2714 | 0.9896 | 23.4394 | 24.5220 | 26.4940 | 24.8132
230124 | 1.3714 | * | 23.0508 | * | * | 23.0508
230130 | 1.7482 | 1.0442 | 26.9907 | 26.6076 | 30.1608 | 27.9567
230132 | 1.4073 | 1.0798 | 29.9106 | 30.5318 | 32.3939 | 30.9251
230133 | 1.3676 | 0.9028 | 21.2273 | 24.3175 | 23.9442 | 23.1996
230135 | 1.1854 | 1.0502 | 23.9000 | 25.8406 | 25.9583 | 25.2612
230141 | 1.6252 | 1.0798 | 30.4643 | 28.6326 | 31.6152 | 30.2243
230142 | 1.2969 | 1.0411 | 25.6044 | 26.9433 | 27.8377 | 26.8202
230143 | 1.2815 | * | 19.5387 | 21.4083 | * | 20.4663
230144 | 1.5305 | 1.0678 | * | * | * | *
230145 | *** | * | 17.2181 | * | * | 17.2181
230146 | 1.3044 | 1.0502 | 24.3891 | 26.3432 | 26.8156 | 25.8932
230149 | *** | * | 21.4753 | * | * | 21.4753
230151 | 1.3166 | 1.0442 | 26.4669 | 28.2243 | 27.4546 | 27.3846
230153 | 1.0027 | * | 22.3404 | 22.8644 | * | 22.6169
230155 | *** | * | 24.0404 | * | * | 24.0404
230156 | 1.5875 | 1.0678 | 29.4855 | 31.1909 | 32.3755 | 31.0315
230165 | 1.7104 | 1.0502 | 27.3164 | 28.9636 | 29.6375 | 28.6462
230167 | 1.5804 | 1.0068 | 26.6828 | 27.4562 | 29.8071 | 27.9942
230169 | *** | * | 27.1172 | 31.8442 | * | 29.3455
230171 | *** | * | 22.0635 | * | * | 22.0635
230172 | 1.2644 | * | 24.0236 | 25.7402 | * | 24.8835
230174 | 1.3198 | 1.0280 | 26.2770 | 27.6920 | 30.0563 | 28.0305
230176 | 1.2831 | 1.0502 | 25.6777 | 27.3605 | 28.1498 | 27.3166
230180 | 1.0930 | 0.9028 | 22.5454 | 24.7358 | 26.0707 | 24.4709
230184 | *** | * | 21.9346 | 23.6707 | 34.6295 | 23.7225
230186 | *** | * | 27.1126 | 26.2282 | * | 26.7039
230189 | 0.9846 | * | 20.8605 | 23.0099 | * | 21.9754
230190 | 0.9642 | 1.0797 | 28.7365 | 29.9604 | 30.7876 | 29.8329
230193 | 1.2319 | 1.0108 | 24.3181 | 23.3565 | 25.1626 | 24.2817
230195 | 1.4074 | 1.0331 | 27.1266 | 28.2892 | 29.5656 | 28.3973
230197 | 1.6037 | 1.0798 | 28.3439 | 30.0367 | 32.0063 | 30.1527
230204 | 1.3250 | 1.0331 | 25.9871 | 29.1466 | 31.5615 | 28.8031
230207 | 1.3901 | 1.0442 | 22.2854 | 24.5201 | 25.4268 | 24.0878
230208 | 1.1904 | 0.9554 | 20.9420 | 21.9651 | 23.7523 | 22.2422
230212 | 1.0126 | 1.0678 | 27.3686 | 29.7980 | 31.9818 | 29.6320
230216 | 1.6525 | 1.0108 | 26.1468 | 27.5230 | 29.0147 | 27.5817
230217 | 1.3009 | 0.9896 | 26.7929 | 28.6075 | 30.1136 | 28.6200
230222 ʰ | 1.3410 | 0.9439 | 24.8925 | 26.9724 | 29.9341 | 27.3147
230223 | 1.2472 | 1.0442 | 27.1503 | 29.2853 | 28.6745 | 28.3776
230227 | 1.5121 | 1.0331 | 28.1105 | 29.5798 | 30.8218 | 29.5297
230230 | 1.5085 | 1.0068 | 25.4471 | 27.9607 | 29.8763 | 27.7682
230235 | 0.9779 | * | 19.6046 | 21.8777 | * | 20.7318
230236 | 1.4588 | 1.0176 | 26.3988 | 28.4754 | 31.3111 | 28.7777
230239 | 1.2232 | 0.9028 | 21.1643 | 22.1040 | 21.0814 | 21.4560
230241 | 1.2175 | 1.0108 | 25.8671 | 27.4890 | 27.6106 | 27.0094
230244 | 1.3988 | 1.0411 | 25.3817 | 26.4326 | 29.6283 | 27.0809
230254 | 1.4532 | 1.0442 | 26.4431 | 28.1216 | 29.2653 | 27.9339
230257 | 0.9674 | 1.0331 | 25.4086 | 27.8197 | 29.6713 | 27.5204
230259 | 1.2060 | 1.0678 | 24.3067 | 26.8677 | 27.4217 | 26.2628
230264 | 2.1546 | 1.0331 | 19.9992 | 19.2398 | 22.7767 | 20.6558
230269 | 1.4416 | 1.0442 | 27.4732 | 28.8187 | 31.3226 | 29.2937
230270 | 1.3172 | 1.0502 | 26.1113 | 27.8488 | 28.5372 | 27.5190
230273 | 1.5195 | 1.0502 | 30.2209 | 29.9307 | 31.9862 | 30.7083
230275 | 0.4786 | 0.9211 | 30.2244 | 23.1095 | 23.8105 | 25.8765
230277 | 1.3881 | 1.0442 | 26.9231 | 29.1973 | 29.8372 | 28.6994
230279 | 0.5318 | 1.0602 | 23.1636 | 24.7673 | 27.2816 | 24.9348
230283 | *** | * | 24.9272 | 26.2622 | 33.5532 | 26.4492
230289 | *** | * | * | 29.7720 | * | 29.7720
230290 | *** | * | 29.4792 | * | * | 29.4792
230291 | *** | * | * | 30.9655 | * | 30.9655
230292 | *** | * | * | 31.8943 | * | 31.8943
230294 | *** | * | * | * | 31.6195 | 31.6195
230295 | *** | * | * | * | 27.1298 | 27.1298
230296 | 1.6111 | 1.0068 | * | * | * | *
240001 | 1.5128 | 1.0782 | 29.9123 | 31.5753 | 33.1499 | 31.5719
240002 | 1.8217 | 1.0285 | 26.9608 | 28.9860 | 31.6000 | 29.1781
240004 | 1.5980 | 1.0782 | 27.8796 | 30.8072 | 32.7010 | 30.3974
240006 | 1.0830 | 1.1239 | 30.2330 | 30.1950 | 31.0777 | 30.5146
240007 | 0.9765 | * | 23.7588 | * | * | 23.7588
240010 | 2.0337 | 1.1239 | 30.4139 | 31.3733 | 33.4668 | 31.7518
240011 | *** | * | 22.9561 | * | * | 22.9561
240013 | 1.3281 | * | 28.7202 | 28.3860 | * | 28.5544
240014 | 1.0334 | 1.0782 | 28.3788 | 29.8623 | 29.8905 | 29.4068
240016 | 1.2566 | * | 24.9211 | 26.7814 | * | 25.9310
240017 | 1.2297 | 0.9238 | 23.3314 | 24.4417 | 24.3596 | 24.0453
240018 | 1.2775 | 1.0782 | 27.9218 | 25.6236 | 28.1432 | 27.0877
240019 | 1.0794 | 1.0285 | 27.5441 | 28.6723 | 33.7546 | 29.9360
240020 | 1.0697 | 1.0782 | 28.1568 | 31.2443 | 31.3874 | 30.2352
240021 | 0.9533 | * | 23.7096 | 27.1235 | * | 25.3021
240022 | 1.1304 | 0.9238 | 23.7368 | 25.2066 | 26.1920 | 25.0459
240025 | *** | * | 27.8656 | * | * | 27.8656
240027 | 0.9029 | * | 20.2531 | 18.2481 | * | 19.1090
240029 | 1.1322 | * | 24.3017 | 25.3568 | * | 24.8217
240030 | 1.3341 | 1.0302 | 23.3753 | 24.7154 | 26.5508 | 24.8983
240031 | 0.9625 | * | 26.7242 | 26.7778 | * | 26.7517
240036 | 1.6508 | 1.1029 | 27.0821 | 28.0812 | 32.7028 | 29.2395
240037 | 1.0388 | * | 24.3986 | * | * | 24.3986
240038 | 1.5474 | 1.0782 | 29.8465 | 31.0779 | 31.9891 | 30.9872
240040 | 1.0882 | 1.0285 | 26.3177 | 27.4895 | 27.5074 | 27.1265
240043 | 1.1386 | 0.9238 | 20.7155 | 21.8685 | 23.3489 | 22.0037
240044 | 1.1310 | 1.0106 | 24.3009 | 22.0973 | 25.0988 | 23.8092
240045 | 1.0872 | * | 26.1743 | * | * | 26.1743
240047 | 1.5417 | 1.0285 | 29.1211 | 28.8288 | 28.6406 | 28.8397
240050 | 1.0900 | 1.0782 | 26.6687 | 26.4854 | 27.5553 | 26.9484
240052 | 1.2454 | 0.9238 | 24.9870 | 26.4256 | 28.7206 | 26.7465
240053 | 1.4014 | 1.0782 | 28.4733 | 29.5315 | 31.4324 | 29.8572
240056 | 1.2267 | 1.0782 | 30.8619 | 31.6623 | 33.1728 | 31.9090
240057 | 1.7985 | 1.0782 | 29.4870 | 30.6258 | 30.7703 | 30.3164
240059 | 1.0824 | 1.0782 | 28.6340 | 29.7916 | 31.0910 | 29.8753
240061 | 1.7757 | 1.1239 | 30.0031 | 30.6383 | 33.1799 | 31.3241
240063 | 1.5442 | 1.0782 | 29.9603 | 32.3487 | 33.7895 | 32.0511
240064 | 1.2459 | 1.0285 | 26.6996 | 29.9662 | 34.3757 | 30.9779
240066 | 1.4576 | 1.0782 | 30.2716 | 33.4532 | 35.3441 | 33.1081
240069 | 1.1872 | 1.1239 | 27.4990 | 28.9496 | 29.3718 | 28.6450
240071 | 1.1443 | 1.1239 | 26.4780 | 28.0585 | 28.6950 | 27.7615
240075 | 1.1463 | 1.0302 | 26.6607 | 26.1956 | 27.5039 | 26.7879
240076 | 1.0741 | 1.0782 | 28.4519 | 29.8562 | 30.6936 | 29.7303
240078 | 1.6565 | 1.0782 | 30.5339 | 32.3235 | 32.5785 | 31.8123
240079 | *** | * | 20.9220 | * | * | 20.9220
240080 | 1.8378 | 1.0782 | 29.6274 | 31.6828 | 32.5725 | 31.2895
240083 | 1.2006 | * | 25.0214 | 26.6582 | 0.0000 | 25.8650
240084 | 1.1091 | 1.0285 | 24.7856 | 26.8142 | 26.5975 | 26.0675
240087 | 1.0229 | * | 24.8479 | * | * | 24.8479
240088 | 1.3165 | 1.0302 | 27.6323 | 28.0825 | 28.0603 | 27.9299
240093 | 1.3130 | 1.0782 | 23.7785 | 25.5805 | 27.2928 | 25.5180
240094 | 1.1961 | * | 27.3974 | * | * | 27.3974
240100 | 1.2939 | 0.9238 | 25.3269 | 27.6299 | 30.8391 | 27.9359
240101 | 1.1554 | 0.9238 | 26.6078 | 25.5355 | 25.6964 | 25.9039
240103 | 1.1036 | * | 22.5416 | 22.7078 | * | 22.6234
240104 | 1.1717 | 1.0782 | 30.1392 | 31.4306 | 31.6511 | 31.1560
240106 | 1.5320 | 1.0782 | 27.5171 | 29.3455 | 30.5927 | 29.2060
240107 | 0.9139 | * | 25.5199 | * | * | 25.5199
240109 | 0.9419 | * | 15.2076 | 16.5051 | * | 15.8386
240115 | 1.6305 | 1.0782 | 29.0261 | 31.3869 | 32.0107 | 30.8542
240117 | 1.1531 | 0.9238 | 22.0463 | 23.6230 | 24.5750 | 23.4565
240123 | 1.1107 | * | 20.5755 | 21.7500 | * | 21.1868
240124 | *** | * | 23.9297 | * | * | 23.9297
240127 | *** | * | 24.4824 | * | * | 24.4824
240128 | 1.0244 | 0.9238 | 21.2638 | 21.5791 | 23.3334 | 22.0573
240132 | 1.3265 | 1.0782 | 29.5310 | 31.7139 | 32.1233 | 31.1490
240133 | 1.1359 | * | 26.1836 | * | * | 26.1836
240135 | *** | * | 16.1837 | * | * | 16.1837
240137 | *** | * | 23.8666 | * | * | 23.8666
240139 | *** | * | 23.7898 | * | * | 23.7898
240141 | 1.1273 | 1.0782 | 26.7173 | 26.4016 | 31.4468 | 28.5886
240143 | 0.8825 | * | 21.1180 | 21.7416 | * | 21.4375
240152 | 0.9888 | * | 27.3445 | 29.6196 | * | 28.5127
240154 | 1.0590 | * | 23.9643 | * | * | 23.9643
240162 | 1.1482 | * | 22.3136 | 22.2721 | * | 22.2926
240166 | 1.1472 | 0.9238 | 23.4265 | 25.7509 | 27.6987 | 25.6501
240179 | *** | * | 20.8449 | * | * | 20.8449
240187 | 1.2453 | 1.0782 | 26.5129 | 27.8811 | 27.8844 | 27.4419
240196 | 0.7779 | 1.0782 | 28.9380 | 30.7719 | 31.5965 | 30.4819
240206 | 0.8207 | 1.4448 | * | * | * | *
240207 | 1.1876 | 1.0782 | 29.2395 | 31.7665 | 32.5589 | 31.2507
240210 | 1.2705 | 1.0782 | 29.7227 | 32.1564 | 32.7123 | 31.5359
240211 | 0.9908 | 1.0782 | 44.4214 | 18.8503 | 22.5431 | 24.6609
240213 | 1.3702 | 1.0782 | 31.3974 | 32.7532 | 33.8680 | 32.7407
250001 | 1.8583 | 0.8214 | 21.9176 | 22.7827 | 23.5222 | 22.7777
250002 | 0.9020 | 0.8169 | 20.1310 | 23.3845 | 23.4064 | 22.1926
250004 | 1.8948 | 0.8984 | 20.6828 | 24.1065 | 24.7907 | 23.1544
250006 | 1.0666 | 0.8984 | 21.4038 | 24.0191 | 24.4282 | 23.2690
250007 | 1.2504 | 0.8748 | 23.6933 | 25.8710 | 24.8929 | 24.8386
250009 | 1.2767 | 0.8643 | 20.4329 | 22.2323 | 23.0352 | 21.9113
250010 | 1.0365 | 0.7796 | 19.4130 | 19.4403 | 21.4322 | 20.0759
250012 | 0.9304 | 0.9307 | 20.0493 | 20.2921 | 21.5539 | 20.6182
250015 | 1.0396 | 0.7796 | 20.6931 | 20.7555 | 22.0067 | 21.1413
250017 | 1.0373 | 0.7796 | 18.1013 | 21.3950 | 22.7661 | 20.9402
250018 | 0.8282 | 0.7796 | 17.0689 | 16.6294 | 17.1276 | 16.9471
250019 | 1.5803 | 0.8748 | 22.8358 | 23.9741 | 25.7376 | 24.1729
250020 | 0.9690 | 0.7796 | 19.3390 | 21.4019 | 22.1851 | 20.9799
250021 | *** | * | 15.1242 | 20.3559 | * | 16.1481
250023 | 0.8543 | 0.8461 | 16.1820 | 16.2418 | 18.0108 | 16.8283
250025 | 1.1121 | 0.7796 | 20.6892 | 20.5258 | 22.5621 | 21.2882
250027 | 0.9523 | 0.7796 | 17.3313 | 17.3481 | 24.4937 | 19.7107
250031 | 1.3346 | 0.8214 | 22.0850 | 21.4326 | 24.8139 | 22.6468
250034 | 1.5496 | 0.8984 | 20.6752 | 24.3189 | 26.1887 | 23.7216
250035 | 0.8573 | 0.7796 | 14.6149 | 17.2045 | 20.1622 | 17.3598
250036 | 1.0183 | 0.8144 | 17.8313 | 19.1975 | 20.3625 | 19.2231
250037 | 0.8536 | * | 17.4463 | 17.4012 | 0.0000 | 17.4232
250038 | 0.9874 | 0.8214 | 18.0209 | 18.9050 | 22.2571 | 19.6992
250039 | 0.9189 | * | 15.2939 | 17.3155 | * | 16.2540
250040 | 1.4985 | 0.8461 | 21.3451 | 23.2285 | 24.5962 | 23.0919
250042 | 1.1696 | 0.8984 | 21.4117 | 23.4135 | 25.6807 | 23.4660
250043 | 1.0236 | 0.7796 | 18.3322 | 19.8098 | 18.8979 | 19.0278
250044 | 1.0419 | 0.7876 | 21.1198 | 23.3862 | 24.0508 | 22.8288
250045 | 1.1333 | * | 25.0863 | 26.3831 | * | 25.7497
250048 | 1.6390 | 0.8214 | 21.6547 | 22.9765 | 25.2092 | 23.3037
250049 | 0.8991 | 0.7796 | 17.8154 | 17.7005 | 19.1044 | 18.3112
250050 | 1.2511 | 0.7796 | 18.3170 | 19.1467 | 20.8084 | 19.4590
250051 | 0.8656 | 0.7796 | 10.6908 | 10.6095 | 14.3741 | 11.8797
250057 | 1.1358 | 0.7796 | 19.6789 | 20.1900 | 22.7601 | 20.8814
250058 | 1.2356 | 0.7796 | 17.5160 | 18.1704 | 19.2502 | 18.3263
250059 | 0.9853 | 0.7796 | 17.7270 | 19.2977 | 23.8997 | 20.2473
250060 | 0.8394 | 0.7796 | 20.8115 | 16.8247 | 28.1431 | 21.5713
250061 | 0.8798 | 0.7796 | 15.2515 | 12.8174 | 17.8267 | 15.0890
250065 | *** | * | 16.1984 | * | * | 16.1984
250067 | 1.0684 | 0.7796 | 20.1261 | 21.6911 | 23.1193 | 21.6222
250068 | *** | * | 16.9585 | * | * | 16.9585
250069 | 1.5324 | 0.8362 | 21.6617 | 22.8162 | 22.6353 | 22.4068
250071 | *** | * | 17.7149 | * | * | 17.7149
250072 | 1.5884 | 0.8214 | 22.9316 | 24.6587 | 25.8399 | 24.5004
250077 | 0.9399 | 0.7796 | 14.2271 | 14.7632 | 18.3735 | 15.7279
250078 | 1.6751 | 0.8461 | 18.6563 | 20.9354 | 22.1243 | 20.5542
250079 | 0.8331 | 0.8214 | 27.2549 | 38.0031 | 45.5166 | 38.2904
250081 | 1.2316 | 0.8362 | 21.3830 | 24.7031 | 23.9995 | 23.2075
250082 | 1.4444 | 0.8397 | 20.5212 | 19.6966 | 23.0287 | 21.0512
250083 | *** | * | 19.9484 | * | * | 19.9484
250084 | 1.1682 | 0.7796 | 21.8001 | 18.5775 | 19.6492 | 19.8895
250085 | 0.9879 | 0.7796 | 18.7367 | 19.7007 | 22.5512 | 20.3950
250093 | 1.1718 | 0.7796 | 18.8001 | 21.3237 | 23.0984 | 21.0634
250094 | 1.5970 | 0.8461 | 22.3312 | 22.7312 | 24.1422 | 23.0663
250095 | 1.0290 | 0.7796 | 19.9553 | 21.3511 | 21.7488 | 21.0087
250096 | 1.1418 | 0.8214 | 22.7458 | 22.6298 | 24.9187 | 23.4322
250097 | 1.5660 | 0.8085 | 19.4534 | 20.1687 | 21.8139 | 20.4661
250099 | 1.2571 | 0.8214 | 19.0333 | 19.5797 | 21.1269 | 19.9051
250100 | 1.4696 | 0.8362 | 22.0328 | 24.2209 | 25.6846 | 23.9924
250101 | *** | * | 21.2234 | 19.3543 | * | 20.1785
250102 | 1.5976 | 0.8214 | 22.5518 | 24.2868 | 24.6652 | 23.8699
250104 | 1.4348 | 0.8214 | 21.4431 | 22.6591 | 23.4303 | 22.5551
250105 | 0.9403 | * | 17.9468 | 18.1196 | * | 18.0323
250107 | 0.9209 | * | 16.5369 | 17.8999 | * | 17.2381
250112 | 0.9608 | 0.7796 | 19.6172 | 21.2824 | 24.3067 | 21.8416
250117 | 1.0909 | 0.8461 | 19.9774 | 23.3673 | 22.2450 | 21.7923
250120 | 1.0778 | 0.7796 | 22.7607 | 23.4277 | 24.6370 | 23.5490
250122 | 1.0871 | 0.8129 | 23.7230 | 24.5854 | 27.2795 | 25.1719
250123 | 1.2998 | 0.8748 | 22.0486 | 24.5115 | 26.6221 | 24.4340
250124 | 0.8446 | 0.8214 | 15.4343 | 17.2181 | 20.4395 | 17.6895
250125 | 1.3083 | 0.8748 | 26.8379 | 27.7077 | 27.5158 | 27.3633
250126 | 0.9040 | 0.9307 | 20.4085 | 21.7111 | 24.4126 | 22.0667
250127 | 0.8548 | 1.4448 | * | * | * | *
250128 | 0.8924 | 0.7796 | 15.9344 | 17.6269 | 17.7624 | 17.0843
250134 | 0.8120 | 0.8214 | 23.5608 | 25.8368 | 22.2167 | 23.8221
250136 | 1.0356 | 0.8214 | 22.5832 | 23.0637 | 22.9468 | 22.8653
250138 | 1.3041 | 0.8214 | 22.7902 | 23.8861 | 24.3018 | 23.6898
250141 | 1.5949 | 0.9307 | 24.5772 | 27.6158 | 28.5922 | 27.0618
250146 | 0.9048 | * | 17.2328 | 18.6486 | * | 17.9106
250149 | 0.8797 | 0.7796 | 15.0367 | 15.0641 | 16.8796 | 15.6660
250151 | 0.4842 | 0.7796 | 21.8697 | 17.2205 | 18.8846 | 18.4861
250152 | 0.8955 | 0.8214 | * | 25.7837 | 26.9334 | 26.3171
250153 | *** | * | * | 29.0461 | * | 29.0461
250155 | *** | * | * | * | 22.5729 | 22.5729
250156 | 1.2778 | 0.7796 | * | * | * | *
250159 | 0.8769 | * | * | * | * | *
260001 | 1.6632 | 0.8794 | 25.3084 | 25.9250 | 27.9230 | 26.3723
260002 | *** | * | 27.2329 | 26.4879 | * | 26.9807
260003 | *** | * | 17.6339 | * | * | 17.6339
260004 | 0.9686 | 0.8353 | 16.7742 | 16.9421 | 20.3217 | 18.0451
260005 | 1.4577 | 0.8998 | 24.6142 | 26.5773 | 27.7855 | 26.3893
260006 | 1.4619 | 0.8353 | 26.4948 | 26.7587 | 30.3440 | 28.0336
260008 | *** | * | 17.6040 | 18.9522 | * | 18.2612
260009 | 1.2219 | 0.9345 | 21.2729 | 22.1816 | 24.2360 | 22.5867
260011 | 1.4224 | 0.8620 | 21.4409 | 22.7061 | 25.6387 | 23.3003
260012 | 1.1411 | * | 19.3389 | 20.3061 | * | 19.8719
260013 | 1.0563 | * | 19.2065 | 20.5007 | * | 19.8516
260015 | 1.0220 | 0.8353 | 22.4450 | 22.5409 | 24.6139 | 23.2261
260017 | 1.3556 | 0.8889 | 21.1359 | 22.7022 | 23.5713 | 22.5230
260018 | 1.0454 | * | 14.8425 | 17.0434 | * | 15.9088
260020 | 1.7670 | 0.8998 | 25.7898 | 26.0407 | 27.4730 | 26.4741
260021 | 1.3882 | 0.8998 | 27.8332 | 27.6330 | 29.3646 | 28.2462
260022 | 1.2284 | 0.8658 | 21.7707 | 22.8085 | 23.3393 | 22.6184
260023 | 1.2981 | 0.8998 | 21.2519 | 21.2077 | 24.3192 | 22.2092
260024 | 1.1057 | 0.8353 | 17.5351 | 18.4829 | 19.4952 | 18.4886
260025 | 1.3713 | 0.8889 | 20.0901 | 22.4645 | 22.2451 | 21.6215
260027 | 1.6681 | 0.9345 | 24.7605 | 25.3348 | 26.3590 | 25.4687
260029 | 1.1193 | * | 22.2892 | * | * | 22.2892
260031 | *** | * | 24.2877 | * | * | 24.2877
260032 | 1.8568 | 0.8998 | 23.1125 | 23.9478 | 25.6763 | 24.2466
260034 | 0.9593 | 0.9345 | 23.3034 | 24.1143 | 25.0573 | 24.1894
260035 | 0.9270 | * | 16.8502 | 17.8741 | * | 17.3672
260036 | 0.9590 | * | 20.1324 | 22.1912 | * | 21.0403
260039 | 1.0479 | * | * | * | * | *
260040 | 1.6395 | 0.8570 | 21.9452 | 23.3566 | 24.3938 | 23.2602
260044 | 0.9221 | * | 20.0686 | * | * | 20.0686
260047 | 1.4927 | 0.8353 | 22.6169 | 24.4185 | 25.4978 | 24.2091
260048 | 1.2143 | 0.9345 | 25.8089 | 24.3906 | 27.6117 | 25.9044
260050 | 1.2087 | 1.0045 | 20.6364 | 23.6849 | 25.0507 | 23.2406
260052 | 1.3323 | 0.8998 | 22.5809 | 24.5165 | 26.0052 | 24.3683
260053 | 1.0942 | * | 20.0051 | 21.6607 | * | 20.8214
260057 | 1.0951 | 0.9345 | 16.4875 | 19.3335 | 20.9639 | 18.8512
260059 | 1.2013 | 0.8353 | 18.6379 | 19.7243 | 22.6922 | 20.4186
260061 | 1.1161 | 0.8353 | 19.6674 | 21.5264 | 22.4766 | 21.1445
260062 | 1.2300 | 0.9345 | 26.0439 | 26.4539 | 28.1661 | 26.8989
260063 | *** | * | 22.0826 | * | * | 22.0826
260064 | 1.3163 | 0.8456 | 19.1587 | 19.0543 | 22.2395 | 20.1462
260065 | 1.7456 | 0.8570 | 23.6969 | 23.0015 | 27.1014 | 24.6097
260067 | 0.8891 | * | 16.5364 | 17.6256 | * | 17.0827
260068 | 1.7539 | 0.8456 | 23.9340 | 24.9504 | 26.0295 | 24.9978
260070 | 0.9577 | 0.8353 | 14.3881 | 18.4779 | 24.6331 | 19.7034
260073 | 0.9983 | * | 19.2744 | 21.6214 | * | 20.4508
260074 | 1.2526 | 0.8511 | 23.9301 | 24.8654 | 25.6218 | 24.8258
260077 | 1.6279 | 0.8998 | 23.5466 | 25.5782 | 26.7466 | 25.2766
260078 | 1.3422 | 0.8353 | 18.4017 | 19.0802 | 20.1983 | 19.2331
260080 | 0.9306 | 0.8353 | 11.2817 | 14.7774 | 17.9107 | 14.5610
260081 | 1.5309 | 0.8998 | 23.7447 | 26.3969 | 28.1182 | 26.0827
260085 | 1.5985 | 0.9345 | 24.6046 | 25.6302 | 26.6718 | 25.6383
260086 | 0.9009 | * | 17.1202 | 19.1702 | * | 18.1866
260091 | 1.5378 | 0.8998 | 26.1149 | 27.2407 | 28.0537 | 27.1569
260094 | 1.5623 | 0.8412 | 20.6805 | 23.2544 | 24.1473 | 22.7893
260095 | 1.3129 | 0.9345 | 23.8671 | 25.5668 | 24.2698 | 24.5514
260096 | 1.4639 | 0.9345 | 25.9932 | 27.5592 | 29.7312 | 27.8533
260097 | 1.1797 | 0.8778 | 21.5077 | 21.3957 | 25.0624 | 22.7477
260102 | 0.9150 | 0.9345 | 22.9283 | 24.2368 | 27.2145 | 24.8458
260103 | *** | * | 23.3175 | * | * | 23.3175
260104 | 1.4937 | 0.8998 | 24.0038 | 26.2867 | 28.6247 | 26.3990
260105 | 1.7783 | 0.8998 | 28.4652 | 28.8849 | 29.8848 | 29.0941
260107 | 1.3517 | 0.9345 | 24.2001 | 26.7782 | 25.8177 | 25.5796
260108 | 1.7976 | 0.8998 | 24.0936 | 24.9880 | 26.6374 | 25.2785
260110 | 1.6936 | 0.8889 | 22.2730 | 23.7978 | 24.7656 | 23.6548
260113 | 1.1163 | 0.8353 | 19.2467 | 20.9644 | 21.2072 | 20.4976
260115 | 1.1806 | 0.8998 | 21.7450 | 21.9859 | 23.1396 | 22.3184
260116 | 1.1089 | 0.8353 | 17.2698 | 18.5076 | 21.3503 | 19.0263
260119 | 1.3445 | 0.8353 | 22.1588 | 24.9937 | 27.9769 | 25.0558
260122 | 1.0843 | * | 17.3270 | 20.8015 | * | 19.0424
260123 | *** | * | 16.1169 | * | * | 16.1169
260127 | 0.9499 | * | 22.5328 | 21.8534 | * | 22.1664
260134 | *** | * | 18.1531 | * | * | 18.1531
260137 | 1.6709 | 0.8794 | 21.3426 | 22.7431 | 24.3273 | 22.8805
260138 | 1.9794 | 0.9345 | 27.8229 | 28.5610 | 30.4410 | 28.9706
260141 | 1.8925 | 0.8456 | 21.1511 | 22.4886 | 24.1555 | 22.5018
260142 | 1.0581 | 0.8353 | 19.6582 | 20.3993 | 21.5923 | 20.5671
260147 | 0.9181 | 0.8353 | 17.2291 | 18.5153 | 21.4235 | 19.1299
260159 | *** | * | 26.8924 | 23.7427 | 22.6277 | 24.8200
260160 | 1.0889 | 0.8353 | 19.4997 | 21.0544 | 23.8256 | 21.6967
260162 | 1.3101 | 0.8998 | 24.1246 | 25.1423 | 27.0236 | 25.4950
260163 | 1.1357 | 0.8353 | 19.2885 | 20.1949 | 21.6408 | 20.3128
260164 | 1.0991 | * | 19.5539 | 19.7068 | * | 19.6321
260166 | 1.1983 | 0.9345 | 25.5151 | 27.0237 | 29.1225 | 27.2301
260172 | *** | * | 18.1438 | * | * | 18.1438
260175 | 1.1142 | 0.9345 | 21.1257 | 22.6171 | 25.1817 | 22.9767
260176 | 1.6982 | 0.8998 | 29.2184 | 27.4244 | 29.3034 | 28.6274
260177 | 1.2278 | 0.9345 | 25.0724 | 26.1178 | 27.0185 | 26.0800
260178 | 1.8181 | 0.8456 | 21.4781 | 22.2251 | 25.4782 | 23.1585
260179 | 1.5313 | 0.8998 | 24.8541 | 26.1419 | 26.6069 | 25.8780
260180 | 1.5751 | 0.8998 | 21.9679 | 26.7461 | 28.2931 | 25.6242
260183 | 1.6131 | 0.8889 | 23.3924 | 26.0418 | 27.5577 | 25.7097
260186 | 1.6224 | 0.8456 | 23.4317 | 25.3148 | 26.9797 | 25.3056
260189 | 0.5844 | * | * | * | * | *
260190 | 1.2069 | 0.9345 | 25.1653 | 26.4505 | 27.9137 | 26.5577
260191 | 1.2895 | 0.8998 | 22.4369 | 23.3856 | 24.6973 | 23.5346
260193 | 1.1911 | 0.9345 | 24.4705 | 26.2979 | 26.8921 | 25.9286
260195 | 1.2568 | 0.8353 | 20.1327 | 22.3958 | 22.6870 | 21.9121
260198 | 1.1483 | 0.8998 | 27.6116 | 27.5996 | 28.0021 | 27.7418
260200 | 1.2377 | 0.8998 | 25.1134 | 24.8624 | 28.2453 | 26.1576
260207 | 1.0760 | 0.8570 | 19.2467 | 19.7294 | 22.6109 | 20.7974
260209 | 1.1471 | 0.8613 | 21.8396 | 23.2430 | 25.0099 | 23.3517
260210 | 1.2222 | 0.8998 | * | 25.3782 | 26.8745 | 26.2229
260211 | 1.6460 | 0.9345 | * | 33.9109 | 40.9821 | 37.4479
260213 | 1.6368 | 0.9345 | * | * | * | *
260214 | 1.1887 | 0.9345 | * | * | * | *
270002 | 1.2525 | 0.8783 | 20.7620 | 22.7322 | 24.0534 | 22.5443
270003 | 1.2504 | 0.8747 | 24.2823 | 26.4843 | 28.8700 | 26.5679
270004 | 1.7046 | 0.8956 | 22.9081 | 23.5454 | 26.1319 | 24.2259
270011 | 0.9959 | 0.8747 | 22.0710 | 22.1394 | 22.7061 | 22.3110
270012 | 1.6149 | 0.8783 | 23.1697 | 25.2873 | 25.2914 | 24.5809
270014 | 1.9087 | 0.8783 | 25.0650 | 26.2025 | 25.8231 | 25.6996
270017 | 1.3653 | 0.8783 | 24.6186 | 27.5483 | 26.5404 | 26.2434
270021 | 1.0403 | * | 21.6758 | 21.7056 | * | 21.6913
270023 | 1.5259 | 0.8870 | 25.5525 | 26.7576 | 25.5682 | 25.9504
270032 | 1.0399 | 0.8806 | 18.2377 | 19.6212 | 20.3469 | 19.3796
270036 | 0.8297 | * | 21.8255 | 20.4242 | * | 20.9986
270049 | 1.7274 | 0.8956 | 24.6556 | 26.3996 | 27.1634 | 26.0758
270050 | 1.1052 | * | 22.4195 | * | * | 22.4195
270051 | 1.5760 | 0.8783 | 26.4457 | 26.6619 | 26.5621 | 26.5559
270057 | 1.2513 | 0.8806 | 22.6251 | 24.2980 | 25.5811 | 24.2093
270060 | 0.9573 | * | 16.6592 | 17.7564 | * | 17.1813
270074 | 0.9017 | 1.4448 | * | * | * | *
270079 | *** | * | 21.6382 | * | * | 21.6382
270081 | 1.0059 | 0.8655 | 17.3174 | 17.4862 | 19.5612 | 18.0916
270082 | *** | * | 19.6173 | * | * | 19.6173
270084 | 1.0876 | * | 22.2340 | * | * | 22.2340
270086 | 1.1747 | 0.8747 | * | * | 21.0807 | 21.0807
270087 | 1.1684 | 0.8655 | * | * | 25.9771 | 25.9771
280003 | 1.7859 | 0.9966 | 27.2844 | 29.3921 | 30.6124 | 29.1369
280009 | 1.8212 | 0.9617 | 25.3162 | 26.7678 | 27.0705 | 26.3872
280010 | *** | * | 22.6516 | * | * | 22.6516
280013 | 1.7805 | 0.9399 | 24.5214 | 26.1908 | 27.0250 | 25.8875
280020 | 1.7123 | 0.9966 | 25.7522 | 26.5068 | 27.3284 | 26.5645
280021 | 1.1309 | * | 22.2864 | 22.0489 | * | 22.1652
280023 | 1.3740 | 0.9617 | 22.7207 | 22.3230 | 26.7980 | 23.8503
280030 | 1.8990 | 0.9399 | 32.5601 | 30.7481 | 29.5102 | 30.9584
280032 | 1.3199 | 0.9617 | 22.6510 | 23.6462 | 24.3995 | 23.5606
280040 | 1.6641 | 0.9399 | 25.2965 | 26.9827 | 28.7207 | 27.0393
280054 | 1.2025 | * | 22.4241 | 23.5665 | * | 23.0039
280057 | 0.8520 | * | 23.6793 | 20.4830 | * | 21.8581
280060 | 1.6803 | 0.9399 | 25.2288 | 26.2139 | 27.7496 | 26.4727
280061 | 1.3986 | 0.9057 | 23.9110 | 24.9482 | 26.0208 | 25.0013
280065 | 1.2177 | 0.9857 | 27.9937 | 26.0135 | 28.0581 | 27.2987
280077 | 1.3079 | 0.9399 | 24.0516 | 25.5624 | 27.0860 | 25.5666
280081 | 1.5845 | 0.9399 | 25.1973 | 26.0541 | 28.7464 | 26.6749
280105 | 1.2575 | 0.9399 | 25.0445 | 26.7555 | 27.8599 | 26.6305
280108 | 1.0655 | * | 22.5584 | 23.2502 | * | 22.8979
280111 | 1.1747 | 0.8636 | 22.1424 | 23.4770 | 24.5617 | 23.4919
280117 | 1.1280 | * | 22.0611 | 24.1521 | * | 23.1088
280119 | 0.8485 | 1.4448 | * | * | * | *
280123 | 0.9112 | 0.8773 | 27.5207 | * | 15.4047 | 20.0912
280125 | 1.4870 | 0.8693 | 21.8385 | 21.7658 | 22.1345 | 21.9149
280127 | 1.8413 | 0.9966 | * | * | 29.3684 | 29.3684
280128 | 3.0362 | 0.9966 | * | * | 28.5422 | 28.5422
280129 | 1.9223 | 0.9399 | * | * | * | *
280130 | 1.3543 | 0.9399 | * | * | * | *
290001 | 1.8232 | 1.2126 | 27.3105 | 31.1981 | 36.3129 | 31.5115
290002 | 0.9167 | 0.9468 | 16.8433 | 18.3469 | 17.3876 | 17.5521
290003 | 1.7444 | 1.1148 | 27.1099 | 28.1625 | 30.3373 | 28.5302
290005 | 1.4784 | 1.1148 | 27.1531 | 27.6697 | 28.3366 | 27.7405
290006 | 1.2113 | 1.1713 | 26.3617 | 27.9502 | 31.7301 | 28.6339
290007 | 1.6566 | 1.1148 | 35.4193 | 37.5559 | 38.1938 | 37.0494
290008 | 1.1622 | 0.9476 | 26.4086 | 27.9714 | 27.3019 | 27.2130
290009 | 1.7571 | 1.2126 | 27.6011 | 29.8019 | 36.2724 | 31.1485
290010 | 1.0481 | * | 23.8733 | 23.9654 | * | 23.9192
290012 | 1.3195 | 1.1148 | 27.2675 | 31.0843 | 32.3966 | 30.3319
290016 | 1.2773 | * | 25.1726 | 26.1925 | * | 25.6684
290019 | 1.3844 | 1.1713 | 27.2484 | 28.6158 | 29.3650 | 28.4400
290020 ʰ | 1.0385 | 1.1148 | 21.3094 | 21.6993 | 23.2102 | 21.9726
290021 | 1.7942 | 1.1148 | 28.3837 | 33.2116 | 32.7894 | 31.4357
290022 | 1.5701 | 1.1148 | 29.8144 | 29.4422 | 29.9717 | 29.7410
290027 | 0.9018 | 0.9181 | 17.8850 | 15.1448 | 23.9959 | 19.2838
290032 | 1.4106 | 1.2126 | 29.4164 | 31.7105 | 31.6711 | 30.9714
290039 | 1.5335 | 1.1148 | 29.6801 | 31.2941 | 32.1423 | 31.0892
290041 | 1.3184 | 1.1148 | 30.1346 | 33.9878 | 34.2436 | 32.9123
290042 | 0.4555 | 1.1148 | * | * | * | *
290044 | *** | * | * | * | 37.1660 | 37.1660
290045 | 1.5722 | 1.1148 | 26.9319 | 30.9612 | 33.1513 | 30.7571
290046 | 1.2682 | 1.1148 | * | * | * | *
290047 | 1.4112 | 1.1148 | * | * | * | *
290049 | 1.3405 | 0.9929 | * | * | * | *
290050 | 1.1705 | * | * | * | * | *
290051 | 1.5208 | 0.9929 | * | * | * | *
300001 | 1.5662 | 1.1732 | 29.4130 | 27.5032 | 29.2260 | 28.6856
300003 | 2.0626 | 1.1732 | 27.8059 | 33.3560 | 34.7900 | 32.0288
300005 | 1.3933 | 1.1732 | 25.1869 | 25.6699 | 27.8000 | 26.2480
300006 | 1.2040 | * | 20.6787 | 23.3200 | * | 21.9235
300007 | 1.2792 | * | 25.3125 | * | * | 25.3125
300010 | 1.1787 | * | 26.9346 | 27.5028 | * | 27.2341
300011 | 1.2704 | 1.1801 | 27.3325 | 28.4044 | 30.9403 | 28.9361
300012 | 1.3674 | 1.1801 | 28.4234 | 30.5198 | 30.4972 | 29.7599
300013 | *** | * | 23.1529 | * | * | 23.1529
300014 | 1.1975 | 1.1732 | 25.5059 | 27.5151 | 29.7667 | 27.6810
300015 | 1.0766 | * | 24.0620 | * | * | 24.0620
300016 | *** | * | 24.5498 | * | * | 24.5498
300017 | 1.2302 | 1.2093 | 28.3959 | 29.6957 | 29.9560 | 29.3554
300018 | 1.3762 | 1.1732 | 28.0308 | 29.7209 | 29.4270 | 29.1023
300019 | 1.2847 | 1.1732 | 25.3845 | 25.9656 | 27.5672 | 26.3633
300020 | 1.2043 | 1.1801 | 26.8402 | 28.6723 | 30.8491 | 28.8340
300022 | 1.0801 | * | 23.5948 | * | * | 23.5948
300023 | 1.3573 | 1.2093 | 25.4873 | 28.6309 | 31.0040 | 28.5350
300024 | 1.6816 | * | 23.9205 | * | * | 23.9205
300029 | 1.7619 | 1.2093 | 26.9484 | 29.0806 | 29.8117 | 28.6663
300034 | 2.0346 | 1.1801 | 28.5375 | 29.7484 | 30.7676 | 29.7094
310001 | 1.7477 | 1.3344 | 33.9360 | 35.3612 | 41.7460 | 37.0533
310002 | 1.8743 | 1.3124 | 35.4567 | 37.3461 | 37.9183 | 36.8843
310003 | 1.2046 | 1.3344 | 31.1040 | 32.8935 | 36.2346 | 33.4692
310005 | 1.3036 | 1.1756 | 27.5690 | 29.0084 | 32.1319 | 29.6244
310006 | 1.1971 | 1.3344 | 27.0436 | 27.4545 | 28.4771 | 27.6600
310008 | 1.3213 | 1.3344 | 29.5857 | 31.2579 | 32.6788 | 31.1973
310009 | 1.2688 | 1.3124 | 29.7760 | 32.7384 | 33.6940 | 32.0244
310010 | 1.2824 | 1.1494 | 25.3139 | 28.5852 | 33.9552 | 29.3351
310011 | 1.2494 | 1.1517 | 28.5241 | 30.8612 | 31.2907 | 30.2391
310012 | 1.6339 | 1.3344 | 33.1622 | 34.6882 | 38.3590 | 35.4778
310013 | 1.2335 | 1.3124 | 28.5016 | 30.6248 | 31.0447 | 30.0707
310014 | 1.9169 | 1.1402 | 32.7222 | 29.7204 | 30.0793 | 30.6716
310015 | 1.9641 | 1.3124 | 32.4980 | 36.4776 | 36.8818 | 35.3134
310016 | 1.3110 | 1.3344 | 28.9788 | 33.9862 | 35.6154 | 33.1426
310017 | 1.3283 | 1.3124 | 28.0930 | 30.9233 | 32.2434 | 30.4707
310018 | 1.1910 | 1.3124 | 26.9399 | 30.3381 | 30.3234 | 29.2415
310019 | 1.6317 | 1.3344 | 31.0524 | 29.6592 | 30.3518 | 30.3803
310020 | 1.5329 | 1.3344 | 29.3392 | 30.6722 | 33.5516 | 31.1594
310021 | 1.6480 | 1.2445 | 29.6308 | 31.3410 | 32.1929 | 31.0468
310022 | 1.2433 | 1.1402 | 26.1914 | 28.2024 | 30.4043 | 28.3443
310024 | 1.3624 | 1.1756 | 27.5278 | 30.9171 | 33.3415 | 30.5987
310025 | 1.3074 | 1.3344 | 27.7960 | 31.1274 | 34.3687 | 31.3448
310026 | 1.1915 | 1.3344 | 25.3970 | 27.5171 | 29.1588 | 27.4335
310027 | 1.3612 | 1.1756 | 27.0982 | 28.8314 | 29.7792 | 28.8434
310028 | 1.2632 | 1.2445 | 29.1101 | 31.3849 | 32.2977 | 30.9901
310029 | 1.9463 | 1.1402 | 29.1439 | 30.7707 | 32.9246 | 30.9560
310031 | 3.0740 | 1.1402 | 30.2345 | 33.9685 | 37.0668 | 33.7978
310032 | 1.3131 | 1.1402 | 27.8754 | 27.5232 | 30.7865 | 28.7657
310034 | 1.3380 | 1.1402 | 27.8517 | 29.9162 | 31.7012 | 29.8441
310037 | 1.3574 | 1.3344 | 32.1471 | 35.0329 | 38.5415 | 35.3284
310038 | 2.0078 | 1.3124 | 32.1977 | 33.4822 | 35.9190 | 33.9520
310039 | 1.2524 | 1.3124 | 27.1054 | 28.8292 | 31.4278 | 29.1193
310040 | 1.3596 | 1.3344 | 28.0068 | 34.1113 | 33.8535 | 31.9439
310041 | 1.2785 | 1.1402 | 29.7335 | 32.8085 | 32.8391 | 31.7776
310042 | *** | * | 29.0207 | 30.7358 | 34.4986 | 31.3194
310044 | 1.3696 | 1.1494 | 27.7752 | 31.3206 | 31.9678 | 30.3811
310045 | 1.7310 | 1.3344 | 32.6359 | 34.1060 | 36.7862 | 34.5413
310047 | 1.2972 | 1.1692 | 28.3415 | 32.7880 | 34.1520 | 31.8914
310048 | 1.3227 | 1.1756 | 28.4715 | 30.2025 | 32.9681 | 30.5981
310049 | *** | * | 32.7666 | 27.8564 | * | 30.6033
310050 | 1.2374 | 1.3124 | 27.2276 | 27.3033 | 29.1733 | 27.9356
310051 | 1.3937 | 1.2445 | 32.0113 | 33.7168 | 35.0121 | 33.5859
310052 | 1.3400 | 1.1402 | 28.1498 | 30.8036 | 32.5778 | 30.4966
310054 | 1.2992 | 1.3124 | 30.6905 | 34.1860 | 34.4431 | 33.1002
310057 | 1.3228 | 1.1402 | 26.4606 | 29.5221 | 31.1268 | 29.1387
310058 | 1.0663 | 1.3344 | 26.4816 | 28.0815 | 27.1555 | 27.2335
310060 | 1.2379 | 1.2268 | 23.2146 | 25.1575 | 27.3415 | 25.3482
310061 | 1.2564 | 1.1402 | 27.5400 | 28.2129 | 31.6648 | 29.0899
310063 | 1.3599 | 1.1756 | 28.3457 | 31.4884 | 31.9247 | 30.5720
310064 | 1.5579 | 1.1692 | 29.5979 | 33.4440 | 35.7607 | 32.9976
310067 | *** | * | 26.8068 | * | * | 26.8068
310069 | 1.2817 | 1.1402 | 27.9656 | 28.1681 | 31.7642 | 29.4371
310070 | 1.3947 | 1.3124 | 32.1806 | 33.2310 | 34.3225 | 33.2892
310072 | *** | * | 26.3520 | * | * | 26.3520
310073 | 1.8377 | 1.1402 | 29.6611 | 32.0329 | 32.6733 | 31.4821
310074 | 1.2559 | 1.3344 | 28.4361 | 29.4834 | 40.3494 | 32.6768
310075 | 1.3051 | 1.1402 | 26.2479 | 31.6870 | 31.5226 | 29.7730
310076 | 1.6632 | 1.3124 | 34.9428 | 36.4280 | 38.0643 | 36.4849
310077 | *** | * | 30.7465 | 32.6644 | 34.6085 | 32.6385
310078 | *** | * | 26.9589 | 29.8014 | 30.5761 | 29.1498
310081 | 1.2341 | 1.1402 | 26.4259 | 26.6136 | 30.1561 | 27.7568
310083 | 1.3011 | 1.3124 | 24.6563 | 28.2392 | 30.3580 | 27.6760
310084 | 1.2116 | 1.1402 | 29.9437 | 32.9001 | 33.5941 | 32.0363
310086 | 1.2338 | 1.1402 | 27.3601 | 29.3058 | 29.5566 | 28.7509
310088 | 1.1836 | 1.1692 | 25.5274 | 26.4966 | 29.9928 | 27.3251
310090 | 1.2726 | 1.1756 | 27.1661 | 30.8941 | 32.8191 | 30.2346
310091 | 1.1905 | 1.1402 | 27.1115 | 27.7204 | 29.3969 | 28.0754
310092 | 1.4261 | 1.1494 | 25.7071 | 29.4999 | 29.7958 | 28.3774
310093 | 1.1887 | 1.3124 | 25.8727 | 28.0401 | 29.1288 | 27.7853
310096 | 2.0324 | 1.3124 | 30.3675 | 34.4275 | 34.1524 | 33.0200
310105 | 1.2276 | 1.3344 | 30.9968 | 31.9769 | 30.1069 | 30.9957
310108 | 1.3650 | 1.3124 | 29.1548 | 30.1002 | 33.0172 | 30.7665
310110 | 1.2847 | 1.1494 | 27.8707 | 31.2164 | 33.2246 | 31.0640
310111 | 1.2017 | 1.1402 | 28.8692 | 30.7475 | 31.8393 | 30.5682
310112 | 1.2757 | 1.1402 | 28.9928 | 30.4192 | 31.2372 | 30.2639
310113 | 1.2396 | 1.1402 | 27.5203 | 29.6079 | 31.0436 | 29.4303
310115 | 1.2800 | 1.2268 | 26.2803 | 29.6020 | 29.5320 | 28.5347
310116 | 1.2292 | 1.3344 | 26.6287 | 25.6976 | 29.2748 | 27.1753
310118 | 1.3309 | 1.3344 | 28.1238 | 28.8797 | 31.1803 | 29.3790
310119 | 1.8352 | 1.3124 | 35.6786 | 37.7876 | 43.1238 | 39.0388
310120 | 1.0722 | 1.2445 | 27.2010 | 31.4110 | 29.2535 | 29.2227
310122 | 1.8283 | 1.1402 | * | * | * | *
310123 | 2.4750 | 1.2107 | * | * | * | *
310124 | 1.7405 | 1.1752 | * | * | * | *
310125 | 2.8454 | 1.1756 | * | * | * | *
320001 | 1.5514 | 0.9564 | 26.1962 | 26.9434 | 29.6182 | 27.7003
320002 | 1.4165 | 1.0808 | 28.6963 | 30.5158 | 32.0477 | 30.4670
320003 | 1.1746 | 0.9004 | 22.3911 | 28.1402 | 27.6222 | 25.8257
320004 | 1.3071 | 0.8375 | 24.0362 | 24.9481 | 24.7803 | 24.6220
320005 | 1.3399 | 0.9444 | 21.2164 | 23.8264 | 24.7543 | 23.2955
320006 | 1.3170 | 0.9808 | 22.5615 | 24.2812 | 26.9080 | 24.6222
320009 | 1.5505 | 0.9564 | 24.4237 | 22.8293 | 32.0116 | 25.7948
320011 | 1.1205 | 0.8817 | 23.1539 | 24.2279 | 25.6693 | 24.4158
320013 | 1.0989 | 0.9808 | 27.8671 | 28.9276 | 22.8283 | 26.0398
320014 | 1.1080 | 0.9124 | 26.7112 | 24.5310 | 27.2805 | 26.1224
320016 | 1.1374 | 0.8375 | 21.7001 | 23.5040 | 25.0835 | 23.4618
320017 | 1.1509 | 0.9564 | 23.6861 | 25.0286 | 31.6357 | 26.4139
320018 | 1.4287 | 0.9187 | 23.0915 | 23.2360 | 26.5109 | 24.0533
320019 | 1.6151 | 0.9564 | 31.2250 | 31.5192 | 27.8067 | 29.9839
320021 | 1.6455 | 0.9564 | 28.5620 | 27.2357 | 26.9918 | 27.4770
320022 | 1.1296 | 0.8375 | 22.1492 | 23.7160 | 23.9595 | 23.2809
320030 | 1.0508 | 0.8375 | 18.0990 | 22.1971 | 21.0378 | 20.3643
320033 | 1.1906 | 0.9808 | 24.1185 | 27.6393 | 31.7114 | 27.7016
320037 | 1.1408 | 0.9564 | 21.6080 | 23.3999 | 24.9657 | 23.3661
320038 | 1.2163 | 0.8375 | 21.2181 | 20.1533 | 21.7022 | 21.0278
320046 | 1.1630 | * | 22.9114 | 24.3534 | * | 23.6315
320057 | 0.8166 | 1.4448 | * | * | * | *
320058 | 0.8100 | 1.4448 | * | * | * | *
320059 | 0.8598 | 1.4448 | * | * | * | *
320060 | 0.9173 | 1.4448 | * | * | * | *
320061 | 0.8696 | 1.4448 | * | * | * | *
320062 | 0.8792 | 1.4448 | * | * | * | *
320063 | 1.2715 | 0.9714 | 24.9141 | 24.4696 | 25.0031 | 24.8079
320065 | 1.1465 | 0.9714 | 21.6189 | 26.6603 | 27.3163 | 25.4560
320067 | 0.8864 | 0.8375 | 20.4431 | 23.7745 | 24.9865 | 23.2172
320069 | 1.1134 | 0.8375 | 19.7296 | 20.9167 | 22.4128 | 21.0434
320070 | 0.9210 | 1.4448 | * | * | * | *
320074 | 1.1367 | 0.9564 | 35.5980 | 22.2175 | 31.1332 | 29.2344
320079 | 1.0896 | 0.9564 | 23.8092 | 25.2105 | 26.1188 | 25.0788
320083 | 2.5957 | 0.9564 | * | 28.2114 | 26.6921 | 27.3103
320084 | 0.9782 | 0.8375 | * | 17.2511 | 17.5788 | 17.4297
320085 | 1.6768 | 0.9187 | * | 24.8752 | 27.9944 | 26.5515
330001 | *** | * | 31.3735 | 33.4718 | * | 32.4179
330002 | 1.4963 | 1.3344 | 29.3459 | 31.1924 | 30.9600 | 30.5168
330003 | 1.3462 | 0.8849 | 21.6506 | 22.9945 | 24.4326 | 23.0383
330004 | 1.2595 | 1.0660 | 23.9959 | 26.0445 | 28.0594 | 26.1032
330005 | 1.5832 | 0.9475 | 25.9287 | 29.0124 | 30.3200 | 28.3473
330006 | 1.2637 | 1.3344 | 29.7509 | 31.5370 | 33.6284 | 31.6658
330008 | 1.1398 | 0.9475 | 21.3269 | 21.8198 | 23.4429 | 22.1931
330009 | 1.2101 | 1.3344 | 35.8367 | 35.4986 | 36.2820 | 35.8724
330010 | *** | * | 17.9178 | 19.6920 | 20.7477 | 19.2443
330011 | 1.3051 | 0.8963 | 20.3641 | 21.8008 | 25.1308 | 22.4271
330013 | 1.9897 | 0.8849 | 23.9070 | 24.5162 | 26.4578 | 24.9891
330014 | 1.3099 | 1.3344 | 35.4053 | 38.8123 | 42.1759 | 38.7252
330016 | 0.9839 | 0.8430 | 18.9388 | 28.4392 | 22.0493 | 22.4172
330019 | 1.2924 | 1.3344 | 32.3413 | 34.8266 | 38.5368 | 35.2561
330023 | 1.5694 | 1.3124 | 29.2669 | 31.6208 | 35.9428 | 32.4742
330024 | 1.7975 | 1.3344 | 36.5648 | 37.8398 | 42.7691 | 38.9000
330025 | 1.0796 | 0.9475 | 19.7561 | 20.2775 | 21.2565 | 20.4319
330027 | 1.4412 | 1.3124 | 35.1325 | 39.0717 | 42.8001 | 38.9689
330028 | 1.4221 | 1.3344 | 33.5312 | 34.2709 | 36.6498 | 34.7582
330029 | 0.4416 | 0.9475 | 18.6623 | 19.1589 | 23.2039 | 20.0783
330030 | 1.2251 | 0.9103 | 22.4368 | 22.9937 | 24.6174 | 23.2841
330033 | 1.1415 | 0.8430 | 21.3762 | 22.5681 | 24.5510 | 22.8107
330036 | 1.1250 | 1.3344 | 27.6813 | 28.9409 | 29.1884 | 28.5828
330037 | 1.1103 | 0.9103 | 19.6385 | 20.6904 | 22.3689 | 20.9100
330041 | 1.2523 | 1.3344 | 36.2481 | 36.0286 | 37.4883 | 36.5854
330043 | 1.3817 | 1.2971 | 34.1039 | 34.7480 | 39.1643 | 36.0514
330044 | 1.2921 | 0.8430 | 23.1450 | 24.1907 | 26.5669 | 24.6635
330045 | 1.3322 | 1.2971 | 34.4956 | 36.1893 | 38.1269 | 36.3069
330046 | 1.4267 | 1.3344 | 42.0900 | 44.8494 | 50.3152 | 45.6620
330047 ʰ | 1.2037 | 0.8849 | 21.1244 | 24.0678 | 24.3932 | 23.2876
330049 | 1.4486 | 1.2050 | 25.7022 | 29.2904 | 29.8350 | 28.3245
330053 | 1.0610 | 0.9103 | 19.6807 | 18.5290 | 20.6272 | 19.6035
330055 | 1.5570 | 1.3344 | 35.1393 | 38.4839 | 41.5934 | 38.4339
330056 | 1.4398 | 1.3344 | 32.9295 | 37.8444 | 36.0135 | 35.5703
330057 | 1.7009 | 0.8849 | 22.6519 | 24.4680 | 26.4989 | 24.5634
330058 | 1.3396 | 0.9103 | 19.5520 | 21.3727 | 22.2524 | 21.0787
330059 | 1.5292 | 1.3344 | 38.1019 | 39.7386 | 41.7343 | 39.8971
330061 | 1.2197 | 1.3344 | 32.7427 | 33.2848 | 36.0587 | 34.0671
330062 | 1.0437 | * | 21.4270 | 21.0464 | * | 21.2306
330064 | 1.2575 | 1.3344 | 38.5719 | 36.4276 | 38.0437 | 37.6527
330065 | 1.0550 | 0.9475 | 21.9192 | 23.9128 | 25.3043 | 23.6800
330066 | 1.3402 | 0.8849 | 23.0916 | 24.7941 | 29.1780 | 25.7537
330067 | 1.4340 | 1.3124 | 34.8416 | 26.4243 | 27.8900 | 29.2133
330072 | 1.3262 | 1.3344 | 32.7905 | 36.4336 | 37.8505 | 35.6797
330073 | 1.1309 | 0.9103 | 19.0781 | 20.1490 | 22.5592 | 20.5686
330074 | 1.2131 | 0.9103 | 20.2874 | 21.4274 | 22.6629 | 21.4464
330075 | 1.1128 | 0.9776 | 22.0240 | 22.4188 | 23.1592 | 22.5488
330078 | 1.4676 | 0.9475 | 22.7762 | 23.3981 | 25.8073 | 24.0112
330079 | 1.2405 | 0.9380 | 22.1064 | 22.5237 | 24.6054 | 23.1112
330080 | 1.1770 | 1.3344 | 36.1171 | 39.1724 | 39.1417 | 38.1641
330084 | 1.0815 | 0.8430 | 22.6365 | 21.5455 | 22.5573 | 22.2542
330085 | 1.1423 | 0.9498 | 23.2927 | 23.9568 | 25.3285 | 24.1955
330086 | 1.3574 | 1.3344 | 28.8424 | 29.1784 | 32.7675 | 30.3025
330088 | 1.0119 | 1.2971 | 31.2631 | 31.3973 | 34.0788 | 32.2485
330090 | 1.4341 | 0.8430 | 22.7721 | 23.6174 | 25.5351 | 23.9566
330091 | 1.3496 | 0.9475 | 22.5796 | 23.8063 | 25.9378 | 24.1384
330094 | 1.2589 | 0.9195 | 22.1495 | 23.0001 | 25.7116 | 23.5888
330095 | *** | * | 28.9914 | 31.9872 | * | 30.3053
330096 | 1.2295 | 0.8430 | 22.4895 | 22.0337 | 22.7189 | 22.4123
330097 | 1.1614 | * | 19.2233 | 20.3189 | * | 19.7495
330100 | 0.9830 | 1.3344 | 32.8406 | 34.4621 | 38.3333 | 35.3017
330101 | 1.9047 | 1.3344 | 39.2601 | 38.7503 | 40.1929 | 39.4202
330102 | 1.3901 | 0.9475 | 23.6141 | 24.8184 | 25.3879 | 24.6115
330103 | 1.0832 | 0.8430 | 18.8763 | 21.1452 | 22.8242 | 20.9079
330104 | 1.3421 | 1.3344 | 33.7556 | 32.8818 | 33.7537 | 33.4694
330106 | 1.7405 | 1.3946 | 39.8554 | 41.4561 | 43.8210 | 41.7571
330107 | 1.2808 | 1.2971 | 31.8528 | 31.3888 | 34.9047 | 32.7622
330108 | 1.1345 | 0.8430 | 21.4680 | 22.2607 | 23.2919 | 22.3180
330111 | 1.0572 | 0.9475 | 17.6185 | 20.9387 | 20.3474 | 19.5817
330115 | 1.1783 | 0.9776 | 20.5101 | 23.3043 | 25.2373 | 23.0172
330119 | 1.7608 | 1.3344 | 36.5873 | 39.1114 | 39.0528 | 38.2392
330121 | 0.9502 | * | 19.7388 | * | * | 19.7388
330122 | *** | * | 26.3849 | * | * | 26.3849
330125 | 1.7499 | 0.9103 | 24.6945 | 26.7118 | 27.2920 | 26.2802
330126 | 1.2948 | 1.2330 | 28.8299 | 31.6370 | 35.2257 | 33.1518
330127 | 1.3335 | 1.3344 | 43.7479 | 44.6103 | 45.3680 | 44.5695
330128 | 1.2929 | 1.3344 | 34.5289 | 37.7166 | 39.5197 | 37.2405
330132 | 1.0958 | 0.8430 | 16.3088 | 17.4946 | 21.0479 | 18.6411
330133 | 1.3738 | 1.3344 | 44.0704 | 36.6962 | 39.3837 | 39.8263
330135 | 1.1829 | 1.2330 | 26.9969 | 29.0837 | 27.9132 | 28.0387
330136 | 1.4890 | 0.9498 | 22.5447 | 24.2010 | 25.8531 | 24.2609
330140 | 1.7475 | 0.9776 | 23.5774 | 25.7573 | 27.6183 | 25.6362
330141 | 1.3530 | 1.2971 | 30.6616 | 34.8902 | 39.4701 | 35.1761
330144 | 1.0539 | 0.8430 | 20.1805 | 20.9935 | 22.9561 | 21.3523
330148 | 1.0086 | * | 18.5443 | * | * | 18.5443
330151 | 1.1567 | 0.8430 | 17.6782 | 19.1841 | 21.7664 | 19.4160
330152 | 1.2919 | 1.3344 | 32.0616 | 36.5136 | 37.6721 | 35.4330
330153 | 1.7084 | 0.8849 | 21.9935 | 24.5219 | 26.4386 | 24.3827
330157 | 1.3499 | 0.9498 | 23.6939 | 25.2312 | 26.5686 | 25.1886
330158 | 1.5442 | 1.3344 | 33.0067 | 32.2990 | 38.2033 | 34.5684
330159 | 1.4147 | 0.9776 | 24.1916 | 28.9094 | 28.2774 | 27.0713
330160 | 1.5935 | 1.3344 | 34.0373 | 34.1960 | 36.6208 | 34.9856
330162 | 1.3051 | 1.3344 | 31.3812 | 32.1783 | 34.9460 | 32.8100
330163 | 1.1685 | 0.9475 | 22.4644 | 24.0200 | 27.1933 | 24.6140
330164 | 1.4585 | 0.9103 | 24.4306 | 28.8481 | 27.7217 | 26.9958
330166 ʰ | 1.0595 | 0.8430 | 18.8777 | 19.4360 | 20.4680 | 19.5876
330167 | 1.7569 | 1.3111 | 33.7365 | 34.4748 | 36.7653 | 35.0058
330169 | 1.4210 | 1.3344 | 38.3498 | 39.3361 | 45.3774 | 40.8481
330171 | 1.1969 | 1.3344 | 27.7810 | 30.0122 | 30.4005 | 29.3157
330175 | 1.1405 | 0.8430 | 21.1944 | 22.2067 | 23.8509 | 22.4425
330177 | 1.0032 | 0.8430 | 20.1850 | 19.6100 | 20.6338 | 20.1674
330180 | 1.2285 | 0.8849 | 21.9641 | 22.1920 | 24.3761 | 22.8406
330181 | 1.3008 | 1.3111 | 35.9334 | 38.5351 | 41.4104 | 38.6724
330182 | 2.3150 | 1.3124 | 36.3831 | 39.6038 | 40.9014 | 39.0147
330184 | 1.4414 | 1.3344 | 33.2843 | 34.4044 | 35.8102 | 34.5618
330185 | 1.2296 | 1.2971 | 31.0179 | 32.3466 | 36.3155 | 33.3774
330188 | 1.2554 | 0.9475 | 22.6803 | 23.9210 | 25.1153 | 23.9351
330189 | 1.0678 | 0.8849 | 19.2538 | 21.6229 | 22.3485 | 21.0123
330191 | 1.2884 | 0.8849 | 22.3719 | 24.0232 | 25.5656 | 24.0003
330193 | 1.2852 | 1.3344 | 36.9866 | 37.1807 | 39.9327 | 38.0621
330194 | 1.8257 | 1.3344 | 39.9177 | 43.9910 | 45.5639 | 43.2233
330195 | 1.7405 | 1.3344 | 38.6867 | 40.0206 | 39.7802 | 39.5880
330196 | 1.3702 | 1.3344 | 32.5883 | 33.2171 | 36.7178 | 34.1674
330197 | 1.0602 | 0.8430 | 22.3117 | 23.4291 | 26.8921 | 24.1957
330198 | 1.3833 | 1.3111 | 29.5359 | 30.5485 | 33.4930 | 31.2596
330199 | 1.1497 | 1.3344 | 32.7870 | 35.0059 | 38.6407 | 35.3981
330201 | 1.6340 | 1.3344 | 33.3215 | 39.3682 | 37.2064 | 36.5653
330202 | 1.2830 | 1.3344 | 34.3545 | 38.0129 | 37.4150 | 36.6508
330203 | 1.4480 | 0.9776 | 26.2459 | 26.5882 | 32.1207 | 28.2322
330204 | 1.3213 | 1.3344 | 30.3273 | 37.6849 | 39.6393 | 35.7350
330205 | 1.2893 | 1.2330 | 30.0101 | 32.1617 | 31.9510 | 31.4323
330208 | 1.1809 | 1.3344 | 28.2667 | 29.6282 | 32.1257 | 30.2183
330209 | *** | * | 28.7213 | 29.7988 | 30.2038 | 29.5753
330211 | 1.1197 | 0.8430 | 21.1094 | 22.9966 | 24.4470 | 22.8189
330212 | *** | * | 27.0585 | 27.2232 | * | 27.1435
330213 | 1.0833 | 0.8430 | 21.7208 | 22.5191 | 24.4049 | 22.9484
330214 | 1.9407 | 1.3344 | 33.7670 | 37.8500 | 41.8719 | 37.7532
330215 | 1.2677 | 0.8753 | 20.6343 | 22.6744 | 23.7361 | 22.3576
330218 | 1.0742 | 0.9776 | 21.4095 | 24.1106 | 26.9638 | 24.1725
330219 | 1.7200 | 0.9475 | 27.7400 | 29.3644 | 29.8889 | 28.9784
330221 | 1.3810 | 1.3344 | 34.7033 | 36.5539 | 39.2080 | 36.8501
330222 | 1.2744 | 0.8849 | 25.9825 | 23.9746 | 25.8507 | 25.2339
330223 | 1.0214 | 0.8430 | 18.4291 | 19.4229 | 23.3669 | 20.3266
330224 | 1.3170 | 1.0660 | 23.9379 | 25.7850 | 27.9231 | 25.9513
330225 | 1.1594 | 1.3111 | 28.9952 | 29.2719 | 32.3585 | 30.2732
330226 | 1.3144 | 0.9103 | 23.4783 | 21.8977 | 24.5646 | 23.3335
330229 ʰ | 1.2041 | 0.8451 | 19.5670 | 20.6095 | 21.9356 | 20.7055
330230 | 1.0002 | 1.3344 | 32.1101 | 33.3175 | 37.1297 | 34.1085
330231 | 1.0219 | 1.3344 | 33.9324 | 36.9619 | 40.6697 | 37.0730
330232 | 1.1845 | 0.8849 | 21.4765 | 24.4531 | 26.3313 | 24.1028
330233 | 1.4767 | 1.3344 | 41.9968 | 45.5132 | 47.3497 | 45.0023
330234 | 2.2645 | 1.3344 | 36.8500 | 40.6314 | 48.2306 | 41.6811
330235 | 1.1728 | 0.9498 | 22.1217 | 23.3866 | 27.7031 | 24.3091
330236 | 1.5487 | 1.3344 | 32.9391 | 35.6347 | 40.2386 | 36.2954
330238 | 1.1804 | 0.9103 | 19.2407 | 20.8639 | 21.7434 | 20.6067
330239 ʰ | 1.2379 | 0.8451 | 20.4936 | 21.5397 | 22.3854 | 21.4715
330240 | 1.2387 | 1.3344 | 40.7478 | 39.9450 | 43.5753 | 41.4019
330241 | 1.8671 | 0.9776 | 27.7213 | 29.0882 | 30.2304 | 29.0730
330242 | 1.3280 | 1.3344 | 32.2178 | 33.6926 | 37.4870 | 34.4195
330245 | 1.8183 | 0.8430 | 21.6857 | 22.8003 | 26.1811 | 23.5901
330246 | 1.3313 | 1.2971 | 31.6763 | 34.6329 | 37.1611 | 34.4317
330247 | 0.7996 | 1.3344 | 32.1733 | 32.2300 | 35.4980 | 33.2530
330249 | 1.2624 | 0.9776 | 21.4345 | 22.9834 | 25.3246 | 23.2900
330250 | 1.3114 | 0.9436 | 23.0641 | 25.1664 | 27.1606 | 25.1436
330259 | 1.4059 | 1.3111 | 30.0488 | 31.9152 | 35.1514 | 32.4481
330261 | 1.2989 | 1.3344 | 30.9356 | 30.7942 | 33.7834 | 31.8723
330263 | 1.0244 | 0.8430 | 20.8456 | 22.4675 | 23.8738 | 22.4259
330264 | 1.2831 | 1.2249 | 28.1501 | 30.0139 | 30.4701 | 29.5123
330265 | 1.1868 | 0.9103 | 19.9414 | 20.4635 | 21.6477 | 20.6677
330267 | 1.4004 | 1.3344 | 30.3709 | 31.5478 | 32.8540 | 31.6148
330268 | 0.9455 | 0.8430 | 18.9142 | 20.9720 | 25.3567 | 21.6448
330270 | 2.0099 | 1.3344 | 38.2605 | 42.2111 | 57.3596 | 45.4374
330273 | 1.3544 | 1.3344 | 29.5106 | 30.4720 | 37.0157 | 32.3792
330276 | 1.1345 | 0.8493 | 21.7826 | 22.2353 | 24.3300 | 22.7930
330277 | 1.1812 | 0.9407 | 25.1438 | 25.3582 | 26.4535 | 25.6841
330279 | 1.4973 | 0.9475 | 23.4816 | 25.2130 | 27.4539 | 25.4933
330285 | 2.0242 | 0.9103 | 27.1260 | 27.9018 | 30.1928 | 28.4120
330286 | 1.3546 | 1.2971 | 32.3244 | 33.3552 | 35.5895 | 33.8005
330290 | 1.7612 | 1.3344 | 36.3764 | 36.9981 | 39.4690 | 37.6044
330293 | *** | * | 19.0290 | * | * | 19.0290
330304 | 1.3151 | 1.3344 | 33.4431 | 34.5761 | 36.2845 | 34.8117
330306 | 1.4656 | 1.3344 | 30.7551 | 35.6640 | 36.3552 | 34.3235
330307 | 1.2782 | 0.9865 | 25.4128 | 27.5699 | 29.2529 | 27.4683
330314 | 1.2414 | 1.2971 | 26.0150 | 25.5597 | 26.2719 | 25.9464
330316 | 1.2613 | 1.3344 | 33.1512 | 34.8623 | 34.8567 | 34.2777
330331 | 1.2588 | 1.3111 | 34.7052 | 36.1630 | 39.8402 | 36.9991
330332 | 1.2964 | 1.3111 | 31.8389 | 33.3050 | 35.1646 | 33.5211
330333 | *** | * | 33.7637 | 26.1917 | * | 29.6102
330338 | *** | * | 27.3859 | 31.3761 | 37.7497 | 32.1641
330339 | 0.8963 | 0.8849 | 22.2812 | 22.6569 | 23.5786 | 22.8372
330340 | 1.2445 | 1.2971 | 31.4322 | 33.9358 | 37.9000 | 34.3945
330350 | 1.5009 | 1.3344 | 39.3541 | 36.6250 | 41.1339 | 39.0080
330353 | 1.1907 | 1.3344 | 38.6962 | 37.6549 | 45.9692 | 40.8376
330357 | 1.2800 | 1.3344 | 34.3965 | 35.5975 | 38.2286 | 36.0366
330372 | 1.2776 | 1.3111 | 30.1505 | 32.6721 | 36.1840 | 33.1735
330385 | 1.1492 | 1.3344 | 42.6671 | 46.3221 | 48.6175 | 45.8492
330386 | 1.2212 | 1.0660 | 25.9228 | 27.9943 | 29.9366 | 28.0125
330389 | 1.8402 | 1.3344 | 34.7552 | 34.7669 | 37.1862 | 35.5757
330390 | 1.2436 | 1.3344 | 33.2628 | 36.0573 | 36.3842 | 35.1840
330393 | 1.7645 | 1.2971 | 34.8213 | 34.8095 | 38.0619 | 35.9147
330394 | 1.6420 | 0.8963 | 23.3505 | 25.2229 | 27.3388 | 25.3102
330395 | 1.3933 | 1.3344 | 35.4619 | 37.3096 | 36.3921 | 36.4001
330396 | 1.3709 | 1.3344 | 32.5345 | 35.0297 | 37.4998 | 35.0131
330397 | 1.3783 | 1.3344 | 34.5110 | 38.4741 | 37.5682 | 36.7644
330399 | 1.1594 | 1.3344 | 33.6753 | 32.3688 | 34.7394 | 33.5847
330401 | 1.3727 | 1.2971 | 35.7435 | 40.6249 | 37.8559 | 38.0657
330402 | *** | * | 21.3302 | * | * | 21.3302
330403 | *** | * | * | 23.1887 | 25.5163 | 24.2907
330404 | 0.8754 | 1.3344 | * | * | * | *
330405 | 0.8833 | 1.3344 | * | * | * | *
330406 | 0.8810 | 0.8849 | * | * | * | *
340001 | 1.5110 | 0.9413 | 23.2436 | 25.0041 | 28.3988 | 25.4880
340002 | 1.7727 | 0.9339 | 25.1099 | 27.3349 | 28.4860 | 27.0177
340003 | 1.1293 | 0.8629 | 21.5562 | 23.3066 | 24.1602 | 22.9884
340004 | 1.4134 | 0.9246 | 24.2055 | 25.4474 | 26.6404 | 25.4364
340005 | 1.0047 | * | 22.9830 | 22.3814 | * | 22.6704
340007 | *** | * | 21.1519 | * | * | 21.1519
340008 | 1.1123 | 0.9413 | 24.2089 | 26.6314 | 26.7443 | 25.8867
340010 | 1.3575 | 0.9492 | 23.1349 | 24.5666 | 27.2105 | 24.9866
340011 | 1.0730 | 0.8629 | 18.1843 | 19.9484 | 19.7442 | 19.2759
340012 | 1.3185 | 0.8629 | 22.0583 | 22.7189 | 23.2288 | 22.6739
340013 | 1.2331 | 0.9413 | 22.4787 | 23.0261 | 23.9492 | 23.1580
340014 | 1.5767 | 0.9246 | 24.4831 | 25.1872 | 27.4888 | 25.7544
340015 ʰ | 1.3261 | 0.9680 | 24.3870 | 26.2276 | 28.0585 | 26.2469
340016 | 1.2863 | 0.8629 | 22.7574 | 23.0359 | 25.6454 | 23.8229
340017 | 1.3145 | 0.9264 | 22.8879 | 23.8229 | 25.7780 | 24.1806
340018 | 1.2057 | * | 20.3840 | 23.7243 | * | 21.9193
340019 | *** | * | 17.8768 | * | * | 17.8768
340020 | 1.2236 | 0.8836 | 24.1955 | 23.7995 | 26.4465 | 24.8057
340021 | 1.2829 | 0.9413 | 23.6884 | 26.0995 | 29.4865 | 26.4598
340023 | 1.3620 | 0.9264 | 23.2844 | 24.4897 | 26.4225 | 24.7518
340024 | 1.1474 | 0.8629 | 21.2671 | 22.2521 | 23.6638 | 22.4124
340025 | 1.2753 | 0.9264 | 20.9915 | 21.2276 | 23.5881 | 22.0066
340027 | 1.1478 | 0.9223 | 22.6107 | 23.6326 | 25.5973 | 24.0155
340028 | 1.5420 | 0.9453 | 24.6836 | 26.3298 | 28.0323 | 26.3670
340030 | 2.0378 | 0.9677 | 27.4664 | 29.0122 | 29.6630 | 28.7249
340032 | 1.4145 | 0.9413 | 24.8031 | 26.7475 | 26.5958 | 26.0871
340035 | 1.0841 | 0.8629 | 21.2407 | 23.5476 | 23.9669 | 22.9480
340036 | 1.3211 | 0.9722 | 22.2089 | 25.2077 | 27.2690 | 24.9888
340037 | 1.0333 | 0.8845 | 22.5089 | 21.6411 | 25.6262 | 23.3128
340038 | 1.2307 | 0.8629 | 14.0203 | 14.0713 | 22.4829 | 16.1171
340039 | 1.2930 | 0.9413 | 25.6605 | 27.1275 | 27.4457 | 26.7719
340040 | 1.9334 | 0.9329 | 24.1523 | 26.3325 | 27.6626 | 26.0809
340041 | 1.2366 | 0.8991 | 23.0497 | 23.6600 | 24.3595 | 23.7226
340042 | 1.1902 | 0.8629 | 22.1107 | 23.0236 | 25.0110 | 23.3845
340044 | 1.0101 | * | 21.7089 | * | * | 21.7089
340045 | 0.9491 | * | 14.5004 | 23.1918 | * | 18.3297
340047 | 1.8352 | 0.9246 | 25.3727 | 25.0605 | 27.4022 | 25.9687
340049 | 1.9006 | 0.9677 | 22.3082 | 30.4827 | 30.6791 | 27.8941
340050 | 1.0657 | 0.9245 | 21.4511 | 24.2533 | 26.0365 | 23.9274
340051 | 1.2164 | 0.8860 | 21.9069 | 23.4091 | 23.9612 | 23.1178
340053 | 1.5667 | 0.9413 | 26.9361 | 27.7261 | 27.8577 | 27.5165
340055 | 1.2390 | 0.8991 | 24.3728 | 24.1057 | 26.0646 | 24.8292
340060 | 1.1171 | 0.8982 | 22.4303 | 22.8657 | 22.9097 | 22.7415
340061 | 1.7793 | 0.9677 | 26.6657 | 27.5594 | 27.0089 | 27.0858
340064 | 1.0783 | 0.8629 | 22.3631 | 22.9143 | 23.4233 | 22.8967
340065 | *** | * | 20.8413 | * | * | 20.8413
340068 | 1.1865 | 0.9473 | 20.8600 | 21.8830 | 22.6814 | 21.8045
340069 | 1.8830 | 0.9775 | 27.5045 | 27.4473 | 29.3439 | 28.1186
340070 | 1.2875 | 0.9077 | 23.6045 | 24.9033 | 25.3226 | 24.6210
340071 | 1.0889 | 0.9492 | 22.1854 | 25.4537 | 26.3921 | 24.7344
340072 | 1.1717 | 0.8629 | 21.3320 | 23.1163 | 25.2493 | 23.1923
340073 | 1.4310 | 0.9726 | 29.4189 | 30.2061 | 30.9849 | 30.2298
340075 | 1.2075 | 0.8991 | 24.1297 | 26.0225 | 25.1551 | 25.0697
340084 | 1.1423 | 0.9413 | 21.3227 | 21.2580 | 21.1364 | 21.2332
340085 ʰ | 1.2040 | 0.9359 | 23.0890 | 23.9793 | 26.5164 | 24.4669
340087 | 1.2098 | 0.8629 | 18.4202 | 22.0070 | 22.4287 | 20.8329
340088 | *** | * | 24.3299 | * | * | 24.3299
340090 | 1.3158 | 0.9722 | 21.7173 | 23.4542 | 26.4031 | 24.0204
340091 | 1.5461 | 0.9246 | 24.9411 | 25.8266 | 27.1285 | 25.9994
340096 ʰ | 1.1970 | 0.9359 | 23.6345 | 25.2169 | 24.9035 | 24.5909
340097 | 1.1960 | 0.8629 | 22.5775 | 24.2127 | 26.2228 | 24.3086
340098 | 1.4746 | 0.9413 | 25.4823 | 27.3308 | 28.2493 | 27.0338
340099 | 1.2434 | 0.8629 | 20.0178 | 20.3683 | 21.8564 | 20.7359
340104 | 0.8626 | 0.8845 | 14.3252 | 15.7521 | 16.1204 | 15.4033
340106 | 1.1025 | 0.8629 | 22.6979 | 22.4894 | 26.0892 | 23.7195
340107 | 1.1902 | 0.8900 | 22.5583 | 22.9698 | 24.1762 | 23.2448
340109 | 1.2563 | 0.8774 | 22.3826 | 23.4419 | 25.4464 | 23.8115
340113 | 1.8306 | 0.9413 | 26.0776 | 28.2568 | 28.5587 | 27.6668
340114 | 1.6165 | 0.9775 | 25.4533 | 26.6813 | 28.3222 | 26.8414
340115 | 1.6125 | 0.9677 | 25.1907 | 25.0212 | 26.7592 | 25.6788
340116 | 1.7199 | 0.8991 | 26.1641 | 25.3213 | 27.5881 | 26.3694
340119 | 1.2018 | 0.9413 | 22.4821 | 24.2287 | 25.6226 | 24.1679
340120 | 1.0279 | 0.8629 | 21.8548 | 23.0916 | 25.9134 | 23.6615
340121 | 1.0711 | 0.9771 | 20.3701 | 21.7576 | 23.1343 | 21.7704
340123 | 1.2870 | 0.8982 | 23.1879 | 26.1083 | 26.0637 | 25.1328
340124 | 1.0344 | 0.9492 | 18.3866 | 20.8018 | 22.2988 | 20.3755
340126 ʰ | 1.2909 | 0.9492 | 23.5405 | 25.0189 | 26.9866 | 25.2157
340127 | 1.1812 | 0.9677 | 24.6096 | 25.7831 | 26.4746 | 25.6406
340129 | 1.2778 | 0.9413 | 24.1356 | 25.4902 | 25.7976 | 25.2063
340130 | 1.3281 | 0.9413 | 23.0937 | 25.2941 | 26.1717 | 24.9701
340131 | 1.5356 | 0.9223 | 25.2989 | 27.9358 | 27.4750 | 26.9429
340132 | 1.1893 | 0.8629 | 20.4222 | 21.3521 | 23.5856 | 21.8115
340133 | 1.0427 | 0.8937 | 22.1588 | 22.5558 | 23.4678 | 22.7488
340137 | 0.9093 | 0.8991 | 29.9903 | 21.0642 | 22.1742 | 24.9952
340138 | 0.8935 | 0.9775 | 27.4767 | 21.3670 | * | 24.4228
340141 | 1.6224 | 0.9771 | 24.8132 | 27.3355 | 29.3878 | 27.2574
340142 | 1.2073 | 0.8629 | 22.1298 | 22.9907 | 26.6886 | 23.9952
340143 | 1.4998 | 0.8991 | 24.8904 | 25.3633 | 28.0082 | 26.0834
340144 | 1.2658 | 0.9413 | 25.6538 | 27.2686 | 26.1864 | 26.3644
340145 | 1.2978 | 0.9413 | 23.7028 | 23.7131 | 25.8459 | 24.4499
340146 | *** | * | 18.8354 | * | * | 18.8354
340147 | 1.3146 | 0.9492 | 23.9998 | 25.4534 | 26.9162 | 25.4873
340148 | 1.5797 | 0.9246 | 22.4205 | 23.5880 | 25.3660 | 23.7678
340151 | 1.0972 | 0.8629 | 22.2613 | 22.0052 | 22.7736 | 22.3509
340153 | 1.8456 | 0.9413 | 25.7078 | 26.4896 | 27.6509 | 26.6150
340155 | 1.4236 | 0.9677 | 28.8758 | 30.4940 | 30.3443 | 29.9331
340156 | 0.8399 | 1.4448 | * | * | * | *
340158 | 1.1289 | 0.9771 | 23.4724 | 26.4849 | 27.7816 | 25.8346
340159 | 1.1328 | 0.9677 | 22.1872 | 23.2991 | 24.2588 | 23.2614
340160 | 1.2984 | 0.8629 | 19.1330 | 20.7525 | 21.7923 | 20.5885
340166 | 1.3344 | 0.9413 | 25.7398 | 26.0557 | 27.1132 | 26.3392
340168 | 0.3885 | 0.9771 | 16.8076 | 17.3249 | * | 17.0785
340171 | 1.1745 | 0.9413 | 27.2074 | 28.2734 | 27.8539 | 27.7953
340173 | 1.2711 | 0.9775 | 26.6128 | 27.5072 | 28.3502 | 27.5598
340177 | 1.1482 | 0.8629 | * | 24.7471 | 26.7155 | 25.7127
340178 | *** | * | * | 28.7219 | * | 28.7219
340179 | *** | * | * | * | 34.1895 | 34.1895
340182 | *** | * | * | * | 27.8071 | 27.8071
340183 | 1.1072 | 0.9413 | * | * | * | *
350002 | 1.7643 | 0.7868 | 20.6474 | 22.0283 | 22.4308 | 21.7095
350003 | 1.2026 | 0.7868 | 25.3076 | 21.8061 | 23.9638 | 23.5735
350004 | *** | * | 27.5891 | * | * | 27.5891
350006 | 1.6026 | 0.7868 | 19.5870 | 19.4985 | 21.2726 | 20.1814
350009 | 1.1021 | 0.8367 | 20.7014 | 23.0873 | 23.8681 | 22.5713
350010 | 1.1262 | 0.7868 | 18.5682 | 19.1965 | 20.1290 | 19.3134
350011 | 1.9964 | 0.8367 | 22.3896 | 23.1947 | 23.8400 | 23.1866
350014 | 0.8987 | 0.7868 | 18.5360 | 17.7565 | 19.1685 | 18.4980
350015 | 1.6818 | 0.7868 | 18.6381 | 20.1161 | 20.9046 | 20.0046
350017 | 1.3450 | 0.7868 | 20.1943 | 21.0243 | 22.4359 | 21.1961
350019 | 1.6938 | 0.8367 | 24.2382 | 22.1960 | 23.2018 | 23.1277
350027 | *** | * | 14.2262 | * | * | 14.2262
350030 | 0.9922 | 0.7868 | 19.2282 | 18.9978 | 20.2722 | 19.5036
350043 | *** | * | 20.9732 | * | * | 20.9732
350061 | 1.0429 | * | 18.6546 | 22.0515 | * | 20.3874
350063 | 0.8756 | 1.4448 | * | * | * | *
350064 | 0.8724 | 1.4448 | * | * | * | *
350070 | 2.0102 | 0.8367 | 24.4464 | 25.2836 | 25.2365 | 25.0036
360001 | 1.4313 | 0.9522 | 23.7750 | 23.9101 | 25.8670 | 24.5011
360002 | 1.2034 | 0.8683 | 22.6923 | 24.5789 | 24.5155 | 23.9553
360003 | 1.8529 | 0.9522 | 26.3180 | 27.5029 | 28.9672 | 27.5926
360006 | 1.9782 | 1.0076 | 25.7041 | 28.1698 | 30.1363 | 27.9988
360008 | 1.2993 | 0.8683 | 23.2545 | 24.5714 | 26.2632 | 24.7224
360009 | 1.6016 | 0.8925 | 23.2659 | 23.1012 | 25.0007 | 23.8095
360010 | 1.2404 | 0.8683 | 22.0262 | 23.1178 | 23.7825 | 23.0286
360011 | 1.3120 | 0.9891 | 22.4482 | 25.5340 | 27.6036 | 25.1498
360012 | 1.3449 | 1.0076 | 25.5913 | 27.5470 | 30.1416 | 27.9504
360013 | 1.1157 | 0.8925 | 25.1588 | 26.8129 | 27.0893 | 26.3622
360014 | 1.1261 | 0.9891 | 23.8305 | 25.3861 | 27.1017 | 25.4747
360016 | 1.4681 | 0.9522 | 24.6587 | 26.1283 | 27.8031 | 26.2104
360017 | 1.7961 | 1.0076 | 25.4969 | 27.2910 | 29.8525 | 27.5687
360019 | 1.3205 | 0.9229 | 24.1105 | 25.5926 | 26.9178 | 25.5496
360020 | 1.6193 | 0.9229 | 22.3795 | 24.4343 | 23.6400 | 23.5072
360024 | *** | * | 24.0612 | 23.5793 | * | 23.9138
360025 | 1.4649 | 0.9345 | 23.6574 | 25.5633 | 27.4533 | 25.7422
360026 | 1.3013 | 0.9185 | 22.3303 | 23.5898 | 25.5379 | 23.7870
360027 | 1.6771 | 0.9229 | 24.7093 | 25.4894 | 27.4454 | 25.8825
360029 | 1.1403 | 0.9455 | 20.8778 | 22.7785 | 24.3216 | 22.6844
360031 | *** | * | 24.4324 | * | * | 24.4324
360032 ʰ | 1.1673 | 0.8925 | 22.9759 | 23.2638 | 25.0034 | 23.7556
360034 | *** | * | 25.1366 | * | * | 25.1366
360035 | 1.7578 | 1.0076 | 25.6895 | 27.5220 | 30.0172 | 27.8468
360036 | 1.2041 | 0.9229 | 25.0910 | 27.6094 | 27.8343 | 26.8887
360037 | 1.4119 | 0.9396 | 25.1615 | 24.3982 | 29.0046 | 26.0800
360038 | 1.5113 | 0.9522 | 24.8294 | 22.8009 | 25.4275 | 24.3511
360039 | 1.4784 | 0.9891 | 22.5921 | 24.0218 | 23.9783 | 23.5606
360040 | 1.1446 | 0.8683 | 22.8729 | 24.0942 | 24.8570 | 23.9448
360041 | 1.4863 | 0.9396 | 23.2625 | 24.1080 | 26.1522 | 24.5632
360044 | 1.1059 | 0.8683 | 20.4724 | 21.8411 | 21.5619 | 21.2954
360046 | 1.2098 | 0.9522 | 23.8918 | 25.0775 | 25.4673 | 24.8344
360047 | 1.0101 | * | 17.1973 | 21.7248 | * | 19.5322
360048 | 1.8470 | 0.9455 | 27.2274 | 28.8107 | 29.3415 | 28.4551
360049 | *** | * | 24.2605 | 25.8367 | 26.2222 | 25.4133
360051 | 1.6989 | 0.9185 | 25.1785 | 25.7556 | 26.8501 | 25.9475
360052 | 1.6238 | 0.9185 | 23.3285 | 24.5405 | 26.2066 | 24.7059
360054 | 1.3343 | 0.8683 | 20.3176 | 23.0376 | 22.9359 | 22.1078
360055 | 1.4216 | 0.8799 | 25.1475 | 26.3112 | 27.3941 | 26.2813
360056 | 1.6228 | 0.9522 | 23.4638 | 23.1024 | 26.5318 | 24.3288
360058 | 1.0703 | 0.8683 | 22.7943 | 23.4429 | 23.8119 | 23.3587
360059 | 1.5720 | 0.9396 | 25.5222 | 25.3516 | 29.3624 | 26.7991
360062 | 1.4853 | 1.0076 | 26.8091 | 28.6518 | 31.7422 | 29.1985
360064 | 1.6118 | 0.8799 | 22.8729 | 22.2393 | 25.2336 | 23.4358
360065 | 1.2488 | 0.9229 | 24.0868 | 26.3036 | 28.0405 | 26.2187
360066 | 1.5177 | 0.8925 | 25.2316 | 27.3362 | 27.1436 | 26.5842
360068 | 1.8819 | 0.9455 | 23.7895 | 25.8414 | 26.2065 | 25.2843
360069 | 1.2022 | * | 25.7032 | 24.2444 | * | 24.9438
360070 | 1.6528 | 0.9076 | 23.1687 | 24.8863 | 27.2389 | 25.0981
360071 ʰ | 1.1233 | 0.8925 | 21.6176 | 22.0786 | 23.4619 | 22.3649
360072 | 1.4669 | 1.0076 | 23.0464 | 24.4332 | 25.9589 | 24.5327
360074 | 1.2451 | 0.9455 | 23.6172 | 24.9055 | 25.8959 | 24.8062
360075 | 1.1818 | 0.9396 | 24.7610 | 26.8453 | 26.8925 | 26.2391
360076 | 1.4645 | 0.9522 | 22.5943 | 25.9369 | 28.1013 | 25.5377
360077 | 1.5046 | 0.9396 | 24.7086 | 25.6505 | 28.4449 | 26.2934
360078 | 1.3039 | 0.9229 | 24.6821 | 26.1313 | 25.7885 | 25.5366
360079 | 1.7955 | 0.9522 | 25.8762 | 26.0935 | 27.2437 | 26.4405
360080 | 1.1205 | 0.8683 | 19.5436 | 20.8309 | 21.4526 | 20.6516
360081 | 1.3216 | 0.9455 | 25.1439 | 27.5695 | 29.8366 | 27.4067
360082 | 1.3698 | 0.9396 | 27.4264 | 27.1197 | 29.2561 | 27.9731
360084 | 1.5741 | 0.9076 | 25.2059 | 25.8415 | 27.3917 | 26.1468
360085 | 2.1008 | 1.0076 | 27.5792 | 29.0081 | 31.5800 | 29.4097
360086 | 1.5387 | 0.9185 | 22.3005 | 22.1859 | 25.4218 | 23.3052
360087 | 1.3796 | 0.9396 | 25.9131 | 25.4040 | 29.6579 | 27.0113
360089 | 1.0925 | 0.8683 | 21.0253 | 22.7951 | 25.3465 | 23.0373
360090 | 1.5204 | 0.9455 | 24.4291 | 26.7717 | 29.0199 | 26.7037
360091 | 1.3005 | 0.9396 | 26.0541 | 27.5067 | 25.8657 | 26.4696
360092 | 1.2158 | 1.0076 | 23.5100 | 25.6618 | 25.4954 | 24.9203
360093 | 1.0395 | * | 24.1238 | * | * | 24.1238
360094 | *** | * | 27.1864 | 26.6348 | * | 26.9890
360095 | 1.3002 | 0.9455 | 24.6984 | 26.1275 | 26.4635 | 25.8077
360096 | 1.1175 | 0.8690 | 22.2333 | 24.6317 | 25.9275 | 24.2629
360098 | 1.3877 | 0.9396 | 23.6413 | 24.8447 | 25.5973 | 24.7171
360100 | 1.2102 | 0.9076 | 19.0616 | 23.0561 | 25.4523 | 22.2034
360101 | 1.3462 | 0.9396 | 27.7584 | 26.6208 | 27.6030 | 27.3232
360106 | 1.1133 | * | 21.6450 | 24.1588 | * | 22.9406
360107 | 1.0899 | 0.9455 | 24.5365 | 25.9697 | 24.6095 | 25.0331
360109 | 1.0637 | 0.8683 | 24.3236 | 25.4184 | 26.3132 | 25.3718
360112 | 1.9254 | 0.9455 | 26.7880 | 28.6784 | 30.5715 | 28.6338
360113 | 1.2674 | 0.9522 | 23.5138 | 25.6493 | 26.6556 | 25.2192
360115 | 1.2514 | 0.9396 | 24.0232 | 24.0052 | 25.9841 | 24.7261
360116 | 1.2448 | 0.9522 | 23.4049 | 18.0655 | 25.1717 | 22.2666
360118 | 1.5377 | 0.9236 | 24.2526 | 27.7289 | 27.3884 | 26.5027
360121 | 1.2561 | 1.0502 | 25.2037 | 24.5592 | 27.4442 | 25.7321
360123 | 1.4586 | 0.9396 | 24.1761 | 22.6523 | 27.1920 | 24.5927
360125 | 1.2270 | 0.8683 | 22.6871 | 22.1096 | 24.1388 | 22.9762
360128 | 0.9990 | * | 18.5954 | 21.0066 | * | 19.7451
360129 | 0.8857 | * | 19.5336 | * | * | 19.5336
360130 | 1.4118 | 0.9396 | 21.7015 | 22.9762 | 25.6570 | 23.6771
360131 | 1.2592 | 0.9076 | 23.1730 | 24.0495 | 25.3719 | 24.2272
360132 | 1.2994 | 0.9522 | 25.7991 | 25.9453 | 27.7724 | 26.5108
360133 | 1.6008 | 0.9185 | 23.9457 | 24.6208 | 29.8684 | 26.1195
360134 | 1.7560 | 0.9522 | 25.3013 | 29.2975 | 27.7339 | 27.4399
360137 | 1.6603 | 0.9396 | 25.7647 | 26.9522 | 26.1250 | 26.2803
360141 | 1.5889 | 0.8799 | 31.0127 | 27.7085 | 29.7937 | 29.5044
360142 | 1.0137 | * | 21.2084 | 22.1610 | * | 21.6897
360143 | 1.3747 | 0.9396 | 23.8938 | 24.6306 | 28.3057 | 25.6818
360144 | 1.3023 | 0.9396 | 26.7160 | 25.7079 | 28.2473 | 26.9251
360145 | 1.7496 | 0.9396 | 23.4743 | 25.8268 | 27.1908 | 25.4981
360147 | 1.3943 | 0.8683 | 22.7172 | 24.1953 | 25.5854 | 24.2037
360148 | 1.0666 | 0.8683 | 24.4873 | 26.1946 | 26.0837 | 25.6280
360150 | 1.2350 | 0.9229 | 25.8703 | 24.7667 | 25.1217 | 25.2499
360151 | 1.6376 | 0.9076 | 22.2179 | 24.8629 | 25.3780 | 24.1185
360152 | 1.5882 | 1.0076 | 24.9894 | 27.9147 | 29.9425 | 27.4346
360153 | 1.0101 | 0.8683 | 19.0844 | 19.0226 | 19.8499 | 19.3351
360154 | *** | * | 17.1274 | * | * | 17.1274
360155 | 1.4975 | 0.9396 | 23.9466 | 25.3909 | 26.9127 | 25.4352
360156 | 1.1803 | 0.8896 | 22.6709 | 24.0510 | 24.3281 | 23.6924
360159 | 1.2244 | 0.9891 | 25.7108 | 33.1613 | 29.1529 | 29.1603
360161 | 1.3494 | 0.8799 | 22.6005 | 24.3792 | 25.4433 | 24.1298
360163 | 1.8900 | 0.9522 | 25.7966 | 26.9728 | 28.9742 | 27.2351
360170 | 1.2797 | 1.0076 | 22.9359 | 24.3620 | 28.5474 | 25.5871
360172 | 1.4075 | 0.9396 | 23.4727 | 26.3501 | 27.5669 | 25.7998
360174 | 1.2887 | 0.9185 | 22.8167 | 24.9990 | 26.8586 | 24.9193
360175 | 1.2821 | 0.9891 | 24.6152 | 26.5949 | 28.1531 | 26.5193
360177 | 1.1840 | * | 23.4256 | 24.4712 | * | 23.9572
360179 | 1.5975 | 0.9522 | 25.9429 | 28.8645 | 30.0311 | 28.3424
360180 | 2.2426 | 0.9396 | 26.8720 | 26.1514 | 29.6633 | 27.5621
360185 | 1.2212 | 0.8690 | 21.8641 | 23.7173 | 25.6800 | 23.7718
360187 | 1.5971 | 0.9185 | 23.8362 | 24.8173 | 24.9353 | 24.5560
360189 | 1.1149 | 1.0076 | 24.2512 | 24.2136 | 26.3756 | 24.9449
360192 | 1.3004 | 0.9396 | 26.2976 | 26.7577 | 26.4616 | 26.5055
360194 | 1.4943 | * | 22.3297 | * | * | 22.3297
360195 | 1.1153 | 0.9396 | 25.8043 | 26.1280 | 25.0922 | 25.6560
360197 | 1.1452 | 0.9891 | 24.7539 | 27.0896 | 28.7580 | 26.9161
360203 | 1.1895 | 0.8683 | 21.5564 | 22.1414 | 24.4433 | 22.7702
360210 | 1.1790 | 1.0076 | 26.5665 | 27.8415 | 28.2975 | 27.5983
360211 | 1.5510 | 0.8683 | 23.0884 | 22.5449 | 25.7053 | 23.7085
360212 | 1.3353 | 0.9396 | 24.5310 | 25.2756 | 25.6080 | 25.1512
360218 | 1.1597 | 1.0076 | 24.4720 | 27.4288 | 29.8662 | 27.3259
360230 | 1.5314 | 0.9396 | 26.6444 | 27.0223 | 28.8018 | 27.5510
360234 | 1.3695 | 0.9522 | 23.3325 | 24.3625 | 25.9360 | 24.4659
360236 | 1.2018 | 0.9522 | 21.3795 | 35.8144 | 25.6728 | 25.5006
360239 | 1.3109 | 0.9185 | 24.4398 | 25.2474 | 27.2939 | 25.7721
360241 | *** | * | 24.8089 | 24.7001 | 23.0662 | 24.0127
360245 | 0.5403 | 0.9229 | 18.7966 | 19.1885 | 20.6504 | 19.5796
360247 | 0.3826 | 1.0076 | 25.1083 | 19.8892 | 19.3678 | 21.2374
360253 | 2.3749 | 0.9522 | 28.2555 | 30.4276 | 33.2371 | 30.6962
360257 | *** | * | 17.9652 | * | * | 17.9652
360258 | 1.4162 | 1.0076 | * | * | * | *
360259 | 1.2033 | 0.9455 | * | 25.1338 | 25.9878 | 25.5797
360260 | *** | * | * | 27.3903 | * | 27.3903
360261 | 1.7902 | 0.8828 | * | 22.5431 | 22.3614 | 22.4466
360262 | 1.3153 | 0.9455 | * | 27.1680 | 28.6995 | 27.9424
360263 | 1.7093 | 0.8925 | * | 20.8884 | 25.1652 | 23.0327
360264 | *** | * | * | * | 36.0754 | 36.0754
360265 | *** | * | * | * | 36.6265 | 36.6265
360266 | 2.0044 | 1.0076 | * | * | * | *
360268 | 2.3691 | 0.9185 | * | * | * | *
360269 | 1.8584 | 0.9522 | * | * | * | *
360270 | 1.0566 | 0.8803 | * | * | * | *
360271 | 1.6999 | 0.9522 | * | * | * | *
360272 | 1.4382 | 0.9522 | * | * | * | *
370001 | 1.7856 | 0.8310 | 26.2391 | 27.7245 | 26.0194 | 26.6463
370002 | 1.1720 | 0.7847 | 19.7718 | 20.1479 | 22.0475 | 20.6857
370004 | 1.0851 | 0.8626 | 24.7694 | 25.3919 | 26.7434 | 25.6070
370006 | 1.2837 | 0.8018 | 16.9469 | 20.1063 | 22.4802 | 19.9164
370007 | 1.0590 | 0.7847 | 17.2084 | 17.6547 | 19.4036 | 18.0946
370008 | 1.4120 | 0.8807 | 22.7419 | 24.2978 | 25.3352 | 24.2070
370011 | 1.0010 | 0.8807 | 19.2266 | 19.7821 | 21.9649 | 20.2233
370013 | 1.5031 | 0.8807 | 22.6451 | 24.9295 | 26.5364 | 24.6901
370014 | 1.0122 | 0.8678 | 24.8138 | 25.3576 | 25.9393 | 25.3810
370015 | 0.9430 | 0.8310 | 21.1833 | 23.6693 | 24.7547 | 23.2012
370016 ʰ | 1.5301 | 0.8807 | 24.2737 | 25.4062 | 26.7938 | 25.5406
370018 | 1.4510 | 0.8310 | 23.4286 | 23.5336 | 25.3574 | 24.1040
370019 | 1.2292 | 0.7847 | 19.6761 | 21.4474 | 22.0221 | 21.0496
370020 | 1.3377 | 0.7847 | 17.4835 | 18.5046 | 20.8723 | 18.9827
370022 | 1.2439 | 0.8485 | 18.4217 | 19.6495 | 24.6099 | 20.7872
370023 | 1.2657 | 0.7931 | 20.6002 | 21.5762 | 23.5170 | 21.9281
370025 | 1.2626 | 0.8310 | 22.0287 | 23.5659 | 23.9873 | 23.2001
370026 ʰ | 1.5154 | 0.8807 | 22.5734 | 23.0848 | 25.8428 | 23.8245
370028 | 1.8260 | 0.8807 | 24.8661 | 26.6153 | 27.8621 | 26.4558
370029 | 1.0699 | 0.7847 | 22.1163 | 23.9956 | 26.8508 | 24.3082
370030 | 1.0256 | 0.7847 | 20.3315 | 23.3037 | 24.1484 | 22.6192
370032 | 1.4447 | 0.8807 | 21.6029 | 23.4843 | 24.8626 | 23.3438
370034 | 1.2229 | 0.7847 | 17.6247 | 18.2341 | 19.5099 | 18.4644
370036 | 1.0488 | 0.7847 | 16.9222 | 17.7576 | 19.2319 | 17.9906
370037 | 1.6556 | 0.8807 | 23.1256 | 23.9685 | 24.9553 | 24.0690
370039 | 1.1275 | 0.8310 | 21.0793 | 21.8220 | 23.0254 | 21.9825
370040 | 1.0001 | 0.7850 | 21.1061 | 22.4048 | 22.8356 | 22.0894
370041 | 0.8646 | 0.8310 | 22.0082 | 22.3496 | 22.6730 | 22.3396
370042 | 0.8617 | * | 15.3613 | * | * | 15.3613
370043 | *** | * | 21.5588 | * | * | 21.5588
370045 | *** | * | 14.6370 | * | * | 14.6370
370047 | 1.4124 | 0.8526 | 19.7112 | 20.4657 | 24.1991 | 21.5082
370048 | 1.1157 | 0.7847 | 17.7273 | 19.2464 | 21.4542 | 19.4534
370049 | 1.3211 | 0.8807 | 21.6878 | 23.2171 | 23.8844 | 22.9341
370051 | 1.0780 | 0.7847 | 14.6254 | 17.2618 | 19.8329 | 17.1502
370054 | 1.2316 | 0.7847 | 21.5521 | 21.5043 | 22.4652 | 21.8463
370056 | 1.8033 | 0.8485 | 21.7647 | 22.0312 | 24.3986 | 22.7612
370057 | 0.9659 | 0.8310 | 18.0426 | 19.7284 | 19.8683 | 19.2303
370060 | 0.9262 | 0.8310 | 23.8007 | 18.7592 | 19.9026 | 20.7237
370064 | 0.9613 | * | 14.1879 | 14.2053 | * | 14.1969
370065 | 1.0205 | 0.7968 | 20.6537 | 20.0226 | 21.2343 | 20.6475
370072 | 0.7998 | 0.7847 | 14.6387 | 9.9616 | 11.7942 | 11.6722
370076 | *** | * | 21.5461 | * | * | 21.5461
370078 | 1.5606 | 0.8310 | 23.9507 | 25.4068 | 27.8611 | 25.7573
370080 | 0.8753 | 0.7847 | 17.4857 | 18.0665 | 19.9596 | 18.3808
370083 | 0.9415 | 0.7847 | 15.3447 | 16.8836 | 19.2568 | 17.0089
370084 | 0.9732 | 0.7847 | 17.2735 | 16.6514 | 19.6229 | 17.8487
370089 | 1.1374 | 0.7847 | 19.9021 | 20.4699 | 20.6153 | 20.3285
370091 | 1.5508 | 0.8310 | 22.9893 | 23.3357 | 24.1438 | 23.4902
370093 | 1.5068 | 0.8807 | 25.7296 | 26.9774 | 26.0459 | 26.2286
370094 | 1.3799 | 0.8807 | 22.0591 | 23.1191 | 24.5555 | 23.2775
370095 | 0.9969 | * | 16.5310 | * | * | 16.5310
370097 | 1.2874 | 0.8485 | 21.7150 | 22.3267 | 26.3168 | 23.5755
370099 | 1.0484 | 0.8310 | 20.5217 | 20.5075 | 24.9971 | 21.8558
370100 | 0.9832 | 0.7847 | 14.1883 | 14.7712 | 17.9731 | 15.6922
370103 | 0.9692 | 0.8225 | 16.1408 | 17.8018 | 18.8933 | 17.7409
370105 | 1.8523 | 0.8807 | 22.1584 | 23.8978 | 26.7974 | 24.4407
370106 | 1.3427 | 0.8807 | 24.2393 | 26.5867 | 27.8979 | 26.3354
370112 | 0.9369 | 0.7850 | 15.4941 | 15.4471 | 16.0592 | 15.6799
370113 | 1.1590 | 0.8816 | 23.3011 | 25.3565 | 26.9720 | 25.1507
370114 | 1.5610 | 0.8310 | 21.0603 | 21.7880 | 23.0006 | 21.9699
370123 | *** | * | 22.8174 | 25.4733 | * | 24.1041
370125 | 0.8736 | * | 17.2013 | 17.1361 | * | 17.1678
370138 | 1.0853 | 0.7847 | 19.8308 | 18.3113 | 20.2527 | 19.4299
370139 | 0.9541 | 0.7847 | 17.8900 | 18.5225 | 19.4287 | 18.6030
370148 | 1.5521 | 0.8807 | 24.6194 | 25.2348 | 27.0905 | 25.6859
370149 ʰ | 1.2217 | 0.9163 | 21.0608 | 22.3537 | 23.3493 | 22.3941
370153 | 1.0646 | 0.7847 | 18.5417 | 19.8349 | 23.2779 | 20.6226
370156 | 0.9826 | 0.7847 | 16.6572 | 19.4743 | 25.2562 | 20.2987
370158 | 1.0099 | 0.8807 | 17.3161 | 18.5578 | 20.7641 | 18.8928
370166 | 0.9239 | 0.8310 | 21.9070 | 23.1681 | 25.1107 | 23.3387
370169 | 0.9628 | 0.7847 | 15.7686 | 15.8002 | 16.8253 | 16.1118
370170 | 0.9169 | 1.4448 | * | * | * | *
370171 | 0.8726 | 1.4448 | * | * | * | *
370172 | 0.8913 | 1.4448 | * | * | * | *
370173 | 0.8768 | 1.4448 | * | * | * | *
370174 | 0.8535 | 1.4448 | * | * | * | *
370176 | 1.1613 | 0.8310 | 23.0324 | 25.0509 | 24.7655 | 24.2947
370177 | 0.9558 | * | 15.6723 | 14.7193 | * | 15.1880
370178 | 0.8981 | 0.7847 | 14.9767 | 14.6070 | 16.0179 | 15.2024
370179 | 0.8657 | * | 22.8322 | 23.5794 | * | 23.1700
370180 | 1.1253 | 1.4448 | * | * | * | *
370183 | 0.9418 | 0.8310 | 20.5025 | 21.8147 | 24.7103 | 22.3478
370190 | 1.3464 | 0.8310 | 24.9455 | 33.1137 | 29.1568 | 29.1592
370192 | 1.9078 | 0.8807 | 26.1338 | 31.4930 | 27.6367 | 28.3465
370196 | 0.7963 | 0.8807 | 29.4383 | 22.6824 | 22.3498 | 24.9573
370199 | 0.8458 | 0.8807 | 23.7340 | 26.0451 | 23.3988 | 24.3753
370200 | 1.1956 | 0.7847 | 18.1008 | 17.6317 | 20.5175 | 18.7812
370201 | 1.5268 | 0.8807 | 23.1240 | 23.3550 | 23.8090 | 23.4164
370202 | 1.5545 | 0.8310 | 24.4920 | 25.1181 | 26.1132 | 25.2844
370203 | 1.8944 | 0.8807 | 21.2426 | 23.5190 | 22.8869 | 22.6047
370206 | 1.6047 | 0.8807 | 27.4495 | 26.0912 | 26.0353 | 26.4254
370209 | *** | * | 32.8278 | * | * | 32.8278
370210 | 2.0667 | 0.8310 | 20.0360 | 21.2682 | 23.3786 | 21.6821
370211 | 1.0007 | 0.8807 | * | 26.5344 | 27.8737 | 27.2393
370212 | 1.5926 | 0.8807 | * | 21.0758 | 19.1720 | 20.0446
370213 | *** | * | * | 29.3777 | * | 29.3777
370214 | 1.0294 | 0.7847 | * | * | 20.6217 | 20.6217
370215 | 2.4584 | 0.8807 | * | 32.3589 | 31.5652 | 31.9072
370216 | 1.9373 | 0.8310 | * | * | 27.2428 | 27.2428
370217 | *** | * | * | * | 26.8676 | 26.8676
370218 | 2.5607 | 0.8310 | * | * | * | *
370219 | 1.9048 | 0.8203 | * | * | * | *
370220 | 1.8802 | 0.8807 | * | * | * | *
370222 | 1.5519 | 0.8807 | * | * | * | *
370223 | 0.8553 | 0.8807 | * | * | * | *
380001 | 1.3131 | 1.1210 | 27.8554 | 30.0103 | 29.5842 | 29.1874
380002 | 1.2508 | 1.0109 | 26.3348 | 27.1861 | 30.3385 | 27.9959
380004 | 1.7111 | 1.1210 | 28.2466 | 30.5172 | 32.6901 | 30.5227
380005 | 1.3310 | 1.0756 | 28.0682 | 30.2211 | 30.9087 | 29.8079
380006 | *** | * | 26.0475 | * | * | 26.0475
380007 | 1.9213 | 1.1210 | 31.5207 | 33.9969 | 33.9601 | 33.1659
380008 | 1.2499 | * | 25.4494 | 25.8356 | * | 25.6457
380009 | 1.9924 | 1.1210 | 30.4198 | 31.7042 | 32.4016 | 31.5282
380010 | *** | * | 27.5291 | 30.2957 | 34.4208 | 30.5511
380014 | 1.9310 | 1.1334 | 27.7255 | 29.9648 | 33.6078 | 30.4640
380017 | 1.8509 | 1.1210 | 31.7440 | 32.2447 | 34.2605 | 32.7205
380018 | 1.9440 | 1.0756 | 27.8952 | 28.0701 | 30.9923 | 29.0266
380020 | 1.3712 | 1.0966 | 25.8320 | 28.3563 | 29.6053 | 27.9511
380021 | 1.4866 | 1.1210 | 29.3001 | 29.3295 | 29.2164 | 29.2804
380022 | 1.2560 | 1.0956 | 27.8683 | 29.2642 | 30.1742 | 29.1417
380023 | 1.2145 | * | 23.7073 | 26.5439 | * | 25.1052
380025 | 1.3229 | 1.1210 | 30.2628 | 33.2105 | 35.5085 | 33.0344
380026 | 1.1249 | * | 26.5217 | * | * | 26.5217
380027 | 1.2759 | 1.0546 | 23.8758 | 25.5161 | 26.4982 | 25.3546
380029 | 1.2926 | 1.0358 | 26.2070 | 26.9966 | 28.7994 | 27.4405
380033 | 1.7307 | 1.0966 | 29.7995 | 30.8767 | 33.4828 | 31.4177
380035 | *** | * | 26.4784 | * | * | 26.4784
380037 | 1.3314 | 1.1210 | 27.1884 | 30.5818 | 32.4033 | 30.1315
380038 | 1.3183 | 1.1210 | 30.5903 | 34.2303 | 34.5971 | 33.1176
380039 | *** | * | 30.1544 | 32.3959 | 38.0988 | 33.2914
380040 | 1.2545 | 0.9979 | 28.4373 | 32.0103 | 31.2286 | 30.6913
380047 | 1.7726 | 1.0483 | 27.8385 | 29.8627 | 31.0584 | 29.6496
380050 | 1.4271 | 1.0404 | 24.2416 | 25.6190 | 27.1814 | 25.7264
380051 | 1.5524 | 1.0358 | 28.1305 | 29.7219 | 30.8891 | 29.6284
380052 | 1.2991 | 0.9979 | 22.6799 | 24.9476 | 25.6085 | 24.4057
380056 | 1.0278 | 1.0358 | 25.0068 | 25.1475 | 27.7253 | 26.1471
380060 | 1.4037 | 1.1210 | 30.2507 | 30.7041 | 32.0101 | 31.0140
380061 | 1.6423 | 1.1210 | 29.5145 | 29.8217 | 32.3699 | 30.6164
380066 | *** | * | 27.5412 | 0.0000 | 0.0000 | 27.5412
380071 | 1.3325 | 1.1210 | 29.5740 | 30.2304 | 31.7761 | 30.5464
380072 | *** | * | 22.5275 | * | * | 22.5275
380075 | 1.3158 | 1.0756 | 27.4795 | 29.0368 | 33.8962 | 30.0594
380081 | 1.1837 | 0.9979 | 21.0708 | 21.8850 | 26.8150 | 23.3016
380082 | 1.2099 | 1.1210 | 30.2721 | 32.3002 | 35.6709 | 32.8206
380089 | 1.3612 | 1.1210 | 30.8396 | 33.4214 | 34.6015 | 32.9212
380090 | 1.2590 | 1.0880 | 33.6822 | 34.4536 | 33.0990 | 33.7224
380091 | 1.3914 | 1.1210 | 35.7002 | 33.8950 | 39.9703 | 36.5066
380100 | 1.7000 | 1.1210 | * | * | * | *
390001 | 1.6514 | 0.9146 | 22.4407 | 22.5309 | 23.6075 | 22.8571
390002 | 1.2598 | 0.8568 | 23.0113 | 22.4388 | 24.7867 | 23.4162
390003 ʰ | 1.1444 | 0.9146 | 21.3182 | 21.6478 | 23.3672 | 22.0945
390004 | 1.6363 | 0.9373 | 23.4063 | 24.3249 | 24.4068 | 24.0843
390005 | 0.9813 | * | 19.0318 | * | * | 19.0318
390006 | 1.8675 | 0.9230 | 23.3960 | 25.1216 | 26.8581 | 25.1560
390008 ʰ | 1.1478 | 0.8568 | 21.0021 | 22.2680 | 22.8041 | 22.0150
390009 | 1.7189 | 0.8832 | 24.2789 | 25.5482 | 26.7462 | 25.5422
390010 | 1.1867 | 0.8568 | 21.6273 | 23.5390 | 24.5785 | 23.2050
390011 | 1.2870 | 0.8574 | 19.8602 | 21.9279 | 21.4856 | 21.0733
390012 | 1.2963 | 1.0996 | * | 28.5076 | 30.7542 | 29.6464
390013 | 1.2228 | 0.9230 | 23.3180 | 24.0044 | 25.0037 | 24.1006
390016 ʰ | 1.2680 | 0.8568 | 19.9899 | 21.9549 | 23.2095 | 21.8911
390017 | *** | * | 20.6575 | * | * | 20.6575
390019 | 1.1313 | 1.0093 | 21.5137 | 23.4636 | 24.0538 | 23.0231
390022 | *** | * | 31.0971 | 29.0710 | 30.3565 | 30.1071
390023 | 1.2139 | 1.0996 | 27.1600 | 31.7149 | 35.4452 | 31.5986
390024 | 0.9584 | 1.0996 | 37.4330 | 35.3959 | 33.5187 | 35.1382
390025 | 0.5457 | 1.0996 | 15.0282 | 17.2977 | 19.1362 | 17.1922
390026 | 1.2106 | 1.0996 | 27.0802 | 29.5157 | 31.8512 | 29.5257
390027 | 1.5980 | 1.0996 | 28.9159 | 35.8381 | 35.5692 | 33.4427
390028 | 1.5659 | 0.8568 | 23.6616 | 25.7246 | 27.1869 | 25.5621
390029 | *** | * | 24.4276 | * | * | 24.4276
390030 | 1.1880 | 0.9990 | 20.9859 | 22.1581 | 23.6063 | 22.2727
390031 | 1.2230 | 0.9709 | 21.2949 | 22.6828 | 26.2654 | 23.3797
390032 | 1.1791 | 0.8568 | 20.9971 | 22.7205 | 23.9466 | 22.4981
390035 | 1.2536 | 1.0996 | 24.7281 | 26.2647 | 28.4564 | 26.5553
390036 | 1.4605 | 0.8568 | 23.3858 | 24.6032 | 21.6358 | 23.1430
390037 | 1.3063 | 0.8568 | 22.9008 | 24.7820 | 25.4290 | 24.3814
390039 ʰ | 1.1673 | 0.8562 | 17.8461 | 20.3787 | 22.0208 | 20.0837
390040 | *** | * | 23.1807 | * | * | 23.1807
390041 | 1.3026 | 0.8568 | 20.6789 | 21.5925 | 22.9814 | 21.7259
390042 | 1.3732 | 0.8568 | 23.9632 | 25.6328 | 28.3633 | 25.9519
390043 | 1.2085 | 0.8301 | 20.9835 | 22.2549 | 23.2378 | 22.1552
390044 | 1.6424 | 1.1402 | 24.2586 | 27.1505 | 28.7758 | 26.7755
390045 | 1.6253 | 0.9146 | 22.2582 | 23.0712 | 23.9343 | 23.1005
390046 | 1.6104 | 0.9942 | 25.0825 | 27.2630 | 29.6574 | 27.3407
390048 | 1.0981 | 0.9230 | 23.6622 | 24.9759 | 28.5342 | 25.7873
390049 | 1.6196 | 1.0093 | 25.4056 | 27.1366 | 29.6121 | 27.4651
390050 | 1.9598 | 0.8568 | 24.5424 | 26.6931 | 27.2599 | 26.2032
390052 | 1.1503 | 0.8538 | 21.6736 | 23.3474 | 24.9510 | 23.3355
390054 | 1.2008 | 0.9122 | 21.4983 | 22.8087 | 24.4435 | 22.8828
390055 | *** | * | 25.5675 | 25.6945 | * | 25.6356
390056 | 1.0694 | 0.8343 | * | 19.5537 | 23.5077 | 21.4287
390057 | 1.3094 | 1.0996 | 25.1901 | 27.9583 | 29.7982 | 27.7076
390058 | 1.3009 | 0.9373 | 25.3415 | 27.4799 | 26.9546 | 26.5454
390061 | 1.4860 | 0.9942 | 25.5012 | 28.4538 | 29.1318 | 27.7364
390062 | 1.1311 | 0.8538 | 19.0692 | 21.4052 | 21.2999 | 20.6090
390063 | 1.7734 | 0.8832 | 23.5469 | 24.7614 | 26.4998 | 24.9716
390065 | 1.3019 | 1.0877 | 23.4021 | 25.2188 | 27.6249 | 25.3944
390066 | 1.2709 | 0.9230 | 23.0891 | 24.2087 | 25.9645 | 24.4260
390067 | 1.8116 | 0.9373 | 25.4576 | 26.3287 | 29.7234 | 27.1055
390068 | 1.3221 | 0.9942 | 25.9890 | 25.8291 | 26.7358 | 26.1508
390070 | 1.4249 | 1.0996 | 26.9235 | 30.9499 | 33.3185 | 30.4414
390071 | 0.9933 | 0.8301 | 20.9443 | 21.8366 | 24.6462 | 22.3632
390072 ʰ | 1.0701 | 0.9146 | 22.0155 | 24.9388 | 25.3029 | 24.0409
390073 | 1.6585 | 0.8538 | 24.8013 | 26.3698 | 25.7822 | 25.6598
390074 | 1.1084 | 0.8568 | 21.0941 | 22.8545 | 23.6500 | 22.5335
390075 | *** | * | 22.6530 | 24.6359 | * | 23.6261
390076 | 1.3800 | 1.0996 | 18.1276 | 27.9004 | 31.8500 | 25.1107
390079 | 1.8567 | 0.8626 | 21.4323 | 23.3053 | 22.5607 | 22.4073
390080 | 1.2647 | 1.0996 | 25.0921 | 27.2616 | 28.7063 | 27.0772
390081 | 1.2205 | 1.0996 | 28.7974 | 30.3840 | 31.7569 | 30.3320
390084 | 1.1731 | 0.8301 | 20.7799 | 19.8605 | 23.2040 | 21.2837
390086 | 1.7053 | 0.8301 | 20.7383 | 22.5317 | 23.5141 | 22.3011
390090 | 1.8289 | 0.8568 | 20.7474 | 25.2014 | 27.3528 | 24.5150
390091 | 1.1414 | 0.8690 | 20.8243 | 21.5586 | 21.7010 | 21.3565
390093 | 1.2228 | 0.8568 | 21.0427 | 21.4401 | 22.6082 | 21.7116
390095 | 1.1803 | 0.9146 | 21.0754 | 23.6240 | 22.6150 | 22.4065
390096 | 1.5753 | 1.1402 | 24.4145 | 27.0763 | 28.8258 | 26.8207
390097 | 1.2493 | 1.0996 | 25.3012 | 25.6660 | 26.1741 | 25.7340
390100 | 1.7303 | 0.9942 | 26.7267 | 27.7208 | 30.0132 | 28.2584
390101 | 1.2660 | 0.9594 | 20.1694 | 21.9418 | 23.1497 | 21.7910
390102 | 1.4093 | 0.8568 | 21.6629 | 24.8898 | 24.8369 | 23.9041
390103 | 0.9506 | 0.8568 | 18.6703 | 20.6775 | 20.5741 | 19.9403
390104 | 1.0772 | 0.8301 | 19.1803 | 19.6428 | 19.2326 | 19.3550
390107 | 1.3819 | 0.8568 | 23.1023 | 24.1386 | 24.1159 | 23.8095
390108 | 1.2420 | 1.0996 | 24.7486 | 27.2661 | 27.8171 | 26.6431
390109 | 1.0688 | * | 18.7558 | 19.9156 | * | 19.3329
390110 | 1.6349 | 0.8574 | 23.3355 | 23.9808 | 27.7311 | 24.9613
390111 | 2.0459 | 1.0996 | 30.6809 | 32.6510 | 34.2990 | 32.5907
390112 ʰ | 1.1810 | 0.8562 | 16.6113 | 19.2126 | 20.2380 | 18.6545
390113 | 1.3154 | 0.8683 | 21.7729 | 22.2591 | 23.3686 | 22.4695
390114 | 1.3696 | 0.8568 | 22.6630 | 24.0473 | 26.9620 | 24.5683
390115 | 1.4578 | 1.0996 | 26.4751 | 27.7333 | 29.6905 | 27.9694
390116 | 1.2573 | 1.0996 | 28.5563 | 30.2722 | 32.2513 | 30.4523
390117 | 1.1753 | 0.8301 | 20.0040 | 20.3946 | 20.7821 | 20.3998
390118 | 1.1700 | 0.8301 | 19.3332 | 21.5001 | 20.5614 | 20.4503
390119 | 1.2881 | 0.9146 | 21.2761 | 22.2746 | 23.0928 | 22.2283
390121 | 1.7661 | 0.8538 | 22.0556 | 23.1408 | 25.4826 | 23.5154
390122 | 1.1378 | 0.8301 | 21.6981 | 22.5785 | 23.1866 | 22.4820
390123 | 1.1771 | 1.0996 | 25.2209 | 28.6269 | 32.4528 | 28.6980
390125 | 1.2603 | 0.8301 | 19.4406 | 20.9456 | 22.4033 | 20.9590
390127 | 1.2749 | 1.0996 | 28.9238 | 30.9374 | 31.9091 | 30.6692
390128 | 1.1989 | 0.8568 | 21.8837 | 23.1539 | 24.1628 | 23.0796
390130 | 1.2044 | 0.8574 | 21.0694 | 24.0685 | 23.0592 | 22.7098
390131 | 1.3499 | 0.8568 | 21.2164 | 22.6306 | 23.0577 | 22.2901
390132 | 1.4503 | 1.0996 | 26.8153 | 27.7250 | 29.6396 | 28.0803
390133 | 1.6789 | 1.0996 | 26.1458 | 28.7162 | 31.1083 | 28.7826
390135 | *** | * | * | 24.4738 | * | 24.4738
390136 | *** | * | 24.8042 | 22.1415 | 23.9813 | 23.6793
390137 | 1.4767 | 0.9146 | 21.8830 | 23.4877 | 24.2878 | 23.1901
390138 | 1.2286 | 1.0877 | 22.7210 | 24.2769 | 25.3410 | 24.1291
390139 | 1.3171 | 1.0996 | 28.2089 | 30.4246 | 34.1447 | 31.0113
390142 | 1.4273 | 1.0996 | 32.0827 | 32.5786 | 33.8224 | 32.8481
390145 | 1.4854 | 0.8568 | 22.4255 | 23.8041 | 24.6672 | 23.6300
390146 | 1.2767 | 0.8354 | 22.3260 | 25.2460 | 22.6752 | 23.4609
390147 | 1.3011 | 0.8568 | 23.6380 | 25.0971 | 26.8522 | 25.1920
390150 | 1.1527 | 0.8507 | 24.5256 | 24.1855 | 22.8228 | 23.8612
390151 | 1.3287 | 1.0848 | 25.1422 | 27.1539 | 29.9254 | 27.4676
390152 | *** | * | 11.7774 | * | * | 11.7774
390153 | 1.4257 | 1.0996 | 27.5167 | 30.0586 | 32.8234 | 30.3430
390154 | 1.2191 | 0.8301 | 20.4408 | 20.6982 | 22.8391 | 21.3189
390156 | 1.3459 | 1.0996 | 27.8096 | 31.2571 | 32.2688 | 30.3975
390157 | 1.3410 | 0.8568 | 22.0222 | 22.7493 | 21.5923 | 22.1203
390160 | 1.1880 | 0.8568 | 19.5942 | 21.4877 | 24.0208 | 21.6980
390162 | 1.4387 | 1.0293 | * | 30.0900 | 35.5057 | 32.6431
390163 | 1.2404 | 0.8568 | 19.8863 | 22.1741 | 23.2055 | 21.7093
390164 | 2.0999 | 0.8568 | 25.1277 | 26.4971 | 26.3087 | 26.0432
390166 | 1.1384 | 0.8568 | 20.9510 | 24.9810 | 20.9272 | 22.2911
390168 | 1.4551 | 0.8568 | 21.9344 | 24.5820 | 26.1365 | 24.3203
390169 | 1.4489 | 0.9146 | 24.1682 | 27.2242 | 26.5514 | 25.9577
390173 | 1.1364 | 0.8301 | 21.6562 | 22.8220 | 23.9927 | 22.8516
390174 | 1.6437 | 1.0996 | 30.3725 | 32.6265 | 34.2069 | 32.4138
390176 | 1.1086 | 0.8568 | 17.1387 | * | 23.9779 | 19.4547
390178 | 1.3298 | 0.8799 | 19.2731 | 20.7270 | 22.6006 | 20.8547
390179 | 1.4568 | 1.0996 | 24.8350 | 27.2222 | 28.0688 | 26.7379
390180 | 1.4151 | 1.0996 | 30.4264 | 32.4375 | 34.9832 | 32.6231
390181 | 1.0817 | 0.8585 | 25.7357 | 24.4573 | 25.9871 | 25.3732
390183 | 1.1021 | 0.8585 | 22.0117 | 25.6554 | 27.0122 | 24.7589
390184 | 1.1993 | 0.8568 | 21.3407 | 22.5519 | 22.7451 | 22.2297
390185 | 1.2892 | 0.9122 | 21.8871 | 23.0202 | 25.4256 | 23.4624
390189 | 1.1312 | 0.8301 | 21.2711 | 22.3722 | 22.6796 | 22.1653
390191 | 1.1254 | * | 19.2308 | 20.8761 | * | 20.0637
390192 | 1.0320 | 0.9146 | 20.0395 | 21.2620 | 20.5459 | 20.6115
390193 | *** | * | 18.5516 | 20.1024 | * | 19.3425
390194 | 1.1195 | 1.0093 | 23.1814 | 25.4235 | 27.5890 | 25.4290
390195 | 1.5919 | 1.0996 | 28.3480 | 31.0019 | 34.2980 | 31.3018
390197 | 1.3822 | 1.0093 | 24.9234 | 25.7739 | 26.8270 | 25.8406
390198 | 1.1107 | 0.8832 | 16.8529 | 18.7222 | 20.5979 | 18.6461
390199 | 1.1920 | 0.8301 | 19.9653 | 21.3157 | 22.3224 | 21.1923
390200 | *** | * | 23.1486 | 23.7471 | * | 23.4231
390201 | 1.2909 | 0.9428 | 24.8222 | 26.3658 | 27.0054 | 26.1065
390203 | 1.6690 | 1.0996 | 28.2741 | 28.9054 | 29.4930 | 28.8914
390204 | 1.2856 | 1.0996 | 25.6342 | 28.6829 | 29.5251 | 27.9888
390211 | 1.2418 | 0.8799 | 22.4472 | 23.1450 | 25.1689 | 23.5881
390215 | *** | * | 26.4180 | 28.0402 | * | 27.0961
390217 | 1.1957 | 0.8568 | 21.3281 | 24.3610 | 23.5879 | 23.0265
390219 | 1.3017 | 0.8568 | 22.8559 | 25.1705 | 25.4886 | 24.4648
390220 | 1.0826 | 1.0996 | 24.7553 | 41.6138 | 28.9127 | 30.8782
390222 | 1.2526 | 1.0996 | 27.0954 | 28.7488 | 30.9464 | 28.9631
390223 | 1.9910 | 1.0996 | 28.2538 | 27.6407 | 30.2523 | 28.7410
390224 | 0.8608 | * | 18.1226 | 18.7624 | * | 18.4428
390225 | 1.1870 | 0.9942 | 23.4945 | 24.9391 | 27.5803 | 25.4970
390226 | 1.7517 | 1.0996 | 27.0061 | 28.5890 | 32.6658 | 29.4354
390228 | 1.3655 | 0.8568 | 22.5999 | 23.3078 | 23.9845 | 23.3076
390231 | 1.4402 | 1.0996 | 27.0576 | 29.2653 | 30.9339 | 29.1189
390233 | 1.3482 | 0.9594 | 22.8667 | 24.8690 | 25.6904 | 24.5006
390236 | 1.1703 | 0.8301 | 21.9199 | 21.9169 | 22.1144 | 21.9838
390237 | 1.5640 | 0.9146 | 24.6316 | 26.9533 | 27.4944 | 26.2736
390238 | *** | * | 26.4748 | * | * | 26.4748
390246 | 1.1603 | 0.8301 | 23.3275 | 20.1581 | 25.1955 | 22.6982
390256 | 1.8627 | 0.9373 | 24.2331 | 26.3619 | 28.0617 | 26.2503
390258 | 1.5347 | 1.0996 | 27.2038 | 29.4626 | 30.4142 | 29.1292
390263 | 1.4490 | 1.0093 | 23.4202 | 26.0170 | 28.5864 | 26.0949
390265 | 1.4892 | 0.8568 | 21.6751 | 23.4836 | 24.0675 | 23.0752
390266 | 1.1937 | 0.8799 | 19.2836 | 20.3918 | 20.8789 | 20.1936
390267 | 1.1857 | 0.8568 | 22.5464 | 23.1051 | 24.2428 | 23.2908
390268 | 1.3592 | 0.8655 | 24.2050 | 25.0021 | 25.6643 | 24.9856
390270 | 1.4700 | 0.9122 | 24.0837 | 24.1496 | 24.9510 | 24.4216
390272 | 0.5306 | 1.0996 | * | * | * | *
390278 | 0.5400 | 1.0996 | 21.6893 | 23.6843 | 26.6663 | 23.9198
390279 | 1.0937 | * | 15.3569 | 17.0012 | * | 16.1698
390285 | 1.4966 | 1.0996 | 33.5347 | 35.0427 | 36.7163 | 35.0333
390286 | 1.1656 | 1.0996 | 27.4090 | 28.1761 | 29.5281 | 28.3401
390287 | *** | * | 35.7147 | 37.6569 | 39.3176 | 37.5485
390288 | *** | * | 28.5267 | 29.7287 | 30.9701 | 29.7120
390289 | *** | * | 28.4577 | 28.8826 | 30.7583 | 29.2976
390290 | 1.9071 | 1.0996 | 36.4991 | 37.9040 | 38.3776 | 37.6001
390291 | *** | * | 21.3015 | * | * | 21.3015
390298 | *** | * | 26.8290 | * | * | 26.8290
390299 | *** | * | 31.9423 | * | * | 31.9423
390300 | *** | * | 40.4697 | * | * | 40.4697
390301 | *** | * | * | 30.9838 | * | 30.9838
390302 | 2.1291 | 1.0996 | * | * | * | *
390303 | *** | * | * | * | 27.5579 | 27.5579
390304 | 1.2905 | 1.0996 | * | * | 30.4832 | 30.4832
390307 | 2.0650 | 0.8799 | * | * | * | *
390308 | 2.5157 | 1.0996 | * | * | * | *
390309 | 1.1852 | 1.0996 | * | * | * | *
390310 | 2.5153 | 0.8301 | * | * | * | *
400001 | 1.3156 | 0.4449 | 16.1114 | 13.1847 | 13.9386 | 14.2307
400002 | 1.7648 | 0.4712 | 14.8607 | 16.7583 | 15.3833 | 15.5918
400003 | 1.2738 | 0.4712 | 13.0776 | 12.8329 | 13.9258 | 13.2702
400004 | 1.2662 | 0.4449 | 10.4716 | 14.3108 | 12.0923 | 12.1360
400005 | 1.1932 | 0.4449 | 10.2878 | 10.7207 | 10.3505 | 10.4561
400006 | 1.1617 | 0.4449 | 8.9919 | 9.2265 | 8.1841 | 8.7951
400007 | 1.2123 | 0.4449 | 8.7152 | 9.2463 | 11.8203 | 9.9172
400009 | 1.0034 | 0.3235 | 9.2007 | 9.3116 | 9.3834 | 9.3007
400010 | 0.8435 | 0.3815 | 10.9354 | 10.0962 | 9.8132 | 10.2760
400011 | 1.0352 | 0.4449 | 8.5868 | 8.5534 | 9.6641 | 8.9633
400012 | 1.4597 | 0.4449 | 8.3580 | 8.3802 | 12.3362 | 9.4771
400013 | 1.2312 | 0.4449 | 9.5584 | 10.3347 | 11.1414 | 10.3875
400014 | 1.3253 | 0.3807 | 11.7023 | 12.2169 | 10.5286 | 11.4498
400015 | 1.3510 | 0.4449 | 15.6066 | 15.6349 | 13.7042 | 14.9480
400016 | 1.4376 | 0.4449 | 15.3497 | 14.7607 | 16.6472 | 15.5903
400017 | 1.1225 | 0.4449 | 10.1238 | 10.2734 | 10.3123 | 10.2262
400018 | 1.1852 | 0.4449 | 10.7948 | 11.6165 | 11.9184 | 11.4745
400019 | 1.4424 | 0.4449 | 14.9892 | 12.8029 | 12.8380 | 13.4377
400021 | 1.3202 | 0.4856 | 13.8643 | 14.1533 | 14.4549 | 14.1535
400022 | 1.3685 | 0.4712 | 16.0539 | 15.9246 | 14.9089 | 15.6001
400024 | 0.8287 | 0.3807 | 9.1316 | 12.4649 | 10.8439 | 10.5240
400026 | 1.0692 | 0.3235 | 5.2085 | 5.8200 | 9.9262 | 6.4882
400028 | 1.2281 | 0.4712 | 10.3354 | 10.9808 | 11.3260 | 10.8948
400032 | 1.1597 | 0.4449 | 10.7195 | 10.2652 | 10.3736 | 10.4542
400044 | 1.2493 | 0.4712 | 10.7890 | 13.7509 | 14.6420 | 13.1456
400048 | 1.1345 | 0.4449 | 14.0887 | 10.4266 | 9.6416 | 11.4025
400061 | 1.8670 | 0.4449 | 15.1639 | 18.9123 | 18.1303 | 17.4284
400079 | 1.1744 | 0.3815 | 9.4218 | 12.7825 | 9.5296 | 10.3914
400087 | 1.2348 | 0.4449 | 9.5860 | 10.6849 | 11.0377 | 10.4576
400094 | *** | * | 8.8646 | * | * | 8.8646
400098 | 1.3149 | 0.4449 | 13.7938 | 12.8230 | 13.8034 | 13.4342
400102 | 1.2826 | 0.4449 | 10.1795 | 10.2677 | 10.5879 | 10.3374
400103 | 1.6717 | 0.3807 | 12.8288 | 9.3859 | 10.6971 | 10.6527
400104 | 1.1447 | 0.4449 | 8.2758 | 9.3854 | 11.4322 | 9.7075
400105 | 1.1548 | 0.4449 | 12.7725 | 14.0219 | 15.6626 | 14.1147
400106 | 1.1419 | 0.4449 | 9.6902 | 11.4507 | 13.4097 | 11.3869
400109 | 1.3979 | 0.4449 | 14.2169 | 14.2111 | 14.4386 | 14.2895
400110 | 1.1558 | 0.3771 | 11.8458 | 12.3449 | 11.1812 | 11.8242
400111 | 1.0967 | 0.3815 | 13.4777 | 14.5029 | 14.1718 | 14.0376
400112 | 1.1496 | 0.4449 | 8.9469 | 19.3945 | 10.1512 | 11.4855
400113 | 1.2265 | 0.4712 | 10.0830 | 9.6778 | 10.5305 | 10.0882
400114 | 1.1352 | 0.4449 | 12.1920 | 11.5478 | 10.1379 | 11.2193
400115 | 1.1595 | 0.4449 | 9.1132 | 13.7392 | 12.0713 | 11.3935
400117 | 1.1110 | 0.4449 | 10.2911 | 12.7600 | 9.5929 | 10.6747
400118 | 1.2360 | 0.4449 | 11.9324 | 12.5743 | 12.8692 | 12.4731
400120 | 1.2946 | 0.4449 | 11.9714 | 12.7955 | 13.4069 | 12.7550
400121 | 1.0086 | 0.4449 | 8.6665 | 8.2197 | 9.7427 | 8.8276
400122 | 1.8996 | 0.4449 | 9.6463 | 11.2325 | 8.9478 | 10.1684
400123 | 1.2149 | 0.3807 | 11.8135 | 12.3041 | 12.8317 | 12.3187
400124 | 2.9166 | 0.4449 | 17.2258 | 16.1812 | 17.2139 | 16.8649
400125 | 1.1680 | 0.4040 | 10.7425 | 11.6386 | 11.9787 | 11.4261
400126 | 1.2523 | 0.4856 | 13.3932 | 9.8008 | 14.1062 | 11.8241
400127 | 1.6827 | 0.4449 | * | * | 17.8303 | 17.8303
400128 | 1.0320 | 0.4449 | * | * | * | *
410001 | 1.2768 | 1.0744 | 27.0309 | 28.0816 | 29.0877 | 28.0608
410004 | 1.2516 | 1.0744 | 25.4578 | 27.4209 | 29.4953 | 27.4268
410005 | 1.2513 | 1.0744 | 27.1171 | 30.1606 | 28.1141 | 28.4455
410006 | 1.3385 | 1.0744 | 27.1842 | 29.4395 | 30.1855 | 28.9486
410007 | 1.6754 | 1.0744 | 30.1360 | 31.8548 | 33.2896 | 31.8343
410008 | 1.2423 | 1.0744 | 28.4245 | 29.6092 | 30.9505 | 29.6707
410009 | 1.2554 | 1.0744 | 27.7337 | 29.4094 | 31.7300 | 29.6812
410010 | 1.2020 | 1.1343 | 30.7826 | 32.8599 | 32.0704 | 31.9389
410011 | 1.3348 | 1.0744 | 28.5875 | 30.3787 | 33.8781 | 30.8807
410012 | 1.7499 | 1.1343 | 32.1679 | 32.6009 | 33.6071 | 32.8336
410013 | 1.2447 | 1.2031 | 31.7482 | 35.4624 | 35.8075 | 34.3462
420002 | 1.5062 | 0.9413 | 27.9312 | 28.2848 | 29.5592 | 28.6127
420004 | 1.9893 | 0.9197 | 26.0279 | 27.2620 | 28.1455 | 27.1749
420005 | 1.0528 | 0.8692 | 19.8167 | 23.1943 | 25.0420 | 22.6820
420006 | *** | * | 22.8920 | 24.0811 | 26.3294 | 24.4155
420007 | 1.6041 | 0.9208 | 25.0395 | 25.2650 | 26.8165 | 25.7491
420009 | 1.4052 | 0.9208 | 23.8668 | 25.5079 | 27.0147 | 25.5052
420010 | 1.1696 | 0.8703 | 21.6478 | 23.4562 | 25.1452 | 23.4816
420011 | 1.1984 | 0.9566 | 20.8895 | 21.4030 | 22.1786 | 21.5140
420014 | *** | * | 21.5658 | * | * | 21.5658
420015 | 1.3132 | 0.9566 | 24.7383 | 26.2154 | 24.1685 | 25.0330
420016 | 0.9801 | 0.8692 | 17.3837 | 17.1229 | 21.6266 | 18.6186
420018 | 1.7407 | 0.8942 | 23.6356 | 24.8024 | 25.6687 | 24.7269
420019 | 1.0784 | 0.8692 | 20.5472 | 22.5312 | 22.5489 | 21.8461
420020 | 1.2627 | 0.9197 | 24.6592 | 25.8883 | 28.4344 | 26.2922
420023 | 1.6949 | 0.9566 | 25.1035 | 26.7263 | 27.4589 | 26.4009
420026 | 1.9171 | 0.8942 | 29.2961 | 27.4814 | 27.8986 | 28.1633
420027 | 1.6168 | 0.9208 | 22.8322 | 25.1692 | 26.4473 | 24.8695
420030 | 1.2490 | 0.9197 | 24.2847 | 26.0079 | 27.8435 | 26.0585
420033 | 1.1278 | 0.9566 | 27.5740 | 31.8759 | 30.4162 | 29.9643
420036 | 1.2133 | 0.9413 | 21.9641 | 22.8294 | 23.8742 | 22.9025
420037 | 1.3020 | 0.9566 | 26.8750 | 29.4156 | 29.8321 | 28.7700
420038 | 1.2794 | 0.9566 | 22.6741 | 24.2259 | 24.6642 | 23.8487
420039 | 1.0972 | 0.9072 | 24.0637 | 25.1148 | 28.2220 | 25.7883
420043 ʰ | 1.1580 | 0.9249 | 22.9764 | 23.0555 | 24.0971 | 23.4022
420048 | 1.2587 | 0.8942 | 23.1515 | 24.1923 | 25.9610 | 24.4452
420049 | 1.2661 | 0.8882 | 23.2156 | 23.9722 | 26.0953 | 24.4429
420051 | 1.5579 | 0.8703 | 23.9455 | 24.8026 | 25.9056 | 24.9288
420053 | 1.1369 | 0.8692 | 21.1177 | 22.2825 | 23.2246 | 22.2695
420054 | 1.0760 | 0.8692 | 24.0653 | 24.8931 | 25.6779 | 24.8777
420055 | 1.0620 | 0.8692 | 20.3599 | 21.9764 | 24.0965 | 22.1681
420056 | 1.3387 | 0.8692 | 21.1640 | 21.6963 | 27.7250 | 23.4790
420057 | 1.2652 | 0.8703 | 19.7653 | 23.4311 | 24.9313 | 22.7178
420059 | 1.0698 | * | 21.4260 | * | * | 21.4260
420061 | *** | * | 20.8684 | * | * | 20.8684
420062 | 1.0681 | 0.8801 | 25.6683 | 25.9526 | 26.7468 | 26.1567
420064 | 1.2128 | 0.8882 | 22.1290 | 23.3610 | 24.3540 | 23.2634
420065 | 1.4193 | 0.9197 | 22.8674 | 24.5715 | 25.5483 | 24.3518
420066 | 0.9880 | 0.8703 | 20.5893 | 23.9048 | 25.1062 | 23.2318
420067 | 1.3328 | 0.9023 | 24.6038 | 25.0345 | 25.8561 | 25.1967
420068 | 1.3318 | 0.9531 | 22.2638 | 23.4248 | 25.6857 | 23.7924
420069 | 1.1064 | 0.8692 | 19.6959 | 20.5546 | 22.3445 | 20.8829
420070 | 1.3110 | 0.8942 | 22.4370 | 23.4355 | 24.7899 | 23.6087
420071 | 1.3997 | 0.9208 | 23.1727 | 24.9418 | 25.2862 | 24.5087
420072 | 1.0920 | 0.8692 | 17.5899 | 18.6742 | 17.8019 | 18.0160
420073 | 1.3737 | 0.8942 | 24.0274 | 24.5813 | 25.5204 | 24.7447
420075 | 0.9056 | * | 16.4816 | * | * | 16.4816
420078 | 1.8727 | 0.9566 | 25.3032 | 28.9112 | 29.5135 | 27.8924
420079 | 1.5685 | 0.9197 | 25.2939 | 25.4935 | 27.5439 | 26.1290
420080 | 1.4597 | 0.9023 | 28.4569 | 28.4734 | 28.6060 | 28.5136
420082 | 1.5089 | 0.9640 | 26.1221 | 29.8528 | 31.2671 | 29.0597
420083 | 1.4720 | 0.9208 | 25.3043 | 27.1322 | 26.4932 | 26.3201
420085 | 1.5749 | 0.9473 | 25.3180 | 26.8692 | 27.8386 | 26.6706
420086 | 1.4151 | 0.8942 | 25.1372 | 25.8869 | 28.0485 | 26.4300
420087 | 1.7986 | 0.9197 | 23.2230 | 24.3609 | 25.4697 | 24.3550
420088 | *** | * | 23.1273 | * | * | 23.1273
420089 | 1.3287 | 0.9197 | 25.2729 | 26.0074 | 28.1855 | 26.5304
420091 | 1.3535 | 0.8703 | 23.4710 | 26.9214 | 26.0592 | 25.5303
420093 | *** | * | 25.1457 | 27.4766 | 28.0765 | 27.0073
420097 | *** | * | 24.7809 | * | * | 24.7809
420098 | 1.1551 | 0.8727 | * | * | 30.7532 | 30.7532
420100 | 1.9107 | 0.9566 | * | * | * | *
420101 | 1.0414 | 0.8692 | * | * | * | *
430005 | 1.3236 | 0.8503 | 19.9454 | 22.3272 | 22.4111 | 21.5283
430008 | 1.0700 | 0.9238 | 20.9442 | 23.3790 | 24.4277 | 22.8172
430011 | *** | * | 20.6597 | * | * | 20.6597
430012 | 1.2528 | 0.9238 | 22.7530 | 24.0850 | 24.0326 | 23.6212
430013 | 1.1748 | 0.9238 | 22.9675 | 25.1378 | 25.9828 | 24.6946
430014 | 1.3170 | 0.8367 | 25.5387 | 26.4964 | 26.8752 | 26.3291
430015 | 1.1754 | 0.8768 | 23.2035 | 22.7947 | 23.6296 | 23.2107
430016 | 1.6825 | 0.9351 | 26.1495 | 27.8453 | 28.9376 | 27.6202
430027 | 1.7820 | 0.9351 | 23.8477 | 26.2139 | 26.6044 | 25.6126
430029 | 0.8745 | * | 20.2708 | * | * | 20.2708
430031 | 0.9563 | * | 15.6112 | 16.0346 | * | 15.8232
430043 | *** | * | 17.2722 | * | * | 17.2722
430047 | 1.0053 | * | 21.9116 | 18.8982 | * | 20.4712
430048 | 1.3089 | 0.8768 | 21.1718 | 23.0783 | 24.1969 | 22.8738
430060 | 0.9030 | 0.8768 | 10.2704 | * | 13.2617 | 11.6125
430064 | 1.0539 | 0.8768 | 16.4314 | 17.5376 | 18.3125 | 17.4742
430077 | 1.7505 | 0.8973 | 23.4835 | 25.1763 | 25.8572 | 24.8679
430081 | 0.8518 | 1.4448 | * | * | * | *
430082 | 0.7951 | 1.4448 | * | * | * | *
430083 | 0.8515 | 1.4448 | * | * | * | *
430084 | 0.8952 | 1.4448 | * | * | * | *
430085 | 0.8309 | 1.4448 | * | * | * | *
430089 | 1.6775 | 0.9062 | 21.1109 | 22.5625 | 22.3335 | 22.0620
430090 | 1.4710 | 0.9351 | 26.0851 | 25.8460 | 26.4862 | 26.1506
430091 | 2.1571 | 0.8973 | 23.8897 | 24.3021 | 25.1105 | 24.4593
430092 | 1.8668 | 0.8298 | 20.2570 | 20.9486 | 21.6478 | 20.9497
430093 | 0.8972 | 0.8708 | 23.1526 | 29.5244 | 27.5326 | 26.9376
430094 | 1.4329 | 0.9057 | 18.5429 | 18.9099 | 22.9091 | 20.0464
430095 | 2.4866 | 0.9351 | 24.7074 | 28.1749 | 31.3409 | 28.2890
430096 | 1.9427 | 0.8298 | * | 21.6998 | 21.6713 | 21.6864
440001 | 1.1182 | 0.8122 | 17.4802 | 19.3100 | 21.2398 | 19.3290
440002 | 1.7025 | 0.8984 | 23.2177 | 24.6664 | 25.7434 | 24.5745
440003 | 1.2347 | 0.9810 | 24.5168 | 25.9209 | 28.4862 | 26.3484
440006 | 1.4831 | 0.9810 | 26.7983 | 28.5951 | 29.7146 | 28.3985
440007 | 0.9539 | 0.8122 | 13.7042 | 25.8236 | 19.9754 | 19.0491
440008 | 1.0244 | 0.8785 | 22.1405 | 23.4301 | 23.2125 | 22.9167
440009 | 1.1812 | 0.8122 | 21.1274 | 21.5970 | 23.9279 | 22.2714
440010 | 0.9635 | 0.8122 | 16.9060 | 17.1803 | 19.3669 | 17.8458
440011 | 1.3300 | 0.8227 | 21.6861 | 22.5068 | 23.6154 | 22.6426
440012 | 1.5486 | 0.8215 | 21.4769 | 22.3029 | 24.0169 | 22.5897
440015 | 1.8437 | 0.8227 | 22.5583 | 23.7422 | 25.0430 | 23.8010
440016 | 1.0084 | 0.8122 | 20.0982 | 22.1646 | 23.0351 | 21.7738
440017 | 1.8305 | 0.8215 | 22.5313 | 22.9364 | 25.0588 | 23.5210
440018 | 1.1114 | 0.8122 | 21.7239 | 23.3444 | 23.2107 | 22.7981
440019 | 1.7691 | 0.8227 | 23.8802 | 25.2553 | 25.3592 | 24.8097
440020 | 1.0309 | 0.8756 | 23.1718 | 23.9475 | 24.0995 | 23.7425
440023 | 0.9893 | * | 17.0335 | * | * | 17.0335
440024 | 1.3272 | 0.8822 | 20.3658 | 23.2716 | 23.9745 | 22.5398
440025 | 1.1282 | 0.8629 | 19.5995 | 20.6798 | 22.5406 | 20.9785
440026 | 0.6814 | 0.9810 | 26.9149 | 26.8986 | 28.0350 | 27.2742
440029 | 1.3696 | 0.9810 | 25.8538 | 28.0779 | 30.1204 | 28.1242
440030 | 1.3390 | 0.8178 | 20.0586 | 22.1217 | 23.7670 | 22.0367
440031 | 1.1544 | 0.8122 | 18.0944 | 19.6685 | 20.8964 | 19.5830
440032 | 1.1152 | 0.8215 | 16.0734 | 18.5277 | 19.7151 | 18.1139
440033 | 1.0672 | 0.8122 | 18.7749 | 20.7917 | 21.1088 | 20.2055
440034 | 1.6079 | 0.8227 | 23.1121 | 23.5403 | 24.6994 | 23.7954
440035 | 1.3571 | 0.9550 | 22.3230 | 24.3752 | 25.9613 | 24.2266
440039 | 2.1340 | 0.9810 | 26.4647 | 28.4678 | 29.8611 | 28.3344
440040 | 0.9301 | 0.8122 | 17.7647 | 17.8510 | 20.8638 | 18.8683
440041 | 0.9591 | * | 17.4074 | 17.9409 | * | 17.6972
440046 | 1.1787 | 0.9810 | 25.5329 | 26.1341 | 27.9540 | 26.5702
440047 | 0.8930 | 0.8621 | 20.4812 | 21.4280 | 21.7892 | 21.2346
440048 | 1.8465 | 0.9307 | 24.3283 | 27.7560 | 29.4789 | 27.0939
440049 | 1.6223 | 0.9307 | 22.9755 | 25.3043 | 26.4772 | 24.9275
440050 | 1.3196 | 0.9264 | 21.8972 | 23.1362 | 24.4616 | 23.1945
440051 | 0.9892 | 0.8122 | 20.7948 | 21.9108 | 23.9253 | 22.1919
440052 | 1.0450 | 0.8122 | 20.1875 | 21.1133 | 22.8016 | 21.3951
440053 | 1.2806 | 0.9810 | 23.9083 | 25.4345 | 27.1197 | 25.5052
440054 | 1.1053 | 0.8122 | 20.5992 | 21.4400 | 23.5137 | 21.8156
440056 | 1.1433 | 0.8443 | 20.4088 | 22.1068 | 22.7820 | 21.8543
440057 | 1.0816 | 0.8122 | 14.6242 | 16.4451 | 16.6346 | 15.9385
440058 | 1.1717 | 0.8822 | 22.6014 | 22.9263 | 24.3522 | 23.2819
440059 | 1.5169 | 0.9550 | 23.9301 | 26.3551 | 28.3565 | 26.1699
440060 | 1.1078 | 0.8621 | 22.7133 | 23.3014 | 24.1024 | 23.3991
440061 | 1.0596 | 0.8122 | 21.2085 | 21.8274 | 23.9678 | 22.2261
440063 | 1.5536 | 0.8133 | 21.8578 | 22.3256 | 24.2566 | 22.8469
440064 | 1.0206 | 0.8948 | 20.9742 | 22.0955 | 23.7176 | 22.2235
440065 | 1.2218 | 0.9810 | 21.4794 | 22.3247 | 24.6169 | 22.8297
440067 | 1.1639 | 0.8227 | 22.1410 | 23.1089 | 24.4772 | 23.2691
440068 | 1.1072 | 0.8822 | 23.1705 | 24.5971 | 24.8146 | 24.1808
440070 | 0.9781 | 0.8122 | 19.0240 | 19.4372 | 20.0938 | 19.5478
440072 | 1.1499 | 0.8984 | 20.9294 | 27.1443 | 23.9563 | 23.6712
440073 | 1.4430 | 0.9550 | 22.2959 | 23.9198 | 26.3570 | 24.1796
440081 ʰ | 1.1977 | 0.8227 | 19.0328 | 19.7878 | 20.7126 | 19.8806
440082 | 2.1299 | 0.9810 | 28.7828 | 27.9724 | 30.6115 | 29.1270
440083 | 0.9451 | 0.8122 | 16.0956 | 17.3329 | 25.6099 | 19.7144
440084 | 1.2004 | 0.8122 | 15.2825 | 16.3738 | 18.6043 | 16.7941
440091 | 1.6828 | 0.8948 | 26.1122 | 25.6797 | 26.5687 | 26.1284
440102 | 1.1074 | 0.8122 | 17.5140 | 17.5261 | 20.7363 | 18.5920
440104 | 1.8213 | 0.8948 | 23.3731 | 25.3739 | 26.5741 | 25.1638
440105 | 1.0015 | 0.8133 | 20.7821 | 22.3438 | 22.9372 | 22.0612
440109 | 0.9864 | 0.8122 | 18.2508 | 18.6720 | 20.8925 | 19.3202
440110 | 1.0991 | 0.8227 | 20.9039 | 21.3287 | 20.9179 | 21.0455
440111 | 1.2938 | 0.9810 | 25.8821 | 28.5705 | 29.0975 | 27.8355
440114 | 1.0137 | * | 21.4271 | 24.0147 | * | 22.7665
440115 | 0.9920 | 0.8621 | 20.0642 | 21.7830 | 23.1409 | 21.6814
440120 | 1.5625 | 0.8227 | 23.9003 | 25.5961 | 25.7161 | 25.0802
440125 | 1.6374 | 0.8227 | 21.9337 | 22.4196 | 22.8097 | 22.3930
440130 | 1.1630 | 0.8122 | 21.6480 | 23.4517 | 23.9955 | 23.0274
440131 | 1.1493 | 0.9307 | 22.4119 | 24.9598 | 25.6665 | 24.3775
440132 | 1.2832 | 0.8122 | 20.5716 | 21.5085 | 23.9410 | 21.9977
440133 | 1.6545 | 0.9810 | 27.5019 | 26.2422 | 29.2829 | 27.6527
440135 | 1.0508 | 0.8122 | 25.3928 | 26.6615 | 28.1925 | 26.7796
440137 | 1.0802 | 0.8122 | 18.2073 | 20.6663 | 22.2538 | 20.2816
440141 | 1.0075 | 0.8122 | 19.4528 | 21.3313 | 24.2406 | 21.9166
440143 | 0.9345 | * | 21.0374 | * | * | 21.0374
440144 | 1.2530 | 0.8122 | 22.3671 | 23.3828 | 23.9242 | 23.2347
440145 | 0.9904 | * | 20.9863 | 20.7875 | * | 20.8882
440147 | *** | * | 28.9038 | 31.4012 | 33.1755 | 31.1830
440148 | 1.1144 | 0.9550 | 23.0697 | 24.6412 | 23.9810 | 23.9010
440149 | 1.0254 | * | 19.8020 | 20.4562 | * | 20.1312
440150 | 1.3627 | 0.9810 | 25.4952 | 26.8308 | 28.1012 | 26.8048
440151 | 1.0794 | 0.9550 | 23.3037 | 23.9808 | 27.1729 | 24.8328
440152 | 1.8657 | 0.9307 | 25.9495 | 26.5513 | 27.1877 | 26.5767
440153 | 1.0516 | 0.8129 | 22.7744 | 22.2846 | 23.6472 | 22.9043
440156 | 1.5304 | 0.8948 | 25.6333 | 26.9689 | 27.7309 | 26.7797
440159 | 1.4563 | 0.9307 | 21.1073 | 22.8645 | 26.9098 | 23.7848
440161 | 1.7812 | 0.9810 | 28.6774 | 28.6971 | 28.7074 | 28.6947
440162 | *** | * | 16.5305 | 21.1418 | 27.6836 | 21.4196
440166 | *** | * | 27.1355 | 31.0779 | 35.3063 | 30.4732
440168 | 0.9700 | 0.9307 | 22.1764 | 22.8768 | 28.1215 | 24.4268
440173 | 1.6028 | 0.8227 | 20.8723 | 22.8846 | 23.1167 | 22.3223
440174 | 0.8858 | 0.8494 | 20.7960 | 22.0974 | 25.4829 | 22.7502
440175 | 1.0146 | 0.9550 | 24.0005 | 22.7299 | 24.4848 | 23.7124
440176 | 1.2214 | 0.8215 | 22.0079 | 23.6659 | 22.9631 | 22.8672
440180 | 1.2436 | 0.8227 | 21.9781 | 23.3808 | 24.9841 | 23.5303
440181 | 0.9565 | 0.8529 | 21.1406 | 22.7150 | 24.8857 | 22.9413
440182 | 0.9844 | 0.8122 | 20.2630 | 22.3612 | 24.3303 | 22.3499
440183 | 1.6171 | 0.9307 | 27.7769 | 27.1515 | 29.1982 | 28.0280
440184 | 1.0263 | 0.8133 | 20.8219 | 22.3475 | 24.5786 | 22.5358
440185 | 1.1468 | 0.8822 | 23.4172 | 23.9052 | 25.3817 | 24.3308
440186 | 1.0293 | 0.9810 | 24.6773 | 25.7445 | 27.3733 | 25.9399
440187 | 1.1054 | 0.8122 | 21.7637 | 21.3252 | 24.0723 | 22.3983
440189 | 1.3818 | 0.8796 | 24.7851 | 27.5435 | 28.2621 | 26.8849
440192 | 1.0679 | 0.9550 | 25.1119 | 25.7495 | 27.3917 | 26.1235
440193 | 1.2833 | 0.9810 | 24.3911 | 24.4299 | 24.3622 | 24.3938
440194 | 1.3288 | 0.9810 | 26.2498 | 26.6527 | 29.4706 | 27.5437
440197 | 1.3088 | 0.9810 | 26.4999 | 27.1534 | 29.4275 | 27.6503
440200 | 0.9946 | 0.9810 | 17.0633 | 17.7491 | 21.1860 | 18.6458
440203 | 0.9249 | 0.8122 | 17.7639 | 19.3864 | 23.7451 | 20.0302
440217 | 1.3288 | 0.9307 | 25.9667 | 28.5968 | 28.8641 | 27.8452
440218 | 1.7812 | 0.9810 | 26.3741 | 24.6465 | 23.7257 | 25.1548
440222 | 0.9676 | 0.9307 | 28.3879 | 29.7292 | 28.4664 | 28.8461
440225 | 0.8446 | 0.8227 | * | * | 24.8328 | 24.8328
440226 | 1.5393 | 0.8227 | * | * | 26.5831 | 26.5831
440227 | 1.2253 | 0.9810 | * | * | * | *
440228 | 1.3670 | 0.9307 | * | * | * | *
450002 | 1.4312 | 0.9238 | 25.4975 | 25.7171 | 28.0936 | 26.4026
450005 | 1.0923 | 0.8710 | 23.4049 | 23.5576 | 24.4933 | 23.7898
450007 | 1.3223 | 0.8945 | 19.2875 | 20.7321 | 23.0026 | 21.0152
450008 | 1.2861 | 0.8993 | 22.0934 | 22.9669 | 24.4701 | 23.1949
450010 | 1.5988 | 0.8678 | 22.4133 | 23.7529 | 25.5503 | 23.9127
450011 | 1.7137 | 0.8903 | 24.1576 | 24.8831 | 26.7418 | 25.2430
450014 | *** | * | 22.5001 | * | * | 22.5001
450015 | 1.5745 | 0.9977 | 24.0730 | 27.4012 | 29.9193 | 27.1701
450016 | *** | * | 22.1368 | * | * | 22.1368
450018 | 1.5035 | 1.0094 | 24.6443 | 26.7999 | 30.2383 | 27.1629
450020 | 0.9641 | * | 17.7148 | 18.3047 | * | 18.0203
450021 | 1.8292 | 0.9977 | 28.5578 | 29.1350 | 29.5658 | 29.0840
450023 | 1.4253 | 0.8426 | 20.9278 | 22.0558 | 25.4450 | 22.7145
450024 | 1.4782 | 0.9238 | 22.4178 | 24.4195 | 26.9113 | 24.6324
450028 | 1.5292 | 0.9731 | 25.6030 | 26.8250 | 29.1438 | 27.1585
450029 | 1.5506 | 0.8227 | 23.9709 | 23.2995 | 25.0602 | 24.1186
450031 | 1.4019 | 0.9977 | 27.0328 | 27.9626 | 29.0824 | 28.0798
450032 | 1.1912 | 0.8688 | 20.8306 | 27.0748 | 21.5084 | 22.9390
450033 | 1.6551 | 0.9731 | 29.0541 | 28.4781 | 29.2468 | 28.9075
450034 | 1.5734 | 0.8710 | 23.4615 | 24.1589 | 26.5313 | 24.6836
450035 | 1.5452 | 1.0094 | 25.4580 | 26.2838 | 28.0668 | 26.5526
450037 | 1.5911 | 0.8946 | 23.1176 | 24.2684 | 26.6207 | 24.7158
450039 | 1.3793 | 0.9743 | 23.3034 | 24.7347 | 26.7503 | 25.0244
450040 | 1.7758 | 0.8536 | 23.8047 | 24.9590 | 25.4734 | 24.7314
450042 | 1.7885 | 0.8748 | 22.6936 | 24.1181 | 26.6382 | 24.4853
450044 | 1.7240 | 0.9977 | 25.8403 | 29.4308 | 31.0381 | 28.8430
450046 | 1.5838 | 0.8438 | 22.0695 | 23.4907 | 24.8947 | 23.4957
450047 | 0.8358 | 0.9731 | 22.7242 | 19.8221 | 21.8824 | 21.4475
450050 | 0.9116 | * | 21.6933 | 23.3044 | * | 22.5039
450051 | 1.8787 | 0.9977 | 27.2523 | 28.0411 | 28.8829 | 28.0844
450052 | 0.9756 | 0.8225 | 19.7185 | 19.7774 | 22.6448 | 20.4956
450053 | 0.9824 | * | 19.4978 | 21.9082 | * | 20.7080
450054 | 1.7546 | 0.8993 | 25.1229 | 24.2782 | 27.5399 | 25.5899
450055 | 1.1200 | 0.8225 | 20.5235 | 22.1979 | 22.9245 | 21.9016
450056 | 1.8082 | 0.9328 | 25.6685 | 27.0530 | 28.3092 | 26.9168
450058 | 1.5729 | 0.8945 | 24.7442 | 25.9653 | 26.6926 | 25.8041
450059 | 1.3326 | 0.9328 | 26.8209 | 26.6535 | 26.8325 | 26.7674
450064 | 1.4326 | 0.9743 | 24.2920 | 23.8748 | 26.8355 | 25.0454
450068 | 2.0769 | 1.0094 | 26.2864 | 27.9633 | 29.5876 | 27.9738
450072 | 1.1739 | 1.0094 | 22.5010 | 24.0166 | 25.8618 | 24.1220
450073 | 0.9639 | 0.8380 | 20.0464 | 21.7337 | 26.9446 | 22.7977
450078 | 0.9561 | 0.8225 | 17.2196 | 15.8968 | 21.4715 | 17.9210
450079 | 1.6843 | 0.9977 | 27.0443 | 28.1096 | 30.2420 | 28.3928
450080 | 1.2684 | 0.8946 | 21.2482 | 22.9835 | 27.9191 | 23.9020
450082 | 1.0772 | 0.8225 | 20.9113 | 22.0442 | 23.9025 | 22.2879
450083 | 1.7749 | 0.8963 | 24.9182 | 25.8214 | 27.4955 | 26.1776
450085 | 1.0364 | 0.8225 | 19.4524 | 22.0840 | 24.3637 | 22.0068
450087 | 1.4431 | 0.9743 | 26.4203 | 29.1587 | 30.0095 | 28.5700
450090 | 1.2028 | 0.8225 | 17.6506 | 19.4244 | 21.3837 | 19.4999
450092 | 1.2058 | 0.8225 | 20.4921 | 23.2071 | 24.9917 | 22.9332
450094 | *** | * | 25.3618 | 25.2434 | * | 25.3030
450096 | 1.4219 | 0.8710 | 22.8722 | 24.1619 | 26.5103 | 24.4238
450097 | 1.4461 | 1.0094 | 24.9380 | 26.4965 | 29.0142 | 26.8163
450098 | 0.9575 | * | 22.9005 | 22.6626 | * | 22.7778
450099 | 1.2229 | 0.9248 | 24.0293 | 26.6796 | 31.3494 | 27.2796
450101 | 1.5790 | 0.8748 | 20.6575 | 23.6905 | 25.4409 | 23.2371
450102 | 1.8195 | 0.8963 | 23.1773 | 24.5503 | 25.6318 | 24.4875
450104 | 1.2035 | 0.8945 | 22.5165 | 23.8469 | 24.6169 | 23.7263
450107 | 1.4173 | 0.9238 | 23.8770 | 25.9326 | 27.6064 | 25.7745
450108 | 1.1857 | 0.8945 | 19.3561 | 19.4935 | 21.6557 | 20.2238
450112 | *** | * | 22.5552 | * | * | 22.5552
450113 | *** | * | * | 54.6681 | * | 54.6681
450119 | 1.2868 | 0.8794 | 24.1392 | 25.7008 | 27.8027 | 25.9080
450121 | 1.4832 | 0.9743 | 25.8826 | 25.7051 | 29.1296 | 26.9357
450123 | 1.0598 | 0.8710 | 19.5872 | 21.2154 | 24.9674 | 21.6885
450124 | 1.9029 | 0.9328 | 26.0280 | 27.4198 | 28.2571 | 27.2827
450126 | 1.3387 | 1.0094 | 27.3021 | 28.3033 | 29.3768 | 28.4351
450128 | 1.2284 | 0.8794 | 21.4190 | 23.3633 | 25.1122 | 23.2357
450130 | 1.2181 | 0.8945 | 20.2777 | 21.5226 | 24.3295 | 22.1028
450131 | *** | * | 23.2317 | 23.7098 | 25.9493 | 24.1618
450132 | 1.5376 | 1.0038 | 26.8476 | 28.6954 | 30.1620 | 28.5767
450133 | 1.6230 | 0.9538 | 25.0972 | 26.8344 | 28.4647 | 26.8906
450135 | 1.6858 | 0.9743 | 24.3858 | 26.0755 | 27.8983 | 26.2009
450137 | 1.6046 | 0.9743 | 27.0081 | 30.4254 | 31.4950 | 29.8197
450140 | *** | * | 22.4695 | * | * | 22.4695
450143 | 1.0123 | 0.9328 | 19.7487 | 21.8705 | 23.4592 | 21.7863
450144 | 1.0685 | 0.9714 | 20.9599 | 21.3289 | 26.2881 | 22.7930
450147 | 1.4336 | 0.8426 | 24.6203 | 23.9771 | 24.3562 | 24.3140
450148 | 1.1796 | 0.9743 | 23.5037 | 25.3498 | 27.0894 | 25.3577
450151 | 1.2033 | 0.8225 | 20.1356 | 22.2915 | 23.9558 | 22.2084
450152 | 1.2271 | 0.8993 | 21.6351 | 22.7463 | 23.3428 | 22.5685
450154 | 1.3655 | 0.8225 | 18.6058 | 21.2021 | 21.7237 | 20.4954
450155 | 1.0233 | 0.8225 | 17.9306 | 18.0589 | 21.7604 | 19.2283
450157 | *** | * | 17.8812 | * | * | 17.8812
450160 | 0.8255 | * | 21.9118 | * | * | 21.9118
450162 | 1.3040 | 0.8536 | 31.0645 | 30.9903 | 33.3285 | 31.8718
450163 | 1.0920 | 0.8359 | 20.3280 | 23.1400 | 24.1267 | 22.5244
450165 | 1.0756 | 0.8945 | 20.2414 | 24.3242 | 28.6490 | 24.3813
450176 | 1.3564 | 0.8794 | 20.9392 | 20.9297 | 23.1284 | 21.6670
450177 | 1.1948 | 0.8225 | 19.7657 | 21.3322 | 23.7624 | 21.6179
450178 | 0.9384 | 0.8225 | 20.2992 | 24.7301 | 27.8404 | 24.1301
450184 | 1.5405 | 1.0094 | 25.3935 | 26.7821 | 28.5399 | 26.9381
450185 | *** | * | 15.5838 | * | * | 15.5838
450187 | 1.1725 | 1.0094 | 24.2400 | 25.6786 | 28.3243 | 26.1312
450188 | 0.9532 | 0.8225 | 18.9586 | 20.4070 | 23.0595 | 20.8839
450191 | 1.1733 | 0.9328 | 25.9078 | 26.0298 | 26.5863 | 26.1892
450192 | 1.1679 | 0.9743 | 22.5118 | 22.5880 | 24.1186 | 23.0856
450193 | 2.0322 | 1.0094 | 29.2751 | 32.2964 | 34.4545 | 32.0837
450194 | 1.3868 | 0.9743 | 22.3348 | 24.8972 | 22.9605 | 23.3409
450196 | 1.4262 | 0.9743 | 23.6170 | 24.7557 | 24.0161 | 24.1328
450200 | 1.4655 | 0.8225 | 22.0923 | 23.5344 | 23.5012 | 23.0498
450201 | 0.9930 | 0.8225 | 20.3350 | 20.9809 | 23.2510 | 21.5242
450203 | 1.1562 | 0.9556 | 23.3953 | 24.1675 | 26.5237 | 24.7655
450209 | 1.9445 | 0.9248 | 24.4977 | 26.0958 | 27.5668 | 26.0396
450210 | 0.9821 | 0.8225 | 19.6340 | 19.9832 | 21.8722 | 20.5555
450211 | 1.3565 | 1.0094 | 20.7982 | 23.8230 | 28.4581 | 24.1927
450213 | 1.7746 | 0.8945 | 21.7930 | 23.9676 | 25.9169 | 23.9310
450214 | 1.1721 | 1.0094 | 23.9112 | 25.9598 | 27.4357 | 25.7688
450219 | 0.9924 | 0.8225 | 20.8255 | 21.7934 | 21.9206 | 21.5544
450221 | 1.1280 | 0.8225 | 20.6887 | 20.3186 | 19.3793 | 20.1275
450222 | 1.6144 | 1.0094 | 26.2975 | 27.4426 | 30.0314 | 27.9521
450224 | 1.3827 | 0.8963 | 22.2250 | 24.1956 | 26.8302 | 24.3592
450229 | 1.6260 | 0.8380 | 19.8279 | 21.4459 | 24.4450 | 21.9251
450231 | 1.6215 | 0.9248 | 23.9532 | 25.2852 | 27.1674 | 25.5166
450234 | 1.0357 | 0.8225 | 23.6695 | 18.4451 | 20.6890 | 20.7174
450235 | 1.0194 | 0.8225 | 19.1453 | 21.5138 | 23.5212 | 21.4625
450236 | 1.1076 | 0.8225 | 19.2987 | 22.0788 | 23.5426 | 21.6828
450237 | 1.6350 | 0.8945 | 25.1504 | 24.8901 | 25.7939 | 25.2876
450239 | 0.9632 | 0.8993 | 21.8595 | 21.1945 | 21.2586 | 21.4253
450241 | 1.0434 | 0.8225 | 18.1155 | 18.7957 | 20.8733 | 19.2853
450243 | 0.9856 | 0.8225 | 14.0589 | 15.4636 | 15.4511 | 14.9997
450249 | *** | * | 16.5616 | * | * | 16.5616
450253 | 0.9498 | 1.0094 | 19.6379 | 20.6124 | 24.2435 | 21.5908
450264 | *** | * | 15.4111 | * | * | 15.4111
450269 | *** | * | 14.8204 | * | * | 14.8204
450270 | 1.2007 | 0.8225 | 15.0879 | 14.4325 | 15.2191 | 14.8787
450271 | 1.1343 | 0.9556 | 19.4299 | 21.7719 | 22.7035 | 21.3960
450272 | 1.2284 | 0.9328 | 23.7933 | 25.7392 | 26.2576 | 25.2704
450276 | 0.9777 | * | 16.0264 | 16.6319 | * | 16.3591
450280 | 1.4675 | 0.9977 | 27.4523 | 28.7233 | 29.9730 | 28.7186
450283 | 1.0757 | 0.9743 | 20.0069 | 20.9680 | 22.7938 | 21.3337
450289 | 1.3830 | 1.0094 | 27.3864 | 28.5665 | 32.2645 | 29.4132
450292 | 1.2409 | 0.9977 | 23.5330 | 25.0411 | 26.3242 | 24.9781
450293 | 0.9055 | 0.8225 | 20.0898 | 21.3136 | 23.6412 | 21.7008
450296 | 1.0521 | 1.0094 | 29.2006 | 27.9690 | 30.4324 | 29.2385
450299 | 1.5716 | 0.8903 | 25.8183 | 26.4933 | 27.5797 | 26.6552
450306 | 0.9235 | 0.8380 | 14.6699 | 15.9854 | 21.4557 | 16.9573
450315 | 2.5812 | 0.9977 | 27.9780 | * | 37.1723 | 29.7429
450324 | 1.5354 | 0.9743 | 23.6362 | 24.9128 | 25.1633 | 24.6077
450330 | 1.1724 | 1.0094 | 24.4310 | 25.5820 | 26.0771 | 25.3891
450340 | 1.4214 | 0.8483 | 22.7826 | 24.0636 | 25.0344 | 23.9657
450346 | 1.4416 | 0.8710 | 21.9717 | 22.2469 | 23.6072 | 22.6462
450347 | 1.1715 | 1.0094 | 22.8133 | 27.2203 | 28.7666 | 26.1826
450348 | 1.0371 | 0.8225 | 17.0198 | 18.7675 | 21.6787 | 19.2441
450351 | 1.2922 | 0.9556 | 23.5895 | 25.6859 | 26.5388 | 25.2985
450352 | 1.1200 | 0.9977 | 23.4297 | 24.8012 | 26.2281 | 24.7897
450353 | *** | * | 20.9271 | 24.4454 | 27.0248 | 24.0073
450358 | 1.9753 | 1.0094 | 29.3408 | 30.4280 | 31.4926 | 30.5042
450362 | 1.0874 | * | 22.0223 | 25.4372 | * | 23.7705
450369 | 1.0481 | 0.8225 | 17.5360 | 18.4848 | 19.9148 | 18.7853
450370 | 1.2183 | 0.8483 | 22.6815 | 20.0832 | 25.5833 | 22.5952
450372 | 1.3306 | 0.9977 | 26.8019 | 28.3359 | 30.8886 | 28.6943
450373 | 0.9459 | 0.8225 | 20.5789 | 22.2213 | 24.8286 | 22.6500
450374 | 0.9179 | * | 17.4509 | 23.2285 | * | 19.8412
450378 | 1.4526 | 1.0094 | 29.5108 | 30.7684 | 30.3883 | 30.2116
450379 | 1.3601 | 0.9977 | 31.1573 | 30.6072 | 33.7521 | 31.8164
450381 | 0.8992 | * | 20.9200 | 22.0482 | * | 21.4845
450388 | 1.6174 | 0.8945 | 24.1598 | 25.8674 | 27.4328 | 25.9990
450389 | 1.2059 | 0.9743 | 22.3803 | 23.8764 | 25.6732 | 24.0879
450393 | 0.6586 | 0.9743 | 24.6872 | 18.4551 | 21.9347 | 21.6142
450395 | 0.9970 | 1.0094 | 23.9689 | 24.8656 | 27.5189 | 25.5886
450399 | 0.9358 | 0.8225 | 19.5928 | 18.2074 | 20.3529 | 19.3483
450400 | 1.2489 | 0.8748 | 22.0103 | 23.1739 | 23.6358 | 22.9567
450403 | 1.3322 | 0.9977 | 27.8138 | 29.3063 | 29.0360 | 28.7584
450411 | 0.9527 | 0.8225 | 17.6570 | 19.6086 | 20.9372 | 19.4681
450417 | 0.8853 | * | 17.8078 | 20.0350 | * | 18.9286
450418 | 1.1743 | 1.0094 | 27.0283 | 26.8434 | 28.4362 | 27.3244
450419 | 1.2347 | 0.9743 | 28.4122 | 31.0404 | 31.9966 | 30.5106
450422 | 0.8834 | 0.9977 | 29.5592 | 30.6659 | 34.4331 | 31.5685
450424 | 1.3564 | 1.0094 | 23.1253 | 28.3149 | 28.2463 | 26.7650
450431 | 1.5025 | 0.9328 | 24.7346 | 25.2477 | 26.3263 | 25.4658
450438 | 1.1608 | 1.0094 | 22.0476 | 21.9351 | 27.8659 | 23.7940
450446 | 0.6294 | 1.0094 | 14.9983 | 14.3132 | 17.0691 | 15.3804
450447 | 1.2948 | 0.9743 | 22.5602 | 23.5047 | 25.4200 | 23.8341
450451 | 1.0771 | 0.9556 | 22.3834 | 23.3042 | 24.6201 | 23.4481
450460 | 0.9450 | 0.8225 | 19.5709 | 20.5812 | 22.4228 | 20.9542
450462 | 1.6920 | 0.9977 | 25.6952 | 27.8923 | 29.6069 | 27.8036
450465 | 1.1245 | 0.8660 | 23.0130 | 22.4183 | 26.2759 | 23.9821
450469 | 1.5158 | 0.9743 | 26.6781 | 28.7890 | 26.3262 | 27.2885
450475 | 1.0420 | 0.8946 | 20.7983 | 23.5596 | 23.0942 | 22.4809
450484 | 1.3759 | 0.8946 | 23.0604 | 25.3527 | 26.7242 | 25.0709
450488 | 1.0571 | 0.8946 | 22.3949 | 23.9144 | 22.3981 | 22.9079
450489 | 1.0047 | 0.8225 | 19.6884 | 21.4771 | 23.4805 | 21.6549
450497 | 1.0321 | 0.8225 | 17.6614 | 18.8344 | 22.0918 | 19.5528
450498 | 0.8852 | 0.8225 | 16.4358 | 17.7822 | 18.6563 | 17.6295
450508 | 1.4765 | 0.8963 | 23.5066 | 23.9572 | 28.4471 | 25.3656
450514 | 1.1038 | 0.8710 | 21.4034 | 22.6552 | 26.3704 | 23.4793
450517 | 0.9001 | * | 15.2707 | * | * | 15.2707
450518 | 1.5139 | 0.8710 | 22.2587 | 24.1194 | 28.1755 | 24.8852
450523 | *** | * | 28.6387 | * | * | 28.6387
450530 | 1.2367 | 1.0094 | 26.1998 | 28.7451 | 29.1349 | 28.0793
450534 | *** | * | 20.4715 | * | * | 20.4715
450535 | *** | * | 29.4427 | * | * | 29.4427
450537 | 1.4218 | 0.9977 | 23.9256 | 27.5856 | 27.7756 | 26.4449
450539 | 1.1857 | 0.8225 | 20.0343 | 21.0442 | 23.1829 | 21.4051
450545 | *** | * | 22.8130 | * | * | 22.8130
450547 | 0.9940 | 0.9743 | 21.8106 | 21.6542 | 23.7819 | 22.5004
450558 | 1.8481 | 0.8380 | 25.0837 | 26.1551 | 26.9407 | 26.0515
450563 | 1.4234 | 0.9743 | 27.9427 | 28.7289 | 30.8332 | 29.2145
450565 | 1.3290 | 0.8711 | 22.1971 | 23.8847 | 26.7942 | 24.3396
450571 | 1.5716 | 0.8483 | 20.9651 | 22.7703 | 25.2108 | 22.9899
450573 | 1.1285 | 0.8225 | 21.6974 | 20.1479 | 22.0797 | 21.3167
450578 | 0.9182 | 0.8225 | 20.0454 | 20.2695 | 22.5167 | 20.9331
450580 | 1.0980 | 0.8225 | 20.4293 | 21.1574 | 22.3886 | 21.3398
450584 | 1.0172 | 0.8225 | 19.0373 | 21.0808 | 20.5257 | 20.2087
450586 | 0.9535 | 0.8225 | 14.6574 | 16.1003 | 18.9107 | 16.6528
450587 | 1.2076 | 0.8225 | 19.9712 | 20.4512 | 23.1202 | 21.2201
450591 | 1.1928 | 1.0094 | 22.4991 | 23.9992 | 25.7031 | 24.0891
450596 ʰ | 1.2076 | 1.0364 | 24.7477 | 25.3317 | 27.4011 | 25.7968
450597 | 0.9666 | 0.8302 | 22.9337 | 23.1711 | 24.7853 | 23.6426
450604 | 1.3121 | 0.8225 | 20.5273 | 20.9514 | 24.4743 | 22.0429
450605 | 1.0371 | 0.8438 | 23.8820 | 22.2205 | 20.9276 | 22.2838
450609 | *** | * | 18.3856 | * | * | 18.3856
450610 | 1.6341 | 1.0094 | 22.5451 | 26.8710 | 27.7317 | 25.6685
450615 | 0.9996 | 0.8225 | 18.2166 | 20.3028 | 21.8442 | 20.2114
450617 | 1.5039 | 1.0094 | 25.2211 | 26.5026 | 28.0225 | 26.6300
450620 | 0.9632 | 0.8225 | 18.1819 | 17.7138 | 18.6183 | 18.1777
450623 | 1.1196 | * | 28.3354 | 28.3552 | * | 28.3456
450626 | 0.8879 | * | 21.4445 | 26.8375 | * | 23.9299
450630 | 1.5661 | 1.0094 | 27.8856 | 29.6796 | 29.1462 | 28.9006
450631 | *** | * | 24.5409 | * | * | 24.5409
450634 | 1.6693 | 0.9977 | 27.0412 | 28.1705 | 28.7312 | 28.0120
450638 | 1.6206 | 1.0094 | 29.5385 | 29.6184 | 30.6572 | 29.9370
450639 | 1.4496 | 0.9743 | 27.3593 | 29.2669 | 30.4019 | 29.0735
450641 | 1.0296 | 0.8225 | 17.0805 | 17.5845 | 19.4389 | 18.0347
450643 | 1.3350 | 0.8227 | 20.9674 | 21.1205 | 22.7355 | 21.6318
450644 | 1.5447 | 1.0094 | 27.2047 | 29.0186 | 29.7918 | 28.7566
450646 | 1.3773 | 0.9238 | 22.6541 | 23.8908 | 25.6313 | 24.0815
450647 | 1.8728 | 0.9977 | 28.8881 | 30.7334 | 30.6924 | 30.1156
450648 | *** | * | 18.2826 | * | * | 18.2826
450649 | *** | * | 18.1118 | * | * | 18.1118
450651 | 1.5203 | 0.9977 | 28.9829 | 32.4822 | 30.4484 | 30.6508
450653 | 1.1633 | 0.9387 | 21.8654 | 23.2603 | 25.2144 | 23.3936
450654 | 0.9369 | 0.8225 | 19.6054 | 19.9992 | 21.5002 | 20.4392
450656 | 1.4635 | 0.8963 | 22.7284 | 23.8280 | 25.5050 | 23.9802
450658 | 0.9160 | 0.8225 | 19.9597 | 20.5398 | 22.2293 | 20.9268
450659 | 1.4257 | 1.0094 | 28.8671 | 30.1727 | 31.5024 | 30.2031
450661 | 1.0901 | 1.0038 | 21.5537 | 23.2989 | 30.2610 | 25.0910
450662 | 1.5052 | 0.9731 | 24.5815 | 28.0913 | 29.0535 | 27.2554
450665 | 0.9162 | * | 17.2566 | 18.6054 | * | 17.9420
450668 | 1.5005 | 0.9238 | 26.4508 | 26.2375 | 28.8635 | 27.1889
450669 | 1.2012 | 0.9977 | 25.6411 | 27.4507 | 27.9796 | 27.0676
450670 | 1.3956 | 1.0094 | 22.0495 | 25.1575 | 25.9638 | 24.3797
450672 | 1.7624 | 0.9743 | 26.7785 | 27.6359 | 30.1191 | 28.2018
450673 | *** | * | 19.4030 | * | * | 19.4030
450674 | 0.9612 | 1.0094 | 26.8081 | 28.4416 | 28.7101 | 27.9874
450675 | 1.3931 | 0.9743 | 26.1555 | 28.7765 | 28.9005 | 28.0563
450677 | 1.3318 | 0.9743 | 24.0218 | 27.3728 | 25.9555 | 25.7657
450678 | 1.4692 | 0.9977 | 30.1134 | 30.1500 | 31.1563 | 30.4735
450683 | 1.1741 | 0.9977 | 24.0080 | 24.6609 | 27.4925 | 25.3331
450684 | 1.2331 | 1.0094 | 26.2906 | 27.6789 | 29.3025 | 27.8096
450686 | 1.6793 | 0.8536 | 21.0565 | 23.2367 | 24.2331 | 22.8653
450688 | 1.1879 | 0.9977 | 23.7796 | 27.9057 | 26.8599 | 26.1879
450690 | 1.4275 | 0.8963 | 28.7529 | 28.2531 | 26.5529 | 27.9501
450694 | 1.0615 | 1.0094 | 22.3081 | 23.5790 | 23.9961 | 23.3059
450697 | 1.4256 | 0.8945 | 21.2662 | 23.7155 | 24.8667 | 23.4252
450698 | 0.8850 | 0.8225 | 18.5436 | 18.6494 | 20.0956 | 19.1074
450700 | 0.9189 | * | 18.6373 | * | * | 18.6373
450702 | 1.5357 | 0.8946 | 24.8628 | 25.6147 | 26.8384 | 25.7796
450709 | 1.2615 | 1.0094 | 25.0932 | 25.4855 | 26.8147 | 25.8066
450711 | 1.5421 | 0.8794 | 24.8277 | 28.0104 | 26.7472 | 26.5263
450713 | 1.5592 | 0.9328 | 26.7190 | 27.2801 | 28.8285 | 27.6415
450715 | 1.2971 | 0.9977 | 16.1897 | 28.0365 | 17.3991 | 19.3270
450716 | 1.2662 | 1.0094 | 28.8043 | 30.8440 | 32.3960 | 30.7109
450718 | 1.2262 | 0.9328 | 27.6672 | 27.3408 | 27.3215 | 27.4283
450723 | 1.4837 | 0.9977 | 27.0055 | 28.0812 | 28.5103 | 27.8941
450730 | 1.1793 | 0.9977 | 30.7567 | 29.9430 | 31.3324 | 30.6860
450733 | *** | * | 25.5624 | 26.4976 | * | 26.0340
450742 | 1.2010 | 0.9977 | 26.3414 | 26.1190 | 27.2022 | 26.5824
450743 | 1.5065 | 0.9977 | 24.7397 | 27.3213 | 28.3362 | 26.8676
450746 | 0.9430 | 0.8225 | 16.9209 | 12.4748 | 20.6343 | 16.4710
450747 | 1.2741 | 0.9743 | 24.2674 | 22.2870 | 23.8314 | 23.4471
450749 | 0.9981 | 0.8225 | 18.4095 | 17.8227 | 20.0487 | 18.7388
450751 | *** | * | 22.9070 | 19.3265 | 18.7455 | 20.2713
450754 | 0.9206 | 0.8225 | 21.3043 | 20.8968 | 22.1819 | 21.4874
450755 | 0.9625 | 0.8709 | 19.5168 | 18.0092 | 19.8988 | 19.0957
450758 | 1.8686 | 0.9977 | 24.0226 | 25.6548 | 28.7342 | 26.1021
450760 | 1.0194 | 0.9238 | 25.7453 | 24.6349 | 24.7490 | 24.9819
450761 | 0.8561 | * | 16.2605 | 15.7483 | * | 16.0004
450763 | 1.0963 | * | 21.4171 | 22.4905 | * | 21.9641
450766 | 1.9781 | 0.9977 | 28.8576 | 30.0441 | 30.8004 | 29.8769
450770 | 1.1859 | 0.9328 | 20.1763 | 20.3656 | 24.1647 | 21.5849
450771 | 1.7685 | 0.9977 | 26.0618 | 31.3924 | 30.7105 | 29.5787
450774 | 1.7982 | 1.0094 | 24.8562 | 24.9683 | 27.2080 | 25.7464
450775 | 1.2517 | 1.0094 | 25.3924 | 24.4006 | 28.1428 | 25.9026
450779 | 1.2433 | 0.9743 | 22.5857 | 26.9908 | 29.9674 | 26.4916
450780 | 1.8456 | 0.8945 | 22.8688 | 23.9516 | 26.7612 | 24.5801
450788 | 1.5824 | 0.8438 | 24.2643 | 25.4172 | 26.2840 | 25.3430
450795 | 1.4018 | 1.0094 | 28.1448 | 23.7510 | 25.2007 | 25.3208
450796 | 1.7748 | 0.9248 | 24.7564 | 27.9734 | 36.4073 | 29.4591
450797 | *** | * | 23.8708 | 20.5379 | 24.8950 | 22.9091
450801 | 1.4926 | 0.8225 | 22.2426 | 23.0373 | 24.6328 | 23.3485
450803 | 1.1734 | 1.0094 | 26.3054 | 30.6093 | 28.9235 | 28.5424
450804 | 1.9010 | 1.0094 | 26.0003 | 26.0980 | 27.8775 | 26.6687
450808 | 1.5092 | 0.9328 | 22.8247 | 23.8067 | 21.9793 | 22.8436
450809 | 1.5785 | 0.9328 | 24.7763 | 26.3659 | 26.4223 | 25.8912
450811 | 1.7372 | 0.8794 | 23.1022 | 25.8491 | 27.2584 | 25.5012
450813 | 1.1552 | 0.8945 | 22.1326 | 25.5949 | 20.1710 | 22.5101
450820 | 1.2916 | 1.0094 | 27.9187 | 30.5288 | 31.4666 | 30.3417
450822 | 1.2821 | 0.9977 | 29.7067 | 31.1431 | 32.2968 | 31.1476
450824 | 2.5316 | 0.9328 | * | 26.7803 | 31.2375 | 29.0413
450825 | 1.4683 | 0.8794 | 18.7069 | 20.2959 | 20.6457 | 19.9274
450827 | 1.3872 | 0.8562 | 21.1788 | 20.9704 | 23.7554 | 22.0429
450828 | 1.2665 | 0.8225 | 21.4128 | 22.3667 | 24.4740 | 22.7556
450829 | *** | * | 18.2860 | 19.5014 | 20.6016 | 19.4468
450830 | 0.9544 | 0.9714 | 26.9917 | 28.1617 | 28.5901 | 27.8895
450831 | 1.5156 | 1.0094 | 20.0581 | 22.7885 | 23.3880 | 22.2887
450832 | 1.1619 | 1.0094 | 26.4725 | 26.6628 | 26.5229 | 26.5559
450833 | 1.1604 | 0.9977 | 26.1256 | 26.0044 | 27.0133 | 26.4267
450834 | 1.5313 | 0.8903 | 22.7691 | 21.2204 | 20.9607 | 21.5957
450838 | 1.1294 | 0.8225 | 15.0454 | 15.8026 | 19.5754 | 17.1128
450839 | 0.9397 | 0.8688 | 21.1905 | 22.9711 | 25.8222 | 23.2312
450840 | 1.0932 | 0.9977 | 29.5215 | 31.1914 | 30.1743 | 30.3319
450841 | 1.6065 | 0.9731 | 17.6635 | 18.9468 | 20.9410 | 19.3356
450842 | *** | * | 23.0945 | * | * | 23.0945
450844 | 1.2950 | 1.0094 | 34.4235 | 28.7296 | 30.7887 | 30.5867
450845 | 1.9042 | 0.9238 | 26.5040 | 27.7461 | 29.4933 | 28.0269
450846 | *** | * | 24.0791 | * | * | 24.0791
450847 | 1.2405 | 1.0094 | 26.8892 | 27.6854 | 28.5548 | 27.7393
450848 | 1.2394 | 1.0094 | 26.5609 | 27.8100 | 29.5355 | 27.9941
450849 | 2.1291 | * | * | * | * | *
450850 | 1.2693 | 0.9538 | * | 22.1334 | 21.9266 | 22.0277
450851 | 2.5547 | 0.9977 | * | 30.1213 | 32.6950 | 31.4416
450852 | *** | * | * | 30.0191 | * | 30.0191
450853 | 1.9180 | 0.9977 | * | * | 36.1169 | 36.1169
450854 | *** | * | * | * | 27.1867 | 27.1867
450855 | 1.5421 | 0.9731 | * | * | 30.8855 | 30.8855
450856 | 1.8036 | 0.8945 | * | * | 39.0865 | 39.0865
450857 | *** | * | * | * | 30.4630 | 30.4630
450860 | 2.0576 | 1.0094 | * | * | 24.0171 | 24.0171
450861 | *** | * | * | * | 34.9289 | 34.9289
450862 | 1.2151 | 1.0094 | * | * | 31.2224 | 31.2224
450863 | *** | * | * | * | 24.8824 | 24.8824
450864 | 2.0234 | 0.8963 | * | * | 23.3765 | 23.3765
450865 | 1.1187 | 0.9328 | * | * | 29.1763 | 29.1763
450866 | *** | * | * | * | 15.2959 | 15.2959
450867 | 1.3218 | 0.9328 | * | * | 28.2290 | 28.2290
450868 | 1.8042 | 1.0038 | * | * | 27.9579 | 27.9579
450869 | 1.8958 | 0.8794 | * | * | 22.6253 | 22.6253
450870 | *** | * | * | * | 37.4366 | 37.4366
450871 | 1.8656 | 0.9328 | * | * | * | *
450872 | 1.3999 | 0.9743 | * | * | * | *
450874 | 1.4619 | 0.9977 | * | * | * | *
450875 | 1.6696 | 0.9248 | * | * | * | *
450876 | 2.2645 | 0.8536 | * | * | * | *
450877 | 1.3998 | 0.9238 | * | * | * | *
450878 | 2.7757 | 0.8945 | * | * | * | *
450879 | 1.2273 | 0.8227 | * | * | * | *
450880 | 1.6125 | 0.9743 | * | * | * | *
450881 | 1.1784 | 0.8438 | * | * | * | *
450882 | 1.7221 | 0.8963 | * | * | * | *
450883 | 1.7067 | 0.9977 | * | * | * | *
450884 | 1.0397 | 0.8946 | * | * | * | *
450885 | 1.4554 | 0.9977 | * | * | * | *
450886 | 1.5741 | 0.9653 | * | * | * | *
450887 | 1.4336 | 0.8710 | * | * | * | *
450888 | 1.3529 | 0.9653 | * | * | * | *
450889 | 1.0565 | 0.9977 | * | * | * | *
450890 | 2.0380 | 0.9977 | * | * | * | *
450891 | 1.3559 | 0.9977 | * | * | * | *
450892 | 1.5030 | 0.8794 | * | * | * | *
450893 | 1.4269 | 0.9977 | * | * | * | *
450894 | 1.3348 | 0.9977 | * | * | * | *
450895 | 1.4124 | 0.8225 | * | * | * | *
460001 | 1.8784 | 0.9479 | 25.6932 | 27.0757 | 28.7150 | 27.1531
460003 | 1.5547 | 0.9476 | 24.3527 | 26.1372 | 31.4135 | 27.1945
460004 | 1.7077 | 0.9476 | 25.2191 | 26.4498 | 28.2040 | 26.6592
460005 | 1.3445 | 0.9476 | 22.6809 | 23.5633 | 25.0239 | 23.7650
460006 | 1.3742 | 0.9476 | 24.4350 | 25.4787 | 27.1392 | 25.7154
460007 | 1.3804 | 0.9452 | 24.2875 | 25.6686 | 27.1308 | 25.7556
460008 | 1.3827 | 0.9476 | 24.4453 | 26.5672 | 29.5907 | 26.7664
460009 | 1.8398 | 0.9476 | 25.0984 | 26.2833 | 27.2885 | 26.2730
460010 | 2.0531 | 0.9476 | 26.2331 | 27.4648 | 29.0063 | 27.5982
460011 | 1.2838 | 0.9479 | 22.3601 | 23.4023 | 24.4402 | 23.3523
460013 | 1.4173 | 0.9479 | 23.4765 | 25.2448 | 27.7380 | 25.4829
460014 | 1.0588 | 0.9476 | 23.9400 | 24.1412 | 28.2647 | 25.5288
460015 | 1.3697 | 0.9045 | 24.0939 | 25.6576 | 27.2506 | 25.6953
460017 | 1.3235 | 0.8644 | 21.7082 | 23.0388 | 24.3031 | 22.9540
460018 ʰ | 0.9077 | 1.1538 | 18.8942 | 20.3755 | 22.0517 | 20.5447
460019 | 1.3155 | 0.8252 | 20.3625 | 19.9900 | 24.3756 | 21.5406
460020 | 1.0268 | 0.8252 | 19.4960 | 19.5669 | 18.5160 | 19.2143
460021 | 1.7229 | 1.1006 | 24.9725 | 26.3420 | 28.0291 | 26.5758
460023 | 1.2019 | 0.9479 | 25.0376 | 25.3094 | 26.9512 | 25.8154
460025 | *** | * | 18.7978 | * | * | 18.7978
460026 | 1.0007 | 0.8252 | 22.7589 | 24.1547 | 26.9295 | 24.5709
460030 | 1.2631 | 0.8252 | 22.6129 | 23.4679 | 23.5942 | 23.2270
460032 | *** | * | 22.8987 | * | * | 22.8987
460033 | 0.8964 | 0.8252 | 22.7816 | 22.0248 | 25.3423 | 23.3508
460035 | 0.9395 | 0.8252 | 16.9019 | 17.5723 | 20.6321 | 18.4448
460036 | 1.2333 | * | 25.2647 | 27.2865 | * | 26.2960
460037 | 0.9293 | * | 19.8478 | 21.1035 | * | 20.4672
460039 | 1.0857 | 0.9080 | 27.5912 | 28.5656 | 29.5649 | 28.5822
460041 | 1.3435 | 0.9476 | 24.0431 | 25.2744 | 26.4640 | 25.2569
460042 | 1.3756 | 0.9476 | 23.5819 | 22.9949 | 24.9454 | 23.8477
460043 | 1.2959 | 0.9479 | 26.6870 | 28.2089 | 28.2008 | 27.7219
460044 | 1.2992 | 0.9476 | 25.7342 | 26.6795 | 27.4928 | 26.6716
460047 | 1.6806 | 0.9476 | 25.1721 | 25.7920 | 28.2336 | 26.4124
460049 | 1.9513 | 0.9476 | 23.0683 | 24.5164 | 26.6701 | 24.8058
460051 | 1.1279 | 0.9476 | 23.4970 | 25.5881 | 27.0160 | 25.4423
460052 | 1.4693 | 0.9479 | 24.0797 | 25.3163 | 26.1629 | 25.2450
460054 | 1.7265 | 0.9045 | 23.5227 | 25.8668 | 24.9926 | 24.8098
470001 | 1.2535 | 1.1394 | 24.5499 | 27.7329 | 28.3017 | 26.8400
470003 | 1.9669 | 1.0483 | 24.6660 | 26.4919 | 28.1137 | 26.4025
470005 | 1.3514 | 0.9622 | 25.7288 | 29.8255 | 30.7872 | 28.7819
470006 | 1.1507 | * | 26.0884 | 26.9651 | * | 26.5397
470008 | 1.2850 | * | 21.8951 | * | * | 21.8951
470010 | 1.2491 | * | 22.9777 | 26.1273 | * | 24.5339
470011 | 1.1885 | 1.1003 | 25.9246 | 28.3911 | 28.1330 | 27.5017
470012 | 1.2577 | 0.9887 | 22.9159 | 24.3425 | 26.0226 | 24.4725
470018 | 1.1198 | * | 25.9300 | 28.3419 | * | 27.1737
470023 | *** | * | 26.7486 | * | * | 26.7486
470024 | 1.2037 | 0.9622 | 23.7745 | 25.2427 | 27.0394 | 25.4090
490001 | 1.0805 | 0.8351 | 21.7111 | 21.9953 | 23.2174 | 22.3295
490002 | 1.0698 | 0.8101 | 18.5220 | 19.5613 | 20.8609 | 19.6806
490003 | *** | * | 23.8112 | 27.3456 | * | 25.4279
490004 | 1.3010 | 0.9709 | 24.4580 | 25.4597 | 27.1676 | 25.7382
490005 | 1.6327 | 1.0877 | 27.6425 | 28.5744 | 29.8215 | 28.6809
490006 | *** | * | 16.7679 | * | * | 16.7679
490007 | 2.2160 | 0.8774 | 24.9533 | 26.2481 | 27.6572 | 26.3292
490009 | 2.0093 | 1.0039 | 27.5905 | 29.0740 | 30.4722 | 29.0283
490011 | 1.4461 | 0.8774 | 22.4410 | 24.5687 | 26.4766 | 24.5414
490012 | 1.0202 | 0.8101 | 18.3697 | 19.2275 | 21.0605 | 19.5488
490013 | 1.3321 | 0.8600 | 21.4838 | 22.4772 | 24.7521 | 22.8740
490015 | *** | * | 22.5641 | * | * | 22.5641
490017 | 1.4173 | 0.8774 | 22.9632 | 24.6845 | 25.8216 | 24.4959
490018 | 1.2739 | 0.9709 | 23.2215 | 24.5196 | 26.2510 | 24.7153
490019 ʰ | 1.1709 | 1.2217 | 24.4524 | 25.9761 | 25.9885 | 25.5045
490020 | 1.2318 | 0.8997 | 23.6611 | 24.8001 | 27.3142 | 25.3008
490021 | 1.4612 | 0.8600 | 23.5930 | 24.6440 | 25.7938 | 24.7182
490022 | 1.4894 | 1.0977 | 25.0277 | 28.0749 | 32.2676 | 28.4060
490023 | 1.2393 | 1.0977 | 28.8354 | 29.7774 | 30.3416 | 29.6802
490024 | 1.7419 | 0.8651 | 21.7268 | 23.0982 | 26.1125 | 23.6415
490027 | 1.0961 | 0.8101 | 19.8345 | 18.9409 | 24.0289 | 20.8898
490031 | *** | * | 22.4300 | 22.0579 | * | 22.2427
490032 | 1.9793 | 0.8997 | 22.8942 | 25.1381 | 25.2654 | 24.4425
490033 | 1.0681 | 1.0977 | 27.6355 | 30.0909 | 31.2922 | 29.7448
490037 | 1.1864 | 0.8101 | 19.0583 | 21.3035 | 24.7711 | 21.6802
490038 | 1.2162 | 0.8123 | 19.6427 | 22.3976 | 21.8509 | 21.2809
490040 | 1.5112 | 1.0977 | 30.1820 | 32.8738 | 32.6564 | 31.9007
490041 | 1.3878 | 0.8774 | 22.2955 | 24.5738 | 26.0897 | 24.2996
490042 | 1.3009 | 0.8700 | 20.5845 | 21.8749 | 24.4650 | 22.4123
490043 | 1.1476 | 1.0977 | 28.2969 | 30.8871 | 33.7096 | 31.2339
490044 | 1.4622 | 0.8774 | 22.1324 | 20.8351 | 23.3527 | 22.0886
490045 | 1.2875 | 1.0977 | 27.2132 | 28.8279 | 32.0937 | 29.3169
490046 | 1.5651 | 0.8774 | 24.6391 | 25.6328 | 26.6517 | 25.6753
490047 | 1.0311 | * | 21.9156 | 22.5424 | * | 22.2282
490048 | 1.4205 | 0.8803 | 24.1639 | 25.0097 | 26.2828 | 25.2067
490050 | 1.4871 | 1.0977 | 29.4660 | 30.5037 | 31.3885 | 30.4585
490052 | 1.6094 | 0.8774 | 21.4035 | 22.8889 | 23.5973 | 22.6356
490053 | 1.2455 | 0.8215 | 20.9367 | 21.8432 | 23.3315 | 22.0269
490057 | 1.5985 | 0.8774 | 25.1898 | 26.1128 | 26.6898 | 26.0151
490059 | 1.5979 | 0.8997 | 26.1518 | 28.7276 | 27.3611 | 27.4497
490060 | 1.0296 | 0.8101 | 21.0828 | 22.4200 | 23.6114 | 22.3834
490063 | 1.8142 | 1.0977 | 29.4216 | 30.3632 | 31.3619 | 30.4093
490066 | 1.3522 | 0.8774 | 23.3835 | 24.7146 | 27.8250 | 25.3365
490067 | 1.1961 | 0.8997 | 21.8730 | 22.9188 | 24.9021 | 23.2051
490069 | 1.5708 | 0.8997 | 24.4542 | 26.8791 | 27.3181 | 26.2612
490071 | 1.3151 | 0.8997 | 27.0374 | 28.4381 | 29.7186 | 28.4112
490073 | 1.7227 | 1.0977 | 25.2859 | 31.7743 | 33.1829 | 29.3533
490075 | 1.4657 | 0.8499 | 22.8303 | 23.8191 | 25.2022 | 23.9494
490077 | 1.4104 | 1.0039 | 24.8309 | 26.0800 | 26.6806 | 25.8942
490079 | 1.2758 | 0.9246 | 19.8100 | 23.4728 | 25.3103 | 22.6834
490084 | 1.1810 | 0.8268 | 22.7945 | 24.5965 | 24.9007 | 24.0470
490088 | 1.0916 | 0.8600 | 21.4818 | 22.4186 | 24.1470 | 22.6675
490089 | 1.0528 | 0.8803 | 21.2123 | 22.6461 | 24.9438 | 23.0512
490090 | 1.1091 | 0.8101 | 21.3410 | 22.2907 | 25.1157 | 22.8001
490092 | 1.0717 | 0.8997 | 21.6466 | 23.8656 | 23.3439 | 22.9307
490093 | 1.4491 | 0.8774 | 23.6779 | 25.0751 | 25.6531 | 24.8859
490094 | 0.9765 | 0.8997 | 26.0755 | 26.5726 | 28.2165 | 26.9684
490097 | 1.0644 | 0.8101 | 23.5366 | 23.8005 | 26.5322 | 24.6151
490098 | 1.1693 | 0.8101 | 20.9805 | 21.7231 | 23.2782 | 21.9946
490101 | 1.3337 | 1.0977 | 30.1800 | 30.4285 | 31.2377 | 30.6298
490104 | 0.8061 | 0.8997 | 33.1215 | 17.3295 | * | 22.8307
490105 | 0.9466 | 0.8215 | 38.2813 | 24.7923 | 25.5330 | 29.8146
490106 | 0.9936 | 0.9709 | 30.1492 | 23.0199 | 23.8333 | 26.2690
490107 | 1.3491 | 1.0977 | 28.7296 | 29.7000 | 32.2672 | 30.2868
490108 | 0.9857 | 0.8600 | 27.9090 | 22.4345 | 22.9075 | 24.4340
490109 | 0.9095 | 0.8997 | 28.0548 | 21.9878 | 22.7854 | 24.2226
490110 | 1.2678 | 0.8296 | 21.3126 | 22.5974 | 24.2887 | 22.7832
490111 | 1.2760 | 0.8101 | 20.6373 | 22.0199 | 22.1476 | 21.6199
490112 | 1.6455 | 0.8997 | 25.8312 | 26.6453 | 27.1933 | 26.5766
490113 | 1.2545 | 1.0977 | 29.1786 | 29.5698 | 31.8177 | 30.2326
490114 | 1.0628 | 0.8101 | 20.0555 | 20.9116 | 22.5255 | 21.1612
490115 | 1.1828 | 0.8101 | 20.3615 | 21.4666 | 22.4058 | 21.4306
490116 | 1.1865 | 0.8214 | 21.3083 | 22.9017 | 24.2258 | 22.8258
490117 | 1.1443 | 0.8101 | 17.4111 | 18.0277 | 19.6398 | 18.3782
490118 | 1.6783 | 0.8997 | 26.8810 | 27.4050 | 27.6749 | 27.3595
490119 | 1.2489 | 0.8774 | 23.7813 | 25.2549 | 26.5756 | 25.2641
490120 | 1.3584 | 0.8774 | 23.1535 | 24.4434 | 25.8795 | 24.4826
490122 | 1.4682 | 1.0977 | 28.7020 | 31.0449 | 32.0743 | 30.5780
490123 | 1.0808 | 0.8101 | 22.9511 | 23.9233 | 24.3490 | 23.7387
490124 | *** | * | 29.7939 | * | * | 29.7939
490126 | 1.2229 | 0.8101 | 23.1423 | 22.2859 | 23.6690 | 23.0360
490127 | 1.1631 | 0.8101 | 19.4005 | 20.4289 | 21.3735 | 20.3701
490130 | 1.1989 | 0.8774 | 22.0769 | 22.8512 | 23.9982 | 22.9793
490133 | *** | * | * | 26.5683 | * | 26.5683
490134 | 0.8131 | 0.8101 | * | * | * | *
490135 | 0.6927 | 0.8803 | * | * | * | *
490136 | 1.0556 | 0.8997 | * | * | * | *
500001 | 1.6103 | 1.1261 | 26.7502 | 29.3707 | 31.1605 | 29.1480
500002 | 1.4399 | 1.0206 | 25.0665 | 25.3347 | 27.6400 | 26.0178
500003 | 1.3373 | 1.1096 | 28.4174 | 29.6341 | 30.6939 | 29.6076
500005 | 1.7743 | 1.1261 | 31.4415 | 32.0972 | 33.5117 | 32.3480
500007 | 1.3756 | 1.0429 | 26.1318 | 28.0476 | 29.2868 | 27.8944
500008 | 1.9489 | 1.1261 | 31.0128 | 31.8837 | 32.6052 | 31.8529
500011 | 1.3298 | 1.1261 | 28.3391 | 30.6508 | 31.4514 | 30.1909
500012 | 1.6619 | 1.0206 | 29.2045 | 30.6856 | 30.0509 | 29.9596
500014 | 1.6385 | 1.1261 | 30.1061 | 33.7536 | 36.1380 | 33.4306
500015 | 1.4586 | 1.1261 | 30.1596 | 32.0592 | 34.5877 | 32.3400
500016 | 1.6989 | 1.1096 | 29.3634 | 31.4221 | 31.4905 | 30.7956
500019 | 1.2650 | 1.0419 | 26.9702 | 28.6669 | 30.5594 | 28.7045
500021 | 1.3479 | 1.1096 | 28.5926 | 30.1690 | 30.7927 | 29.9310
500023 | 1.2004 | * | 27.3823 | * | * | 27.3823
500024 | 1.7894 | 1.0985 | 29.3946 | 30.7917 | 32.6171 | 30.9557
500025 | 1.7847 | 1.1261 | 31.7335 | 34.7252 | 37.7952 | 34.5981
500026 | 1.4374 | 1.1261 | 31.4152 | 33.2937 | 32.8369 | 32.5338
500027 | 1.5687 | 1.1261 | 29.5939 | 34.2175 | 34.6164 | 32.8504
500030 | 1.7341 | 1.0941 | 30.5926 | 32.7446 | 32.4426 | 31.9484
500031 | 1.2729 | 1.0206 | 28.5398 | 31.2186 | 32.8833 | 30.8990
500033 | 1.3003 | 1.0206 | 26.6704 | 29.4627 | 30.6292 | 28.8941
500036 | 1.3722 | 1.0206 | 26.0223 | 27.0072 | 28.7096 | 27.2760
500037 | 1.0368 | 1.0206 | 24.6548 | 26.9969 | 28.1056 | 26.5164
500039 | 1.4745 | 1.1096 | 27.9651 | 29.8809 | 32.2245 | 30.0885
500041 | 1.3778 | 1.1210 | 26.9101 | 26.7829 | 30.3627 | 27.9557
500044 | 1.9642 | 1.0422 | 26.9323 | 30.3164 | 29.0214 | 28.7513
500049 | 1.3191 | 1.0206 | 25.6104 | 27.1819 | 27.7170 | 26.9015
500050 | 1.4346 | 1.1210 | 26.8971 | 29.9791 | 32.6751 | 29.9079
500051 | 1.7512 | 1.1261 | 29.0100 | 31.9406 | 32.5764 | 31.2591
500052 | 1.4300 | 1.1261 | * | * | * | *
500053 | 1.2893 | 1.0206 | 26.8074 | 28.4130 | 28.2901 | 27.8359
500054 | 1.9834 | 1.0422 | 28.8062 | 30.8067 | 31.6595 | 30.4566
500057 | *** | * | 21.4393 | * | * | 21.4393
500058 | 1.6679 | 1.0206 | 28.4247 | 30.4699 | 30.7487 | 29.9724
500060 | 1.3068 | 1.1261 | 33.5169 | 34.1523 | 37.4868 | 35.0605
500064 | 1.7863 | 1.1261 | 31.1459 | 31.5371 | 31.6112 | 31.4455
500065 | *** | * | 26.0960 | * | * | 26.0960
500072 | 1.1979 | 1.1096 | 29.3087 | 33.4863 | 31.2000 | 31.3297
500077 | 1.4650 | 1.0422 | 27.8819 | 29.4199 | 31.6153 | 29.6791
500079 | 1.3482 | 1.1096 | 28.4934 | 29.6623 | 31.3280 | 29.8437
500084 | 1.3114 | 1.1261 | 27.6306 | 29.3484 | 30.2411 | 29.1162
500088 | 1.4115 | 1.1261 | 31.2757 | 33.4302 | 35.3770 | 33.4301
500092 | *** | * | 23.2466 | * | * | 23.2466
500104 | 1.1366 | * | 27.0034 | * | * | 27.0034
500108 | 1.6321 | 1.1096 | 28.7206 | 29.4244 | 31.8483 | 30.0472
500110 | *** | * | 25.4785 | * | * | 25.4785
500118 | 1.0823 | * | 28.1074 | * | * | 28.1074
500119 | 1.3526 | 1.0422 | 27.2335 | 30.9999 | 29.7028 | 29.2939
500122 | 1.2498 | * | 27.4405 | 30.1396 | * | 28.8217
500124 | 1.3861 | 1.1261 | 28.6598 | 31.5438 | 32.3505 | 30.8863
500129 | 1.5899 | 1.1096 | 30.0223 | 30.7536 | 32.1102 | 30.9921
500134 | 0.5016 | 1.1261 | 24.2990 | 26.8608 | 27.2427 | 26.3417
500139 | 1.5082 | 1.0985 | 29.2357 | 31.6591 | 33.9739 | 31.5918
500141 | 1.3165 | 1.1261 | 30.7478 | 30.5456 | 31.3308 | 30.8906
500143 | 0.4565 | 1.0985 | 20.7093 | 22.1419 | 23.6766 | 22.2139
500147 | 0.9625 | * | 16.3669 | 24.5807 | * | 16.9814
500148 | 1.1017 | 1.0206 | 18.2168 | 22.2161 | 26.4206 | 21.5539
500150 | 1.1478 | 1.1210 | * | * | * | *
510001 | 1.8641 | 0.8568 | 22.9351 | 23.4477 | 25.2973 | 23.9430
510002 | 1.2054 | 0.8700 | 22.4751 | 25.9597 | 23.8921 | 24.1045
510006 | 1.3272 | 0.8568 | 22.2947 | 23.5727 | 24.9627 | 23.6153
510007 | 1.6454 | 0.8828 | 24.3499 | 25.2835 | 24.7264 | 24.7904
510008 | 1.2487 | 0.9314 | 24.5293 | 24.6959 | 26.3554 | 25.1899
510012 | 0.9629 | 0.7754 | 18.5816 | 18.2845 | 18.8983 | 18.5897
510013 | 1.1543 | 0.7754 | 19.9710 | 20.8782 | 22.7882 | 21.1791
510018 | 1.0573 | 0.8415 | 21.8475 | 20.5556 | 22.4597 | 21.6282
510022 | 1.8642 | 0.8687 | 24.1481 | 24.2125 | 26.9511 | 25.0810
510023 | 1.3116 | 0.8057 | 19.4321 | 20.4908 | 20.6435 | 20.1913
510024 | 1.7890 | 0.8568 | 23.3115 | 24.0444 | 25.5634 | 24.3035
510026 | 0.9895 | 0.7754 | 18.0855 | 16.6192 | 17.9908 | 17.5054
510028 | 0.9807 | * | 23.0518 | 21.7134 | * | 22.3847
510029 | 1.2850 | 0.8687 | 21.7527 | 22.4556 | 22.7104 | 22.3207
510030 | 1.1228 | 0.8555 | 22.3658 | 21.5583 | 24.3936 | 22.8023
510031 | 1.4625 | 0.8687 | 21.6294 | 21.7637 | 23.2624 | 22.2256
510033 | 1.5524 | 0.8114 | 21.0707 | 23.0305 | 22.6189 | 22.2363
510038 | 1.0083 | 0.7754 | 16.8744 | 17.2832 | 20.6565 | 18.2956
510039 | 1.2392 | 0.7866 | 19.1280 | 19.5468 | 19.8751 | 19.5078
510043 | *** | * | 16.0586 | * | * | 16.0586
510046 | 1.3401 | 0.8415 | 21.2792 | 21.2540 | 22.1712 | 21.5674
510047 | 1.1585 | 0.8568 | 23.2093 | 24.0954 | 27.1214 | 24.7769
510048 | 1.1357 | 0.7754 | 17.6785 | 17.5096 | 18.8576 | 18.0081
510050 | 1.5550 | 0.7866 | 20.1943 | 19.9766 | 21.0772 | 20.4106
510053 | 1.1263 | 0.7754 | 20.7538 | 20.8609 | 22.3318 | 21.3327
510055 | 1.5234 | 0.8828 | 29.3962 | 30.7868 | 28.4615 | 29.5207
510058 | 1.3563 | 0.8114 | 21.9352 | 22.6976 | 23.9015 | 22.8663
510059 | 1.2304 | 0.8687 | 18.8712 | 21.9550 | 22.1435 | 20.8651
510061 | *** | * | 15.3355 | * | * | 15.3355
510062 | 1.1481 | 0.8415 | 21.1568 | 23.3216 | 26.2296 | 23.5199
510067 | 1.1501 | 0.7754 | 22.1582 | 21.2099 | 25.0437 | 22.8794
510068 | 1.1010 | * | 20.0007 | 23.1011 | * | 21.5379
510070 | 1.2108 | 0.8415 | 21.1895 | 23.2382 | 23.5639 | 22.7348
510071 | 1.2857 | 0.8415 | 21.5439 | 23.1685 | 23.4508 | 22.7188
510072 | 1.0706 | 0.7754 | 19.7990 | 20.1997 | 20.5146 | 20.1954
510077 | 1.1017 | 0.8681 | 22.8104 | 23.6585 | 24.5010 | 23.6618
510082 | 1.0816 | 0.7754 | 16.4742 | 19.1878 | 19.9081 | 18.3959
510085 | 1.3113 | 0.8687 | 22.6563 | 23.7173 | 26.3877 | 24.3319
510086 | 1.1009 | 0.7754 | 17.8234 | 17.5933 | 19.8735 | 18.4273
510088 | *** | * | 18.3401 | * | * | 18.3401
510089 | *** | * | * | 27.7062 | * | 27.7062
510090 | 2.2335 | 0.8828 | * | * | * | *
520002 | 1.3598 | 0.9947 | 23.7316 | 24.9950 | 27.7705 | 25.5429
520003 | *** | * | 21.8662 | * | * | 21.8662
520004 | 1.4627 | 0.9607 | 24.4711 | 25.4639 | 27.6530 | 25.9000
520008 | 1.5839 | 1.0324 | 27.8127 | 29.8354 | 30.7553 | 29.4984
520009 | 1.7177 | 0.9607 | 23.4265 | 26.1503 | 27.4044 | 25.6605
520010 | 1.1125 | * | 28.5569 | * | * | 28.5569
520011 | 1.3287 | 0.9607 | 23.7785 | 25.2747 | 26.6268 | 25.2916
520013 | 1.4418 | 0.9613 | 24.4766 | 26.6225 | 29.0018 | 26.7305
520014 | *** | * | 22.1064 | * | * | 22.1064
520015 | *** | * | 23.0403 | * | * | 23.0403
520017 | 1.1753 | 0.9613 | 23.4044 | 24.6676 | 28.4699 | 25.4918
520019 | 1.3092 | 0.9607 | 24.9871 | 26.7433 | 28.6971 | 26.8067
520021 | 1.3369 | 1.0651 | 25.4872 | 26.6935 | 28.4182 | 26.9688
520024 | 1.0406 | * | 18.5072 | * | * | 18.5072
520026 | *** | * | 26.1056 | * | * | 26.1056
520027 | 1.2650 | 1.0324 | 26.2516 | 27.6771 | 31.4284 | 28.5997
520028 | 1.2939 | 1.0621 | 25.7778 | 25.4164 | 26.7260 | 25.9761
520030 | 1.7557 | 0.9947 | 25.3807 | 27.0185 | 29.4678 | 27.3375
520032 | 1.0976 | * | 25.3059 | * | * | 25.3059
520033 | 1.2339 | 0.9607 | 23.9791 | 25.0854 | 28.0662 | 25.8012
520034 | 1.2025 | 0.9607 | 23.6563 | 23.9850 | 26.1094 | 24.6150
520035 | 1.3238 | 0.9684 | 23.2625 | 24.7767 | 27.3276 | 25.1707
520037 | 1.8307 | 0.9947 | 28.6984 | 29.7234 | 30.1799 | 29.5214
520038 | 1.2393 | 1.0324 | 24.6650 | 26.6470 | 29.3133 | 26.9164
520040 | 1.4779 | 1.0324 | 23.8501 | 27.2325 | 29.1262 | 26.6542
520041 | 1.0893 | 1.0841 | 22.8236 | 22.7596 | 23.5495 | 23.0632
520042 | 1.0028 | * | 24.0788 | * | * | 24.0788
520044 | 1.3396 | 0.9684 | 24.9387 | 26.0191 | 27.3685 | 26.1391
520045 | 1.5996 | 0.9607 | 24.5844 | 26.0030 | 27.3336 | 25.9816
520047 | *** | * | 25.5346 | * | * | 25.5346
520048 | 1.6266 | 0.9607 | 23.1653 | 25.1724 | 26.8080 | 24.9984
520049 | 2.1036 | 0.9607 | 24.1083 | 25.9256 | 26.9851 | 25.5981
520051 | 1.6796 | 1.0324 | 28.8249 | 28.4880 | 31.9949 | 29.9332
520057 | 1.2034 | 0.9725 | 23.3205 | 25.3745 | 27.7528 | 25.5398
520059 | 1.2561 | 1.0651 | 26.5596 | 28.0906 | 29.5801 | 28.0985
520060 | 1.2738 | 0.9607 | 22.0132 | 23.8817 | 24.8638 | 23.5830
520062 | 1.2670 | 1.0324 | 24.9988 | 28.2215 | 28.8510 | 27.3750
520063 | 1.1401 | 1.0324 | 25.3674 | 27.4101 | 29.0993 | 27.2991
520064 | 1.5146 | 1.0324 | 27.1120 | 28.6101 | 30.3225 | 28.6401
520066 | 1.4886 | 1.0621 | 25.8812 | 27.1657 | 29.2088 | 27.4160
520068 | 0.9089 | * | 23.4746 | 24.8184 | * | 24.1554
520070 | 1.7214 | 0.9613 | 23.9908 | 24.8935 | 27.6771 | 25.5786
520071 | 1.1960 | 1.0209 | 26.3154 | 27.6202 | 30.0263 | 27.9425
520075 | 1.4680 | 0.9607 | 26.0600 | 27.1699 | 29.2920 | 27.4700
520076 | 1.2364 | 1.0621 | 24.0879 | 26.1698 | 27.3335 | 25.8642
520078 | 1.5310 | 1.0324 | 25.7662 | 27.5989 | 29.9837 | 27.8237
520083 | 1.7200 | 1.0841 | 27.0012 | 28.8407 | 30.8826 | 28.9925
520084 | *** | * | 25.5777 | * | * | 25.5777
520087 | 1.7229 | 0.9607 | 24.5280 | 27.3374 | 28.5810 | 26.7699
520088 | 1.2892 | 1.0368 | 26.0882 | 26.9936 | 30.7450 | 28.0398
520089 | 1.5179 | 1.0841 | 26.6013 | 30.0448 | 33.8793 | 30.2306
520091 | 1.2839 | 0.9607 | 24.8269 | 24.6320 | 25.4593 | 24.9881
520092 | *** | * | 23.4043 | * | * | 23.4043
520094 | *** | * | 25.3166 | 25.7567 | * | 25.5399
520095 | 1.2343 | 1.0621 | 28.6376 | 26.7863 | 30.4216 | 28.6080
520096 | 1.3522 | 1.0209 | 22.9929 | 24.5758 | 27.8896 | 25.3901
520097 | 1.3944 | 0.9607 | 25.1135 | 26.3321 | 29.1479 | 26.8851
520098 | 1.9786 | 1.0841 | 28.0730 | 30.6150 | 32.5785 | 30.4882
520100 | 1.2755 | 0.9868 | 24.5914 | 26.2161 | 29.3243 | 26.7266
520102 | 1.1172 | 1.0209 | 25.6146 | 26.8234 | 29.1680 | 27.2579
520103 | 1.5632 | 1.0324 | 25.5361 | 27.9147 | 30.3165 | 28.0905
520107 | 1.2485 | 0.9607 | 27.7413 | 28.3431 | 28.9878 | 28.3702
520109 | 1.0573 | 0.9607 | 22.4048 | 23.3271 | 24.7228 | 23.4867
520111 | *** | * | 26.3095 | * | * | 26.3095
520112 | *** | * | 20.4034 | * | * | 20.4034
520113 | 1.2842 | 0.9607 | 26.7926 | 27.4135 | 31.4707 | 28.5985
520114 | *** | * | 22.0536 | * | * | 22.0536
520116 | 1.2796 | 1.0209 | 26.3057 | 26.9902 | 27.9688 | 27.1297
520117 | *** | * | 22.0023 | * | * | 22.0023
520123 | *** | * | 22.2430 | * | * | 22.2430
520132 | 0.9607 | 0.9684 | 21.6025 | 23.1941 | 25.0006 | 23.2907
520135 | *** | * | 18.5618 | * | * | 18.5618
520136 | 1.6673 | 1.0324 | 25.5145 | 27.7703 | 30.6522 | 27.9536
520138 | 1.8679 | 1.0324 | 26.9047 | 28.4394 | 30.8016 | 28.7391
520139 | 1.2807 | 1.0324 | 25.4424 | 26.5110 | 28.8870 | 27.0173
520140 | 1.6530 | 1.0324 | 26.1616 | 28.4433 | 31.0043 | 28.5899
520148 | 1.3198 | * | 26.2258 | * | * | 26.2258
520151 | *** | * | 22.9592 | * | * | 22.9592
520152 | 1.0804 | 0.9607 | 23.2493 | 24.9392 | 29.7308 | 26.1195
520154 | *** | * | 23.7160 | * | * | 23.7160
520156 | *** | * | 24.9258 | * | * | 24.9258
520160 | 1.8219 | 0.9607 | 24.3528 | 25.7588 | 27.9548 | 26.0586
520161 | *** | * | 24.0673 | * | * | 24.0673
520170 | 1.4053 | 1.0324 | 25.6124 | 27.2221 | 30.4309 | 27.8135
520173 | 1.1245 | 1.0285 | 26.2224 | 28.0995 | 29.2429 | 27.8645
520177 | 1.6430 | 1.0324 | 28.4663 | 30.7317 | 31.4555 | 30.2920
520178 | 0.9946 | * | 23.0419 | 20.2666 | * | 21.6760
520189 | 1.1608 | 1.0651 | 26.3172 | 28.4720 | 28.0014 | 27.7043
520193 | 1.6504 | 0.9607 | * | 26.0885 | 27.8113 | 27.0087
520194 | 1.3272 | 1.0324 | * | 24.9408 | 30.1668 | 27.5109
520195 | *** | * | * | 36.6973 | 36.3116 | 36.5038
520196 | 1.6500 | 0.9613 | * | 35.1043 | 36.9266 | 35.9808
520197 | 2.6190 | 1.0324 | * | * | * | *
520198 | 1.3546 | 0.9607 | * | * | * | *
520199 | 2.3592 | 1.0324 | * | * | * | *
520200 | 1.3175 | * | * | * | * | *
530002 | 1.0817 | 0.9124 | 25.2983 | 26.8356 | 28.3063 | 26.8117
530006 | 1.1609 | 0.9124 | 22.8344 | 24.9318 | 27.2422 | 24.9156
530007 | *** | * | 19.3476 | 20.4391 | * | 19.9218
530008 | 1.1112 | 0.9145 | 23.8271 | 23.8589 | 24.0090 | 23.8983
530009 | 0.9348 | 0.9124 | 24.2426 | 26.8316 | 24.6719 | 25.2403
530010 | 1.2278 | 0.9145 | 23.9255 | 25.8482 | 25.9852 | 25.2473
530011 | 1.1081 | 0.9124 | 24.1396 | 24.8245 | 27.8772 | 25.6665
530012 | 1.6961 | 0.9145 | 24.3454 | 25.2526 | 26.9582 | 25.5096
530014 | 1.5337 | 0.9124 | 23.6907 | 24.5947 | 26.7156 | 25.0071
530015 | 1.2055 | 0.9639 | 26.3107 | 27.6876 | 29.8310 | 27.9484
530016 | *** | * | 21.6575 | * | * | 21.6575
530017 | 0.9935 | 0.9124 | 23.5415 | 25.3362 | 29.8504 | 26.3807
530023 | *** | * | 24.1493 | 21.3813 | * | 22.6795
530025 | 1.2393 | 0.9233 | 27.7988 | 28.6938 | 24.4392 | 26.8843
530031 | *** | * | 16.3472 | * | * | 16.3472
530032 | 1.0643 | 0.9124 | 22.6584 | 25.7728 | 23.9005 | 24.0558
¹ Based on salaries adjusted for occupational mix, according to the calculation specified in FY 2007 IPPS final rule (71 FR 48006).
² The transfer-adjusted case-mix index is based on the billed DRG on the FY 2005 MedPAR.
ʰ These hospitals are assigned a wage index value according to the FY 2007 final rule (71 FR 48005).
* Denotes wage data not available for the provider for that year.
** Based on the sum of the salaries and hours computed for Federal FYs 2005, 2006, and 2007.
*** Denotes MedPAR data not available for the provider for FY 2005.

Table 3A.—FY 2007 and 3-Year Average Hourly Wage For Urban Areas By CBSA
[*Based on the salaries and hours computed for Federal FYs 2005, 2006, and 2007.]
CBSA code | Urban area | FY 2007 average hourly wage | 3-year average hourly wage
10180 | Abilene, TX | 24.7354 | 22.5497
10380 | Aguadilla-Isabela-San Sebastián, PR | 11.3127 | 11.8798
10420 | Akron, OH | 25.4747 | 24.8266
10500 | Albany, GA | 26.8537 | 26.6477
10580 | Albany-Schenectady-Troy, NY | 26.2389 | 24.4301
10740 | Albuquerque, NM | 28.3608 | 27.7551
10780 | Alexandria, LA | 23.4795 | 22.5264
10900 | Allentown-Bethlehem-Easton, PA-NJ | 29.9286 | 27.6856
11020 | Altoona, PA | 25.3167 | 24.1524
11100 | Amarillo, TX | 27.4217 | 25.7741
11180 | Ames, IA | 28.7786 | 26.8184
11260 | Anchorage, AK | 35.2999 | 33.6081
11300 | Anderson, IN | 26.1553 | 24.4794
11340 | Anderson, SC | 26.4473 | 24.8695
11460 | Ann Arbor, MI | 31.6639 | 30.4582
11500 | Anniston-Oxford, AL | 23.4777 | 21.9712
11540 | Appleton, WI | 27.7424 | 25.9029
11700 | Asheville, NC | 27.4697 | 25.9704
12020 | Athens-Clarke County, GA | 28.0394 | 27.4814
12060 | Atlanta-Sandy Springs-Marietta, GA | 29.0398 | 27.5973
12100 | Atlantic City, NJ | 34.6691 | 32.0567
12220 | Auburn-Opelika, AL | 23.9007 | 22.7914
12260 | Augusta-Richmond County, GA-SC | 28.5862 | 26.6851
12420 | Austin-Round Rock, TX | 27.6592 | 26.5039
12540 | Bakersfield, CA | 32.3762 | 29.5765
12580 | Baltimore-Towson, MD | 29.4225 | 27.7580
12620 | Bangor, ME | 28.5032 | 27.5520
12700 | Barnstable Town, MA | 37.3300 | 35.1183
12940 | Baton Rouge, LA | 23.9749 | 23.3468
12980 | Battle Creek, MI | 28.6610 | 26.6466
13020 | Bay City, MI | 27.8853 | 26.4751
13140 | Beaumont-Port Arthur, TX | 25.8266 | 24.0155
13380 | Bellingham, WA | 32.4426 | 31.9484
13460 | Bend, OR | 31.0837 | 29.7964
13644 | Bethesda-Gaithersburg-Frederick, MD | 32.1685 | 31.0437
13740 | Billings, MT | 26.5564 | 25.0079
13780 | Binghamton, NY | 26.5773 | 24.3089
13820 | Birmingham-Hoover, AL | 26.3579 | 25.2037
13900 | Bismarck, ND | 21.6654 | 20.9327
13980 | Blacksburg-Christiansburg-Radford, VA | 24.3556 | 22.6230
14020 | Bloomington, IN | 26.5655 | 24.3118
14060 | Bloomington-Normal, IL | 27.1016 | 25.5125
14260 | Boise City-Nampa, ID | 28.0081 | 26.0160
14484 | Boston-Quincy, MA | 34.8871 | 32.7850
14500 | Boulder, CO | 29.8919 | 27.9634
14540 | Bowling Green, KY | 23.9663 | 22.8146
14740 | Bremerton-Silverdale, WA | 32.2245 | 30.0885
14860 | Bridgeport-Stamford-Norwalk, CT | 37.7967 | 35.6899
15180 | Harlingen, TX | 28.8551 | 27.7588
15260 | Brunswick, GA | 31.0703 | 29.3670
15380 | Buffalo-Niagara Falls, NY | 28.0965 | 26.4178
15500 | Burlington, NC | 25.3226 | 24.6210
15540 | Burlington-South Burlington, VT | 27.9794 | 26.2852
15764 | Cambridge-Newton-Framingham, MA | 32.6270 | 31.1502
15804 | Camden, NJ | 31.1549 | 29.6108
15940 | Canton-Massillon, OH | 26.8311 | 25.1139
15980 | Cape Coral-Fort Myers, FL | 28.0527 | 26.3302
16180 | Carson City, NV | 29.3650 | 28.4400
16220 | Casper, WY | 26.9582 | 25.5096
16300 | Cedar Rapids, IA | 25.8224 | 24.7388
16580 | Champaign-Urbana, IL | 28.4141 | 26.7812
16620 | Charleston, WV | 25.7589 | 24.2660
16700 | Charleston-North Charleston, SC | 27.1568 | 25.9700
16740 | Charlotte-Gastonia-Concord, NC-SC | 27.9122 | 26.9168
16820 | Charlottesville, VA | 29.7688 | 28.4674
16860 | Chattanooga, TN-GA | 26.5327 | 25.4481
16940 | Cheyenne, WY | 26.7156 | 25.0071
16974 | Chicago-Naperville-Joliet, IL | 31.6404 | 30.1812
17020 | Chico, CA | 32.7875 | 29.9713
17140 | Cincinnati-Middletown, OH-KY-IN | 28.2340 | 26.7214
17300 | Clarksville, TN-KY | 24.9690 | 23.0942
17420 | Cleveland, TN | 24.3808 | 22.6533
17460 | Cleveland-Elyria-Mentor, OH | 27.8617 | 26.3788
17660 | Coeur d'Alene, ID | 27.3597 | 26.3413
17780 | College Station-Bryan, TX | 26.4006 | 25.2360
17820 | Colorado Springs, CO | 28.0973 | 26.7757
17860 | Columbia, MO | 25.0579 | 23.4777
17900 | Columbia, SC | 26.5160 | 25.5945
17980 | Columbus, GA-AL | 25.2948 | 24.0613
18020 | Columbus, IN | 28.0068 | 26.5764
18140 | Columbus, OH | 29.8780 | 27.7524
18580 | Corpus Christi, TX | 25.0205 | 23.9295
18700 | Corvallis, OR | 33.6078 | 30.4640
19060 | Cumberland, MD-WV | 24.1695 | 24.2795
19124 | Dallas-Plano-Irving, TX | 29.5841 | 28.2768
19140 | Dalton, GA | 26.5548 | 25.7096
19180 | Danville, IL | 28.3299 | 24.9634
19260 | Danville, VA | 25.2022 | 23.9494
19340 | Davenport-Moline-Rock Island, IA-IL | 26.2005 | 24.5540
19380 | Dayton, OH | 27.2364 | 25.7362
19460 | Decatur, AL | 23.9150 | 23.6883
19500 | Decatur, IL | 24.3550 | 22.8257
19660 | Deltona-Daytona Beach-Ormond Beach, FL | 27.2901 | 25.6532
19740 | Denver-Aurora, CO | 31.7836 | 30.1612
19780 | Des Moines-West Des Moines, IA | 27.1922 | 26.2387
19804 | Detroit-Livonia-Dearborn, MI | 30.7812 | 29.0851
20020 | Dothan, AL | 22.2783 | 21.3349
20100 | Dover, DE | 30.1094 | 27.9303
20220 | Dubuque, IA | 26.6704 | 24.9867
20260 | Duluth, MN-WI | 30.2214 | 28.6977
20500 | Durham, NC | 28.6941 | 28.1744
20740 | Eau Claire, WI | 28.5056 | 26.1726
20764 | Edison, NJ | 33.0199 | 31.3235
20940 | El Centro, CA | 26.6950 | 25.1556
21060 | Elizabethtown, KY | 25.6000 | 24.4113
21140 | Elkhart-Goshen, IN | 27.8012 | 26.4097
21300 | Elmira, NY | 24.7620 | 23.3890
21340 | El Paso, TX | 27.3947 | 25.6383
21500 | Erie, PA | 26.1902 | 24.4869
21604 | Essex County, MA | 30.8811 | 29.5200
21660 | Eugene-Springfield, OR | 32.5163 | 30.5454
21780 | Evansville, IN-KY | 26.3862 | 24.2557
21820 | Fairbanks, AK | 32.5975 | 31.2913
21940 | Fajardo, PR | 11.9787 | 11.2316
22020 | Fargo, ND-MN | 24.1964 | 23.9807
22140 | Farmington, NM | 24.7543 | 23.2955
22180 | Fayetteville, NC | 28.0323 | 26.3806
22220 | Fayetteville-Springdale-Rogers, AR-MO | 26.7687 | 24.6433
22380 | Flagstaff, AZ | 34.2142 | 32.1557
22420 | Flint, MI | 32.0203 | 30.4255
22500 | Florence, SC | 25.8070 | 24.8022
22520 | Florence-Muscle Shoals, AL | 23.3021 | 22.4484
22540 | Fond du Lac, WI | 30.7450 | 28.0398
22660 | Fort Collins-Loveland, CO | 27.3774 | 27.5172
22744 | Fort Lauderdale-Pompano Beach-Deerfield Beach, FL | 29.6372 | 28.5403
22900 | Fort Smith, AR-OK | 23.2765 | 22.7417
23020 | Fort Walton Beach-Crestview-Destin, FL | 25.4368 | 24.4697
23060 | Fort Wayne, IN | 27.5263 | 26.9363
23104 | Fort Worth-Arlington, TX | 28.3363 | 26.7137
23420 | Fresno, CA | 32.7702 | 30.1663
23460 | Gadsden, AL | 23.9000 | 22.4775
23540 | Gainesville, FL | 27.9339 | 26.4188
23580 | Gainesville, GA | 27.3618 | 25.9487
23844 | Gary, IN | 27.8634 | 26.2470
24020 | Glens Falls, NY | 25.5656 | 24.0003
24140 | Goldsboro, NC | 27.2105 | 24.9866
24220 | Grand Forks, ND-MN | 23.2018 | 23.1061
24300 | Grand Junction, CO | 28.6313 | 27.2192
24340 | Grand Rapids-Wyoming, MI | 28.3292 | 26.5178
24500 | Great Falls, MT | 25.1796 | 24.5500
24540 | Greeley, CO | 29.6191 | 27.1542
24580 | Green Bay, WI | 28.3855 | 26.7916
24660 | Greensboro-High Point, NC | 26.6351 | 25.4930
24780 | Greenville, NC | 27.6626 | 26.0809
24860 | Greenville, SC | 28.3669 | 27.1599
25020 | Guayama, PR | 09.5930 | 09.6934
25060 | Gulfport-Biloxi, MS | 25.9410 | 24.7777
25180 | Hagerstown-Martinsburg, MD-WV | 27.6180 | 26.6584
25260 | Hanford-Corcoran, CA | 31.0985 | 28.1098
25420 | Harrisburg-Carlisle, PA | 27.7934 | 26.1846
25500 | Harrisonburg, VA | 27.1676 | 25.7382
25540 | Hartford-West Hartford-East Hartford, CT | 32.5306 | 30.9139
25620 | Hattiesburg, MS | 22.5641 | 21.0861
25860 | Hickory-Lenoir-Morganton, NC | 26.6596 | 25.5863
25980 | ¹ Hinesville-Fort Stewart, GA |  |
26100 | Holland-Grand Haven, MI | 27.3299 | 25.9201
26180 | Honolulu, HI | 32.3512 | 30.9292
26300 | Hot Springs, AR | 26.1802 | 25.3280
26380 | Houma-Bayou Cane-Thibodaux, A | 24.2699 | 22.1607
26420 | Houston-Sugar Land-Baytown, TX | 29.9311 | 28.1062
26580 | Huntington-Ashland, WV-KY-OH | 26.1762 | 25.9741
26620 | Huntsville, AL | 26.5886 | 25.1724
26820 | Idaho Falls, ID | 26.7936 | 25.7310
26900 | Indianapolis-Carmel, IN | 28.9678 | 27.7854
26980 | Iowa City, IA | 28.4615 | 27.0882
27060 | Ithaca, NY | 29.2529 | 27.4683
27100 | Jackson, MI | 28.8148 | 26.2508
27140 | Jackson, MS | 24.3583 | 23.1899
27180 | Jackson, TN | 26.0828 | 24.8971
27260 | Jacksonville, FL | 27.5221 | 26.2665
27340 | Jacksonville, NC | 25.0110 | 23.3845
27500 | Janesville, WI | 29.2614 | 27.1061
27620 | Jefferson City, MO | 25.5406 | 23.6903
27740 | Johnson City, TN | 23.9569 | 22.6132
27780 | Johnstown, PA | 25.3896 | 23.5735
27860 | Jonesboro, AR | 23.2669 | 22.3980
27900 | Joplin, MO | 26.0767 | 24.3379
28020 | Kalamazoo-Portage, MI | 32.0173 | 29.7247
28100 | Kankakee-Bradley, IL | 29.7142 | 29.3063
28140 | Kansas City, MO-KS | 27.7105 | 26.5218
28420 | Kennewick-Richland-Pasco, WA | 29.9252 | 29.0588
28660 | Killeen-Temple-Fort Hood, TX | 26.6669 | 24.9921
28700 | Kingsport-Bristol-Bristol, TN-VA | 24.0550 | 22.7725
28740 | Kingston, NY | 27.9971 | 25.8916
28940 | Knoxville, TN | 24.3875 | 23.5673
29020 | Kokomo, IN | 28.6352 | 26.4213
29100 | La Crosse, WI-MN | 28.2928 | 26.4773
29140 | Lafayette, IN | 26.0274 | 24.7635
29180 | Lafayette, LA | 24.8595 | 23.4330
29340 | Lake Charles, LA | 23.4919 | 22.1092
29404 | Lake County-Kenosha County, IL-WI | 31.5831 | 29.4832
29460 | Lakeland, FL | 26.8539 | 25.1966
29540 | Lancaster, PA | 29.3703 | 27.6048
29620 | Lansing-East Lansing, MI | 29.8547 | 27.5157
29700 | Laredo, TX | 24.3950 | 23.4077
29740 | Las Cruces, NM | 27.0271 | 24.5756
29820 | Las Vegas-Paradise, NV | 33.0567 | 31.6630
29940 | Lawrence, KS | 24.7096 | 23.8060
30020 | Lawton, OK | 25.1598 | 23.0756
30140 | Lebanon, PA | 25.9645 | 24.4260
30300 | Lewiston, ID-WA | 28.6158 | 26.7504
30340 | Lewiston-Auburn, ME | 27.3831 | 26.2777
30460 | Lexington-Fayette, KY | 26.5828 | 25.5280
30620 | Lima, OH | 26.3736 | 25.5860
30700 | Lincoln, NE | 29.5529 | 28.3730
30780 | Little Rock-North Little Rock, AR | 28.7760 | 25.6122
30860 | Logan, UT-ID | 26.8219 | 25.5447
30980 | Longview, TX | 26.2133 | 24.6592
31020 | Longview, WA | 30.3627 | 27.9557
31084 | Los Angeles-Long Beach-Glendale, CA | 34.6534 | 32.9160
31140 | Louisville-Jefferson County, KY-IN | 27.1468 | 25.7437
31180 | Lubbock, TX | 25.3114 | 24.3391
31340 | Lynchburg, VA | 25.5005 | 24.5752
31420 | Macon, GA | 29.0544 | 27.2917
31460 | Madera, CA | 25.2337 | 24.0664
31540 | Madison, WI | 32.1479 | 29.7320
31700 | Manchester-Nashua, NH | 30.3021 | 29.0984
31900 | Mansfield, OH | 27.3884 | 26.5027
32420 | Mayagüez, PR | 11.2889 | 11.4438
32580 | McAllen-Edinburg-Mission, TX | 26.0769 | 24.4574
32780 | Medford, OR | 31.8958 | 29.4566
32820 | Memphis, TN-MS-AR | 27.5968 | 26.0783
32900 | Merced, CA | 33.8352 | 30.8333
33124 | Miami-Miami Beach-Kendall, FL | 29.1208 | 27.5124
33140 | Michigan City-La Porte, IN | 26.7983 | 25.9329
33260 | Midland, TX | 28.2837 | 26.5950
33340 | Milwaukee-Waukesha-West Allis, WI | 30.6139 | 28.5884
33460 | Minneapolis-St. Paul-Bloomington, MN-WI | 31.9723 | 30.6935
33540 | Missoula, MT | 25.7182 | 25.7998
33660 | Mobile, AL | 23.2681 | 22.1095
33700 | Modesto, CA | 34.7979 | 33.3338
33740 | Monroe, LA | 23.9412 | 22.3954
33780 | Monroe, MI | 29.0221 | 26.8789
33860 | Montgomery, AL | 23.5234 | 23.1670
34060 | Morgantown, WV | 25.3671 | 24.0418
34100 | Morristown, TN | 23.6707 | 22.2354
34580 | Mount Vernon-Anacortes, WA | 30.3080 | 29.1509
34620 | Muncie, IN | 24.7233 | 24.0903
34740 | Muskegon-Norton Shores, MI | 29.9638 | 27.6896
34820 | Myrtle Beach-Conway-North Myrtle Beach, SC | 26.3388 | 25.0344
34900 | Napa, CA | 38.3501 | 35.6146
34940 | Naples-Marco Island, FL | 29.9690 | 28.7171
34980 | Nashville-Davidson—Murfreesboro, TN | 29.0906 | 27.7029
35004 | Nassau-Suffolk, NY | 38.4620 | 36.1106
35084 | Newark-Union, NJ-PA | 34.8610 | 32.9825
35300 | New Haven-Milford, CT | 35.7841 | 33.4729
35380 | New Orleans-Metairie-Kenner, LA | 25.6466 | 24.9412
35644 | New York-White Plains-Wayne, NY-NJ | 39.5688 | 37.2163
35660 | Niles-Benton Harbor, MI | 26.4739 | 24.9201
35980 | Norwich-New London, CT | 35.6505 | 32.7603
36084 | Oakland-Fremont-Hayward, CA | 45.7373 | 43.0139
36100 | Ocala, FL | 25.5292 | 24.9445
36140 | Ocean City, NJ | 31.2907 | 30.2391
36220 | Odessa, TX | 29.7647 | 27.8892
36260 | Ogden-Clearfield, UT | 26.8970 | 25.5070
36420 | Oklahoma City, OK | 26.1146 | 25.0678
36500 | Olympia, WA | 32.5051 | 30.7166
36540 | Omaha-Council Bluffs, NE-IA | 27.8702 | 26.7732
36740 | Orlando-Kissimmee, FL | 28.3934 | 26.8763
36780 | Oshkosh-Neenah, WI | 27.0950 | 25.5269
36980 | Owensboro, KY | 26.0440 | 24.2668
37100 | Oxnard-Thousand Oaks-Ventura, CA | 32.9949 | 31.6529
37340 | Palm Bay-Melbourne-Titusville, FL | 28.3087 | 27.1499
37460 | Panama City-Lynn Haven, FL | 24.2006 | 22.7018
37620 | Parkersburg-Marietta-Vienna, WV-OH | 24.0592 | 23.0883
37700 | Pascagoula, MS | 24.1489 | 22.7120
37860 | Pensacola-Ferry Pass-Brent, FL | 23.3305 | 22.6237
37900 | Peoria, IL | 27.0600 | 25.0857
37964 | Philadelphia, PA | 32.6068 | 30.7383
38060 | Phoenix-Mesa-Scottsdale, AZ | 30.0869 | 28.3131
38220 | Pine Bluff, AR | 25.8491 | 24.4087
38300 | Pittsburgh, PA | 25.4077 | 24.3788
38340 | Pittsfield, MA | 30.4071 | 28.8423
38540 | Pocatello, ID | 27.2195 | 26.2270
38660 | Ponce, PR | 13.9714 | 13.6681
38860 | Portland-South Portland-Biddeford, ME | 29.2449 | 28.2990
38900 | Portland-Vancouver-Beaverton, OR-WA | 33.2416 | 31.5854
38940 | Port St. Lucie-Fort Pierce, FL | 29.2554 | 28.0826
39100 | Poughkeepsie-Newburgh-Middletown, NY | 32.5172 | 31.0301
39140 | Prescott, AZ | 28.9051 | 27.6147
39300 | Providence-New Bedford-Fall River, RI-MA | 31.8595 | 30.4800
39340 | Provo-Orem, UT | 28.1069 | 26.6360
39380 | Pueblo, CO | 25.7454 | 24.3382
39460 | Punta Gorda, FL | 28.8128 | 26.5824
39540 | Racine, WI | 28.1129 | 25.7619
39580 | Raleigh-Cary, NC | 28.8272 | 27.4767
39660 | Rapid City, SD | 25.8230 | 24.8711
39740 | Reading, PA | 28.7892 | 26.7877
39820 | Redding, CA | 36.9179 | 33.9636
39900 | Reno-Sparks, NV | 35.9585 | 31.3496
40060 | Richmond, VA | 26.6797 | 25.8302
40140 | Riverside-San Bernardino-Ontario, CA | 31.7977 | 30.5874
40220 | Roanoke, VA | 26.1048 | 23.9632
40340 | Rochester, MN | 33.3258 | 31.5976
40380 | Rochester, NY | 26.9944 | 25.6945
40420 | Rockford, IL | 29.7962 | 27.7018
40484 | Rockingham County-Strafford County, NH | 30.0121 | 28.7106
40580 | Rocky Mount, NC | 26.3907 | 25.0513
40660 | Rome, GA | 28.7614 | 26.1851
40900 | Sacramento—Arden-Arcade—Roseville, CA | 38.5069 | 35.3185
40980 | Saginaw-Saginaw Township North, MI | 27.3125 | 26.3003
41060 | St. Cloud, MN | 32.7028 | 29.2101
41100 | St. George, UT | 28.0291 | 26.5758
41140 | St. Joseph, MO-KS | 30.3440 | 28.0336
41180 | St. Louis, MO-IL | 26.6812 | 25.2397
41420 | Salem, OR | 30.4906 | 29.2331
41500 | Salinas, CA | 42.1655 | 39.2218
41540 | Salisbury, MD | 26.2842 | 25.2167
41620 | Salt Lake City, UT | 28.0986 | 26.6060
41660 | San Angelo, TX | 25.1540 | 23.3032
41700 | San Antonio, TX | 26.5240 | 25.1675
41740 | San Diego-Carlsbad-San Marcos, CA | 32.9130 | 31.5806
41780 | Sandusky, OH | 27.4533 | 25.4522
41884 | San Francisco-San Mateo-Redwood City, CA | 45.7224 | 42.2326
41900 | San Germán-Cabo Rojo, PR | 14.3995 | 13.6919
41940 | San Jose-Sunnyvale-Santa Clara, CA | 45.4409 | 42.2101
41980 | San Juan-Caguas-Guaynabo, PR | 13.1933 | 12.8054
42020 | San Luis Obispo-Paso Robles, CA | 33.0896 | 31.3414
42044 | Santa Ana-Anaheim-Irvine, CA | 33.6565 | 32.2329
42060 | Santa Barbara-Santa Maria, CA | 32.1995 | 31.1050
42100 | Santa Cruz-Watsonville, CA | 44.6455 | 42.0789
42140 | Santa Fe, NM | 32.0477 | 30.4670
42220 | Santa Rosa-Petaluma, CA | 42.4689 | 38.0360
42260 | Sarasota-Bradenton-Venice, FL | 28.8918 | 27.0657
42340 | Savannah, GA | 27.1003 | 26.2037
42540 | Scranton—Wilkes-Barre, PA | 24.5216 | 23.6058
42644 | Seattle-Bellevue-Everett, WA | 33.3915 | 32.0468
42680 | Sebastian-Vero Beach, FL | 29.3162 | 26.9491
43100 | Sheboygan, WI | 27.0944 | 25.2780
43300 | Sherman-Denison, TX | 25.6518 | 25.8894
43340 | Shreveport-Bossier City, LA | 26.2370 | 24.9393
43580 | Sioux City, IA-NE-SD | 26.8716 | 25.6458
43620 | Sioux Falls, SD | 27.7271 | 26.5164
43780 | South Bend-Mishawaka, IN-MI | 29.3973 | 27.1692
43900 | Spartanburg, SC | 26.7923 | 25.8987
44060 | Spokane, WA | 30.9034 | 29.8263
44100 | Springfield, IL | 26.5425 | 24.6316
44140 | Springfield, MA | 30.1291 | 28.5979
44180 | Springfield, MO | 25.4111 | 23.7305
44220 | Springfield, OH | 25.1686 | 23.9321
44300 | State College, PA | 25.6643 | 23.7164
44700 | Stockton, CA | 34.0233 | 31.2391
44940 | Sumter, SC | 24.7899 | 23.6087
45060 | Syracuse, NY | 28.9876 | 26.9574
45104 | Tacoma, WA | 31.7596 | 30.3791
45220 | Tallahassee, FL | 26.5663 | 24.5843
45300 | Tampa-St. Petersburg-Clearwater, FL | 27.2772 | 25.7846
45460 | Terre Haute, IN | 26.1137 | 23.7180
45500 | Texarkana, TX-Texarkana, AR | 24.0237 | 23.1611
45780 | Toledo, OH | 28.0359 | 26.6301
45820 | Topeka, KS | 25.9836 | 24.8278
45940 | Trenton-Ewing, NJ | 32.3220 | 29.9814
46060 | Tucson, AZ | 27.8441 | 25.6497
46140 | Tulsa, OK | 24.6404 | 23.8913
46220 | Tuscaloosa, AL | 25.9777 | 24.0371
46340 | Tyler, TX | 26.4318 | 25.7626
46540 | Utica-Rome, NY | 25.9564 | 23.7574
46660 | Valdosta, GA | 25.1934 | 24.0205
46700 | Vallejo-Fairfield, CA | 43.8674 | 41.4044
47020 | Victoria, TX | 24.9845 | 23.3071
47220 | Vineland-Millville-Bridgeton, NJ | 30.7865 | 28.7657
47260 | Virginia Beach-Norfolk-Newport News, VA-NC | 26.0160 | 24.7890
47300 | Visalia-Porterville, CA | 29.9158 | 28.2959
47380 | Waco, TX | 25.9394 | 23.7524
47580 | Warner Robins, GA | 26.1288 | 24.3113
47644 | Warren-Troy-Farmington Hills, MI | 29.9724 | 28.0999
47894 | Washington-Arlington-Alexandria, DC-VA-MD-WV | 32.5489 | 30.7238
47940 | Waterloo-Cedar Falls, IA | 25.4836 | 24.1398
48140 | Wausau, WI | 29.4678 | 27.3375
48260 | Weirton-Steubenville, WV-OH | 23.8928 | 22.5021
48300 | Wenatchee, WA | 30.1956 | 27.5727
48424 | West Palm Beach-Boca Raton-Boynton Beach, FL | 28.2754 | 27.8801
48540 | Wheeling, WV-OH | 21.0012 | 20.2153
48620 | Wichita, KS | 26.7361 | 25.7825
48660 | Wichita Falls, TX | 25.3878 | 23.5588
48700 | Williamsport, PA | 23.9343 | 23.1797
48864 | Wilmington, DE-MD-NJ | 31.3445 | 30.0596
48900 | Wilmington, NC | 28.9725 | 26.7451
49020 | Winchester, VA-WV | 29.8215 | 28.6809
49180 | Winston-Salem, NC | 27.4181 | 25.7927
49340 | Worcester, MA | 32.0147 | 30.6187
49420 | Yakima, WA | 29.1309 | 28.2366
49500 | Yauco, PR | 11.1812 | 11.8242
49620 | York-Hanover, PA | 28.1586 | 26.1713
49660 | Youngstown-Warren-Boardman, OH-PA | 26.0913 | 24.8348
49700 | Yuba City, CA | 31.2174 | 29.7427
49740 | Yuma, AZ | 27.0111 | 25.4677
¹ This area has no average hourly wage because there are no short-term, acute care hospitals in the area.

Table 3B.—FY 2007 and 3-Year* Average Hourly Wage for Rural Areas by CBSA
[*Based on the sum of the salaries and hours computed for federal FYs 2005, 2006, and 2007.]
CBSA code | Nonurban area | FY 2007 average hourly wage | 3-Year average hourly wage
01 | Alabama | 22.7266 | 21.2362
02 | Alaska | 31.7349 | 32.0692
03 | Arizona | 26.8924 | 25.0201
04 | Arkansas | 22.1322 | 20.8590
05 | California | 33.2165 | 30.4210
06 | Colorado | 26.9566 | 25.9101
07 | Connecticut | 35.5471 | 33.2841
08 | Delaware | 29.2141 | 27.0822
10 | Florida | 25.8957 | 24.2399
11 | Georgia | 23.2040 | 21.7117
12 | Hawaii | 31.5122 | 29.7080
13 | Idaho | 23.7761 | 22.5379
14 | Illinois | 24.7833 | 23.2471
15 | Indiana | 25.3962 | 24.0538
16 | Iowa | 25.5462 | 23.7246
17 | Kansas | 23.7576 | 22.4610
18 | Kentucky | 23.1433 | 21.7879
19 | Louisiana | 22.7152 | 20.9287
20 | Maine | 24.8875 | 24.4422
21 | Maryland | 26.3358 | 25.6324
22 | Massachusetts ¹ |  |
23 | Michigan | 26.7707 | 24.8965
24 | Minnesota | 27.2664 | 25.6919
25 | Mississippi | 23.1173 | 21.5916
26 | Missouri | 24.0814 | 22.2178
27 | Montana | 25.6649 | 24.3121
28 | Nebraska | 25.6086 | 24.5327
29 | Nevada | 27.2229 | 25.6122
30 | New Hampshire | 32.3754 | 29.3617
31 | New Jersey ¹ |  |
32 | New Mexico | 24.8330 | 24.0136
33 | New York | 24.7417 | 23.0382
34 | North Carolina | 25.5870 | 24.0377
35 | North Dakota | 21.8478 | 20.8336
36 | Ohio | 25.7486 | 24.4334
37 | Oklahoma | 23.2698 | 21.6211
38 | Oregon | 28.8316 | 27.3621
39 | Pennsylvania | 24.6146 | 23.2486
40 | Puerto Rico ¹ |  |
41 | Rhode Island ¹ |  |
42 | South Carolina | 25.7744 | 24.3480
43 | South Dakota | 24.6052 | 23.4919
44 | Tennessee | 23.8699 | 22.2751
45 | Texas | 24.3889 | 22.6173
46 | Utah | 24.4689 | 22.9744
47 | Vermont | 28.5315 | 26.6381
49 | Virginia | 24.0216 | 22.5475
50 | Washington | 30.2634 | 28.7978
51 | West Virginia | 22.9916 | 21.8032
52 | Wisconsin | 28.4880 | 26.5687
53 | Wyoming | 26.8294 | 25.5743
¹ All counties in the State or Territory are classified as urban, with the exception of Massachusetts. Massachusetts has area(s) designated as rural. However, no short-term, acute care hospitals are located in the area(s) for FY 2007.

Table 4A-1.—Wage Index And Capital Geographic Adjustment Factor (GAF) for Urban Areas by CBSA
CBSA code | Urban area (constituent counties) | Wage index | GAF
10180 | Abilene, TX | 0.8380 | 0.8860
| Callahan County, TX
| Jones County, TX
| Taylor County, TX
10380 | Aguadilla-Isabela-San Sebastián, PR | 0.3815 | 0.5169
| Aguada Municipio, PR
| Aguadilla Municipio, PR
| Añasco Municipio, PR
| Isabela Municipio, PR
| Lares Municipio, PR
| Moca Municipio, PR
| Rinc≤n Municipio, PR
| San Sebastián Municipio
10420 | ² Akron, OH | 0.8683 | 0.9078
| Portage County, OH
| Summit County, OH
10500 | Albany, GA | 0.9056 | 0.9344
| Baker County, GA
| Dougherty County, GA
| Lee County, GA
| Terrell County, GA
| Worth County, GA
10580 | Albany-Schenectady-Troy, NY | 0.8849 | 0.9197
| Albany County, NY
| Rensselaer County, NY
| Saratoga County, NY
| Schenectady County, NY
| Schoharie County, NY
10740 | Albuquerque, NM | 0.9564 | 0.9699
| Bernalillo County, NM
| Sandoval County, NM
| Torrance County, NM
| Valencia County, NM
10780 | Alexandria, LA | 0.7961 | 0.8554
| Grant Parish, LA
| Rapides Parish, LA
10900 | Allentown-Bethlehem-Easton, PA-NJ (PA Hospitals) | 1.0093 | 1.0064
| Warren County, NJ
| Carbon County, PA
| Lehigh County, PA
| Northampton County, PA
10900 | ² Allentown-Bethlehem-Easton, PA-NJ (NJ Hospitals) | 1.1402 | 1.0940
| Warren County, NJ
| Carbon County, PA
| Lehigh County, PA
| Northampton County, PA
11020 | Altoona, PA | 0.8538 | 0.8974
| Blair County, PA
11100 | Amarillo, TX | 0.9248 | 0.9479
| Armstrong County, TX
| Carson County, TX
| Potter County, TX
| Randall County, TX
11180 | Ames, IA | 0.9705 | 0.9797
| Story County, IA
11260 | ³ Anchorage, AK | 1.1904 | 1.1268
| Anchorage Municipality, AK
| Matanuska-Susitna Borough, AK
11300 | Anderson, IN | 0.8820 | 0.9176
| Madison County, IN
11340 | Anderson, SC | 0.8919 | 0.9246
| Anderson County, SC
11460 | ³ Ann Arbor, MI | 1.0678 | 1.0459
| Washtenaw County, MI
11500 | Anniston-Oxford, AL | 0.7997 | 0.8581
| Calhoun County, AL
11540 | ² Appleton, WI | 0.9607 | 0.9729
| Calumet County, WI
| Outagamie County, WI
11700 | Asheville, NC | 0.9264 | 0.9490
| Buncombe County, NC
| Haywood County, NC
| Henderson County, NC
| Madison County, NC
12020 | Athens-Clarke County, GA | 0.9456 | 0.9624
| Clarke County, GA
| Madison County, GA
| Oconee County, GA
| Oglethorpe County, GA
12060 | ¹ Atlanta-Sandy Springs-Marietta, GA | 0.9793 | 0.9858
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1692 | 1.1130
| Atlantic County, NJ
12220 | Auburn-Opelika, AL | 0.8060 | 0.8627
| Lee County, AL
12260 | Augusta-Richmond County, GA-SC | 0.9640 | 0.9752
| Burke County, GA
| Columbia County, GA
| McDuffie County, GA
| Richmond County, GA
| Aiken County, SC
| Edgefield County, SC
12420 | ¹ Austin-Round Rock, TX | 0.9328 | 0.9535
| Bastrop County, TX
| Caldwell County, TX
| Hays County, TX
| Travis County, TX
| Williamson County, TX
12540 | ² Bakersfield, CA | 1.1202 | 1.0808
| Kern County, CA
12580 | ¹ Baltimore-Towson, MD | 0.9922 | 0.9947
| Anne Arundel County, MD
| Baltimore County, MD
| Carroll County, MD
| Harford County, MD
| Howard County, MD
| Queen Anne's County, MD
| Baltimore City, MD
12620 | Bangor, ME | 0.9612 | 0.9733
| Penobscot County, ME
12700 | Barnstable Town, MA | 1.2589 | 1.1708
| Barnstable County, MA
12940 | Baton Rouge, LA | 0.8085 | 0.8645
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9666 | 0.9770
| Calhoun County, MI
13020 | ³ Bay City, MI | 1.0080 | 1.0055
| Bay County, MI
13140 | Beaumont-Port Arthur, TX | 0.8710 | 0.9098
| Hardin County, TX
| Jefferson County, TX
| Orange County, TX
13380 | Bellingham, WA | 1.0941 | 1.0635
| Whatcom County, WA
13460 | Bend, OR | 1.0483 | 1.0328
| Deschutes County, OR
13644 | ¹ Bethesda-Gaithersburg-Frederick, MD | 1.0848 | 1.0573
| Frederick County, MD
| Montgomery County, MD
13740 | Billings, MT | 0.8956 | 0.9273
| Carbon County, MT
| Yellowstone County, MT
13780 | Binghamton, NY | 0.8963 | 0.9278
| Broome County, NY
| Tioga County, NY
13820 | ¹ Birmingham-Hoover, AL | 0.8889 | 0.9225
| Bibb County, AL
| Blount County, AL
| Chilton County, AL
| Jefferson County, AL
| St. Clair County, AL
| Shelby County, AL
| Walker County, AL
13900 | ²,³ Bismarck, ND | 0.7368 | 0.8113
| Burleigh County, ND
| Morton County, ND
13980 | Blacksburg-Christiansburg-Radford, VA | 0.8214 | 0.8740
| Giles County, VA
| Montgomery County, VA
| Pulaski County, VA
| Radford City, VA
14020 | Bloomington, IN | 0.8959 | 0.9275
| Greene County, IN
| Monroe County, IN
| Owen County, IN
14060 | Bloomington-Normal, IL | 0.9140 | 0.9403
| McLean County, IL
14260 | Boise City-Nampa, ID | 0.9445 | 0.9617
| Ada County, ID
| Boise County, ID
| Canyon County, ID
| Gem County, ID
| Owyhee County, ID
14484 | ¹ Boston-Quincy, MA | 1.1765 | 1.1177
| Norfolk County, MA
| Plymouth County, MA
| Suffolk County, MA
14500 | Boulder, CO | 1.0081 | 1.0055
| Boulder County, CO
14540 | Bowling Green, KY | 0.8082 | 0.8643
| Edmonson County, KY
| Warren County, KY
14740 | Bremerton-Silverdale, WA | 1.0867 | 1.0586
| Kitsap County, WA
14860 | Bridgeport-Stamford-Norwalk, CT | 1.2746 | 1.1808
| Fairfield County, CT
15180 | Brownsville-Harlingen, TX | 0.9731 | 0.9815
| Cameron County, TX
15260 | Brunswick, GA | 1.0478 | 1.0325
| Brantley County, GA
| Glynn County, GA
| McIntosh County, GA
15380 | ¹ Buffalo-Niagara Falls, NY | 0.9475 | 0.9637
| Erie County, NY
| Niagara County, NY
15500 | ² Burlington, NC | 0.8629 | 0.9040
| Alamance County, NC
15540 | ² Burlington-South Burlington, VT | 0.9622 | 0.9740
| Chittenden County, VT
| Franklin County, VT
| Grand Isle County, VT
15764 | ¹ Cambridge-Newton-Framingham, MA | 1.1003 | 1.0676
| Middlesex County, MA
15804 | ¹,² Camden, NJ | 1.1402 | 1.0940
| Burlington County, NJ
| Camden County, NJ
| Gloucester County, NJ
15940 | Canton-Massillon, OH | 0.9048 | 0.9338
| Carroll County, OH
| Stark County, OH
15980 | Cape Coral-Fort Myers, FL | 0.9460 | 0.9627
| Lee County, FL
16180 | Carson City, NV | 0.9903 | 0.9933
| Carson City, NV
16220 | ²,³ Casper, WY | 0.9199 | 0.9444
| Natrona County, WY
16300 | ²,³ Cedar Rapids, IA | 0.8803 | 0.9164
| Benton County, IA
| Jones County, IA
| Linn County, IA
16580 | Champaign-Urbana, IL | 0.9582 | 0.9712
| Champaign County, IL
| Ford County, IL
| Piatt County, IL
16620 | Charleston, WV | 0.8687 | 0.9081
| Boone County, WV
| Clay County, WV
| Kanawha County, WV
| Lincoln County, WV
| Putnam County, WV
16700 | Charleston-North Charleston, SC | 0.9197 | 0.9443
| Berkeley County, SC
| Charleston County, SC
| Dorchester County, SC
16740 | ¹ Charlotte-Gastonia-Concord, NC-SC | 0.9413 | 0.9594
| Anson County, NC
| Cabarrus County, NC
| Gaston County, NC
| Mecklenburg County, NC
| Union County, NC
| York County, SC
16820 | Charlottesville, VA | 1.0039 | 1.0027
| Albemarle County, VA
| Fluvanna County, VA
| Greene County, VA
| Nelson County, VA
| Charlottesville City, VA
16860 | Chattanooga, TN-GA | 0.8948 | 0.9267
| Catoosa County, GA
| Dade County, GA
| Walker County, GA
| Hamilton County, TN
| Marion County, TN
| Sequatchie County, TN
16940 | ²,³ Cheyenne, WY | 0.9199 | 0.9444
| Laramie County, WY
16974 | ¹ Chicago-Naperville-Joliet, IL | 1.0670 | 1.0454
| Cook County, IL
| DeKalb County, IL
| DuPage County, IL
| Grundy County, IL
| Kane County, IL
| Kendall County, IL
| McHenry County, IL
| Will County, IL
17020 | ² Chico, CA | 1.1202 | 1.0808
| Butte County, CA
17140 | ¹ Cincinnati-Middletown, OH-KY-IN | 0.9522 | 0.9670
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8420 | 0.8889
| Christian County, KY
| Trigg County, KY
| Montgomery County, TN
| Stewart County, TN
17420 | Cleveland, TN | 0.8222 | 0.8745
| Bradley County, TN
| Polk County, TN
17460 | ¹ Cleveland-Elyria-Mentor, OH | 0.9396 | 0.9582
| Cuyahoga County, OH
| Geauga County, OH
| Lake County, OH
| Lorain County, OH
| Medina County, OH
17660 | Coeur d'Alene, ID | 0.9227 | 0.9464
| Kootenai County, ID
17780 | College Station-Bryan, TX | 0.8903 | 0.9235
| Brazos County, TX
| Burleson County, TX
| Robertson County, TX
17820 | Colorado Springs, CO | 0.9475 | 0.9637
| El Paso County, CO
| Teller County, CO
17860 | Columbia, MO | 0.8456 | 0.8915
| Boone County, MO
| Howard County, MO
17900 | Columbia, SC | 0.8942 | 0.9263
| Calhoun County, SC
| Fairfield County, SC
| Kershaw County, SC
| Lexington County, SC
| Richland County, SC
| Saluda County, SC
17980 | Columbus, GA-AL | 0.8530 | 0.8968
| Russell County, AL
| Chattahoochee County, GA
| Harris County, GA
| Marion County, GA
| Muscogee County, GA
18020 | Columbus, IN | 0.9445 | 0.9617
| Bartholomew County, IN
18140 | ¹ Columbus, OH | 1.0076 | 1.0052
| Delaware County, OH
| Fairfield County, OH
| Franklin County, OH
| Licking County, OH
| Madison County, OH
| Morrow County, OH
| Pickaway County, OH
| Union County, OH
18580 | Corpus Christi, TX | 0.8438 | 0.8902
| Aransas County, TX
| Nueces County, TX
| San Patricio County, TX
18700 | Corvallis, OR | 1.1334 | 1.0895
| Benton County, OR
19060 | ² Cumberland, MD-WV (MD Hospitals) | 0.8881 | 0.9219
| Allegany County, MD
| Mineral County, WV
19060 | Cumberland, MD-WV (WV Hospitals) | 0.8151 | 0.8694
| Allegany County, MD
| Mineral County, WV
19124 | ¹ Dallas-Plano-Irving, TX | 0.9977 | 0.9984
| Collin County, TX
| Dallas County, TX
| Delta County, TX
| Denton County, TX
| Ellis County, TX
| Hunt County, TX
| Kaufman County, TX
| Rockwall County, TX
19140 | Dalton, GA | 0.8955 | 0.9272
| Murray County, GA
| Whitfield County, GA
19180 | Danville, IL | 0.9554 | 0.9692
| Vermilion County, IL
19260 | Danville, VA | 0.8499 | 0.8946
| Pittsylvania County, VA
| Danville City, VA
19340 | Davenport-Moline-Rock Island, IA-IL | 0.8836 | 0.9187
| Henry County, IL
| Mercer County, IL
| Rock Island County, IL
| Scott County, IA
19380 | Dayton, OH | 0.9185 | 0.9434
| Greene County, OH
| Miami County, OH
| Montgomery County, OH
| Preble County, OH
19460 | Decatur, AL | 0.8065 | 0.8631
| Lawrence County, AL
| Morgan County, AL
19500 | ² Decatur, IL | 0.8358 | 0.8844
| Macon County, IL
19660 | Deltona-Daytona Beach-Ormond Beach, FL | 0.9203 | 0.9447
| Volusia County, FL
19740 | ¹ Denver-Aurora, CO | 1.0719 | 1.0487
| Adams County, CO
| Arapahoe County, CO
| Broomfield County, CO
| Clear Creek County, CO
| Denver County, CO
| Douglas County, CO
| Elbert County, CO
| Gilpin County, CO
| Jefferson County, CO
| Park County, CO
19780 | Des Moines-West Des Moines, IA | 0.9170 | 0.9424
| Dallas County, IA
| Guthrie County, IA
| Madison County, IA
| Polk County, IA
| Warren County, IA
19804 | ¹,³ Detroit-Livonia-Dearborn, MI | 1.0381 | 1.0259
| Wayne County, MI
20020 | Dothan, AL | 0.7664 | 0.8334
| Geneva County, AL
| Henry County, AL
| Houston County, AL
20100 | Dover, DE | 1.0154 | 1.0105
| Kent County, DE
20220 | Dubuque, IA | 0.8994 | 0.9300
| Dubuque County, IA
20260 | Duluth, MN-WI | 1.0285 | 1.0194
| Carlton County, MN
| St. Louis County, MN
| Douglas County, WI
20500 | Durham, NC | 0.9677 | 0.9778
| Chatham County, NC
| Durham County, NC
| Orange County, NC
| Person County, NC
20740 | Eau Claire, WI | 0.9613 | 0.9733
| Chippewa County, WI
| Eau Claire County, WI
20764 | ¹,² Edison, NJ | 1.1402 | 1.0940
| Middlesex County, NJ
| Monmouth County, NJ
| Ocean County, NJ
| Somerset County, NJ
20940 | ² El Centro, CA | 1.1202 | 1.0808
| Imperial County, CA
21060 | Elizabethtown, KY | 0.8633 | 0.9042
| Hardin County, KY
| Larue County, KY
21140 | Elkhart-Goshen, IN | 0.9376 | 0.9568
| Elkhart County, IN
21300 | ² Elmira, NY | 0.8430 | 0.8896
| Chemung County, NY
21340 | El Paso, TX | 0.9238 | 0.9472
| El Paso County, TX
21500 | Erie, PA | 0.8832 | 0.9185
| Erie County, PA
21604 | ² Essex County, MA | 1.0757 | 1.0512
| Essex County, MA
21660 | ³ Eugene-Springfield, OR | 1.0966 | 1.0652
| Lane County, OR
21780 | Evansville, IN-KY | 0.8898 | 0.9232
| Gibson County, IN
| Posey County, IN
| Vanderburgh County, IN
| Warrick County, IN
| Henderson County, KY
| Webster County, KY
21820 | Fairbanks, AK | 1.0993 | 1.0670
| Fairbanks North Star Borough, AK
21940 | Fajardo, PR | 0.4040 | 0.5376
| Ceiba Municipio, PR
| Fajardo Municipio, PR
| Luquillo Municipio, PR
22020 | ³ Fargo, ND-MN (ND Hospitals) | 0.8367 | 0.8851
| Clay County, MN
| Cass County, ND
22020 | ²,³ Fargo, ND-MN (MN Hospitals) | 0.9195 | 0.9441
| Clay County, MN
| Cass County, ND
22140 | ² Farmington, NM | 0.8375 | 0.8856
| San Juan County, NM
22180 | Fayetteville, NC | 0.9453 | 0.9622
| Cumberland County, NC
| Hoke County, NC
22220 | Fayetteville-Springdale-Rogers, AR-MO | 0.9027 | 0.9323
| Benton County, AR
| Madison County, AR
| Washington County, AR
| McDonald County, MO
22380 | Flagstaff, AZ | 1.1538 | 1.1029
| Coconino County, AZ
22420 | Flint, MI | 1.0798 | 1.0540
| Genesee County, MI
22500 | Florence, SC | 0.8703 | 0.9093
| Darlington County, SC
| Florence County, SC
22520 | Florence-Muscle Shoals, AL | 0.7876 | 0.8492
| Colbert County, AL
| Lauderdale County, AL
22540 | Fond du Lac, WI | 1.0368 | 1.0251
| Fond du Lac County, WI
22660 | Fort Collins-Loveland, CO | 0.9233 | 0.9468
| Larimer County, CO
22744 | ¹ Fort Lauderdale-Pompano Beach-Deerfield Beach, FL | 1.0320 | 1.0218
| Broward County, FL
22900 | Fort Smith, AR-OK | 0.7850 | 0.8472
| Crawford County, AR
| Franklin County, AR
| Sebastian County, AR
| Le Flore County, OK
| Sequoyah County, OK
23020 | ² Fort Walton Beach-Crestview-Destin, FL | 0.8733 | 0.9114
| Okaloosa County, FL
23060 | Fort Wayne, IN | 0.9283 | 0.9503
| Allen County, IN
| Wells County, IN
| Whitley County, IN
23104 | ¹ Fort Worth-Arlington, TX | 0.9556 | 0.9694
| Johnson County, TX
| Parker County, TX
| Tarrant County, TX
| Wise County, TX
23420 | ² Fresno, CA | 1.1202 | 1.0808
| Fresno County, CA
23460 | Gadsden, AL | 0.8060 | 0.8627
| Etowah County, AL
23540 | Gainesville, FL | 0.9420 | 0.9599
| Alachua County, FL
| Gilchrist County, FL
23580 | Gainesville, GA | 0.9227 | 0.9464
| Hall County, GA
23844 | Gary, IN | 0.9397 | 0.9583
| Jasper County, IN
| Lake County, IN
| Newton County, IN
| Porter County, IN
24020 | Glens Falls, NY | 0.8622 | 0.9035
| Warren County, NY
| Washington County, NY
24140 | Goldsboro, NC | 0.9176 | 0.9428
| Wayne County, NC
24220 | ³ Grand Forks, ND-MN (ND Hospitals) | 0.7824 | 0.8453
| Polk County, MN
| Grand Forks County, ND
24220 | ²,³ Grand Forks, ND-MN (MN Hospitals) | 0.9195 | 0.9441
| Polk County, MN
| Grand Forks County, ND
24300 | ³ Grand Junction, CO | 0.9655 | 0.9762
| Mesa County, CO
24340 | Grand Rapids-Wyoming, MI | 0.9554 | 0.9692
| Barry County, MI
| Ionia County, MI
| Kent County, MI
| Newaygo County, MI
24500 | Great Falls, MT | 0.8747 | 0.9124
| Cascade County, MT
24540 | Greeley, CO | 0.9989 | 0.9992
| Weld County, CO
24580 | ² Green Bay, WI | 0.9607 | 0.9729
| Brown County, WI
| Kewaunee County, WI
| Oconto County, WI
24660 | Greensboro-High Point, NC | 0.8982 | 0.9291
| Guilford County, NC
| Randolph County, NC
| Rockingham County, NC
24780 | Greenville, NC | 0.9329 | 0.9535
| Greene County, NC
| Pitt County, NC
24860 | Greenville, SC | 0.9566 | 0.9701
| Greenville County, SC
| Laurens County, SC
| Pickens County, SC
25020 | Guayama, PR | 0.3235 | 0.4617
| Arroyo Municipio, PR
| Guayama Municipio, PR
| Patillas Municipio, PR
25060 | Gulfport-Biloxi, MS | 0.8748 | 0.9125
| Hancock County, MS
| Harrison County, MS
| Stone County, MS
25180 | Hagerstown-Martinsburg, MD-WV | 0.9314 | 0.9525
| Washington County, MD
| Berkeley County, WV
| Morgan County, WV
25260 | ² Hanford-Corcoran, CA | 1.1202 | 1.0808
| Kings County, CA
25420 | Harrisburg-Carlisle, PA | 0.9373 | 0.9566
| Cumberland County, PA
| Dauphin County, PA
| Perry County, PA
25500 | Harrisonburg, VA | 0.9162 | 0.9418
| Rockingham County, VA
| Harrisonburg City, VA
25540 | ¹,² Hartford-West Hartford-East Hartford, CT | 1.1988 | 1.1322
| Hartford County, CT
| Litchfield County, CT
| Middlesex County, CT
| Tolland County, CT
25620 | ² Hattiesburg, MS | 0.7796 | 0.8432
| Forrest County, MS
| Lamar County, MS
| Perry County, MS
25860 | Hickory-Lenoir-Morganton, NC | 0.8991 | 0.9298
| Alexander County, NC
| Burke County, NC
| Caldwell County, NC
| Catawba County, NC
25980 | Hinesville-Fort Stewart, GA | 0.7825 | 0.8454
| Liberty County, GA
| Long County, GA
26100 | Holland-Grand Haven, MI | 0.9217 | 0.9457
| Ottawa County, MI
26180 | Honolulu, HI | 1.0911 | 1.0615
| Honolulu County, HI
26300 | Hot Springs, AR | 0.8829 | 0.9182
| Garland County, AR
26380 | Houma-Bayou Cane-Thibodaux, LA | 0.8185 | 0.8718
| Lafourche Parish, LA
| Terrebonne Parish, LA
26420 | ¹ Houston-Sugar Land-Baytown, TX | 1.0094 | 1.0064
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.8828 | 0.9182
| Boyd County, KY
| Greenup County, KY
| Lawrence County, OH
| Cabell County, WV
| Wayne County, WV
26620 | Huntsville, AL | 0.8967 | 0.9281
| Limestone County, AL
| Madison County, AL
26820 | ³ Idaho Falls, ID | 0.9036 | 0.9329
| Bonneville County, ID
| Jefferson County, ID
26900 | ¹ Indianapolis-Carmel, IN | 0.9769 | 0.9841
| Boone County, IN
| Brown County, IN
| Hamilton County, IN
| Hancock County, IN
| Hendricks County, IN
| Johnson County, IN
| Marion County, IN
| Morgan County, IN
| Putnam County, IN
| Shelby County, IN
26980 | Iowa City, IA | 0.9598 | 0.9723
| Johnson County, IA
| Washington County, IA
27060 | Ithaca, NY | 0.9865 | 0.9907
| Tompkins County, NY
27100 | Jackson, MI | 0.9717 | 0.9805
| Jackson County, MI
27140 | Jackson, MS | 0.8214 | 0.8740
| Copiah County, MS
| Hinds County, MS
| Madison County, MS
| Rankin County, MS
| Simpson County, MS
27180 | Jackson, TN | 0.8796 | 0.9159
| Chester County, TN
| Madison County, TN
27260 | ¹ Jacksonville, FL | 0.9281 | 0.9502
| Baker County, FL
| Clay County, FL
| Duval County, FL
| Nassau County, FL
| St. Johns County, FL
27340 | ² Jacksonville, NC | 0.8629 | 0.9040
| Onslow County, NC
27500 | Janesville, WI | 0.9868 | 0.9909
| Rock County, WI
27620 | Jefferson City, MO | 0.8613 | 0.9028
| Callaway County, MO
| Cole County, MO
| Moniteau County, MO
| Osage County, MO
27740 | ² Johnson City, TN | 0.8122 | 0.8672
| Carter County, TN
| Unicoi County, TN
| Washington County, TN
27780 | Johnstown, PA | 0.8562 | 0.8991
| Cambria County, PA
27860 | Jonesboro, AR | 0.8345 | 0.8835
| Craighead County, AR
| Poinsett County, AR
27900 | Joplin, MO | 0.8794 | 0.9158
| Jasper County, MO
| Newton County, MO
28020 | Kalamazoo-Portage, MI | 1.0797 | 1.0539
| Kalamazoo County, MI
| Van Buren County, MI
28100 | Kankakee-Bradley, IL | 1.0021 | 1.0014
| Kankakee County, IL
28140 | ¹ Kansas City, MO-KS | 0.9345 | 0.9547
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | ² Kennewick-Richland-Pasco, WA | 1.0206 | 1.0141
| Benton County, WA
| Franklin County, WA
28660 | Killeen-Temple-Fort Hood, TX | 0.8993 | 0.9299
| Bell County, TX
| Coryell County, TX
| Lampasas County, TX
28700 | Kingsport-Bristol-Bristol, TN-VA | 0.8215 | 0.8740
| Hawkins County, TN
| Sullivan County, TN
| Bristol City, VA
| Scott County, VA
| Washington County, VA
28740 | Kingston, NY | 0.9442 | 0.9614
| Ulster County, NY
28940 | Knoxville, TN | 0.8227 | 0.8749
| Anderson County, TN
| Blount County, TN
| Knox County, TN
| Loudon County, TN
| Union County, TN
29020 | Kokomo, IN | 0.9657 | 0.9764
| Howard County, IN
| Tipton County, IN
29100 | ² La Crosse, WI-MN (WI Hospitals) | 0.9607 | 0.9683
| Houston County, MN
| La Crosse County, WI
29100 | La Crosse, WI-MN (MN Hospitals) | 0.9541 | 0.9729
| Houston County, MN
| La Crosse County, WI
29140 | Lafayette, IN | 0.8777 | 0.9145
| Benton County, IN
| Carroll County, IN
| Tippecanoe County, IN
29180 | Lafayette, LA | 0.8408 | 0.8880
| Lafayette Parish, LA
| St. Martin Parish, LA
29340 | Lake Charles, LA | 0.7922 | 0.8526
| Calcasieu Parish, LA
| Cameron Parish, LA
29404 | Lake County-Kenosha County, IL-WI | 1.0651 | 1.0441
| Lake County, IL
| Kenosha County, WI
29460 | Lakeland, FL | 0.9056 | 0.9344
| Polk County, FL
29540 | Lancaster, PA | 0.9942 | 0.9960
| Lancaster County, PA
29620 | Lansing-East Lansing, MI | 1.0068 | 1.0047
| Clinton County, MI
| Eaton County, MI
| Ingham County, MI
29700 | Laredo, TX | 0.8227 | 0.8749
| Webb County, TX
29740 | Las Cruces, NM | 0.9124 | 0.9391
| Dona Ana County, NM
29820 | ¹ Las Vegas-Paradise, NV | 1.1148 | 1.0773
| Clark County, NV
29940 | Lawrence, KS | 0.8333 | 0.8826
| Douglas County, KS
30020 | Lawton, OK | 8485 | 0.8936
| Comanche County, OK 0.
30140 | Lebanon, PA | 0.8756 | 0.9130
| Lebanon County, PA
30300 | Lewiston, ID-WA (ID Hospitals) | 0.9650 | 0.9759
| Nez Perce County, ID
| Asotin County, WA
30300 | ² Lewiston, ID-WA (WA Hospitals) | 1.0206 | 1.0141
| Nez Perce County, ID
| Asotin County, WA
30340 | Lewiston-Auburn, ME | 0.9235 | 0.9470
| Androscoggin County, ME
30460 | Lexington-Fayette, KY | 0.8965 | 0.9279
| Bourbon County, KY
| Clark County, KY
| Fayette County, KY
| Jessamine County, KY
| Scott County, KY
| Woodford County, KY
30620 | Lima, OH | 0.8925 | 0.9251
| Allen County, OH
30700 | Lincoln, NE | 0.9966 | 0.9977
| Lancaster County, NE
| Seward County, NE
30780 | Little Rock-North Little Rock, AR | 0.9704 | 0.9796
| Faulkner County, AR
| Grant County, AR
| Lonoke County, AR
| Perry County, AR
| Pulaski County, AR
| Saline County, AR
30860 | Logan, UT-ID | 0.9045 | 0.9336
| Franklin County, ID
| Cache County, UT
30980 | Longview, TX | 0.8946 | 0.9266
| Gregg County, TX
| Rusk County, TX
| Upshur County, TX
31020 | Longview, WA | 1.0239 | 1.0163
| Cowlitz County, WA
31084 | ¹,³ Los Angeles-Long Beach-Glendale, CA | 1.1686 | 1.1126
| Los Angeles County, CA
31140 | ¹ Louisville-Jefferson County, KY-IN | 0.9155 | 0.9413
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8536 | 0.8973
| Crosby County, TX
| Lubbock County, TX
31340 | Lynchburg, VA | 0.8600 | 0.9019
| Amherst County, VA
| Appomattox County, VA
| Bedford County, VA
| Campbell County, VA
| Bedford City, VA
| Lynchburg City, VA
31420 | Macon, GA | 0.9798 | 0.9861
| Bibb County, GA
| Crawford County, GA
| Jones County, GA
| Monroe County, GA
| Twiggs County, GA
31460 | ² Madera, CA | 1.1202 | 1.0808
| Madera County, CA
31540 | Madison, WI | 1.0841 | 1.0569
| Columbia County, WI
| Dane County, WI
| Iowa County, WI
31700 | ² Manchester-Nashua, NH | 1.1732 | 1.1156
| Hillsborough County, NH
| Merrimack County, NH
31900 | Mansfield, OH | 0.9236 | 0.9470
| Richland County, OH
32420 | Mayagüez, PR | 0.3807 | 0.5162
| Hormigueros Municipio, PR
| Mayagüez Municipio, PR
32580 | McAllen-Edinburg-Mission, TX | 0.8794 | 0.9158
| Hidalgo County, TX
32780 | Medford, OR | 1.0756 | 1.0512
| Jackson County, OR
32820 | ¹ Memphis, TN-MS-AR | 0.9307 | 0.9520
| Crittenden County, AR
| DeSoto County, MS
| Marshall County, MS
| Tate County, MS
| Tunica County, MS
| Fayette County, TN
| Shelby County, TN
| Tipton County, TN
32900 | Merced, CA | 1.1410 | 1.0945
| Merced County, CA
33124 | ¹ Miami-Miami Beach-Kendall, FL | 0.9821 | 0.9877
| Miami-Dade County, FL
33140 | Michigan City-La Porte, IN | 0.9037 | 0.9330
| LaPorte County, IN
33260 | Midland, TX | 0.9538 | 0.9681
| Midland County, TX
33340 | ¹ Milwaukee-Waukesha-West Allis, WI | 1.0324 | 1.0221
| Milwaukee County, WI
| Ozaukee County, WI
| Washington County, WI
| Waukesha County, WI
33460 | ¹ Minneapolis-St. Paul-Bloomington, MN-WI | 1.0782 | 1.0529
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.8783 | 0.9150
| Missoula County, MT
33660 | Mobile, AL | 0.7847 | 0.8470
| Mobile County, AL
33700 | Modesto, CA | 1.1735 | 1.1158
| Stanislaus County, CA
33740 | Monroe, LA | 0.8074 | 0.8637
| Ouachita Parish, LA
| Union Parish, LA
33780 | Monroe, MI | 0.9787 | 0.9854
| Monroe County, MI
33860 | Montgomery, AL | 0.7933 | 0.8534
| Autauga County, AL
| Elmore County, AL
| Lowndes County, AL
| Montgomery County, AL
34060 | Morgantown, WV | 0.8555 | 0.8986
| Monongalia County, WV
| Preston County, WV
34100 | ² Morristown, TN | 0.8122 | 0.8672
| Grainger County, TN
| Hamblen County, TN
| Jefferson County, TN
34580 | Mount Vernon-Anacortes, WA | 1.0221 | 1.0151
| Skagit County, WA
34620 | ² Muncie, IN | 0.8564 | 0.8993
| Delaware County, IN
34740 | ³ Muskegon-Norton Shores, MI | 1.0105 | 1.0072
| Muskegon County, MI
34820 | Myrtle Beach-Conway-North Myrtle Beach, SC | 0.8882 | 0.9220
| Horry County, SC
34900 | Napa, CA | 1.2933 | 1.1926
| Napa County, CA
34940 | Naples-Marco Island, FL | 1.0107 | 1.0073
| Collier County, FL
34980 | ¹ Nashville-Davidson—Murfreesboro, TN | 0.9810 | 0.9869
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | ¹,³ Nassau-Suffolk, NY | 1.2971 | 1.1950
| Nassau County, NY
| Suffolk County, NY
35084 | ¹ Newark-Union, NJ-PA | 1.1756 | 1.1172
| Essex County, NJ
| Hunterdon County, NJ
| Morris County, NJ
| Sussex County, NJ
| Union County, NJ
| Pike County, PA
35300 | ³ New Haven-Milford, CT | 1.2068 | 1.1374
| New Haven County, CT
35380 | ¹ New Orleans-Metairie-Kenner, LA | 0.8649 | 0.9054
| Jefferson Parish, LA
| Orleans Parish, LA
| Plaquemines Parish, LA
| St. Bernard Parish, LA
| St. Charles Parish, LA
| St. John the Baptist Parish, LA
| St. Tammany Parish, LA
35644 | ¹,³ New York-White Plains-Wayne, NY-NJ | 1.3344 | 1.2184
| Bergen County, NJ
| Hudson County, NJ
| Passaic County, NJ
| Bronx County, NY
| Kings County, NY
| New York County, NY
| Putnam County, NY
| Queens County, NY
| Richmond County, NY
| Rockland County, NY
| Westchester County, NY
35660 | ² Niles-Benton Harbor, MI | 0.9028 | 0.9324
| Berrien County, MI
35980 | Norwich-New London, CT | 1.2031 | 1.1350
| New London County, CT
36084 | ¹ Oakland-Fremont-Hayward, CA | 1.5617 | 1.3570
| Alameda County, CA
| Contra Costa County, CA
36100 | ² Ocala, FL | 0.8733 | 0.9114
| Marion County, FL
36140 | ² Ocean City, NJ | 1.1402 | 1.0940
| Cape May County, NJ
36220 | Odessa, TX | 1.0038 | 1.0026
| Ector County, TX
36260 | Ogden-Clearfield, UT | 0.9080 | 0.9360
| Davis County, UT
| Morgan County, UT
| Weber County, UT
36420 | ¹ Oklahoma City, OK | 0.8807 | 0.9167
| Canadian County, OK
| Cleveland County, OK
| Grady County, OK
| Lincoln County, OK
| Logan County, OK
| McClain County, OK
| Oklahoma County, OK
36500 | Olympia, WA | 1.0962 | 1.0649
| Thurston County, WA
36540 | Omaha-Council Bluffs, NE-IA | 0.9399 | 0.9584
| Harrison County, IA
| Mills County, IA
| Pottawattamie County, IA
| Cass County, NE
| Douglas County, NE
| Sarpy County, NE
| Saunders County, NE
| Washington County, NE
36740 | ¹ Orlando-Kissimmee, FL | 0.9575 | 0.9707
| Lake County, FL
| Orange County, FL
| Osceola County, FL
| Seminole County, FL
36780 | ² Oshkosh-Neenah, WI | 0.9607 | 0.9729
| Winnebago County, WI
36980 | Owensboro, KY | 0.8783 | 0.9150
| Daviess County, KY
| Hancock County, KY
| McLean County, KY
37100 | ² Oxnard-Thousand Oaks-Ventura, CA | 1.1202 | 1.0808
| Ventura County, CA
37340 | Palm Bay-Melbourne-Titusville, FL | 0.9547 | 0.9688
| Brevard County, FL
37460 | ² Panama City-Lynn Haven, FL | 0.8733 | 0.9114
| Bay County, FL
37620 | Parkersburg-Marietta-Vienna, WV-OH (WV Hospitals) | 0.8114 | 0.8667
| Washington County, OH
| Pleasants County, WV
| Wirt County, WV
| Wood County, WV
37620 | ² Parkersburg-Marietta-Vienna, WV-OH (OH Hospitals) | 0.8683 | 0.9078
| Washington County, OH
| Pleasants County, WV
| Wirt County, WV
| Wood County, WV
37700 | Pascagoula, MS | 0.8144 | 0.8688
| George County, MS
| Jackson County, MS
37860 | ² Pensacola-Ferry Pass-Brent, FL | 0.8733 | 0.9114
| Escambia County, FL
| Santa Rosa County, FL
37900 | Peoria, IL | 0.9126 | 0.9393
| Marshall County, IL
| Peoria County, IL
| Stark County, IL
| Tazewell County, IL
| Woodford County, IL
37964 | ¹ Philadelphia, PA | 1.0996 | 1.0672
| Bucks County, PA
| Chester County, PA
| Delaware County, PA
| Montgomery County, PA
| Philadelphia County, PA
38060 | ¹ Phoenix-Mesa-Scottsdale, AZ | 1.0146 | 1.0100
| Maricopa County, AZ
| Pinal County, AZ
38220 | Pine Bluff, AR | 0.8717 | 0.9103
| Cleveland County, AR
| Jefferson County, AR
| Lincoln County, AR
38300 | ¹ Pittsburgh, PA | 0.8568 | 0.8996
| Allegheny County, PA
| Armstrong County, PA
| Beaver County, PA
| Butler County, PA
| Fayette County, PA
| Washington County, PA
| Westmoreland County, PA
38340 | ² Pittsfield, MA | 1.0757 | 1.0512
| Berkshire County, MA
38540 | Pocatello, ID | 0.9204 | 0.9448
| Bannock County, ID
| Power County, ID
38660 | Ponce, PR | 0.4712 | 0.5973
| Juana Díaz Municipio, PR
| Ponce Municipio, PR
| Villalba Municipio, PR
38860 | Portland-South Portland-Biddeford, ME | 0.9862 | 0.9905
| Cumberland County, ME
| Sagadahoc County, ME
| York County, ME
38900 | ¹ Portland-Vancouver-Beaverton, OR-WA | 1.1210 | 1.0814
| Clackamas County, OR
| Columbia County, OR
| Multnomah County, OR
| Washington County, OR
| Yamhill County, OR
| Clark County, WA
| Skamania County, WA
38940 | Port St. Lucie-Fort Pierce, FL | 0.9906 | 0.9936
| Martin County, FL
| St. Lucie County, FL
39100 | Poughkeepsie-Newburgh-Middletown, NY | 1.0966 | 1.0652
| Dutchess County, NY
| Orange County, NY
39140 | Prescott, AZ | 0.9748 | 0.9827
| Yavapai County, AZ
39300 | ¹,² Providence-New Bedford-Fall River, RI-MA (RI Hospitals) | 1.0744 | 1.0504
| Bristol County, MA
| Bristol County, RI
| Kent County, RI
| Newport County, RI
| Providence County, RI
| Washington County, RI
39300 | ¹,² Providence-New Bedford-Fall River, RI-MA (MA Hospitals) | 1.0757 | 1.0512
| Bristol County, MA
| Bristol County, RI
| Kent County, RI
| Newport County, RI
| Providence County, RI
| Washington County, RI
39340 | Provo-Orem, UT | 0.9479 | 0.9640
| Juab County, UT
| Utah County, UT
39380 | ² Pueblo, CO | 0.9091 | 0.9368
| Pueblo County, CO
39460 | Punta Gorda, FL | 0.9717 | 0.9805
| Charlotte County, FL
39540 | ² Racine, WI | 0.9607 | 0.9729
| Racine County, WI
39580 | Raleigh-Cary, NC | 0.9722 | 0.9809
| Franklin County, NC
| Johnston County, NC
| Wake County, NC
39660 | Rapid City, SD | 0.8708 | 0.9096
| Meade County, SD
| Pennington County, SD
39740 | Reading, PA | 0.9709 | 0.9800
| Berks County, PA
39820 | Redding, CA | 1.2450 | 1.1619
| Shasta County, CA
39900 | Reno-Sparks, NV | 1.2126 | 1.1411
| Storey County, NV
| Washoe County, NV
40060 | ¹ Richmond, VA | 0.8997 | 0.9302
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | ¹,² Riverside-San Bernardino-Ontario, CA | 1.1202 | 1.0808
| Riverside County, CA
| San Bernardino County, CA
40220 | Roanoke, VA | 0.8803 | 0.9164
| Botetourt County, VA
| Craig County, VA
| Franklin County, VA
| Roanoke County, VA
| Roanoke City, VA
| Salem City, VA
40340 | Rochester, MN | 1.1239 | 1.0833
| Dodge County, MN
| Olmsted County, MN
| Wabasha County, MN
40380 | ¹ Rochester, NY | 0.9103 | 0.9377
| Livingston County, NY
| Monroe County, NY
| Ontario County, NY
| Orleans County, NY
| Wayne County, NY
40420 | Rockford, IL | 1.0048 | 1.0033
| Boone County, IL
| Winnebago County, IL
40484 | ² Rockingham County-Strafford County, NH | 1.1732 | 1.1156
| Rockingham County, NH
| Strafford County, NH
40580 | Rocky Mount, NC | 0.8900 | 0.9233
| Edgecombe County, NC
| Nash County, NC
40660 | Rome, GA | 0.9699 | 0.9793
| Floyd County, GA
40900 | ¹ Sacramento—Arden-Arcade—Roseville, CA | 1.2986 | 1.1959
| El Dorado County, CA
| Placer County, CA
| Sacramento County, CA
| Yolo County, CA
40980 | Saginaw-Saginaw Township North, MI | 0.9211 | 0.9453
| Saginaw County, MI
41060 | St. Cloud, MN | 1.1029 | 1.0694
| Benton County, MN
| Stearns County, MN
41100 | St. George, UT | 0.9452 | 0.9621
| Washington County, UT
41140 | St. Joseph, MO-KS | 1.0233 | 1.0159
| Doniphan County, KS
| Andrew County, MO
| Buchanan County, MO
| DeKalb County, MO
41180 | St. Louis, MO-IL | 0.8998 | 0.9302
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0283 | 1.0193
| Marion County, OR
| Polk County, OR
41500 | Salinas, CA | 1.4220 | 1.2726
| Monterey County, CA
41540 | ² Salisbury, MD | 0.8881 | 0.9219
| Somerset County, MD
| Wicomico County, MD
41620 | Salt Lake City, UT | 0.9476 | 0.9638
| Salt Lake County, UT
| Summit County, UT
| Tooele County, UT
41660 | San Angelo, TX | 0.8483 | 0.8935
| Irion County, TX
| Tom Green County, TX
41700 | ¹ San Antonio, TX | 0.8945 | 0.9265
| Atascosa County, TX
| Bandera County, TX
| Bexar County, TX
| Comal County, TX
| Guadalupe County, TX
| Kendall County, TX
| Medina County, TX
| Wilson County, TX
41740 | ¹,² San Diego-Carlsbad-San Marcos, CA | 1.1202 | 1.0808
| San Diego County, CA
41780 | Sandusky, OH | 0.9258 | 0.9486
| Erie County, OH
41884 | ¹ San Francisco-San Mateo-Redwood City, CA | 1.5419 | 1.3452
| Marin County, CA
| San Francisco County, CA
| San Mateo County, CA
41900 | San Germán-Cabo Rojo, PR | 0.4856 | 0.6098
| Cabo Rojo Municipio, PR
| Lajas Municipio, PR
| Sabana Grande Municipio, PR
| San Germán Municipio, PR
41940 | ¹ San Jose-Sunnyvale-Santa Clara, CA | 1.5324 | 1.3395
| San Benito County, CA
| Santa Clara County, CA
41980 | ¹ San Juan-Caguas-Guaynabo, PR | 0.4449 | 0.5743
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | ² San Luis Obispo-Paso Robles, CA | 1.1202 | 1.0808
| San Luis Obispo County, CA
42044 | ¹ Santa Ana-Anaheim-Irvine, CA | 1.1350 | 1.0906
| Orange County, CA
42060 | ² Santa Barbara-Santa Maria, CA | 1.1202 | 1.0808
| Santa Barbara County, CA
42100 | Santa Cruz-Watsonville, CA | 1.5056 | 1.3234
| Santa Cruz County, CA
42140 | Santa Fe, NM | 1.0808 | 1.0547
| Santa Fe County, NM
42220 | Santa Rosa-Petaluma, CA | 1.4322 | 1.2789
| Sonoma County, CA
42260 | Sarasota-Bradenton-Venice, FL | 0.9743 | 0.9823
| Manatee County, FL
| Sarasota County, FL
42340 | Savannah, GA | 0.9139 | 0.9402
| Bryan County, GA
| Chatham County, GA
| Effingham County, GA
42540 | ² Scranton—Wilkes-Barre, PA | 0.8301 | 0.8803
| Lackawanna County, PA
| Luzerne County, PA
| Wyoming County, PA
42644 | ¹ Seattle-Bellevue-Everett, WA | 1.1261 | 1.0847
| King County, WA
| Snohomish County, WA
42680 | Sebastian-Vero Beach, FL | 0.9886 | 0.9922
| Indian River County, FL
43100 | ² Sheboygan, WI | 0.9607 | 0.9729
| Sheboygan County, WI
43300 | Sherman-Denison, TX | 0.8651 | 0.9055
| Grayson County, TX
43340 | Shreveport-Bossier City, LA | 0.8848 | 0.9196
| Bossier Parish, LA
| Caddo Parish, LA
| De Soto Parish, LA
43580 | Sioux City, IA-NE-SD | 0.9062 | 0.9348
| Woodbury County, IA
| Dakota County, NE
| Dixon County, NE
| Union County, SD
43620 | Sioux Falls, SD | 0.9351 | 0.9551
| Lincoln County, SD
| McCook County, SD
| Minnehaha County, SD
| Turner County, SD
43780 | South Bend-Mishawaka, IN-MI | 0.9914 | 0.9941
| St. Joseph County, IN
| Cass County, MI
43900 | Spartanburg, SC | 0.9072 | 0.9355
| Spartanburg County, SC
44060 | Spokane, WA | 1.0422 | 1.0287
| Spokane County, WA
44100 | Springfield, IL | 0.8951 | 0.9269
| Menard County, IL
| Sangamon County, IL
44140 | ² Springfield, MA | 1.0757 | 1.0512
| Franklin County, MA
| Hampden County, MA
| Hampshire County, MA
44180 | Springfield, MO | 0.8570 | 0.8997
| Christian County, MO
| Dallas County, MO
| Greene County, MO
| Polk County, MO
| Webster County, MO
44220 | ² Springfield, OH | 0.8683 | 0.9078
| Clark County, OH
44300 | State College, PA | 0.8655 | 0.9058
| Centre County, PA
44700 | Stockton, CA | 1.1474 | 1.0987
| San Joaquin County, CA
44940 | ² Sumter, SC | 0.8692 | 0.9085
| Sumter County, SC
45060 | Syracuse, NY | 0.9776 | 0.9846
| Madison County, NY
| Onondaga County, NY
| Oswego County, NY
45104 | Tacoma, WA | 1.0710 | 1.0481
| Pierce County, WA
45220 | Tallahassee, FL | 0.8959 | 0.9275
| Gadsden County, FL
| Jefferson County, FL
| Leon County, FL
| Wakulla County, FL
45300 | ¹ Tampa-St. Petersburg-Clearwater, FL | 0.9265 | 0.9491
| Hernando County, FL
| Hillsborough County, FL
| Pasco County, FL
| Pinellas County, FL
45460 | Terre Haute, IN | 0.8806 | 0.9166
| Clay County, IN
| Sullivan County, IN
| Vermillion County, IN
| Vigo County, IN
45500 | ² Texarkana, TX-Texarkana, AR (TX Hospitals) | 0.8225 | 0.8748
| Miller County, AR
| Bowie County, TX
45500 | Texarkana, TX-Texarkana, AR (AR Hospitals) | 0.8107 | 0.8661
| Miller County, AR
| Bowie County, TX
45780 | Toledo, OH | 0.9455 | 0.9623
| Fulton County, OH
| Lucas County, OH
| Ottawa County, OH
| Wood County, OH
45820 | Topeka, KS | 0.8763 | 0.9135
| Jackson County, KS
| Jefferson County, KS
| Osage County, KS
| Shawnee County, KS
| Wabaunsee County, KS
45940 | ² Trenton-Ewing, NJ | 1.1402 | 1.0940
| Mercer County, NJ
46060 | Tucson, AZ | 0.9390 | 0.9578
| Pima County, AZ
46140 | Tulsa, OK | 0.8310 | 0.8809
| Creek County, OK
| Okmulgee County, OK
| Osage County, OK
| Pawnee County, OK
| Rogers County, OK
| Tulsa County, OK
| Wagoner County, OK
46220 | Tuscaloosa, AL | 0.8761 | 0.9134
| Greene County, AL
| Hale County, AL
| Tuscaloosa County, AL
46340 | Tyler, TX | 0.8963 | 0.9278
| Smith County, TX
46540 | Utica-Rome, NY | 0.8753 | 0.9128
| Herkimer County, NY
| Oneida County, NY
46660 | Valdosta, GA | 0.8632 | 0.9042
| Brooks County, GA
| Echols County, GA
| Lanier County, GA
| Lowndes County, GA
46700 | Vallejo-Fairfield, CA | 1.4794 | 1.3076
| Solano County, CA
47020 | Victoria, TX | 0.8426 | 0.8893
| Calhoun County, TX
| Goliad County, TX
| Victoria County, TX
47220 | ² Vineland-Millville-Bridgeton, NJ | 1.1402 | 1.0940
| Cumberland County, NJ
47260 | ¹ Virginia Beach-Norfolk-Newport News, VA-NC | 0.8774 | 0.9143
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | ² Visalia-Porterville, CA | 1.1202 | 1.0808
| Tulare County, CA
47380 | Waco, TX | 0.8748 | 0.9125
| McLennan County, TX
47580 | Warner Robins, GA | 0.8812 | 0.9170
| Houston County, GA
47644 | ¹ Warren-Troy-Farmington Hills, MI | 1.0108 | 1.0074
| Lapeer County, MI
| Livingston County, MI
| Macomb County, MI
| Oakland County, MI
| St. Clair County, MI
47894 | ¹ Washington-Arlington-Alexandria, DC-VA-MD-WV | 1.0977 | 1.0659
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | ²,³ Waterloo-Cedar Falls, IA | 0.8803 | 0.9164
| Black Hawk County, IA
| Bremer County, IA
| Grundy County, IA
48140 | Wausau, WI | 0.9947 | 0.9964
| Marathon County, WI
48260 | Weirton-Steubenville, WV-OH (WV Hospitals) | 0.8057 | 0.8625
| Jefferson County, OH
| Brooke County, WV
| Hancock County, WV
48260 | ² Weirton-Steubenville, WV-OH (OH Hospitals) | 0.8683 | 0.9078
| Jefferson County, OH
| Brooke County, WV
| Hancock County, WV
48300 | ² Wenatchee, WA | 1.0206 | 1.0141
| Chelan County, WA
| Douglas County, WA
48424 | ¹ West Palm Beach-Boca Raton-Boynton Beach, FL | 0.9535 | 0.9679
| Palm Beach County, FL
48540 | ² Wheeling, WV-OH (WV Hospitals) | 0.7754 | 0.8401
| Belmont County, OH
| Marshall County, WV
| Ohio County, WV
48540 | ² Wheeling, WV-OH (OH Hospitals) | 0.8683 | 0.9078
| Belmont County, OH
| Marshall County, WV
| Ohio County, WV
48620 | Wichita, KS | 0.9016 | 0.9315
| Butler County, KS
| Harvey County, KS
| Sedgwick County, KS
| Sumner County, KS
48660 | Wichita Falls, TX | 0.8562 | 0.8991
| Archer County, TX
| Clay County, TX
| Wichita County, TX
48700 | ² Williamsport, PA | 0.8301 | 0.8803
| Lycoming County, PA
48864 | Wilmington, DE-MD-NJ (DE, MD Hospitals) | 1.0570 | 1.0387
| New Castle County, DE
| Cecil County, MD
| Salem County, NJ
48864 | ² Wilmington, DE-MD-NJ (NJ Hospitals) | 1.1402 | 1.0940
| New Castle County, DE
| Cecil County, MD
| Salem County, NJ
48900 | Wilmington, NC | 0.9771 | 0.9843
| Brunswick County, NC
| New Hanover County, NC
| Pender County, NC
49020 | Winchester, VA-WV | 1.0057 | 1.0039
| Frederick County, VA
| Winchester City, VA
| Hampshire County, WV
49180 | Winston-Salem, NC | 0.9246 | 0.9477
| Davie County, NC
| Forsyth County, NC
| Stokes County, NC
| Yadkin County, NC
49340 | Worcester, MA | 1.0796 | 1.0538
| Worcester County, MA
49420 | ² Yakima, WA | 1.0206 | 1.0141
| Yakima County, WA
49500 | Yauco, PR | 0.3771 | 0.5128
| Guánica Municipio, PR
| Guayanilla Municipio, PR
| Peñuelas Municipio, PR
| Yauco Municipio, PR
49620 | York-Hanover, PA | 0.9496 | 0.9652
| York County, PA
49660 | Youngstown-Warren-Boardman, OH-PA | 0.8799 | 0.9161
| Mahoning County, OH
| Trumbull County, OH
| Mercer County, PA
49700 | ² Yuba City, CA | 1.1202 | 1.0808
| Sutter County, CA
| Yuba County, CA
49740 | ² Yuma, AZ | 0.9269 | 0.9493
| Yuma County, AZ
¹ Large urban area.
² Hospitals geographically located in the area are assigned the statewide rural wage index for FY 2007.
³ For this area, the wage index and GAF on this table are only effective from October 1, 2006 through March 31, 2007. See Table 4A-2 for the values that are effective from April 1 through September 30, 2007.

Table 4A-2.—Wage Index and Capital Geographic Adjustment Factor (GAF) for Certain Urban Areas by CBSA for the Period April 1 Through September 30, 2007 *
CBSA code | Urban area (constituent counties) | Wage index | GAF
11260 | Anchorage, AK | 1.1927 | 1.1283
11460 | Ann Arbor, MI | 1.0678 | 1.0459
13020 | Bay City, MI | 1.0044 | 1.0030
13900 | Bismarck, ND | 0.7368 | 0.8113
16220 | Casper, WY | 0.9091 | 0.9368
16300 | Cedar Rapids, IA | 0.8708 | 0.9096
16940 | Cheyenne, WY | 0.9048 | 0.9338
19804 | Detroit-Livonia-Dearborn, MI | 1.0381 | 1.0259
21660 | Eugene-Springfield, OR | 1.0966 | 1.0652
22020 | Fargo, ND-MN (ND Hospitals) | 0.8367 | 0.8851
22020 | Fargo, ND-MN (MN Hospitals) | 0.9280 | 0.9501
24220 | Grand Forks, ND-MN (ND Hospitals) | 0.7824 | 0.8453
24220 | Grand Forks, ND-MN (MN Hospitals) | 0.9280 | 0.9501
24300 | Grand Junction, CO | 0.9879 | 0.9917
26820 | Idaho Falls, ID | 0.9217 | 0.9457
31084 | Los Angeles-Long Beach-Santa Ana, CA | 1.1686 | 1.1126
34740 | Muskegon-Norton Shores, MI | 1.0105 | 1.0072
35004 | Nassau-Suffolk, NY | 1.2971 | 1.1950
35300 | New Haven-Milford, CT | 1.2142 | 1.1421
35644 | New York-White Plains-Wayne, NY-NJ | 1.3344 | 1.2184
47940 | Waterloo-Cedar Falls, IA | 0.8615 | 0.9029
* See Table 4A-1 for the wage index and GAF that are effective from October 1, 2006 through March 31, 2007. For areas that are not listed on this table, the wage index and GAF on Table 4A-1 are effective for the entire FY 2007.

Table 4B-1.—Wage Index and Capital Geographic Adjustment (GAF) for Rural Areas by CBSA—FY 2007
CBSA code | Nonurban area | Wage index | GAF
01 | Alabama | 0.7664 | 0.8334
02 | Alaska | 1.0702 | 1.0476
03 | Arizona | 0.9269 | 0.9493
04 | Arkansas | 0.7475 | 0.8193
05 | California | 1.1202 | 1.0808
06 | Colorado | 0.9091 | 0.9368
07 | Connecticut | 1.1988 | 1.1322
08 | Delaware | 1.0009 | 1.0006
10 | Florida | 0.8733 | 0.9114
11 | Georgia | 0.7825 | 0.8454
12 | Hawaii | 1.0627 | 1.0425
13 | Idaho | 0.8568 | 0.8996
14 | Illinois | 0.8358 | 0.8844
15 | Indiana | 0.8564 | 0.8993
16 | Iowa² | 0.8803 | 0.9164
17 | Kansas | 0.8018 | 0.8596
18 | Kentucky | 0.7805 | 0.8439
19 | Louisiana | 0.7660 | 0.8331
20 | Maine | 0.8393 | 0.8869
21 | Maryland | 0.8881 | 0.9219
22 | Massachusetts¹ | 1.0757 | 1.0512
23 | Michigan | 0.9028 | 0.9324
24 | Minnesota² | 0.9195 | 0.9441
25 | Mississippi | 0.7796 | 0.8432
26 | Missouri | 0.8353 | 0.8841
27 | Montana | 0.8655 | 0.9058
28 | Nebraska | 0.8636 | 0.9045
29 | Nevada | 0.9181 | 0.9432
30 | New Hampshire | 1.1732 | 1.1156
31 | New Jersey¹ | 1.1402 | 1.0940
32 | New Mexico | 0.8375 | 0.8856
33 | New York | 0.8430 | 0.8896
34 | North Carolina | 0.8629 | 0.9040
35 | North Dakota | 0.7368 | 0.8113
36 | Ohio | 0.8683 | 0.9078
37 | Oklahoma | 0.7847 | 0.8470
38 | Oregon² | 1.0194 | 1.0132
39 | Pennsylvania | 0.8301 | 0.8803
40 | Puerto Rico¹ |  |
41 | Rhode Island¹ | 1.0744 | 1.0504
42 | South Carolina | 0.8692 | 0.9085
43 | South Dakota | 0.8298 | 0.8801
44 | Tennessee | 0.8122 | 0.8672
45 | Texas | 0.8225 | 0.8748
46 | Utah | 0.8252 | 0.8767
47 | Vermont | 0.9622 | 0.9740
49 | Virginia | 0.8101 | 0.8657
50 | Washington | 1.0206 | 1.0141
51 | West Virginia | 0.7754 | 0.8401
52 | Wisconsin | 0.9607 | 0.9729
53 | Wyoming² | 0.9199 | 0.9444
¹ All counties in the State or Territory are classified as urban, with the exception of Massachusetts. Massachusetts has area(s) designated as rural. However, no short-term, acute care hospitals are located in the area(s) for FY 2007.
Massachusetts, New Jersey, and Rhode Island rural floors are imputed as discussed in the FY 2005 IPPS final rule, (69 FR 49109).
² For this area, the wage index and GAF on this table are only effective from October 1, 2006 through March 31, 2007. See Table 4C-2 for the values that are effective from April 1 through September 30, 2007.

Table 4B-2.—Wage Index and Capital Geographic Adjustment Factor (GAF) for Certain Rural Areas by CBSA for the Period April 1 Through September 30, 2007 *
CBSA code | Nonurban area | Wage index | GAF
16 | Iowa | 0.8615 | 0.9029
24 | Minnesota | 0.9280 | 0.9501
38 | Oregon | 0.9764 | 0.9838
53 | Wyoming | 0.9048 | 0.9338
* See Table 4B-1 for the wage index and GAF that are effective from October 1, 2006 through March 31, 2007. For areas that are not listed on this table, the wage index and GAF on Table 4B-1 are effective for the entire FY 2007.

Table 4C-1.—Wage Index and Capital Geographic Adjustment Factor (GAF) for Hospitals that are Reclassified by CBSA
CBSA code | Area | Wage index | GAF
10180 | Abilene, TX | 0.8380 | 0.8860
10420 | Akron, OH | 0.8683 | 0.9078
10580 | Albany-Schenectady-Troy, NY | 0.8849 | 0.9197
10740 | Albuquerque, NM | 0.9444 | 0.9616
10780 | Alexandria, LA | 0.7961 | 0.8554
10900 | Allentown-Bethlehem-Easton, PA-NJ | 0.9990 | 0.9993
11020 | Altoona, PA | 0.8538 | 0.8974
11100 | Amarillo, TX | 0.9248 | 0.9479
11180 | Ames, IA | 0.9219 | 0.9458
11460 | ¹ Ann Arbor, MI | 1.0563 | 1.0382
11500 | Anniston-Oxford, AL | 0.7997 | 0.8581
11700 | Asheville, NC | 0.9264 | 0.9490
12020 | Athens-Clarke County, GA | 0.9456 | 0.9624
12060 | Atlanta-Sandy Springs-Marietta, GA | 0.9793 | 0.9858
12260 | Augusta-Richmond County, GA-SC | 0.9531 | 0.9676
12420 | Austin-Round Rock, TX | 0.9328 | 0.9535
12620 | Bangor, ME | 0.9612 | 0.9733
12700 | Barnstable Town, MA | 1.2156 | 1.1430
12940 | Baton Rouge, LA | 0.8085 | 0.8645
13020 | ¹ Bay City, MI | 1.0080 | 1.0055
13644 | Bethesda-Gaithersburg-Frederick, MD | 1.0848 | 1.0573
13780 | Binghamton, NY | 0.8626 | 0.9037
13820 | Birmingham-Hoover, AL | 0.8889 | 0.9225
14260 | Boise City-Nampa, ID | 0.9313 | 0.9524
14484 | Boston-Quincy, MA | 1.1343 | 1.0901
14540 | Bowling Green, KY | 0.8082 | 0.8643
15380 | Buffalo-Niagara Falls, NY | 0.9475 | 0.9637
15540 | Burlington-South Burlington, VT | 0.9436 | 0.9610
15764 | Cambridge-Newton-Framingham, MA | 1.1003 | 1.0676
16180 | Carson City, NV | 0.9468 | 0.9633
16580 | Champaign-Urbana, IL | 0.9096 | 0.9372
16620 | Charleston, WV | 0.8415 | 0.8885
16700 | Charleston-North Charleston, SC | 0.9197 | 0.9443
16740 | Charlotte-Gastonia-Concord, NC-SC | 0.9413 | 0.9594
16820 | Charlottesville, VA | 0.9709 | 0.9800
16860 | Chattanooga, TN-GA | 0.8822 | 0.9177
16974 | Chicago-Naperville-Joliet, IL | 1.0564 | 1.0383
17140 | Cincinnati-Middletown, OH-KY-IN | 0.9522 | 0.9670
17300 | Clarksville, TN-KY | 0.8014 | 0.8593
17460 | Cleveland-Elyria-Mentor, OH | 0.9229 | 0.9465
17780 | College Station-Bryan, TX | 0.8903 | 0.9235
17860 | Columbia, MO | 0.8456 | 0.8915
17900 | Columbia, SC | 0.8942 | 0.9263
17980 | Columbus, GA-AL | 0.8371 | 0.8854
18140 | Columbus, OH | 0.9891 | 0.9925
18700 | Corvallis, OR | 1.0956 | 1.0645
19124 | Dallas-Plano-Irving, TX | 0.9743 | 0.9823
19340 | Davenport-Moline-Rock Island, IA-IL | 0.8836 | 0.9187
19380 | Dayton, OH | 0.9185 | 0.9434
19460 | Decatur, AL | 0.8065 | 0.8631
19740 | Denver-Aurora, CO | 1.0555 | 1.0377
19780 | Des Moines-West Des Moines,IA | 0.9009 | 0.9310
19804 | ¹ Detroit-Livonia-Dearborn, MI | 1.0381 | 1.0259
20100 | Dover, DE | 1.0009 | 1.0006
20260 | Duluth, MN-WI | 1.0285 | 1.0194
20500 | Durham, NC | 0.9677 | 0.9778
20764 | Edison, NJ | 1.1402 | 1.0940
21060 | Elizabethtown, KY | 0.8144 | 0.8688
21500 | Erie, PA | 0.8451 | 0.8911
21660 | ¹ Eugene-Springfield, OR | 1.0494 | 1.0336
21780 | Evansville, IN-KY | 0.8553 | 0.8985
22020 | ¹ Fargo, ND-MN | 0.8367 | 0.8851
22180 | Fayetteville, NC | 0.9245 | 0.9477
22220 | Fayetteville-Springdale-Rogers, AR-MO | 0.8816 | 0.9173
22380 | Flagstaff, AZ | 1.1073 | 1.0723
22420 | Flint, MI | 1.0602 | 1.0408
22520 | Florence-Muscle Shoals, AL | 0.7876 | 0.8492
22660 | Fort Collins-Loveland, CO | 0.9233 | 0.9468
22744 | Fort Lauderdale-Pompano Beach-Deerfield Beach, FL | 1.0320 | 1.0218
22900 | Fort Smith, AR-OK | 0.7847 | 0.8470
23020 | Fort Walton Beach-Crestview-Destin, FL | 0.8733 | 0.9114
23060 | Fort Wayne, IN | 0.9283 | 0.9503
23104 | Fort Worth-Arlington, TX | 0.9556 | 0.9694
23540 | Gainesville, FL | 0.9420 | 0.9599
23844 | Gary, IN | 0.9397 | 0.9583
24340 | Grand Rapids-Wyoming, MI | 0.9554 | 0.9692
24500 | Great Falls, MT | 0.8747 | 0.9124
24540 | Greeley, CO | 0.9857 | 0.9902
24580 | Green Bay, WI (WI Hospitals) | 0.9607 | 0.9729
24580 | Green Bay, WI (MI Hospitals) | 0.9573 | 0.9706
24780 | Greenville, NC | 0.9223 | 0.9461
24860 | Greenville, SC | 0.9208 | 0.9451
25060 | Gulfport-Biloxi, MS | 0.8461 | 0.8919
25420 | Harrisburg-Carlisle, PA | 0.9230 | 0.9466
25540 | Hartford-West Hartford-East Hartford, CT (CT Hospitals) | 1.1988 | 1.1322
25540 | Hartford-West Hartford-East Hartford, CT (MA Hospitals) | 1.0970 | 1.0655
25860 | Hickory-Lenoir-Morganton, NC | 0.8860 | 0.9205
26100 | Holland-Grand Haven, MI | 0.9217 | 0.9457
26180 | Honolulu, HI | 1.0911 | 1.0615
26420 | Houston-Sugar Land-Baytown, TX | 1.0094 | 1.0064
26580 | Huntington-Ashland, WV-KY-OH (WV, KY Hospitals) | 0.8681 | 0.9077
26580 | Huntington-Ashland, WV-KY-OH (OH Hospitals) | 0.8683 | 0.9078
26620 | Huntsville, AL | 0.8756 | 0.9130
26820 | ¹ Idaho Falls, ID | 0.9036 | 0.9329
26900 | Indianapolis-Carmel, IN | 0.9619 | 0.9737
26980 | Iowa City, IA | 0.9454 | 0.9623
27060 | Ithaca, NY | 0.9407 | 0.9590
27140 | Jackson, MS | 0.8214 | 0.8740
27180 | Jackson, TN | 0.8643 | 0.9050
27260 | Jacksonville, FL | 0.9281 | 0.9502
27860 | Jonesboro, AR (AR Hospitals) | 0.8345 | 0.8835
27860 | Jonesboro, AR (MO Hospitals) | 0.8353 | 0.8841
27900 | Joplin, MO | 0.8626 | 0.9037
28020 | Kalamazoo-Portage, MI | 1.0797 | 1.0539
28100 | Kankakee-Bradley, IL | 1.0021 | 1.0014
28140 | Kansas City, MO-KS | 0.9345 | 0.9547
28420 | Kennewick-Richland-Pasco, WA | 1.0206 | 1.0141
28700 | Kingsport-Bristol-Bristol, TN-VA | 0.8215 | 0.8740
28740 | Kingston, NY | 0.9195 | 0.9441
28940 | Knoxville, TN | 0.8227 | 0.8749
29180 | Lafayette, LA | 0.8408 | 0.8880
29404 | Lake County-Kenosha County, IL-WI | 1.0651 | 1.0441
29460 | Lakeland, FL | 0.9056 | 0.9344
29540 | Lancaster, PA | 0.9942 | 0.9960
29620 | Lansing-East Lansing, MI | 0.9896 | 0.9929
29740 | Las Cruces, NM | 0.9124 | 0.9391
29820 | Las Vegas-Paradise, NV | 1.1006 | 1.0678
30020 | Lawton, OK | 0.8485 | 0.8936
30460 | Lexington-Fayette, KY | 0.8643 | 0.9050
30620 | Lima, OH | 0.8925 | 0.9251
30700 | Lincoln, NE | 0.9617 | 0.9736
30780 | Little Rock-North Little Rock, AR | 0.9265 | 0.9491
30980 | Longview, TX | 0.8946 | 0.9266
31084 | ¹ Los Angeles-Long Beach-Santa Ana, CA | 1.1530 | 1.1024
31140 | Louisville-Jefferson County, KY-IN | 0.9155 | 0.9413
31340 | Lynchburg, VA | 0.8600 | 0.9019
31420 | Macon, GA | 0.9443 | 0.9615
31540 | Madison, WI | 1.0621 | 1.0421
31700 | Manchester-Nashua, NH | 1.1732 | 1.1156
32780 | Medford, OR | 1.0404 | 1.0275
32820 | Memphis, TN-MS-AR | 0.8984 | 0.9293
33124 | Miami-Miami Beach-Kendall, FL | 0.9821 | 0.9877
33260 | Midland, TX | 0.9387 | 0.9576
33340 | Milwaukee-Waukesha-West Allis, WI | 1.0209 | 1.0143
33460 | Minneapolis-St. Paul-Bloomington, MN-WI | 1.0782 | 1.0529
33540 | Missoula, MT | 0.8783 | 0.9150
33740 | Monroe, LA | 0.8074 | 0.8637
33860 | Montgomery, AL | 0.7933 | 0.8534
34060 | Morgantown, WV | 0.8555 | 0.8986
34980 | Nashville-Davidson—Murfreesboro, TN | 0.9550 | 0.9690
35084 | Newark-Union, NJ-PA | 1.1756 | 1.1172
35380 | New Orleans-Metairie-Kenner, LA | 0.8649 | 0.9054
35644 | ¹ New York-White Plains-Wayne, NY-NJ | 1.3134 | 1.2053
35980 | Norwich-New London, CT | 1.2031 | 1.1350
36084 | Oakland-Fremont-Hayward, CA | 1.5617 | 1.3570
36140 | Ocean City, NJ | 1.0336 | 1.0229
36220 | Odessa, TX | 0.9714 | 0.9803
36260 | Ogden-Clearfield, UT | 0.9080 | 0.9360
36420 | Oklahoma City, OK | 0.8807 | 0.9167
36540 | Omaha-Council Bluffs, NE-IA | 0.9399 | 0.9584
36740 | Orlando-Kissimmee, FL | 0.9575 | 0.9707
37860 | Pensacola-Ferry Pass-Brent, FL | 0.7871 | 0.8488
37900 | Peoria, IL | 0.8966 | 0.9280
37964 | Philadelphia, PA (PA Hospitals) | 1.0996 | 1.0672
37964 | Philadelphia, PA (NJ Hospitals) | 1.1402 | 1.0940
38220 | Pine Bluff, AR | 0.8397 | 0.8872
38300 | Pittsburgh, PA (PA, WV Hospitals) | 0.8568 | 0.8996
38300 | Pittsburgh, PA (OH Hospitals) | 0.8683 | 0.9078
38340 | Pittsfield, MA | 0.9887 | 0.9922
38540 | Pocatello, ID | 0.9204 | 0.9448
38860 | Portland-South Portland-Biddeford, ME | 0.9472 | 0.9635
38900 | Portland-Vancouver-Beaverton, OR-WA | 1.1210 | 1.0814
38940 | Port St. Lucie-Fort Pierce, FL | 0.9906 | 0.9936
39100 | Poughkeepsie-Newburgh-Middletown, NY | 1.0660 | 1.0447
39340 | Provo-Orem, UT | 0.9479 | 0.9640
39580 | Raleigh-Cary, NC | 0.9492 | 0.9649
39740 | Reading, PA | 0.9709 | 0.9800
39820 | Redding, CA | 1.2203 | 1.1461
39900 | Reno-Sparks, NV | 1.1713 | 1.1144
40060 | Richmond, VA | 0.8997 | 0.9302
40220 | Roanoke, VA | 0.8700 | 0.9090
40340 | Rochester, MN | 1.1239 | 1.0833
40380 | Rochester, NY | 0.9103 | 0.9377
40420 | Rockford, IL | 0.9828 | 0.9882
40484 | Rockingham County, NH | 1.0237 | 1.0162
40660 | Rome, GA | 0.9699 | 0.9793
40900 | Sacramento—Arden-Arcade—Roseville, CA | 1.2986 | 1.1959
40980 | Saginaw-Saginaw Township North, MI | 0.9028 | 0.9324
41060 | St. Cloud, MN | 1.0302 | 1.0206
41100 | St. George, UT | 0.9452 | 0.9621
41140 | St. Joseph, MO-KS | 1.0045 | 1.0031
41180 | St. Louis, MO-IL | 0.8889 | 0.9225
41620 | Salt Lake City, UT | 0.9476 | 0.9638
41700 | San Antonio, TX | 0.8945 | 0.9265
41884 | San Francisco-San Mateo-Redwood City, CA | 1.5260 | 1.3357
41980 | San Juan-Caguas-Guaynabo, PR | 0.4449 | 0.5743
42044 | Santa Ana-Anaheim-Irvine, CA | 1.1202 | 1.0808
42140 | Santa Fe, NM | 0.9808 | 0.9868
42220 | Santa Rosa-Petaluma, CA | 1.4116 | 1.2663
42260 | Sarasota-Bradenton-Venice, FL | 0.9743 | 0.9823
42340 | Savannah, GA | 0.9023 | 0.9320
42644 | Seattle-Bellevue-Everett, WA | 1.1096 | 1.0738
43300 | Sherman-Denison, TX | 0.8526 | 0.8965
43340 | Shreveport-Bossier City, LA | 0.8688 | 0.9082
43580 | Sioux City, IA-NE-SD | 0.8693 | 0.9085
43620 | Sioux Falls, SD | 0.9238 | 0.9472
43780 | South Bend-Mishawaka, IN-MI | 0.9721 | 0.9808
43900 | Spartanburg, SC | 0.9072 | 0.9355
44060 | Spokane, WA | 1.0244 | 1.0166
44180 | Springfield, MO | 0.8412 | 0.8883
44300 | State College, PA | 0.8301 | 0.8803
44940 | Sumter, SC | 0.8692 | 0.9085
45060 | Syracuse, NY | 0.9498 | 0.9653
45220 | Tallahassee, FL | 0.8802 | 0.9163
45300 | Tampa-St. Petersburg-Clearwater, FL | 0.9265 | 0.9491
45500 | Texarkana, TX-Texarkana, AR | 0.8107 | 0.8661
45780 | Toledo, OH | 0.9455 | 0.9623
45820 | Topeka, KS | 0.8639 | 0.9047
46140 | Tulsa, OK | 0.8310 | 0.8809
46220 | Tuscaloosa, AL | 0.8362 | 0.8847
46340 | Tyler, TX | 0.8963 | 0.9278
46660 | Valdosta, GA | 0.8632 | 0.9042
46700 | Vallejo-Fairfield, CA | 1.4095 | 1.2650
47260 | Virginia Beach-Norfolk-Newport News, VA | 0.8774 | 0.9143
47380 | Waco, TX | 0.8748 | 0.9125
47894 | Washington-Arlington-Alexandria, DC-VA-MD-WV | 1.0877 | 1.0593
48140 | Wausau, WI | 0.9947 | 0.9964
48620 | Wichita, KS | 0.8776 | 0.9145
48700 | Williamsport, PA | 0.8301 | 0.8803
48864 | Wilmington, DE-MD-NJ | 1.0570 | 1.0387
48900 | Wilmington, NC | 0.9473 | 0.9636
49180 | Winston-Salem, NC | 0.9246 | 0.9477
49340 | Worcester, MA | 1.1732 | 1.1156
49660 | Youngstown-Warren-Boardman, OH-PA | 0.8690 | 0.9083
04 | Arkansas | 0.7660 | 0.8331
05 | California | 1.1202 | 1.0808
07 | Connecticut | 1.1988 | 1.1322
10 | Florida (FL Hospitals) | 0.8733 | 0.9114
10 | Florida (GA Hospitals) | 0.8489 | 0.8939
14 | Illinois (IL Hospitals) | 0.8358 | 0.8844
14 | Illinois (KY Hospitals) | 0.8248 | 0.8764
14 | Illinois (MO Hospitals) | 0.8353 | 0.8841
16 | ¹ Iowa | 0.8700 | 0.9090
17 | Kansas | 0.8018 | 0.8596
23 | Michigan | 0.9028 | 0.9324
26 | Missouri | 0.8353 | 0.8841
30 | New Hampshire | 1.1394 | 1.0935
33 | New York | 0.8430 | 0.8896
34 | North Carolina | 0.8629 | 0.9040
36 | Ohio | 0.8683 | 0.9078
37 | Oklahoma | 0.7847 | 0.8470
38 | ¹ Oregon | 1.0194 | 1.0132
39 | Pennsylvania | 0.8430 | 0.8896
44 | Tennessee | 0.8122 | 0.8672
45 | Texas | 0.8225 | 0.8748
47 | Vermont | 0.9380 | 0.9571
50 | Washington (WA Hospitals) | 1.0206 | 1.0141
50 | Washington (ID Hospitals) | 0.9978 | 0.9985
52 | Wisconsin | 0.9607 | 0.9729
53 | ¹ Wyoming | 0.9066 | 0.9351
¹ For this area, the wage index and GAF on this table are only effective from October 1, 2006 through March 31, 2007. See Table 4C-2 for the values that are effective from April 1 through September 30, 2007.

Table 4C2.—Wage Index and capital Geographic Adjustment Factor (GAF) for Certain Hospitals That Are Reclassified by CBSA for the Period April 1 Trhough September 30, 2007*
CBSA code | Area | Wage index | GAF
11260 | Anchorage, AK | 1.1927 | 1.1283
11460 | Ann Arbor, MI | 1.0440 | 1.0299
13020 | Bay City, MI | 1.0044 | 1.0030
13900 | Bismarck, ND | 0.73680 | 0.8113
19804 | Detroit-Livonia-Dearborn, MI | 1.0281 | 1.0192
21660 | Eugene-Springfield, OR | 1.0598 | 1.0406
22020 | Fargo, ND-MN | 0.8367 | 0.8851
24300 | Grand Junction, CO | 0.9879 | 0.9917
26820 | Idaho Falls, ID | 0.9217 | 0.9457
31084 | Los Angeles-Long Beach-Santa Ana, CA | 1.1520 | 1.1017
34740 | Muskegon-Norton Shores, MI | 0.9762 | 0.9836
35004 | Nassau-Suffolk, NY | 1.2730 | 1.1797
35300 | New Haven-Milford, CT | 1.2142 | 1.1421
35644 | New York-White Plains-Wayne, NY-NJ | 1.3113 | 1.2039
16 | Iowa | 0.8615 | 0.9029
24 | Minnesota | 0.9280 | 0.9501
38 | Oregon | 0.97640 | 0.9838
53 | Wyoming | 0.9048 | 0.9338
** See Table 4C-1 for the wage index and GAF that are effective from October 1, 2006 through March 31, 2007. For areas that are not listed on this table, the wage index and GAF on Table 4C-1 are effective for the entire FY 2007.

Table 4F.—Puerto Rico Wage Index and Capital Geographic Adjustment Factor (GAF) by CBSA
CBSA code | Area | Wage Index | GAF | Wage Index—reclassified rospitals | GAF— Reclassified hospitals
10380 | Aguadilla-Isabela-San Sebastián, PR | 0.8736 | 0.9116 |  |
21940 | Fajardo, PR | 0.9168 | 0.9422
25020 | Guayama, PR | 0.7326 | 0.8081;
32420 | Mayagüez, PR | 0.8739 | 0.9118;
38660 | Ponce, PR | 1.0781 | 1.0528
41900 | San Germán-Cabo Rojo, PR | 1.1052 | 1.0709
41980 | San Juan-Caguas-Guaynabo, PR | 1.0119 | 1.0081 | 1.0119 | 1.0081
49500 | Yauco, PR | 0.8668 | 0.9067

The following list represents all hospitals located in counties that became newly eligible in FY 2005, FY 2006 or FY 2007 to have their wage index increased by the out-migration adjustment listed in this table. This table now reflects any additional hospitals located in counties that may newly qualify for the adjustment in FY 2007 based on the 100 percent occupational mix adjusted wage index data. Hospitals cannot receive the out-migration adjustment if they are reclassified under section 1886(d)(10) of the Act, reclassified under section 508 of Pub. L. 108-173, or redesignated under section 1886(d)(8) of the Act. If a hospital has a half fiscal year reclassification, the hospital will be eligible for the out-migration adjustment for the portion of the fiscal year that it is not reclassified. Hospitals that have been reclassified under section 1886(d)(10) of the Act, reclassified under section 508 of Pub. L. 108-173, or redesignated under section 1886(d)(8) of the Act for any portion of the fiscal year are designated with an asterisk. It is important to note that the asterisked information in Table 4J may reflect withdrawal/termination decisions CMS has made on behalf of hospitals. For example, in some cases, CMS may have withdrawn or terminated a reclassification under section 1886(d)(10) of the Act in order for a hospital to receive its home wage index plus an out-migration adjustment. Hospitals have 30 days from this publication of the final occupation mix-adjusted data and other tables on the CMS Web site to reverse a decision CMS has made on its behalf and choose a wage index, adjustment, or reclassification for which they are otherwise eligible.

Table 4J.—Out-Migration Adjustment —FY 2007
Provider No. | Reclassified between 10/1/06 and 3/31/07 | Reclassified between 4/1/07 and 9/30/07 | Out-migration adjustment | Qualifying county name
010005 | * | * | 0.0259 | MARSHALL
010008 | * | * | 0.0212 | CRENSHAW
010009 | * | * | 0.0259 | MARSHALL
010012 | * | * | 0.0205 | DE KALB
010022 | * | * | 0.0714 | CHEROKEE
010025 | * | * | 0.0235 | CHAMBERS
010029 | * | * | 0.0107 | LEE
010035 | * | * | 0.0375 | CULLMAN
010038 |  |  | 0.0062 | CALHOUN
010045 | * | * | 0.0160 | FAYETTE
010047 |  |  | 0.0155 | BUTLER
010052 |  |  | 0.0103 | TALLAPOOSA
010054 | * | * | 0.0092 | MORGAN
010061 |  |  | 0.0506 | JACKSON
010065 | * | * | 0.0103 | TALLAPOOSA
010078 |  |  | 0.0062 | CALHOUN
010083 | * | * | 0.0121 | BALDWIN
010085 | * | * | 0.0092 | MORGAN
010100 | * | * | 0.0121 | BALDWIN
010101 | * | * | 0.0310 | TALLADEGA
010109 |  |  | 0.0451 | PICKENS
010129 |  |  | 0.0121 | BALDWIN
010143 | * | * | 0.0375 | CULLMAN
010146 |  |  | 0.0062 | CALHOUN
010150 | * | * | 0.0155 | BUTLER
010158 | * | * | 0.0093 | FRANKLIN
010164 | * | * | 0.0310 | TALLADEGA
040014 | * | * | 0.0159 | WHITE
040019 | * | * | 0.0697 | ST. FRANCIS
040047 | * | * | 0.0090 | RANDOLPH
040069 | * | * | 0.0140 | MISSISSIPPI
040071 | * | * | 0.0026 | JEFFERSON
040076 | * | * | 0.1075 | HOT SPRING
040100 | * | * | 0.0159 | WHITE
050008 |  |  | 0.0026 | SAN FRANCISCO
050009 | * | * | 0.0478 | NAPA
050013 | * | * | 0.0478 | NAPA
050014 | * | * | 0.0131 | AMADOR
050016 |  |  | 0.0103 | SAN LUIS OBISPO
050042 | * | * | 0.0219 | TEHAMA
050046 | * | * | 0.0156 | VENTURA
050047 |  |  | 0.0026 | SAN FRANCISCO
050055 |  |  | 0.0026 | SAN FRANCISCO
050065 | * | * | 0.0029 | ORANGE
050069 | * | * | 0.0029 | ORANGE
050073 | * | * | 0.0269 | SOLANO
050076 | * | * | 0.0026 | SAN FRANCISCO
050082 |  | * | 0.0156 | VENTURA
050084 |  |  | 0.0555 | SAN JOAQUIN
050089 | * | * | 0.0152 | SAN BERNARDINO
050090 | * | * | 0.0308 | SONOMA
050099 | * | * | 0.0152 | SAN BERNARDINO
050101 | * | * | 0.0269 | SOLANO
050117 |  |  | 0.0463 | MERCED
050118 |  |  | 0.0555 | SAN JOAQUIN
050122 |  |  | 0.0555 | SAN JOAQUIN
050129 | * | * | 0.0152 | SAN BERNARDINO
050133 |  |  | 0.0170 | YUBA
050136 | * | * | 0.0308 | SONOMA
050140 | * | * | 0.0152 | SAN BERNARDINO
050150 | * | * | 0.0316 | NEVADA
050152 |  |  | 0.0026 | SAN FRANCISCO
050159 |  | * | 0.0156 | VENTURA
050167 |  |  | 0.0555 | SAN JOAQUIN
050168 | * | * | 0.0029 | ORANGE
050173 | * | * | 0.0029 | ORANGE
050174 | * | * | 0.0308 | SONOMA
050193 | * | * | 0.0029 | ORANGE
050194 |  |  | 0.0052 | SANTA CRUZ
050224 | * | * | 0.0029 | ORANGE
050226 | * | * | 0.0029 | ORANGE
050228 | * | * | 0.0026 | SAN FRANCISCO
050230 | * | * | 0.0029 | ORANGE
050232 |  |  | 0.0103 | SAN LUIS OBISPO
050236 |  | * | 0.0156 | VENTURA
050242 |  |  | 0.0052 | SANTA CRUZ
050245 | * | * | 0.0152 | SAN BERNARDINO
050272 | * | * | 0.0152 | SAN BERNARDINO
050279 | * | * | 0.0152 | SAN BERNARDINO
050291 | * | * | 0.0308 | SONOMA
050298 | * | * | 0.0152 | SAN BERNARDINO
050300 | * | * | 0.0152 | SAN BERNARDINO
050313 |  |  | 0.0555 | SAN JOAQUIN
050325 |  |  | 0.0176 | TUOLUMNE
050327 | * | * | 0.0152 | SAN BERNARDINO
050335 |  |  | 0.0176 | TUOLUMNE
050336 |  |  | 0.0555 | SAN JOAQUIN
050348 | * | * | 0.0029 | ORANGE
050367 | * | * | 0.0269 | SOLANO
050385 | * | * | 0.0308 | SONOMA
050394 |  | * | 0.0156 | VENTURA
050407 |  |  | 0.0026 | SAN FRANCISCO
050426 | * | * | 0.0029 | ORANGE
050444 |  |  | 0.0463 | MERCED
050454 |  |  | 0.0026 | SAN FRANCISCO
050457 |  |  | 0.0026 | SAN FRANCISCO
050469 | * | * | 0.0152 | SAN BERNARDINO
050476 |  |  | 0.0257 | LAKE
050494 | * |  | 0.0316 | NEVADA
050506 |  |  | 0.0103 | SAN LUIS OBISPO
050517 | * | * | 0.0152 | SAN BERNARDINO
050526 | * | * | 0.0029 | ORANGE
050528 | * | * | 0.0463 | MERCED
050535 | * | * | 0.0029 | ORANGE
050543 | * | * | 0.0029 | ORANGE
050547 | * | * | 0.0308 | SONOMA
050548 | * | * | 0.0029 | ORANGE
050549 | * | * | 0.0156 | VENTURA
050550 | * | * | 0.0029 | ORANGE
050551 | * | * | 0.0029 | ORANGE
050567 | * | * | 0.0029 | ORANGE
050568 |  |  | 0.0062 | MADERA
050570 | * | * | 0.0029 | ORANGE
050580 | * | * | 0.0029 | ORANGE
050584 | * | * | 0.0152 | SAN BERNARDINO
050585 | * | * | 0.0029 | ORANGE
050586 | * | * | 0.0152 | SAN BERNARDINO
050589 | * | * | 0.0029 | ORANGE
050592 | * | * | 0.0029 | ORANGE
050594 | * | * | 0.0029 | ORANGE
050603 | * | * | 0.0029 | ORANGE
050609 | * | * | 0.0029 | ORANGE
050616 |  | * | 0.0156 | VENTURA
050618 | * | * | 0.0152 | SAN BERNARDINO
050633 |  |  | 0.0103 | SAN LUIS OBISPO
050667 | * | * | 0.0478 | NAPA
050668 |  |  | 0.0026 | SAN FRANCISCO
050678 | * | * | 0.0029 | ORANGE
050680 | * | * | 0.0269 | SOLANO
050690 | * | * | 0.0308 | SONOMA
050693 | * | * | 0.0029 | ORANGE
050695 |  |  | 0.0555 | SAN JOAQUIN
050714 |  |  | 0.0052 | SANTA CRUZ
050720 | * | * | 0.0029 | ORANGE
050728 | * | * | 0.0308 | SONOMA
050744 |  |  | 0.0029 | ORANGE
050745 |  |  | 0.0029 | ORANGE
050746 |  |  | 0.0029 | ORANGE
050747 |  |  | 0.0029 | ORANGE
050749 |  | * | 0.0156 | VENTURA
060001 | * | * | 0.0294 | WELD
060003 | * | * | 0.0203 | BOULDER
060010 |  |  | 0.0153 | LARIMER
060027 | * | * | 0.0203 | BOULDER
060030 |  |  | 0.0153 | LARIMER
060103 | * | * | 0.0203 | BOULDER
060116 |  |  | 0.0203 | BOULDER
070003 | * | * | 0.0009 | WINDHAM
070006 | * | * | 0.0047 | FAIRFIELD
070010 | * | * | 0.0047 | FAIRFIELD
070018 | * | * | 0.0047 | FAIRFIELD
070020 |  |  | 0.0073 | MIDDLESEX
070021 |  |  | 0.0009 | WINDHAM
070028 | * | * | 0.0047 | FAIRFIELD
070033 | * | * | 0.0047 | FAIRFIELD
070034 | * | * | 0.0047 | FAIRFIELD
080001 |  |  | 0.0063 | NEW CASTLE
080003 |  |  | 0.0063 | NEW CASTLE
100014 |  |  | 0.0118 | VOLUSIA
100017 |  |  | 0.0118 | VOLUSIA
100045 | * | * | 0.0118 | VOLUSIA
100047 |  |  | 0.0021 | CHARLOTTE
100062 |  |  | 0.0060 | MARION
100068 |  |  | 0.0118 | VOLUSIA
100072 |  |  | 0.0118 | VOLUSIA
100077 |  |  | 0.0021 | CHARLOTTE
100102 |  |  | 0.0125 | COLUMBIA
100118 |  |  | 0.0398 | FLAGLER
100156 |  |  | 0.0125 | COLUMBIA
100175 |  |  | 0.0231 | DE SOTO
100212 |  |  | 0.0060 | MARION
100232 | * | * | 0.0347 | PUTNAM
100236 |  |  | 0.0021 | CHARLOTTE
100252 | * | * | 0.0233 | OKEECHOBEE
100290 |  |  | 0.0582 | SUMTER
110023 | * | * | 0.0500 | GORDON
110027 |  |  | 0.0387 | FRANKLIN
110029 | * | * | 0.0063 | HALL
110041 | * | * | 0.0777 | HABERSHAM
110069 | * | * | 0.0474 | HOUSTON
110124 |  |  | 0.0428 | WAYNE
110146 |  |  | 0.0805 | CAMDEN
110150 | * | * | 0.0261 | BALDWIN
110153 | * | * | 0.0474 | HOUSTON
110187 | * | * | 0.1172 | LUMPKIN
110189 | * | * | 0.0031 | FANNIN
110190 |  |  | 0.0182 | MACON
110205 | * | * | 0.0779 | GILMER
130003 | * | * | 0.0095 | NEZ PERCE
130024 |  |  | 0.0275 | BONNER
130049 | * | * | 0.0349 | KOOTENAI
130066 |  |  | 0.0349 | KOOTENAI
140012 | * | * | 0.0220 | LEE
140026 |  |  | 0.0346 | LA SALLE
140033 |  |  | 0.0147 | LAKE
140043 | * | * | 0.0046 | WHITESIDE
140058 | * | * | 0.0081 | MORGAN
140084 |  |  | 0.0147 | LAKE
140100 |  |  | 0.0147 | LAKE
140110 | * | * | 0.0346 | LA SALLE
140130 |  |  | 0.0147 | LAKE
140155 | * | * | 0.0027 | KANKAKEE
140160 | * | * | 0.0286 | STEPHENSON
140161 | * | * | 0.0138 | LIVINGSTON
140186 | * | * | 0.0027 | KANKAKEE
140202 |  |  | 0.0147 | LAKE
140205 |  |  | 0.0163 | BOONE
140234 | * | * | 0.0346 | LA SALLE
140291 | * | * | 0.0147 | LAKE
150006 | * | * | 0.0113 | LA PORTE
150015 | * | * | 0.0113 | LA PORTE
150022 |  |  | 0.0249 | MONTGOMERY
150030 | * | * | 0.0201 | HENRY
150035 |  |  | 0.0083 | PORTER
150045 |  |  | 0.0416 | DE KALB
150065 | * | * | 0.0139 | JACKSON
150076 | * | * | 0.0189 | MARSHALL
150088 | * | * | 0.0196 | MADISON
150091 |  |  | 0.0573 | HUNTINGTON
150102 | * | * | 0.0160 | STARKE
150113 | * | * | 0.0196 | MADISON
150122 | * | * | 0.0199 | RIPLEY
150146 | * | * | 0.0319 | NOBLE
160013 |  |  | 0.0218 | MUSCATINE
160030 |  |  | 0.0040 | STORY
160032 |  |  | 0.0272 | JASPER
160080 | * | * | 0.0049 | CLINTON
170137 | * | * | 0.0336 | DOUGLAS
180012 | * | * | 0.0083 | HARDIN
180066 | * | * | 0.0567 | LOGAN
180127 | * | * | 0.0352 | FRANKLIN
180128 |  |  | 0.0282 | LAWRENCE
190001 | * | * | 0.0645 | WASHINGTON
190003 | * | * | 0.0107 | IBERIA
190015 | * | * | 0.0401 | TANGIPAHOA
190017 |  |  | 0.0235 | ST. LANDRY
190054 |  |  | 0.0107 | IBERIA
190078 |  |  | 0.0235 | ST. LANDRY
190088 |  |  | 0.0705 | WEBSTER
190099 | * | * | 0.0390 | AVOYELLES
190106 | * | * | 0.0238 | ALLEN
190133 |  |  | 0.0238 | ALLEN
190144 |  |  | 0.0705 | WEBSTER
190184 |  |  | 0.0161 | CALDWELL
190190 |  |  | 0.0161 | CALDWELL
190191 | * | * | 0.0235 | ST. LANDRY
190246 |  |  | 0.0161 | CALDWELL
200002 |  |  | 0.0129 | LINCOLN
200024 | * | * | 0.0071 | ANDROSCOGGIN
200032 |  |  | 0.0466 | OXFORD
200034 | * | * | 0.0071 | ANDROSCOGGIN
200050 | * | * | 0.0140 | HANCOCK
210001 |  |  | 0.0129 | WASHINGTON
210004 |  |  | 0.0040 | MONTGOMERY
210016 |  |  | 0.0040 | MONTGOMERY
210018 |  |  | 0.0040 | MONTGOMERY
210022 |  |  | 0.0040 | MONTGOMERY
210023 |  |  | 0.0209 | ANNE ARUNDEL
210028 |  |  | 0.0512 | ST. MARYS
210043 |  |  | 0.0209 | ANNE ARUNDEL
210048 |  |  | 0.0287 | HOWARD
210057 |  |  | 0.0040 | MONTGOMERY
220001 | * | * | 0.0056 | WORCESTER
220002 | * | * | 0.0249 | MIDDLESEX
220010 | * | * | 0.0306 | ESSEX
220011 | * | * | 0.0249 | MIDDLESEX
220019 | * | * | 0.0056 | WORCESTER
220025 | * | * | 0.0056 | WORCESTER
220028 | * | * | 0.0056 | WORCESTER
220029 | * | * | 0.0306 | ESSEX
220033 | * | * | 0.0306 | ESSEX
220035 | * | * | 0.0306 | ESSEX
220049 | * | * | 0.0249 | MIDDLESEX
220058 | * | * | 0.0056 | WORCESTER
220062 | * | * | 0.0056 | WORCESTER
220063 | * | * | 0.0249 | MIDDLESEX
220070 | * | * | 0.0249 | MIDDLESEX
220080 | * | * | 0.0306 | ESSEX
220082 | * | * | 0.0249 | MIDDLESEX
220084 | * | * | 0.0249 | MIDDLESEX
220089 |  |  | 0.0249 | MIDDLESEX
220090 | * | * | 0.0056 | WORCESTER
220095 | * | * | 0.0056 | WORCESTER
220098 | * | * | 0.0249 | MIDDLESEX
220101 | * | * | 0.0249 | MIDDLESEX
220105 | * | * | 0.0249 | MIDDLESEX
220163 | * | * | 0.0056 | WORCESTER
220171 | * | * | 0.0249 | MIDDLESEX
220174 | * | * | 0.0306 | ESSEX
220176 |  |  | 0.0056 | WORCESTER
230003 | * | * | 0.0035 | OTTAWA
230013 | * | * | 0.0091 | OAKLAND
230015 |  |  | 0.0359 | ST. JOSEPH
230019 | * | * | 0.0091 | OAKLAND
230021 |  |  | 0.0136 | BERRIEN
230022 | * | * | 0.0113 | BRANCH
230029 | * | * | 0.0091 | OAKLAND
230037 | * | * | 0.0178 | HILLSDALE
230041 |  |  | 0.0099 | BAY
230047 | * | * | 0.0082 | MACOMB
230069 | * | * | 0.0487 | LIVINGSTON
230071 | * | * | 0.0091 | OAKLAND
230072 | * | * | 0.0035 | OTTAWA
230075 |  |  | 0.0145 | CALHOUN
230078 | * | * | 0.0136 | BERRIEN
230092 |  |  | 0.0389 | JACKSON
230093 | * | * | 0.0079 | MECOSTA
230096 | * | * | 0.0359 | ST. JOSEPH
230099 | * | * | 0.0339 | MONROE
230106 | * |  | 0.0030 | NEWAYGO
230121 | * | * | 0.0691 | SHIAWASSEE
230130 | * | * | 0.0091 | OAKLAND
230151 | * | * | 0.0091 | OAKLAND
230174 | * | * | 0.0035 | OTTAWA
230195 | * | * | 0.0082 | MACOMB
230204 | * | * | 0.0082 | MACOMB
230207 | * | * | 0.0091 | OAKLAND
230217 | * | * | 0.0145 | CALHOUN
230222 |  |  | 0.0228 | MIDLAND
230223 | * | * | 0.0091 | OAKLAND
230227 | * | * | 0.0082 | MACOMB
230254 | * | * | 0.0091 | OAKLAND
230257 | * | * | 0.0082 | MACOMB
230264 | * | * | 0.0082 | MACOMB
230269 | * | * | 0.0091 | OAKLAND
230277 | * | * | 0.0091 | OAKLAND
230279 | * | * | 0.0487 | LIVINGSTON
240018 | * | * | 0.1196 | GOODHUE
240044 |  |  | 0.0868 | WINONA
240064 | * | * | 0.0138 | ITASCA
240069 | * | * | 0.0419 | STEELE
240071 | * | * | 0.0454 | RICE
240187 | * | * | 0.0506 | MC LEOD
240211 | * | * | 0.0705 | PINE
250040 | * | * | 0.0294 | JACKSON
260011 |  |  | 0.0007 | COLE
260047 | * | * | 0.0007 | COLE
260074 |  |  | 0.0158 | RANDOLPH
260097 |  |  | 0.0425 | JOHNSON
280077 | * | * | 0.0089 | DODGE
280123 |  |  | 0.0137 | GAGE
290019 | * | * | 0.0026 | CARSON CITY
290049 |  |  | 0.0026 | CARSON CITY
290051 |  |  | 0.0026 | CARSON CITY
300011 |  |  | 0.0069 | HILLSBOROUGH
300012 |  |  | 0.0069 | HILLSBOROUGH
300017 |  |  | 0.0361 | ROCKINGHAM
300020 |  |  | 0.0069 | HILLSBOROUGH
300023 |  |  | 0.0361 | ROCKINGHAM
300029 |  |  | 0.0361 | ROCKINGHAM
300034 |  |  | 0.0069 | HILLSBOROUGH
310002 | * | * | 0.0351 | ESSEX
310009 | * | * | 0.0351 | ESSEX
310010 |  |  | 0.0092 | MERCER
310011 |  |  | 0.0115 | CAPE MAY
310013 | * | * | 0.0351 | ESSEX
310018 | * | * | 0.0351 | ESSEX
310021 | * | * | 0.0092 | MERCER
310038 | * | * | 0.0350 | MIDDLESEX
310039 | * | * | 0.0350 | MIDDLESEX
310044 |  |  | 0.0092 | MERCER
310054 | * | * | 0.0351 | ESSEX
310070 | * | * | 0.0350 | MIDDLESEX
310076 | * | * | 0.0351 | ESSEX
310083 | * | * | 0.0351 | ESSEX
310092 |  |  | 0.0092 | MERCER
310093 | * | * | 0.0351 | ESSEX
310096 | * | * | 0.0351 | ESSEX
310108 | * | * | 0.0350 | MIDDLESEX
310110 |  |  | 0.0092 | MERCER
310119 | * | * | 0.0351 | ESSEX
310123 |  |  | 0.0351 | ESSEX
310124 |  |  | 0.0350 | MIDDLESEX
320003 |  |  | 0.0629 | SAN MIGUEL
320011 |  |  | 0.0442 | RIO ARRIBA
320018 |  |  | 0.0063 | DONA ANA
320085 |  |  | 0.0063 | DONA ANA
330004 | * | * | 0.0959 | ULSTER
330008 | * | * | 0.0470 | WYOMING
330027 | * | * | 0.0137 | NASSAU
330094 | * | * | 0.0778 | COLUMBIA
330106 | * | * | 0.0137 | NASSAU
330126 | * |  | 0.0560 | ORANGE
330135 | * |  | 0.0560 | ORANGE
330167 |  | * | 0.0137 | NASSAU
330181 |  | * | 0.0137 | NASSAU
330182 | * | * | 0.0137 | NASSAU
330191 | * | * | 0.0026 | WARREN
330198 |  | * | 0.0137 | NASSAU
330205 | * |  | 0.0560 | ORANGE
330224 | * | * | 0.0959 | ULSTER
330225 |  | * | 0.0137 | NASSAU
330235 | * | * | 0.0270 | CAYUGA
330259 |  | * | 0.0137 | NASSAU
330264 | * |  | 0.0560 | ORANGE
330276 |  |  | 0.0063 | FULTON
330331 |  | * | 0.0137 | NASSAU
330332 |  | * | 0.0137 | NASSAU
330372 |  | * | 0.0137 | NASSAU
330386 | * | * | 0.1139 | SULLIVAN
340015 |  |  | 0.0267 | ROWAN
340020 |  |  | 0.0207 | LEE
340021 | * | * | 0.0216 | CLEVELAND
340037 |  |  | 0.0216 | CLEVELAND
340039 | * | * | 0.0144 | IREDELL
340069 |  |  | 0.0053 | WAKE
340070 |  |  | 0.0448 | ALAMANCE
340073 | * |  | 0.0053 | WAKE
340085 |  |  | 0.0377 | DAVIDSON
340096 |  |  | 0.0377 | DAVIDSON
340104 |  |  | 0.0216 | CLEVELAND
340114 |  |  | 0.0053 | WAKE
340126 | * | * | 0.0161 | WILSON
340127 | * | * | 0.0961 | GRANVILLE
340129 | * | * | 0.0144 | IREDELL
340133 |  |  | 0.0308 | MARTIN
340138 |  |  | 0.0053 | WAKE
340144 | * | * | 0.0144 | IREDELL
340145 | * | * | 0.0563 | LINCOLN
340173 |  |  | 0.0053 | WAKE
360013 | * | * | 0.0166 | SHELBY
360025 |  |  | 0.0087 | ERIE
360036 | * | * | 0.0263 | WAYNE
360065 | * | * | 0.0141 | HURON
360070 |  |  | 0.0028 | STARK
360078 | * | * | 0.0159 | PORTAGE
360084 |  |  | 0.0028 | STARK
360086 | * | * | 0.0168 | CLARK
360095 | * | * | 0.0087 | HANCOCK
360100 |  |  | 0.0028 | STARK
360107 | * | * | 0.0213 | SANDUSKY
360131 |  |  | 0.0028 | STARK
360151 |  |  | 0.0028 | STARK
360156 |  |  | 0.0213 | SANDUSKY
360175 | * | * | 0.0159 | CLINTON
360187 | * | * | 0.0168 | CLARK
360197 | * | * | 0.0092 | LOGAN
360270 |  |  | 0.0120 | DEFIANCE
370004 | * | * | 0.0193 | OTTAWA
370014 |  |  | 0.0831 | BRYAN
370015 | * | * | 0.0463 | MAYES
370023 |  |  | 0.0084 | STEPHENS
370065 |  |  | 0.0121 | CRAIG
370113 | * | * | 0.0205 | DELAWARE
370149 |  |  | 0.0356 | POTTAWATOMIE
370219 |  |  | 0.0356 | POTTAWATOMIE
380002 |  |  | 0.0130 | JOSEPHINE
380022 | * | * | 0.0201 | LINN
380029 |  |  | 0.0075 | MARION
380051 |  |  | 0.0075 | MARION
380056 |  |  | 0.0075 | MARION
390011 |  |  | 0.0012 | CAMBRIA
390030 | * | * | 0.0284 | SCHUYLKILL
390031 | * | * | 0.0284 | SCHUYLKILL
390044 | * | * | 0.0200 | BERKS
390046 | * | * | 0.0098 | YORK
390056 |  |  | 0.0042 | HUNTINGDON
390065 | * | * | 0.0501 | ADAMS
390066 | * | * | 0.0259 | LEBANON
390096 | * | * | 0.0200 | BERKS
390101 |  |  | 0.0098 | YORK
390110 |  |  | 0.0012 | CAMBRIA
390130 |  |  | 0.0012 | CAMBRIA
390138 | * | * | 0.0325 | FRANKLIN
390146 |  |  | 0.0053 | WARREN
390150 |  |  | 0.0206 | GREENE
390151 | * | * | 0.0325 | FRANKLIN
390162 |  |  | 0.0200 | NORTHAMPTON
390181 |  |  | 0.0284 | SCHUYLKILL
390183 |  |  | 0.0284 | SCHUYLKILL
390201 |  |  | 0.1127 | MONROE
390233 |  |  | 0.0098 | YORK
420007 | * | * | 0.0001 | SPARTANBURG
420009 | * | * | 0.0113 | OCONEE
420020 | * | * | 0.0035 | GEORGETOWN
420027 | * | * | 0.0210 | ANDERSON
420030 | * | * | 0.0103 | COLLETON
420039 | * | * | 0.0153 | UNION
420043 |  |  | 0.0177 | CHEROKEE
420062 |  |  | 0.0109 | CHESTERFIELD
420068 | * | * | 0.0097 | ORANGEBURG
420070 | * | * | 0.0101 | SUMTER
420083 | * | * | 0.0001 | SPARTANBURG
420098 |  |  | 0.0035 | GEORGETOWN
440008 |  |  | 0.0663 | HENDERSON
440024 | * | * | 0.0387 | BRADLEY
440030 |  |  | 0.0056 | HAMBLEN
440035 | * | * | 0.0441 | MONTGOMERY
440047 |  |  | 0.0499 | GIBSON
440056 |  |  | 0.0321 | JEFFERSON
440060 |  |  | 0.0499 | GIBSON
440063 |  |  | 0.0011 | WASHINGTON
440067 | * | * | 0.0056 | HAMBLEN
440073 | * | * | 0.0513 | MAURY
440105 |  |  | 0.0011 | WASHINGTON
440115 |  |  | 0.0499 | GIBSON
440148 | * | * | 0.0568 | DE KALB
440153 |  |  | 0.0007 | COCKE
440174 |  |  | 0.0372 | HAYWOOD
440181 |  |  | 0.0407 | HARDEMAN
440184 |  |  | 0.0011 | WASHINGTON
440185 | * | * | 0.0387 | BRADLEY
450032 | * | * | 0.0416 | HARRISON
450039 | * | * | 0.0097 | TARRANT
450059 | * | * | 0.0073 | COMAL
450064 | * | * | 0.0097 | TARRANT
450087 | * | * | 0.0097 | TARRANT
450099 | * | * | 0.0180 | GRAY
450121 | * | * | 0.0097 | TARRANT
450135 | * | * | 0.0097 | TARRANT
450137 | * | * | 0.0097 | TARRANT
450144 | * | * | 0.0573 | ANDREWS
450163 |  |  | 0.0134 | KLEBERG
450187 | * | * | 0.0264 | WASHINGTON
450194 | * | * | 0.0328 | CHEROKEE
450214 | * | * | 0.0368 | WHARTON
450224 | * | * | 0.0411 | WOOD
450324 | * | * | 0.0132 | GRAYSON
450347 | * | * | 0.0427 | WALKER
450370 |  |  | 0.0258 | COLORADO
450389 | * | * | 0.0881 | HENDERSON
450393 | * | * | 0.0132 | GRAYSON
450395 | * | * | 0.0484 | POLK
450419 | * | * | 0.0097 | TARRANT
450438 | * | * | 0.0258 | COLORADO
450447 | * | * | 0.0358 | NAVARRO
450451 | * | * | 0.0551 | SOMERVELL
450465 |  |  | 0.0435 | MATAGORDA
450469 | * | * | 0.0132 | GRAYSON
450547 | * | * | 0.0411 | WOOD
450563 | * | * | 0.0097 | TARRANT
450565 |  |  | 0.0486 | PALO PINTO
450596 |  |  | 0.0808 | HOOD
450597 |  |  | 0.0077 | DE WITT
450639 | * | * | 0.0097 | TARRANT
450672 | * | * | 0.0097 | TARRANT
450675 | * | * | 0.0097 | TARRANT
450677 | * | * | 0.0097 | TARRANT
450694 | * | * | 0.0368 | WHARTON
450747 | * | * | 0.0195 | ANDERSON
450755 |  |  | 0.0484 | HOCKLEY
450779 | * | * | 0.0097 | TARRANT
450813 | * | * | 0.0195 | ANDERSON
450872 | * | * | 0.0097 | TARRANT
450880 | * | * | 0.0097 | TARRANT
450886 |  |  | 0.0097 | TARRANT
450888 |  |  | 0.0097 | TARRANT
460017 |  |  | 0.0392 | BOX ELDER
460039 | * | * | 0.0392 | BOX ELDER
490019 |  |  | 0.1240 | CULPEPER
490038 |  |  | 0.0022 | SMYTH
490084 |  |  | 0.0167 | ESSEX
490105 | * | * | 0.0022 | SMYTH
490110 |  |  | 0.0082 | MONTGOMERY
500003 | * | * | 0.0208 | SKAGIT
500007 |  |  | 0.0208 | SKAGIT
500019 |  |  | 0.0213 | LEWIS
500021 | * | * | 0.0055 | PIERCE
500024 |  |  | 0.0023 | THURSTON
500039 | * | * | 0.0174 | KITSAP
500041 | * | * | 0.0118 | COWLITZ
500079 | * | * | 0.0055 | PIERCE
500108 | * | * | 0.0055 | PIERCE
500129 | * | * | 0.0055 | PIERCE
500139 |  |  | 0.0023 | THURSTON
500143 |  |  | 0.0023 | THURSTON
510018 | * | * | 0.0209 | JACKSON
510039 |  |  | 0.0112 | OHIO
510047 | * | * | 0.0275 | MARION
510050 |  |  | 0.0112 | OHIO
510077 | * | * | 0.0021 | MINGO
520028 | * | * | 0.0157 | GREEN
520035 |  |  | 0.0077 | SHEBOYGAN
520044 |  |  | 0.0077 | SHEBOYGAN
520057 |  |  | 0.0118 | SAUK
520059 | * | * | 0.0200 | RACINE
520071 | * | * | 0.0239 | JEFFERSON
520095 | * | * | 0.0118 | SAUK
520096 | * | * | 0.0200 | RACINE
520102 | * | * | 0.0298 | WALWORTH
520116 | * | * | 0.0239 | JEFFERSON
520132 |  |  | 0.0077 | SHEBOYGAN

Table 5.— List of Diagnosis-Related Groups (DRGS), Relative Weighting Factors, and Geometric and Arithmetic Mean Length of Stay (LOS)
DRG | FY 07 final rule post-acute care DRG | FY 07 final rule special pay DRG | MDC | TYPE | DRG title | Weights | Geometric mean LOS | Arithmetic mean LOS
1 | Yes | No | 01 | SURG | Craniotomy Age >17 W CC | 3.4651 | 7.3 | 9.8
2 | Yes | No | 01 | SURG | Craniotomy Age >17 W/O CC | 1.9525 | 3.4 | 4.4
3 | No | No | 01 | SURG * | Craniotomy Age 0-17 | 2.0113 | 12.7 | 12.7
4 | No | No | 01 | SURG | No Longer Valid | 0.0000 | 0.0 | 0.0
5 | No | No | 01 | SURG | No Longer Valid | 0.0000 | 0.0 | 0.0
6 | No | No | 01 | SURG | Carpal Tunnel Release | 0.7910 | 2.1 | 3.1
7 | Yes | Yes | 01 | SURG | Periph & Cranial Nerve & Other Nerv Syst Proc W CC | 2.6609 | 6.5 | 9.4
8 | Yes | Yes | 01 | SURG | Periph & Cranial Nerve & Other Nerv Syst Proc W/O CC | 1.5953 | 2.0 | 2.8
9 | No | No | 01 | MED | Spinal Disorders & Injuries | 1.3647 | 4.4 | 6.2
10 | Yes | No | 01 | MED | Nervous System Neoplasms W CC | 1.2556 | 4.6 | 6.0
11 | Yes | No | 01 | MED | Nervous System Neoplasms W/O CC | 0.8592 | 2.7 | 3.6
12 | Yes | No | 01 | MED | Degenerative Nervous System Disorders | 0.9322 | 4.3 | 5.5
13 | Yes | No | 01 | MED | Multiple Sclerosis & Cerebellar Ataxia | 0.8541 | 4.0 | 4.9
14 | Yes | No | 01 | MED | Intracranial Hemorrhage or Cerebral Infarction | 1.2118 | 4.3 | 5.5
15 | Yes | No | 01 | MED | Nonspecific CVA & Precerebral Occlusion w/o Infarct | 0.9442 | 3.1 | 4.0
16 | Yes | No | 01 | MED | Nonspecific Cerebrovascular Disorders w CC | 1.3579 | 5.0 | 6.5
17 | Yes | No | 01 | MED | Nonspecific Cerebrovascular Disorders w/o CC | 0.7141 | 2.4 | 3.0
18 | Yes | No | 01 | MED | Cranial & Peripheral Nerve Disorders w CC | 1.0038 | 4.1 | 5.2
19 | Yes | No | 01 | MED | Cranial & Peripheral Nerve Disorders w/o CC | 0.7194 | 2.7 | 3.4
20 | No | No | 01 | MED | No Longer Valid | 0.0000 | 0.0 | 0.0
21 | No | No | 01 | MED | Viral Meningitis | 1.4130 | 4.7 | 6.2
22 | No | No | 01 | MED | Hypertensive Encephalopathy | 1.1652 | 3.9 | 5.0
23 | No | No | 01 | MED | Nontraumatic Stupor & Coma | 0.8015 | 3.0 | 3.9
24 | No | No | 01 | MED | No Longer Valid | 0.0000 | 0.0 | 0.0
25 | No | No | 01 | MED | No Longer Valid | 0.0000 | 0.0 | 0.0
26 | No | No | 01 | MED | Seizure & Headache Age 0-17 | 1.0076 | 2.7 | 3.8
27 | No | No | 01 | MED | Traumatic Stupor & Coma, Coma >1 Hr | 1.3499 | 3.1 | 4.7
28 | Yes | No | 01 | MED | Traumatic Stupor & Coma, Coma <1 Hr Age >17 w CC | 1.3357 | 4.2 | 5.7
29 | Yes | No | 01 | MED | Traumatic Stupor & Coma, Coma <1 Hr Age >17 w/o CC | 0.7401 | 2.6 | 3.2
30 | No | No | 01 | MED * | Traumatic Stupor & Coma, Coma <1 Hr Age 0-17 | 0.3402 |  |
31 | No | No | 01 | MED | Concussion Age >17 w CC | 0.9796 | 3.0 | 3.9
32 | No | No | 01 | MED | Concussion Age >17 w/o CC | 0.6408 | 1.9 | 2.3
33 | No | No | 01 | MED * | Concussion Age 0-17 | 0.2136 |  |
34 | Yes | No | 01 | MED | Other Disorders Of Nervous System w CC | 1.0175 | 3.6 | 4.8
35 | Yes | No | 01 | MED | Other Disorders Of Nervous System w/o CC | 0.6587 | 2.5 | 3.1
36 | No | No | 02 | SURG | Retinal Procedures | 0.8056 | 1.4 | 1.9
37 | No | No | 02 | SURG | Orbital Procedures | 1.2064 | 2.7 | 4.1
38 | No | No | 02 | SURG | Primary Iris Procedures | 0.6195 | 2.2 | 2.8
39 | No | No | 02 | SURG | Lens Procedures With Or Without Vitrectomy | 0.6461 | 1.6 | 2.1
40 | No | No | 02 | SURG | Extraocular Procedures Except Orbit Age >17 | 1.0309 | 3.1 | 4.2
41 | No | No | 02 | SURG * | Extraocular Procedures Except Orbit Age 0-17 | 0.3462 |  |
42 | No | No | 02 | SURG | Intraocular Procedures Except Retina, Iris & Lens | 0.7717 | 1.7 | 2.5
43 | No | No | 02 | MED | Hyphema | 0.6192 | 2.4 | 3.0
44 | No | No | 02 | MED | Acute Major Eye Infections | 0.7186 | 3.8 | 4.8
45 | No | No | 02 | MED | Neurological Eye Disorders | 0.7434 | 2.5 | 3.0
46 | No | No | 02 | MED | Other Disorders Of The Eye Age >17 w CC | 0.7915 | 3.2 | 4.2
47 | No | No | 02 | MED | Other Disorders Of The Eye Age >17 w/o CC | 0.5520 | 2.4 | 3.0
48 | No | No | 02 | MED * | Other Disorders Of The Eye Age 0-17 | 0.3050 |  |
49 | No | No | 03 | SURG | Major Head & Neck Procedures | 1.6684 | 3.2 | 4.5
50 | No | No | 03 | SURG | Sialoadenectomy | 0.8800 | 1.5 | 1.9
51 | No | No | 03 | SURG | Salivary Gland Procedures Except Sialoadenectomy | 0.8788 | 1.9 | 2.7
52 | No | No | 03 | SURG | Cleft Lip & Palate Repair | 0.6498 | 1.3 | 1.5
53 | No | No | 03 | SURG | Sinus & Mastoid Procedures Age >17 | 1.3540 | 2.5 | 4.0
54 | No | No | 03 | SURG * | Sinus & Mastoid Procedures Age 0-17 | 0.4944 |  |
55 | No | No | 03 | SURG | Miscellaneous Ear, Nose, Mouth & Throat Procedures | 0.9652 | 1.9 | 2.9
56 | No | No | 03 | SURG | Rhinoplasty | 0.8936 | 1.9 | 2.7
57 | No | No | 03 | SURG | T&A Proc, Except Tonsillectomy &/Or Adenoidectomy Only, Age >17 | 0.9975 | 2.1 | 3.3
58 | No | No | 03 | SURG * | T&A Proc, Except Tonsillectomy &/Or Adenoidectomy Only, Age 0-17 | 0.2807 |  |
59 | No | No | 03 | SURG | Tonsillectomy &/Or Adenoidectomy Only, Age >17 | 0.6812 | 1.8 | 2.4
60 | No | No | 03 | SURG * | Tonsillectomy &/Or Adenoidectomy Only, Age 0-17 | 0.2137 | 1.5 | 1.5
61 | No | No | 03 | SURG | Myringotomy W Tube Insertion Age >17 | 1.5987 | 3.7 | 6.1
62 | No | No | 03 | SURG * | Myringotomy W Tube Insertion Age 0-17 | 0.3027 | 1.3 | 1.3
63 | No | No | 03 | SURG | Other Ear, Nose, Mouth & Throat O.R. Procedures | 1.3959 | 3.0 | 4.5
64 | No | No | 03 | MED | Ear, Nose, Mouth & Throat Malignancy | 1.2498 | 4.2 | 6.2
65 | No | No | 03 | MED | Dysequilibrium | 0.6159 | 2.3 | 2.8
66 | No | No | 03 | MED | Epistaxis | 0.6280 | 2.4 | 3.1
67 | No | No | 03 | MED | Epiglottitis | 0.8242 | 2.8 | 3.7
68 | No | No | 03 | MED | Otitis Media & Uri Age &>17 w CC | 0.6605 | 3.2 | 3.9
69 | No | No | 03 | MED | Otitis Media & Uri Age &>17 w/o CC | 0.4910 | 2.5 | 3.0
70 | No | No | 03 | MED | Otitis Media & Uri Age 0-17 | 0.3579 | 2.1 | 2.4
71 | No | No | 03 | MED | Laryngotracheitis | 0.7758 | 3.4 | 4.4
72 | No | No | 03 | MED | Nasal Trauma & Deformity | 0.7784 | 2.6 | 3.3
73 | Yes | No | 03 | MED | Other Ear, Nose, Mouth & Throat Diagnoses Age >17 | 0.8500 | 3.3 | 4.3
74 | No | No | 03 | MED * | Other Ear, Nose, Mouth & Throat Diagnoses Age 0-17 | 0.3441 | 2.1 | 2.1
75 | Yes | No | 04 | SURG | Major Chest Procedures | 3.0350 | 7.4 | 9.7
76 | Yes | No | 04 | SURG | Other Resp System O.R. Procedures w CC | 2.8386 | 8.2 | 10.7
77 | Yes | No | 04 | SURG | Other Resp System O.R. Procedures w/o CC | 1.1886 | 3.3 | 4.5
78 | Yes | No | 04 | MED | Pulmonary Embolism | 1.2357 | 5.3 | 6.2
79 | Yes | No | 04 | MED | Respiratory Infections & Inflammations Age >17 w CC | 1.6268 | 6.7 | 8.3
80 | Yes | No | 04 | MED | Respiratory Infections & Inflammations Age >17 w/o CC | 0.8943 | 4.3 | 5.3
81 | No | No | 04 | MED * | Respiratory Infections & Inflammations Age 0-17 | 1.5579 | 6.1 | 6.1
82 | Yes | No | 04 | MED | Respiratory Neoplasms | 1.4121 | 5.1 | 6.8
83 | Yes | No | 04 | MED | Major Chest Trauma w CC | 1.0308 | 4.2 | 5.3
84 | Yes | No | 04 | MED | Major Chest Trauma w/o CCc | 0.6028 | 2.6 | 3.1
85 | Yes | No | 04 | MED | Pleural Effusion w CC | 1.2459 | 4.7 | 6.2
86 | Yes | No | 04 | MED | Pleural Effusion w/o CC | 0.7132 | 2.7 | 3.5
87 | No | No | 04 | MED | Pulmonary Edema & Respiratory Failure | 1.3838 | 4.9 | 6.4
88 | No | No | 04 | MED | Chronic Obstructive Pulmonary Disease | 0.8878 | 4.0 | 4.9
89 | Yes | No | 04 | MED | Simple Pneumonia & Pleurisy Age >17 w CC | 1.0376 | 4.6 | 5.6
90 | Yes | No | 04 | MED | Simple Pneumonia & Pleurisy Age >17 w/o CCc | 0.6148 | 3.2 | 3.7
91 | No | No | 04 | MED | Simple Pneumonia & Pleurisy Age 0-17 | 0.5598 | 2.5 | 3.4
92 | Yes | No | 04 | MED | Interstitial Lung Disease w CC | 1.1979 | 4.8 | 6.0
93 | Yes | No | 04 | MED | Interstitial Lung Disease w/o CC | 0.7437 | 3.0 | 3.8
94 | No | No | 04 | MED | Pneumothorax w CC | 1.1474 | 4.5 | 5.9
95 | No | No | 04 | MED | Pneumothorax w/o CC | 0.5871 | 2.7 | 3.4
96 | No | No | 04 | MED | Bronchitis & Asthma Age >17 w CC | 0.7350 | 3.5 | 4.3
97 | No | No | 04 | MED | Bronchitis & Asthma Age >17 w/o CC | 0.5429 | 2.8 | 3.4
98 | No | No | 04 | MED | Bronchitis & Asthma Age 0-17 | 0.5870 | 2.8 | 3.1
99 | No | No | 04 | MED | Respiratory Signs & Symptoms w CC | 0.7155 | 2.4 | 3.1
100 | No | No | 04 | MED | Respiratory Signs & Symptoms w/o CC | 0.5411 | 1.7 | 2.1
101 | Yes | No | 04 | MED | Other Respiratory System Diagnoses w CC | 0.8614 | 3.2 | 4.2
102 | Yes | No | 04 | MED | Other Respiratory System Diagnoses w/o CC | 0.5622 | 2.0 | 2.5
103 | No | No | PRE | SURG | Heart Transplant Or Implant Of Heart Assist System | 18.8653 | 22.2 | 35.4
104 | Yes | No | 05 | SURG | Cardiac Valve & Oth Major Cardiothoracic Proc w Card Cath | 8.2903 | 12.8 | 15.1
105 | Yes | No | 05 | SURG | Cardiac Valve & Oth Major Cardiothoracic Proc w/o Card Cath | 6.0567 | 8.4 | 10.2
106 | No | No | 05 | SURG | Coronary Bypass w Ptca | 6.7383 | 9.3 | 10.9
107 | No | No | 05 | SURG | No Longer Valid | 0.0000 | 0.0 | 0.0
108 | Yes | No | 05 | SURG | Other Cardiothoracic Procedures | 5.7544 | 8.8 | 10.9
109 | No | No | 05 | SURG | No Longer Valid | 0.0000 | 0.0 | 0.0
110 | No | No | 05 | SURG | Major Cardiovascular Procedures w CC | 3.8064 | 5.4 | 8.1
111 | No | No | 05 | SURG | Major Cardiovascular Procedures w/o CC | 2.4879 | 2.3 | 3.1
112 | No | No | 05 | SURG | No Longer Valid | 0.0000 | 0.0 | 0.0
113 | Yes | No | 05 | SURG | Amputation For Circ System Disorders Except Upper Limb & Toe | 3.2646 | 10.8 | 13.7
114 | Yes | No | 05 | SURG | Upper Limb & Toe Amputation For Circ System Disorders | 1.7527 | 6.6 | 8.7
115 | No | No | 05 | SURG | No Longer Valid | 0.0000 | 0.0 | 0.0
116 | No | No | 05 | SURG | No Longer Valid | 0.0000 | 0.0 | 0.0
117 | No | No | 05 | SURG | Cardiac Pacemaker Revision Except Device Replacement | 1.3713 | 2.6 | 4.3
118 | No | No | 05 | SURG | Cardiac Pacemaker Device Replacement | 1.6687 | 2.0 | 3.0
119 | No | No | 05 | SURG | Vein Ligation & Stripping | 1.4554 | 3.3 | 5.4
120 | Yes | No | 05 | SURG | Other Circulatory System O.R. Procedures | 2.4173 | 6.0 | 9.2
121 | Yes | No | 05 | MED | Circulatory Disorders w AMI & Major Comp, Discharged Alive | 1.6166 | 5.2 | 6.5
122 | No | No | 05 | MED | Circulatory Disorders w AMI w/o Major Comp, Discharged Alive | 0.9621 | 2.7 | 3.4
123 | No | No | 05 | MED | Circulatory Disorders w AMI, Expired | 1.4902 | 2.9 | 4.7
124 | No | No | 05 | MED | Circulatory Disorders Except AMI, w Card Cath & Complex Diag | 1.4099 | 3.3 | 4.4
125 | No | No | 05 | MED | Circulatory Disorders Except Ami, w Card Cath w/o Complex Diag | 1.0530 | 2.1 | 2.7
126 | Yes | No | 05 | MED | Acute & Subacute Endocarditis | 2.6653 | 9.0 | 11.2
127 | Yes | No | 05 | MED | Heart Failure & Shock | 1.0490 | 4.1 | 5.2
128 | No | No | 05 | MED | Deep Vein Thrombophlebitis | 0.7499 | 4.4 | 5.2
129 | No | No | 05 | MED | Cardiac Arrest, Unexplained | 1.0118 | 1.6 | 2.5
130 | Yes | No | 05 | MED | Peripheral Vascular Disorders w CC | 0.9712 | 4.3 | 5.5
131 | Yes | No | 05 | MED | Peripheral Vascular Disorders w/o CC | 0.5755 | 3.1 | 3.7
132 | No | No | 05 | MED | Atherosclerosis w CC | 0.6318 | 2.2 | 2.8
133 | No | No | 05 | MED | Atherosclerosis w/o CC | 0.5494 | 1.8 | 2.1
134 | No | No | 05 | MED | Hypertension | 0.6189 | 2.5 | 3.1
135 | No | No | 05 | MED | Cardiac Congenital & Valvular Disorders Age >17w CC | 0.9405 | 3.3 | 4.3
136 | No | No | 05 | MED | Cardiac Congenital & Valvular Disorders Age >17 w/o CC | 0.6580 | 2.1 | 2.7
137 | No | No | 05 | MED * | Cardiac Congenital & Valvular Disorders Age 0-17 | 0.8393 |  |
138 | No | No | 05 | MED | Cardiac Arrhythmia & Conduction Disorders w CC | 0.8365 | 3.0 | 3.9
139 | No | No | 05 | MED | Cardiac Arrhythmia & Conduction Disorders w/o CC | 0.5297 | 2.0 | 2.4
140 | No | No | 05 | MED | Angina Pectoris | 0.5041 | 1.9 | 2.4
141 | No | No | 05 | MED | Syncope & Collapse w CC | 0.7633 | 2.7 | 3.4
142 | No | No | 05 | MED | Syncope & Collapse w/o CC | 0.6012 | 2.1 | 2.5
143 | No | No | 05 | MED | Chest Pain | 0.5637 | 1.7 | 2.1
144 | Yes | No | 05 | MED | Other Circulatory System Diagnoses w CC | 1.3381 | 4.3 | 5.9
145 | Yes | No | 05 | MED | Other Circulatory System Diagnoses w/o CC | 0.5834 | 2.0 | 2.6
146 | Yes | No | 06 | SURG | Rectal Resection w CC | 2.7431 | 8.4 | 9.9
147 | Yes | No | 06 | SURG | Rectal Resection w/o CC | 1.5124 | 4.9 | 5.6
148 | No | No | 06 | SURG | No Longer Valid | 0.0000 | 0.0 | 0.0
149 | Yes | No | 06 | SURG | Major Small & Large Bowel Procedures w/o CC | 1.4357 | 5.1 | 5.7
150 | Yes | No | 06 | SURG | Peritoneal Adhesiolysis w CC | 2.7871 | 8.7 | 10.8
151 | Yes | No | 06 | SURG | Peritoneal Adhesiolysis w/o CC | 1.2863 | 4.0 | 5.0
152 | No | No | 06 | SURG | Minor Small & Large Bowel Procedures w CC | 1.8859 | 6.5 | 7.9
153 | No | No | 06 | SURG | Minor Small & Large Bowel Procedures w/o CC | 1.0983 | 4.4 | 4.9
154 | No | No | 06 | SURG | No Longer Valid | 0.0000 | 0.0 | 0.0
155 | Yes | No | 06 | SURG | Stomach, Esophageal & Duodenal Procedures Age >17 w/o CC | 1.2948 | 3.0 | 4.0
156 | No | No | 06 | SURG * | Stomach, Esophageal & Duodenal Procedures Age 0-17 | 0.8644 | 6.0 | 6.0
157 | Yes | No | 06 | SURG | Anal & Stomal Procedures w CC | 1.3430 | 4.1 | 5.8
158 | Yes | No | 06 | SURG | Anal & Stomal Procedures w/o CC | 0.6577 | 2.1 | 2.7
159 | No | No | 06 | SURG | Hernia Procedures Except Inguinal & Femoral Age >17 w CC | 1.4316 | 3.7 | 5.1
160 | No | No | 06 | SURG | Hernia Procedures Except Inguinal & Femoral Age >17 w/o CC | 0.8675 | 2.2 | 2.7
161 | No | No | 06 | SURG | Inguinal & Femoral Hernia Procedures Age >17 w CC | 1.2403 | 3.2 | 4.5
162 | No | No | 06 | SURG | Inguinal & Femoral Hernia Procedures Age >17 w/o CCc | 0.6916 | 1.7 | 2.1
163 | No | No | 06 | SURG * | Hernia Procedures Age 0-17 | 0.6809 | 2.1 | 2.1
164 | No | No | 06 | SURG | Appendectomy w Complicated Principal Diag w CC | 2.1474 | 6.4 | 7.7
165 | No | No | 06 | SURG | Appendectomy w Complicated Principal Diag w/o CC | 1.1843 | 3.4 | 4.0
166 | No | No | 06 | SURG | Appendectomy w/o Complicated Principal Diag w CC | 1.4035 | 3.2 | 4.3
167 | No | No | 06 | SURG | Appendectomy w/o Complicated Principal Diag w/o CC | 0.9001 | 1.8 | 2.1
168 | No | No | 03 | SURG | Mouth Procedures w CC | 1.2827 | 3.3 | 4.8
169 | No | No | 03 | SURG | Mouth Procedures w/o CC | 0.7679 | 1.8 | 2.3
170 | Yes | No | 06 | SURG | Other Digestive System O.R. Procedures w CC | 2.9921 | 7.8 | 10.9
171 | Yes | No | 06 | SURG | Other Digestive System O.R. Procedures w/o CC | 1.2242 | 3.1 | 4.2
172 | Yes | No | 06 | MED | Digestive Malignancy w CC | 1.4293 | 5.1 | 6.9
173 | Yes | No | 06 | MED | Digestive Malignancy w/o CC | 0.7645 | 2.7 | 3.6
174 | No | No | 06 | MED | G.I. Hemorrhage w CC | 1.0296 | 3.8 | 4.7
175 | No | No | 06 | MED | G.I. Hemorrhage w/o CC | 0.5808 | 2.4 | 2.9
176 | Yes | No | 06 | MED | Complicated Peptic Ulcer | 1.1275 | 4.0 | 5.1
177 | No | No | 06 | MED | Uncomplicated Peptic Ulcer w CC | 0.9333 | 3.6 | 4.4
178 | No | No | 06 | MED | Uncomplicated Peptic Ulcer w/o CCc | 0.6900 | 2.6 | 3.1
179 | No | No | 06 | MED | Inflammatory Bowel Disease | 1.0804 | 4.5 | 5.8
180 | Yes | No | 06 | MED | G.I. Obstruction w CC | 0.9930 | 4.1 | 5.3
181 | Yes | No | 06 | MED | G.I. Obstruction w/o CC | 0.5784 | 2.8 | 3.3
182 | No | No | 06 | MED | Esophagitis, Gastroent & Misc Digest Disorders Age >17 w CC | 0.7853 | 3.2 | 4.1
183 | No | No | 06 | MED | Esophagitis, Gastroent & Misc Digest Disorders Age >17 w/o CC | 0.5841 | 2.3 | 2.8
184 | No | No | 06 | MED | Esophagitis, Gastroent & Misc Digest Disorders Age 0-17 | 0.6192 | 2.5 | 3.7
185 | No | No | 03 | MED | Dental & Oral Dis Except Extractions & Restorations, Age >17 | 0.8886 | 3.3 | 4.5
186 | No | No | 03 | MED * | Dental & Oral Dis Except Extractions & Restorations, Age 0-17 | 0.3294 | 2.9 | 2.9
187 | No | No | 03 | MED | Dental Extractions & Restorations | 0.8421 | 3.1 | 4.2
188 | Yes | No | 06 | MED | Other Digestive System Diagnoses Age >17w CC | 1.0931 | 4.0 | 5.4
189 | Yes | No | 06 | MED | Other Digestive System Diagnoses Age >17 w/o CC | 0.5916 | 2.4 | 3.0
190 | No | No | 06 | MED | Other Digestive System Diagnoses Age 0-17 | 0.6351 | 2.3 | 3.0
191 | Yes | No | 07 | SURG | Pancreas, Liver & Shunt Procedures w CC | 3.9384 | 8.8 | 12.5
192 | Yes | No | 07 | SURG | Pancreas, Liver & Shunt Procedures w/o CC | 1.6740 | 4.2 | 5.5
193 | No | No | 07 | SURG | Biliary Tract Proc Except Only Cholecyst w or w/o C.D.E. w CC | 3.3831 | 10.1 | 12.6
194 | No | No | 07 | SURG | Biliary Tract Proc Except Only Cholecyst w or w/o C.D.E. w/o CC | 1.5879 | 5.4 | 6.3
195 | No | No | 07 | SURG | Cholecystectomy w C.D.E. w CC | 3.0501 | 8.8 | 10.6
196 | No | No | 07 | SURG | Cholecystectomy w C.D.E. w/o CC | 1.5412 | 4.5 | 5.3
197 | Yes | No | 07 | SURG | Cholecystectomy Except By Laparoscope w/o C.D.E. w CC | 2.5518 | 7.4 | 9.1
198 | Yes | No | 07 | SURG | Cholecystectomy Except By Laparoscope w/o C.D.E. w/o CC | 1.1781 | 3.7 | 4.3
199 | No | No | 07 | SURG | Hepatobiliary Diagnostic Procedure For Malignancy | 2.2350 | 6.4 | 9.0
200 | No | No | 07 | SURG | Hepatobiliary Diagnostic Procedure For Non-Malignancy | 2.8402 | 6.5 | 10.4
201 | No | No | 07 | SURG | Other Hepatobiliary or Pancreas O.R. Procedures | 3.7905 | 10.0 | 13.6
202 | No | No | 07 | MED | Cirrhosis & Alcoholic Hepatitis | 1.3396 | 4.6 | 6.2
203 | No | No | 07 | MED | Malignancy of Hepatobiliary System or Pancreas | 1.3672 | 4.8 | 6.5
204 | No | No | 07 | MED | Disorders of Pancreas Except Malignancy | 1.0989 | 4.1 | 5.4
205 | Yes | No | 07 | MED | Disorders of Liver Except Malig,Cirr,Alc Hepa w CC | 1.2013 | 4.4 | 5.9
206 | Yes | No | 07 | MED | Disorders of Liver Except Malig,Cirr,Alc Hepa w/o CC | 0.7287 | 3.0 | 3.8
207 | No | No | 07 | MED | Disorders of The Biliary Tract w CC | 1.1839 | 4.1 | 5.3
208 | No | No | 07 | MED | Disorders of The Biliary Tract w/o CC | 0.6890 | 2.4 | 3.0
209 | No | No | 08 | SURG | No Longer Valid | 0.0000 | 0.0 | 0.0
210 | Yes | Yes | 08 | SURG | Hip & Femur Procedures Except Major Joint Age >17 w CC | 1.9022 | 5.9 | 6.7
211 | Yes | Yes | 08 | SURG | Hip & Femur Procedures Except Major Joint Age >17 w/o CC | 1.2939 | 4.3 | 4.6
212 | No | No | 08 | SURG | Hip & Femur Procedures Except Major Joint Age 0-17 | 0.9164 | 2.2 | 2.5
213 | Yes | No | 08 | SURG | Amputation for Musculoskeletal System & Conn Tissue Disorders | 2.1174 | 7.1 | 9.5
214 | No | No | 08 | SURG | No Longer Valid | 0.0000 | 0.0 | 0.0
215 | No | No | 08 | SURG | No Longer Valid | 0.0000 | 0.0 | 0.0
216 | Yes | No | 08 | SURG | Biopsies of Musculoskeletal System & Connective Tissue | 1.8744 | 3.1 | 5.4
217 | Yes | No | 08 | SURG | Wnd Debrid & Skn Grft Except Hand,for Muscskelet & Conn Tiss Dis | 3.0499 | 9.0 | 12.9
218 | Yes | No | 08 | SURG | Lower Extrem & Humer Proc Except Hip,Foot,Femur Age >17 w CC | 1.7053 | 4.4 | 5.5
219 | Yes | No | 08 | SURG | Lower Extrem & Humer Proc Except Hip,Foot,Femur Age >17 w/o CC | 1.1033 | 2.7 | 3.2
220 | No | No | 08 | SURG * | Lower Extrem & Humer Proc Except Hip,Foot,Femur Age 0-17 | 0.5988 | 5.3 | 5.3
221 | No | No | 08 | SURG | No Longer Valid | 0.0000 | 0.0 | 0.0
222 | No | No | 08 | SURG | No Longer Valid | 0.0000 | 0.0 | 0.0
223 | No | No | 08 | SURG | Major Shoulder/Elbow Proc, or Other Upper Extremity Proc w CC | 1.1726 | 2.4 | 3.3
224 | No | No | 08 | SURG | Shoulder,Elbow or Forearm Proc,Exc Major Joint Proc, w/o CC | 0.8574 | 1.6 | 1.9
225 | Yes | No | 08 | SURG | Foot Procedures | 1.2775 | 3.8 | 5.4
226 | Yes | No | 08 | SURG | Soft Tissue Procedures w CCc | 1.6340 | 4.6 | 6.5
227 | Yes | No | 08 | SURG | Soft Tissue Procedures w/o CC | 0.8618 | 2.1 | 2.6
228 | No | No | 08 | SURG | Major Thumb or Joint Proc,or Oth Hand or Wrist Proc w CC | 1.1528 | 2.9 | 4.2
229 | No | No | 08 | SURG | Hand or Wrist Proc, Except Major Joint Proc, w/o CC | 0.7208 | 2.0 | 2.5
230 | No | No | 08 | SURG | Local Excision & Removal of Int Fix Devices of Hip & Femur | 1.3385 | 3.6 | 5.4
231 | No | No | 08 | SURG | No Longer Valid | 0.0000 | 0.0 | 0.0
232 | No | No | 08 | SURG | Arthroscopy | 0.9732 | 1.9 | 2.7
233 | Yes | Yes | 08 | SURG | Other Musculoskelet Sys & Conn Tiss O.R. Proc w CC | 1.9033 | 4.3 | 6.4
234 | Yes | Yes | 08 | SURG | Other Musculoskelet Sys & Conn Tiss O.R. Proc w/o CC | 1.2565 | 1.9 | 2.7
235 | Yes | No | 08 | MED | Fractures of Femur | 0.8226 | 3.8 | 4.8
236 | Yes | No | 08 | MED | Fractures of Hip & Pelvis | 0.7688 | 3.8 | 4.5
237 | No | No | 08 | MED | Sprains, Strains, & Dislocations of Hip, Pelvis & Thigh | 0.6573 | 3.0 | 3.8
238 | Yes | No | 08 | MED | Osteomyelitis | 1.4100 | 6.5 | 8.3
239 | Yes | No | 08 | MED | Pathological Fractures & Musculoskeletal & Conn Tiss Malignancy | 1.1203 | 4.9 | 6.2
240 | Yes | No | 08 | MED | Connective Tissue Disorders w CC | 1.3807 | 4.9 | 6.5
241 | Yes | No | 08 | MED | Connective Tissue Disorders w/o CC | 0.6637 | 3.0 | 3.7
242 | No | No | 08 | MED | Septic Arthritis | 1.1045 | 5.1 | 6.5
243 | No | No | 08 | MED | Medical Back Problems | 0.7970 | 3.6 | 4.5
244 | Yes | No | 08 | MED | Bone Diseases & Specific Arthropathies w CC | 0.7394 | 3.6 | 4.5
245 | Yes | No | 08 | MED | Bone Diseases & Specific Arthropathies w/o CC | 0.4943 | 2.5 | 3.1
246 | No | No | 08 | MED | Non-Specific Arthropathies | 0.6311 | 2.8 | 3.6
247 | No | No | 08 | MED | Signs & Symptoms of Musculoskeletal System & Conn Tissue | 0.5934 | 2.6 | 3.3
248 | No | No | 08 | MED | Tendonitis, Myositis & Bursitis | 0.8876 | 3.8 | 4.8
249 | No | No | 08 | MED | Aftercare, Musculoskeletal System & Connective Tissue | 0.7506 | 2.8 | 4.0
250 | Yes | No | 08 | MED | Fx, Sprn, Strn & Disl of Forearm, Hand, Foot Age >17 w CC | 0.7230 | 3.2 | 3.9
251 | Yes | No | 08 | MED | Fx, Sprn, Strn & Disl of Forearm, Hand, Foot Age >17 w/o CC | 0.5122 | 2.3 | 2.8
252 | No | No | 08 | MED * | Fx, Sprn, Strn & Disl of Forearm, Hand, Foot Age 0-17 | 0.2600 |  |
253 | Yes | No | 08 | MED | Fx, Sprn, Strn & Disl of Uparm,Lowleg Ex Foot Age >17 w CC | 0.8180 | 3.8 | 4.6
254 | Yes | No | 08 | MED | Fx, Sprn, Strn & Disl of Uparm,Lowleg Ex Foot Age >17 w/o CC | 0.4978 | 2.6 | 3.1
255 | No | No | 08 | MED * | Fx, Sprn, Strn & Disl of Uparm,Lowleg Ex Foot Age 0-17 | 0.3028 |  |
256 | Yes | No | 08 | MED | Other Musculoskeletal System & Connective Tissue Diagnoses | 0.8714 | 3.9 | 5.0
257 | No | No | 09 | SURG | Total Mastectomy For Malignancy w CC | 0.9123 | 2.0 | 2.6
258 | No | No | 09 | SURG | Total Mastectomy For Malignancy w/o CC | 0.7130 | 1.5 | 1.7
259 | No | No | 09 | SURG | Subtotal Mastectomy For Malignancy w CC | 1.0060 | 1.8 | 2.8
260 | No | No | 09 | SURG | Subtotal Mastectomy For Malignancy w/o CC | 0.6819 | 1.2 | 1.4
261 | No | No | 09 | SURG | Breast Proc for Non-Malignancy Except Biopsy & Local Excision | 0.9535 | 1.6 | 2.2
262 | No | No | 09 | SURG | Breast Biopsy & Local Excision for Non-Malignancy | 0.9621 | 3.3 | 4.7
263 | Yes | No | 09 | SURG | Skin Graft &/or Debrid for Skn Ulcer or Cellulitis w CC | 2.1230 | 8.3 | 11.1
264 | Yes | No | 09 | SURG | Skin Graft &/or Debrid for Skn Ulcer or Cellulitis w/o CC | 1.0980 | 4.9 | 6.4
265 | Yes | No | 09 | SURG | Skin Graft &/or Debrid Except for Skin Ulcer or Cellulitis w CC | 1.6951 | 4.2 | 6.7
266 | Yes | No | 09 | SURG | Skin Graft &/or Debrid Except for Skin Ulcer or Cellulitis w/o CC | 0.9136 | 2.3 | 3.0
267 | No | No | 09 | SURG | Perianal & Pilonidal Procedures | 0.9444 | 2.9 | 4.2
268 | No | No | 09 | SURG | Skin, Subcutaneous Tissue & Breast Plastic Procedures | 1.2219 | 2.4 | 3.6
269 | Yes | No | 09 | SURG | Other Skin, Subcut Tiss & Breast Proc w CC | 1.7920 | 6.0 | 8.3
270 | Yes | No | 09 | SURG | Other Skin, Subcut Tiss & Breast Proc w/o CCc | 0.8209 | 2.7 | 3.6
271 | Yes | No | 09 | MED | Skin Ulcers | 1.0763 | 5.6 | 7.1
272 | Yes | No | 09 | MED | Major Skin Disorders w CC | 1.0356 | 4.5 | 5.9
273 | Yes | No | 09 | MED | Major Skin Disorders w/o CC | 0.5853 | 2.9 | 3.7
274 | No | No | 09 | MED | Malignant Breast Disorders w CC | 1.1315 | 4.5 | 6.2
275 | No | No | 09 | MED | Malignant Breast Disorders w/o CC | 0.5954 | 2.4 | 3.3
276 | No | No | 09 | MED | Non-Maligant Breast Disorders | 0.7430 | 3.6 | 4.6
277 | Yes | No | 09 | MED | Cellulitis Age >17 w CC | 0.8958 | 4.5 | 5.5
278 | Yes | No | 09 | MED | Cellulitis Age >17 w/o CC | 0.5649 | 3.4 | 4.0
279 | No | No | 09 | MED * | Cellulitis Age 0-17 | 0.7922 | 4.2 | 4.2
280 | Yes | No | 09 | MED | Trauma to the Skin, Subcut Tiss & Breast Age >17 w CC | 0.7716 | 3.2 | 4.0
281 | Yes | No | 09 | MED | Trauma to the Skin, Subcut Tiss & Breast Age >17 w/o CC | 0.5207 | 2.3 | 2.8
282 | No | No | 09 | MED * | Trauma to the Skin, Subcut Tiss & Breast Age 0-17 | 0.2633 |  |
283 | Yes | No | 09 | MED | Minor Skin Disorders w CCc | 0.7605 | 3.4 | 4.6
284 | Yes | No | 09 | MED | Minor Skin Disorders w/o CC | 0.4584 | 2.3 | 2.9
285 | Yes | No | 10 | SURG | Amputat of Lower Limb For Endocrine,Nutrit,& Metabol Disorders | 2.1774 | 8.1 | 10.3
286 | No | No | 10 | SURG | Adrenal & Pituitary Procedures | 1.9098 | 3.8 | 5.2
287 | Yes | No | 10 | SURG | Skin Grafts & Wound Debrid for Endoc, Nutrit & Metab Disorders | 1.9507 | 7.6 | 9.9
288 | No | No | 10 | SURG | O.R. Procedures for Obesity | 1.9130 | 2.9 | 3.7
289 | No | No | 10 | SURG | Parathyroid Procedures | 0.9245 | 1.6 | 2.4
290 | No | No | 10 | SURG | Thyroid Procedures | 0.8806 | 1.5 | 2.0
291 | No | No | 10 | SURG | Thyroglossal Procedures | 0.5849 | 1.3 | 1.5
292 | Yes | No | 10 | SURG | Other Endocrine, Nutrit & Metab O.R. Proc w CC | 2.6985 | 7.3 | 10.2
293 | Yes | No | 10 | SURG | Other Endocrine, Nutrit & Metab O.R. Proc w/o CC | 1.3912 | 3.5 | 4.8
294 | Yes | No | 10 | MED | Diabetes Age >35 | 0.7869 | 3.3 | 4.3
295 | No | No | 10 | MED | Diabetes Age 0-35 | 0.7655 | 2.8 | 3.7
296 | Yes | No | 10 | MED | Nutritional & Misc Metabolic Disorders Age >17 w CC | 0.8334 | 3.6 | 4.7
297 | Yes | No | 10 | MED | Nutritional & Misc Metabolic Disorders Age >17 w/o CC | 0.5090 | 2.5 | 3.0
298 | No | No | 10 | MED | Nutritional & Misc Metabolic Disorders Age 0-17 | 0.5753 | 2.5 | 3.5
299 | No | No | 10 | MED | Inborn Errors of Metabolism | 1.0490 | 3.7 | 5.1
300 | Yes | No | 10 | MED | Endocrine Disorders w CC | 1.1193 | 4.6 | 5.9
301 | Yes | No | 10 | MED | Endocrine Disorders w/o CC | 0.6209 | 2.7 | 3.4
302 | No | No | 11 | SURG | Kidney Transplant | 3.1152 | 6.7 | 7.9
303 | No | No | 11 | SURG | Kidney And Ureter Procedures for Neoplasm | 1.9776 | 5.0 | 6.3
304 | Yes | No | 11 | SURG | Kidney And Ureter Procedures for Non-Neoplasm W CC | 2.3473 | 5.8 | 8.3
305 | Yes | No | 11 | SURG | Kidney And Ureter Procedures for Non-Neoplasm W/o CC | 1.1520 | 2.5 | 3.0
306 | No | No | 11 | SURG | Prostatectomy w CC | 1.3390 | 3.6 | 5.6
307 | No | No | 11 | SURG | Prostatectomy w/o CC | 0.6411 | 1.7 | 2.0
308 | No | No | 11 | SURG | Minor Bladder Procedures w CC | 1.4594 | 3.3 | 5.3
309 | No | No | 11 | SURG | Minor Bladder Procedures w/o CC | 0.9022 | 1.4 | 1.7
310 | No | No | 11 | SURG | Transurethral Procedures w CC | 1.2131 | 3.1 | 4.5
311 | No | No | 11 | SURG | Transurethral Procedures w/o CC | 0.6552 | 1.5 | 1.9
312 | No | No | 11 | SURG | Urethral Procedures, Age >17 w CC | 1.1767 | 3.3 | 4.9
313 | No | No | 11 | SURG | Urethral Procedures, Age >17 w/o CC | 0.7465 | 1.8 | 2.4
314 | No | No | 11 | SURG * | Urethral Procedures, Age 0-17 | 0.5076 | 2.3 | 2.3
315 | No | No | 11 | SURG | Other Kidney & Urinary Tract O.R. Procedures | 2.1173 | 3.7 | 6.8
316 | Yes | No | 11 | MED | Renal Failure | 1.2602 | 4.8 | 6.3
317 | No | No | 11 | MED | Admit for Renal Dialysis | 0.8067 | 2.4 | 3.5
318 | No | No | 11 | MED | Kidney & Urinary Tract Neoplasms w CC | 1.2376 | 4.4 | 6.0
319 | No | No | 11 | MED | Kidney & Urinary Tract Neoplasms w/o CC | 0.6084 | 1.9 | 2.6
320 | Yes | No | 11 | MED | Kidney & Urinary Tract Infections Age >17 w CC | 0.8769 | 4.1 | 5.1
321 | Yes | No | 11 | MED | Kidney & Urinary Tract Infections Age >17 w/o CC | 0.5793 | 3.0 | 3.6
322 | No | No | 11 | MED | Kidney & Urinary Tract Infections Age 0-17 | 0.6160 | 3.1 | 3.6
323 | No | No | 11 | MED | Urinary Stones w CC, &/or ESW Lithotripsy | 0.8259 | 2.3 | 3.1
324 | No | No | 11 | MED | Urinary Stones w/o CC | 0.5049 | 1.6 | 1.8
325 | No | No | 11 | MED | Kidney & Urinary Tract Signs & Symptoms Age >17 w CC | 0.6904 | 2.9 | 3.7
326 | No | No | 11 | MED | Kidney & Urinary Tract Signs & Symptoms Age >17 w/o CCc | 0.4544 | 2.1 | 2.6
327 | No | No | 11 | MED | Kidney & Urinary Tract Signs & Symptoms Age 0-17 | 0.2109 | 1.8 | 2.0
328 | No | No | 11 | MED | Urethral Stricture Age >17 w CC | 0.7294 | 2.6 | 3.4
329 | No | No | 11 | MED | Urethral Stricture Age >17 w/o CC | 0.5198 | 1.4 | 1.7
330 | No | No | 11 | MED * | Urethral Stricture Age 0-17 | 0.3268 |  |
331 | Yes | No | 11 | MED | Other Kidney & Urinary Tract Diagnoses Age >17 w CC | 1.0960 | 4.2 | 5.5
332 | Yes | No | 11 | MED | Other Kidney & Urinary Tract Diagnoses Age >17 w/o CC | 0.6255 | 2.4 | 3.1
333 | No | No | 11 | MED | Other Kidney & Urinary Tract Diagnoses Age 0-17 | 1.0170 | 3.7 | 5.4
334 | No | No | 12 | SURG | Major Male Pelvic Procedures w CC | 1.4202 | 3.3 | 4.0
335 | No | No | 12 | SURG | Major Male Pelvic Procedures w/o CC | 1.1174 | 2.2 | 2.5
336 | No | No | 12 | SURG | Transurethral Prostatectomy w CC | 0.8576 | 2.4 | 3.2
337 | No | No | 12 | SURG | Transurethral Prostatectomy w/o CC | 0.5877 | 1.6 | 1.8
338 | No | No | 12 | SURG | Testes Procedures, For Malignancy | 1.3797 | 3.8 | 5.8
339 | No | No | 12 | SURG | Testes Procedures, Non-Malignancy Age >17 | 1.2553 | 3.3 | 5.2
340 | No | No | 12 | SURG * | Testes Procedures, Non-Malignancy Age 0-17 | 0.2904 |  |
341 | No | No | 12 | SURG | Penis Procedures | 1.3419 | 1.9 | 3.2
342 | No | No | 12 | SURG | Circumcision Age >17 | 0.8103 | 2.3 | 3.0
343 | No | No | 12 | SURG * | Circumcision Age 0-17 | 0.1579 |  |
344 | No | No | 12 | SURG | Other Male Reproductive System O.R. Procedures for Malignancy | 1.2124 | 1.7 | 2.7
345 | No | No | 12 | SURG | Other Male Reproductive System O.R. Proc Except for Malignancy | 1.2987 | 3.4 | 5.4
346 | No | No | 12 | MED | Malignancy, Male Reproductive System, w CC | 1.0716 | 4.5 | 5.9
347 | No | No | 12 | MED | Malignancy, Male Reproductive System, w/o CC | 0.5385 | 2.0 | 2.7
348 | No | No | 12 | MED | Benign Prostatic Hypertrophy w CC | 0.7429 | 3.1 | 4.0
349 | No | No | 12 | MED | Benign Prostatic Hypertrophy w/o CC | 0.4615 | 2.1 | 2.6
350 | No | No | 12 | MED | Inflammation of the Male Reproductive System | 0.7748 | 3.6 | 4.5
351 | No | No | 12 | MED * | Sterilization, Male | 0.2422 |  |
352 | No | No | 12 | MED | Other Male Reproductive System Diagnoses | 0.7819 | 3.0 | 4.2
353 | No | No | 13 | SURG | Pelvic Evisceration, Radical Hysterectomy & Radical Vulvectomy | 1.8192 | 4.5 | 6.0
354 | No | No | 13 | SURG | Uterine,Adnexa Proc for Non-Ovarian/Adnexal Malig w CC | 1.4966 | 4.5 | 5.6
355 | No | No | 13 | SURG | Uterine,Adnexa Proc for Non-Ovarian/Adnexal Malig w/o CC | 0.9074 | 2.8 | 3.0
356 | No | No | 13 | SURG | Female Reproductive System Reconstructive Procedures | 0.7571 | 1.6 | 1.9
357 | No | No | 13 | SURG | Uterine & Adnexa Proc for Ovarian Or Adnexal Malignancy | 2.2250 | 6.4 | 8.0
358 | No | No | 13 | SURG | Uterine & Adnexa Proc for Non-Malignancy w CC | 1.1418 | 3.1 | 3.9
359 | No | No | 13 | SURG | Uterine & Adnexa Proc for Non-Malignancy w/o CC | 0.8053 | 2.1 | 2.3
360 | No | No | 13 | SURG | Vagina, Cervix & Vulva Procedures | 0.8811 | 2.0 | 2.5
361 | No | No | 13 | SURG | Laparoscopy & Incisional Tubal Interruption | 1.0626 | 2.1 | 2.9
362 | No | No | 13 | SURG * | Endoscopic Tubal Interruption | 0.3096 | 1.4 | 1.4
363 | No | No | 13 | SURG | D&C, Conization & Radio-Implant, for Malignancy | 1.1028 | 2.9 | 4.2
364 | No | No | 13 | SURG | D&C, Conization Except for Malignancy | 0.8936 | 2.7 | 3.8
365 | No | No | 13 | SURG | Other Female Reproductive System O.R. Procedures | 2.0508 | 5.3 | 7.9
366 | No | No | 13 | MED | Malignancy, Female Reproductive System w CC | 1.2466 | 4.6 | 6.3
367 | No | No | 13 | MED | Malignancy, Female Reproductive System w/o CC | 0.5865 | 2.3 | 3.0
368 | No | No | 13 | MED | Infections, Female Reproductive System | 1.1697 | 5.0 | 6.4
369 | No | No | 13 | MED | Menstrual & Other Female Reproductive System Disorders | 0.6598 | 2.5 | 3.3
370 | No | No | 14 | SURG | Cesarean Section w CC | 0.9002 | 4.1 | 5.0
371 | No | No | 14 | SURG | Cesarean Section w/o CC | 0.6565 | 3.1 | 3.4
372 | No | No | 14 | MED | Vaginal Delivery w Complicating Diagnoses | 0.5660 | 2.6 | 3.4
373 | No | No | 14 | MED | Vaginal Delivery w/o Complicating Diagnoses | 0.3911 | 2.1 | 2.2
374 | No | No | 14 | SURG | Vaginal Delivery w Sterilization &/or D&C | 0.6505 | 2.4 | 3.0
375 | No | No | 14 | SURG | Vaginal Delivery w O.R. Proc Except Steril &/or D&C | 1.1252 | 4.1 | 6.5
376 | No | No | 14 | MED | Postpartum & Post Abortion Diagnoses w/o O.R. Procedure | 0.6150 | 2.5 | 3.3
377 | No | No | 14 | SURG | Postpartum & Post Abortion Diagnoses w O.R. Procedure | 1.2457 | 3.2 | 4.5
378 | No | No | 14 | MED | Ectopic Pregnancy | 0.7163 | 1.8 | 2.2
379 | No | No | 14 | MED | Threatened Abortion | 0.4138 | 2.2 | 3.3
380 | No | No | 14 | MED | Abortion w/o D&C | 0.4430 | 1.5 | 2.0
381 | No | No | 14 | SURG | Abortion w D&C, Aspiration Curettage or Hysterotomy | 0.7070 | 1.7 | 2.5
382 | No | No | 14 | MED | False Labor | 0.1817 | 1.3 | 1.5
383 | No | No | 14 | MED | Other Antepartum Diagnoses w Medical Complications | 0.5103 | 2.6 | 3.7
384 | No | No | 14 | MED | Other Antepartum Diagnoses w/o Medical Complications | 0.3790 | 1.7 | 2.6
385 | No | No | 15 | MED * | Neonates, Died or Transferred to Another Acute Care Facility | 1.4107 |  |
386 | No | No | 15 | MED * | Extreme Immaturity or Respiratory Distress Syndrome, Neonate | 4.6519 |  |
387 | No | No | 15 | MED * | Prematurity w Major Problems | 3.1771 |  |
388 | No | No | 15 | MED * | Prematurity w/o Major Problems | 1.9170 |  |
389 | No | No | 15 | MED * | Full Term Neonate w Major Problems | 3.2636 | 4.7 | 4.7
390 | No | No | 15 | MED * | Neonate w Other Significant Problems | 1.1551 |  |
391 | No | No | 15 | MED * | Normal Newborn | 0.1564 |  |
392 | No | No | 16 | SURG | Splenectomy Age >17 | 3.0202 | 6.3 | 8.9
393 | No | No | 16 | SURG * | Splenectomy Age 0-17 | 1.3819 |  |
394 | No | No | 16 | SURG | Other O.R. Procedures of the Blood and Blood Forming Organs | 1.9299 | 4.5 | 7.3
395 | Yes | No | 16 | MED | Red Blood Cell Disorders Age >17 | 0.7992 | 3.1 | 4.1
396 | No | No | 16 | MED | Red Blood Cell Disorders Age 0-17 | 0.6654 | 2.6 | 3.1
397 | No | No | 16 | MED | Coagulation Disorders | 1.3267 | 3.7 | 5.1
398 | Yes | No | 16 | MED | Reticuloendothelial & Immunity Disorders w CC | 1.1269 | 4.1 | 5.5
399 | Yes | No | 16 | MED | Reticuloendothelial & Immunity Disorders w/o CC | 0.6720 | 2.6 | 3.2
400 | No | No | 17 | SURG | No Longer Valid | 0.0000 | 0.0 | 0.0
401 | Yes | No | 17 | SURG | Lymphoma & Non-Acute Leukemia w Other O.R. Proc w CC | 2.9652 | 8.1 | 11.3
402 | Yes | No | 17 | SURG | Lymphoma & Non-Acute Leukemia w Other O.R. Proc w/o CC | 1.1612 | 2.8 | 3.9
403 | Yes | No | 17 | MED | Lymphoma & Non-Acute Leukemia w CC | 1.8625 | 5.7 | 8.0
404 | Yes | No | 17 | MED | Lymphoma & Non-Acute Leukemia w/o CC | 0.9224 | 3.0 | 4.1
405 | No | No | 17 | MED * | Acute Leukemia w/o Major O.R. Procedure Age 0-17 | 1.9592 |  |
406 | No | No | 17 | SURG | Myeloprolif Disord or Poorly Diff Neopl w Maj O.R.Proc w CC | 2.7201 | 6.7 | 9.4
407 | No | No | 17 | SURG | Myeloprolif Disord or Poorly Diff Neopl w Maj O.R.Proc w/o CC | 1.1545 | 2.8 | 3.5
408 | No | No | 17 | SURG | Myeloprolif Disord or Poorly Diff Neopl w Other O.R.Proc | 2.1651 | 5.1 | 8.2
409 | No | No | 17 | MED | Radiotherapy | 1.2948 | 4.5 | 6.0
410 | No | No | 17 | MED | Chemotherapy w/o Acute Leukemia as Secondary Diagnosis | 1.0908 | 2.9 | 3.8
411 | No | No | 17 | MED * | History of Malignancy w/o Endoscopy | 0.3681 | 4.7 | 4.7
412 | No | No | 17 | MED * | History of Malignancy w Endoscopy | 0.8559 | 2.0 | 2.0
413 | No | No | 17 | MED | Other Myeloprolif Dis or Poorly Diff Neopl Diag w CC | 1.3347 | 5.0 | 6.7
414 | No | No | 17 | MED | Other Myeloprolif Dis or Poorly Diff Neopl Diag w/o CC | 0.7678 | 3.0 | 4.1
415 | No | No | 18 | SURG | No Longer Valid | 0.0000 | 0.0 | 0.0
416 | No | No | 18 | MED | No Longer Valid | 0.0000 | 0.0 | 0.0
417 | No | No | 18 | MED | Septicemia Age 0-17 | 1.8841 | 5.2 | 6.5
418 | Yes | No | 18 | MED | Postoperative & Post-Traumatic Infections | 1.0993 | 4.7 | 6.1
419 | No | No | 18 | MED | Fever of Unknown Origin Age >17 w CC | 0.8614 | 3.4 | 4.4
420 | No | No | 18 | MED | Fever of Unknown Origin Age >17 w/o CC | 0.5957 | 2.6 | 3.2
421 | No | No | 18 | MED | Viral Illness Age >17 | 0.7747 | 3.1 | 4.0
422 | No | No | 18 | MED | Viral Illness & Fever of Unknown Origin Age 0-17 | 0.6176 | 2.6 | 3.7
423 | Yes | No | 18 | MED | Other Infectious & Parasitic Diseases Diagnoses | 1.8379 | 6.0 | 8.2
424 | No | No | 19 | SURG | O.R. Procedure w Principal Diagnoses of Mental Illness | 2.2487 | 7.4 | 11.5
425 | No | No | 19 | MED | Acute Adjustment Reaction & Psychosocial Dysfunction | 0.6299 | 2.6 | 3.5
426 | No | No | 19 | MED | Depressive Neuroses | 0.5122 | 3.1 | 4.3
427 | No | No | 19 | MED | Neuroses Except Depressive | 0.5580 | 3.1 | 4.6
428 | No | No | 19 | MED | Disorders of Personality & Impulse Control | 0.7797 | 4.5 | 7.3
429 | Yes | No | 19 | MED | Organic Disturbances & Mental Retardation | 0.8388 | 4.3 | 5.6
430 | Yes | No | 19 | MED | Psychoses | 0.7261 | 5.8 | 7.9
431 | No | No | 19 | MED | Childhood Mental Disorders | 0.6729 | 4.2 | 6.7
432 | No | No | 19 | MED | Other Mental Disorder Diagnoses | 0.6611 | 2.7 | 4.0
433 | No | No | 20 | MED | Alcohol/Drug Abuse or Dependence, Left AMA | 0.3284 | 2.1 | 2.8
434 | No | No | 20 | MED | No Longer Valid | 0.0000 | 0.0 | 0.0
435 | No | No | 20 | MED | No Longer Valid | 0.0000 | 0.0 | 0.0
436 | No | No | 20 | MED | No Longer Valid | 0.0000 | 0.0 | 0.0
437 | No | No | 20 | MED | No Longer Valid | 0.0000 | 0.0 | 0.0
438 | No | No | 20 | MED | No Longer Valid | 0.0000 | 0.0 | 0.0
439 | No | No | 21 | SURG | Skin Grafts For Injuries | 1.9071 | 5.4 | 8.3
440 | Yes | No | 21 | SURG | Wound Debridements For Injuries | 1.9291 | 5.6 | 8.5
441 | No | No | 21 | SURG | Hand Procedures For Injuries | 0.9920 | 2.3 | 3.4
442 | Yes | No | 21 | SURG | Other O.R. Procedures For Injuries w CC | 2.5533 | 6.0 | 8.9
443 | Yes | No | 21 | SURG | Other O.R. Procedures For Injuries w/o CC | 1.0498 | 2.7 | 3.5
444 | Yes | No | 21 | MED | Traumatic Injury Age >17 w CC | 0.7795 | 3.2 | 4.1
445 | Yes | No | 21 | MED | Traumatic Injury Age >17 w/o CC | 0.5301 | 2.3 | 2.8
446 | No | No | 21 | MED * | Traumatic Injury Age 0-17 | 0.3037 |  |
447 | No | No | 21 | MED | Allergic Reactions Age >17 | 0.5738 | 1.9 | 2.6
448 | No | No | 21 | MED * | Allergic Reactions Age 0-17 | 0.1000 |  |
449 | No | No | 21 | MED | Poisoning & Toxic Effects of Drugs Age >17 w CC | 0.8732 | 2.7 | 3.7
450 | No | No | 21 | MED | Poisoning & Toxic Effects of Drugs Age >17 w/o CC | 0.4420 | 1.6 | 2.0
451 | No | No | 21 | MED * | Poisoning & Toxic Effects of Drugs Age 0-17 | 0.2697 | 2.1 | 2.1
452 | No | No | 21 | MED | Complications of Treatment w CC | 1.0686 | 3.5 | 5.0
453 | No | No | 21 | MED | Complications of Treatment w/o CC | 0.5297 | 2.2 | 2.8
454 | No | No | 21 | MED | Other Injury, Poisoning & Toxic Effect Diag w CC | 0.8616 | 3.0 | 4.1
455 | No | No | 21 | MED | Other Injury, Poisoning & Toxic Effect Diag w/o CC | 0.4864 | 1.8 | 2.3
456 | No | No | 22 | MED | No Longer Valid | 0.0000 | 0.0 | 0.0
457 | No | No | 22 | MED | No Longer Valid | 0.0000 | 0.0 | 0.0
458 | No | No | 22 | SURG | No Longer Valid | 0.0000 | 0.0 | 0.0
459 | No | No | 22 | SURG | No Longer Valid | 0.0000 | 0.0 | 0.0
460 | No | No | 22 | MED | No Longer Valid | 0.0000 | 0.0 | 0.0
461 | No | No | 23 | SURG | O.R. Proc w Diagnoses of Other Contact w Health Services | 1.5707 | 3.3 | 5.6
462 | Yes | No | 23 | MED | Rehabilitation | 0.9460 | 8.4 | 10.0
463 | Yes | No | 23 | MED | Signs & Symptoms w CC | 0.7158 | 3.1 | 3.9
464 | Yes | No | 23 | MED | Signs & Symptoms w/o CC | 0.5271 | 2.4 | 2.9
465 | No | No | 23 | MED | Aftercare w History Of Malignancy As Secondary Diagnosis | 0.5954 | 2.4 | 3.5
466 | No | No | 23 | MED | Aftercare w/o History of Malignancy as Secondary Diagnosis | 0.7634 | 2.7 | 4.9
467 | No | No | 23 | MED | Other Factors Influencing Health Status | 0.4759 | 1.9 | 2.7
468 | Yes | No |  | SURG | Extensive O.R. Procedure Unrelated to Principal Diagnosis | 3.9925 | 9.6 | 13.0
469 | No | No |  | ** | Principal Diagnosis Invalid as Discharge Diagnosis | 0.0000 | 0.0 | 0.0
470 | No | No |  | ** | Ungroupable | 0.0000 | 0.0 | 0.0
471 | Yes | Yes | 08 | SURG | Bilateral or Multiple Major Joint Procs of Lower Extremity | 3.0424 | 4.1 | 4.6
472 | No | No | 22 | SURG | No Longer Valid | 0.0000 | 0.0 | 0.0
473 | No | No | 17 | MED | Acute Leukemia w/o Major O.R. Procedure Age >17 | 3.3623 | 7.3 | 12.7
474 | No | No | 04 | SURG | No Longer Valid | 0.0000 | 0.0 | 0.0
475 | No | No | 04 | MED | No Longer Valid | 0.0000 | 0.0 | 0.0
476 | No | No |  | SURG | Prostatic O.R. Procedure Unrelated to Principal Diagnosis | 2.1654 | 6.9 | 9.9
477 | Yes | No |  | SURG | Non-Extensive O.R. Procedure Unrelated to Principal Diagnosis | 2.0910 | 5.9 | 8.7
478 | No | No | 05 | SURG | No Longer Valid | 0.0000 | 0.0 | 0.0
479 | No | No | 05 | SURG | Other Vascular Procedures w/o CC | 1.4401 | 1.9 | 2.6
480 | No | No | PRE | SURG | Liver Transplant &/or Intestinal Transplant | 9.4096 | 14.0 | 19.1
481 | No | No | PRE | SURG | Bone Marrow Transplant | 6.3929 | 18.7 | 22.0
482 | Yes | No | PRE | SURG | Tracheostomy for Face, Mouth & Neck Diagnoses | 3.3490 | 9.4 | 11.8
483 | No | No | PRE | SURG | No Longer Valid | 0.0000 | 0.0 | 0.0
484 | No | No | 24 | SURG | Craniotomy For Multiple Significant Trauma | 5.0967 | 8.5 | 12.8
485 | Yes | No | 24 | SURG | Limb Reattachment, Hip And Femur Proc for Multiple Significant Trauma | 3.5048 | 8.1 | 10.0
486 | No | No | 24 | SURG | Other O.R. Procedures for Multiple Significant Trauma | 4.8346 | 8.5 | 12.3
487 | Yes | No | 24 | MED | Other Multiple Significant Trauma | 1.8930 | 5.2 | 7.0
488 | No | No | 25 | SURG | HIV w Extensive O.R. Procedure | 5.1298 | 12.2 | 17.7
489 | No | No | 25 | MED | HIV w Major Related Condition | 1.7921 | 5.8 | 8.2
490 | No | No | 25 | MED | HIV w or w/o Other Related Condition | 1.0408 | 3.9 | 5.3
491 | No | No | 08 | SURG | Major Joint & Limb Reattachment Procedures of Upper Extremity | 1.7203 | 2.5 | 3.0
492 | No | No | 17 | MED | Chemotherapy w Acute Leukemia or w Use of Hi Dose Chemoagent | 3.4892 | 8.9 | 13.8
493 | No | No | 07 | SURG | Laparoscopic Cholecystectomy w/o C.D.E. w CC | 1.8280 | 4.6 | 6.0
494 | No | No | 07 | SURG | Laparoscopic Cholecystectomy w/o C.D.E. w/o CC | 1.0320 | 2.1 | 2.7
495 | No | No | PRE | SURG | Lung Transplant | 8.4182 | 14.2 | 17.3
496 | No | No | 08 | SURG | Combined Anterior/Posterior Spinal Fusion | 6.3782 | 6.4 | 8.8
497 | Yes | Yes | 08 | SURG | Spinal Fusion Except Cervical w CC | 3.8192 | 4.8 | 5.7
498 | Yes | Yes | 08 | SURG | Spinal Fusion Except Cervical w/o CC | 2.9896 | 3.3 | 3.7
499 | No | No | 08 | SURG | Back & Neck Procedures Except Spinal Fusion w CC | 1.3887 | 3.0 | 4.2
500 | No | No | 08 | SURG | Back & Neck Procedures Except Spinal Fusion w/o CC | 0.9223 | 1.8 | 2.2
501 | Yes | No | 08 | SURG | Knee Procedures w PDX of Infection w CC | 2.6427 | 8.4 | 10.4
502 | Yes | No | 08 | SURG | Knee Procedures w PDX of Infection w/o CC | 1.4274 | 4.9 | 5.8
503 | No | No | 08 | SURG | Knee Procedures w/o PDX of Infection | 1.2450 | 3.1 | 3.9
504 | No | No | 22 | SURG | Exten. Burns or Full Thickness Burn w/MV 96+Hrs w/Skin Gft | 11.2524 | 20.7 | 28.0
505 | No | No | 22 | MED | Exten. Burns Or Full Thickness Burn w/MV 96+Hrs w/o Skin Gft | 2.6330 | 2.8 | 6.9
506 | No | No | 22 | SURG | Full Thickness Burn w Skin Graft or Inhal Inj w CC or Sig Trauma | 3.7856 | 10.8 | 15.2
507 | No | No | 22 | SURG | Full Thickness Burn w Skin Grft or Inhal Inj w/o CC or Sig Trauma | 1.9328 | 5.4 | 7.7
508 | No | No | 22 | MED | Full Thickness Burn w/o Skin Grft or Inhal Inj w CC or Sig Trauma | 1.4157 | 5.3 | 7.4
509 | No | No | 22 | MED | Full Thickness Burn w/o Skin Grft Or Inh Inj w/o CC or Sig Trauma | 0.8347 | 3.7 | 5.3
510 | No | No | 22 | MED | Non-Extensive Burns w CC or Significant Trauma | 1.2477 | 4.1 | 6.1
511 | No | No | 22 | MED | Non-Extensive Burns w/o CC or Significant Trauma | 0.6819 | 2.6 | 3.6
512 | No | No | PRE | SURG | Simultaneous Pancreas/Kidney Transplant | 6.2588 | 11.1 | 13.6
513 | No | No | PRE | SURG | Pancreas Transplant | 3.9771 | 8.9 | 10.6
514 | No | No | 05 | SURG | No Longer Valid | 0.0000 | 0.0 | 0.0
515 | No | No | 05 | SURG | Cardiac Defibrillator Implant w/o Cardiac Cath | 5.2293 | 2.2 | 3.8
516 | No | No | 05 | SURG | No Longer Valid | 0.0000 | 0.0 | 0.0
517 | No | No | 05 | SURG | No Longer Valid | 0.0000 | 0.0 | 0.0
518 | No | No | 05 | SURG | Perc Cardio Proc w/o Coronary Artery Stent or AMI | 1.6388 | 1.8 | 2.5
519 | No | No | 08 | SURG | Cervical Spinal Fusion w CC | 2.5439 | 2.9 | 4.7
520 | No | No | 08 | SURG | Cervical Spinal Fusion w/o CC | 1.7569 | 1.6 | 1.9
521 | Yes | No | 20 | MED | Alcohol/Drug Abuse or Dependence w CC | 0.7338 | 4.0 | 5.3
522 | Yes | No | 20 | MED | Alc/Drug Abuse or Depend w Rehabilitation Therapy w/o CC | 0.5993 | 8.0 | 10.4
523 | No | No | 20 | MED | Alc/Drug Abuse or Depend w/o Rehabilitation Therapy w/o CC | 0.4196 | 3.1 | 3.8
524 | No | No | 01 | MED | Transient Ischemia | 0.7373 | 2.6 | 3.1
525 | No | No | 05 | SURG | Other Heart Assist System Implant 1 | 2.2268 | 7.7 | 14.3
526 | No | No | 05 | SURG | No Longer Valid | 0.0000 | 0.0 | 0.0
527 | No | No | 05 | SURG | No Longer Valid | 0.0000 | 0.0 | 0.0
528 | No | No | 01 | SURG | Intracranial Vascular Proc w PDX Hemorrhage | 7.0626 | 13.3 | 16.4
529 | Yes | No | 01 | SURG | Ventricular Shunt Procedures w CC | 2.1737 | 4.6 | 7.4
530 | Yes | No | 01 | SURG | Ventricular Shunt Procedures w/o CC | 1.2186 | 2.3 | 2.9
531 | Yes | No | 01 | SURG | Spinal Procedures w CC | 3.1169 | 6.4 | 9.3
532 | Yes | No | 01 | SURG | Spinal Procedures w/o CC | 1.4577 | 2.8 | 3.7
533 | No | No | 01 | SURG | Extracranial Procedures w CC | 1.5463 | 2.4 | 3.7
534 | No | No | 01 | SURG | Extracranial Procedures w/o CC | 0.9926 | 1.4 | 1.7
535 | No | No | 05 | SURG | Cardiac Defib Implant w Cardiac Cath w AMI/HF/Shock | 7.3741 | 6.9 | 9.3
536 | No | No | 05 | SURG | Cardiac Defib Implant w Cardiac Cath w/o AMI/HF/Shock | 6.6043 | 5.5 | 7.3
537 | Yes | No | 08 | SURG | Local Excis & Remov of Int Fix Dev Except Hip & Femur w CC | 1.8360 | 4.7 | 6.6
538 | Yes | No | 08 | SURG | Local Excis & Remov of Int Fix Dev Except Hip & Femur w/o CC | 1.0282 | 2.2 | 2.9
539 | No | No | 17 | SURG | Lymphoma & Leukemia w Major or Procedure w CC | 3.1907 | 6.8 | 10.6
540 | No | No | 17 | SURG | Lymphoma & Leukemia w Major or Procedure w/o CC | 1.1759 | 2.6 | 3.5
541 | Yes | No | PRE | SURG | Ecmo or Trach w MV 96+Hrs or PDX Exc Face, Mouth & Neck w Maj O.R. | 19.2551 | 37.0 | 44.3
542 | Yes | No | PRE | SURG | Trach w MV 96+Hrs or PDX Exc Face, Mouth & Neck w/o Maj O.R. | 11.6440 | 27.2 | 32.6
543 | Yes | No | 01 | SURG | Craniotomy w Major Device Implant or Acute Complex CNS Principal Diagnosis | 4.3557 | 7.9 | 11.6
544 | Yes | No | 08 | SURG | Major Joint Replacement or Reattachment of Lower Extremity | 1.9878 | 4.0 | 4.4
545 | Yes | Yes | 08 | SURG | Revision of Hip or Knee Replacement | 2.5337 | 4.4 | 5.2
546 | No | No | 08 | SURG | Spinal Fusion Exc Cerv with Curvature of the Spine or Malig | 5.3812 | 7.0 | 8.8
547 | Yes | No | 05 | SURG | Coronary Bypass w Cardiac Cath w Major CV Dx | 6.1390 | 10.9 | 12.4
548 | Yes | No | 05 | SURG | Coronary Bypass w Cardiac Cath w/o Major CV Dx | 4.6440 | 8.1 | 8.9
549 | Yes | Yes | 05 | SURG | Coronary Bypass w/o Cardiac Cath w Major CV Dx | 5.0246 | 8.6 | 10.2
550 | Yes | Yes | 05 | SURG | Coronary Bypass w/o Cardiac Cath w/o Major CV Dx | 3.5904 | 6.2 | 6.8
551 | No | No | 05 | SURG | Permanent Cardiac Pacemaker Impl w Maj CV Dx or Aicd Lead or Gnrtr | 3.0364 | 4.2 | 6.1
552 | No | No | 05 | SURG | Other Permanent Cardiac Pacemaker Implant w/o Major CV Dx | 2.0860 | 2.5 | 3.5
553 | Yes | No | 05 | SURG | Other Vascular Procedures w CC w Major CV Dx | 3.0124 | 6.2 | 9.2
554 | Yes | No | 05 | SURG | Other Vascular Procedures w CC w/o Major CV Dx | 2.0773 | 3.7 | 5.6
555 | No | No | 05 | SURG | Percutaneous Cardiovascular Proc w Major CV Dx | 2.3066 | 3.4 | 4.8
556 | No | No | 05 | SURG | Percutaneous Cardiovasc Proc w Non-Drug-Eluting Stent w/o Maj Cv Dx | 1.7747 | 1.6 | 2.0
557 | No | No | 05 | SURG | Percutaneous Cardiovascular Proc w Drug-Eluting Stent w Major Cv Dx | 2.7616 | 3.0 | 4.1
558 | No | No | 05 | SURG | Percutaneous Cardiovascular Proc w Drug-Eluting Stent w/o Maj Cv Dx | 2.0814 | 1.5 | 1.8
559 | No | No | 01 | MED | Acute Ischemic Stroke With Use of Thrombolytic Agent | 2.2524 | 5.4 | 6.9
560 | No | No | 01 | MED | Bacterial & Tuberculous Infections of Nervous System | 2.9066 | 8.2 | 10.6
561 | No | No | 01 | MED | Non-Bacterial Infections of Nervous System Except Viral Meningitis | 2.2187 | 7.4 | 9.5
562 | Yes | No | 01 | MED | Seizure Age > 17 w CC | 1.0586 | 3.7 | 4.9
563 | Yes | No | 01 | MED | Seizure Age > 17 w/o CC | 0.6440 | 2.6 | 3.2
564 | No | No | 01 | MED | Headaches Age >17 | 0.6931 | 2.6 | 3.4
565 | Yes | No | 04 | MED | Respiratory System Diagnosis with Ventilator Support 96+ Hours | 5.2430 | 13.4 | 15.8
566 | Yes | No | 04 | MED | Respiratory System Diagnosis with Ventilator Support < 96 Hours | 2.3355 | 5.6 | 7.8
567 | Yes | No | 06 | SURG | Stomach, Esophageal & Duodenal Proc Age > 17 w CC w Major GI Dx | 5.2210 | 12.7 | 16.0
568 | Yes | No | 06 | SURG | Stomach, Esophageal & Duodenal Procedures Proc Age > 17 w CC w/o Major GI Dx | 3.3666 | 8.3 | 11.5
569 | Yes | No | 06 | SURG | Major Small & Large Bowel Procedures w CC w Major GI Dx | 4.3427 | 11.9 | 14.6
570 | Yes | No | 06 | SURG | Major Small & Large Bowel Procedures w CC w/o Major GI Dx | 2.6997 | 8.4 | 10.1
571 | No | No | 06 | MED | Major Esophageal Disorders | 1.1109 | 3.8 | 4.8
572 | Yes | No | 08 | MED | Major Gastrointestinal Disorders And Peritoneal Infections | 1.3378 | 5.6 | 7.1
573 | Yes | No | 11 | SURG | Major Bladder Procedures | 3.3489 | 9.1 | 11.1
574 | No | No | 16 | MED | Major Hematologic/Immunologic Diag Exc Sickle Cell Crisis & Coagul | 1.2703 | 4.3 | 5.7
575 | Yes | No | 18 | MED | Septicemia w MV96+ Hours Age >17 | 5.9714 | 13.2 | 16.0
576 | Yes | No | 18 | MED | Septicemia w/o MV96+ Hours Age >17 | 1.5996 | 5.5 | 7.3
577 | No | No | 01 | SURG | Carotid Artery Stent Procedure | 1.7859 | 1.6 | 2.3
578 | Yes | No | 18 | SURG | Infectious & Parasitic Diseases w O.R. Procedure | 4.8650 | 12.7 | 16.6
579 | Yes | No | 18 | SURG | Postoperative O.R. Post-Traumatic Infections w O.R. Procedure | 2.8408 | 8.4 | 11.5
DRGs 469 and 470 contain cases which could not be assigned to valid drgs.
Note: Arithmetic mean is presented for informational purposes only.
Note: Geometric mean is used only to determine payment for transfer cases.
Note: Relative weights are based on Medicare patient data and may not be appropriate for other patients.

It is important to note that in some cases this Table reflects withdrawal or termination decisions CMS has made on a hospital's behalf. For example, if CMS withdrew or terminated a hospital's reclassification(s) or redesignation on the hospital's behalf, such hospital would not be shown on this Table. Requests to reverse a decision made on behalf of a hospital by CMS and to choose another wage index, reclassification, or adjustment for which the hospital is otherwise eligible must be received by CMS no later than 5 p.m., e.s.t., with a copy sent to the MGCRB, by October 30, 2006 (30 days from the date that information appears on the CMS Web site at http://www.cms.hhs.gov/AcuteInpatientPPS/WIFN/list.asp.)

Table 9A.—Hospital Reclassifications and Redesignations by Individual Hospitals and CBSA for FY 2007
Provider No. | Geographic CBSA | Reclassified CBSA 10/1/2006- 3/31/2007 | Reclassified CBSA 4/1/2007- 9/30/2007 | LUGAR
010005 | 01 | 13820 | 13820
010008 | 01 | 33860 | 33860
010009 | 19460 | 26620 | 26620
010012 | 01 | 16860 | 16860
010022 | 01 | 40660 | 40660 | LUGAR
010025 | 01 | 17980 | 17980
010029 | 12220 | 17980 | 17980
010035 | 01 | 13820 | 13820
010044 | 01 | 13820 | 13820
010045 | 01 | 13820 | 13820
010054 | 19460 | 26620 | 26620
010059 | 19460 | 26620 | 26620
010065 | 01 | 33860 | 33860
010072 | 01 | 11500 | 11500 | LUGAR
010083 | 01 | 37860 | 37860
010085 | 19460 | 26620 | 26620
010100 | 01 | 37860 | 37860
010101 | 01 | 11500 | 11500 | LUGAR
010118 | 01 | 46220 | 46220
010126 | 01 | 33860 | 33860
010143 | 01 | 13820 | 13820
010150 | 01 |  | 33860
010158 | 01 | 19460 | 19460
010164 | 01 | 11500 | 11500 | LUGAR
020008 | 02 |  | 11260
030007 | 03 | 22380 | 22380
030033 | 03 | 22380 | 22380
040014 | 04 | 30780 | 30780
040017 | 04 | 22220 | 22220
040019 | 04 | 32820 | 32820
040020 | 27860 | 32820 | 32820
040027 | 04 | 44180 | 44180
040039 | 04 | 26 | 26
040041 | 04 | 30780 | 30780
040047 | 04 | 26 | 26
040069 | 04 | 32820 | 32820
040071 | 38220 | 30780 | 30780
040076 | 04 | 30780 | 30780
040078 | 26300 | 30780 | 30780
040080 | 04 | 27860 | 27860
040088 | 04 | 43340 | 43340
040091 | 04 | 45500 | 45500
040100 | 04 | 30780 | 30780
040119 | 04 | 30780 | 30780
050006 | 05 | 39820 | 39820
050009 | 34900 | 46700 | 46700
050013 | 34900 | 46700 | 46700
050014 | 05 | 40900 | 40900
050022 | 40140 | 42044 | 42044
050042 | 05 | 39820 | 39820
050046 | 37100 |  | 31084
050054 | 40140 | 42044 | 42044
050065 | 42044 | 31084 | 31084
050069 | 42044 | 31084 | 31084
050071 | 41940 | 36084 | 36084
050073 | 46700 | 36084 | 36084
050076 | 41884 | 36084 | 36084
050082 | 37100 |  | 31084
050089 | 40140 | 31084 | 31084
050090 | 42220 | 41884 | 41884
050099 | 40140 | 31084 | 31084
050101 | 46700 | 36084 | 36084
050102 | 40140 | 42044 | 42044
050129 | 40140 | 31084 | 31084
050136 | 42220 | 41884 | 41884
050140 | 40140 | 31084 | 31084
050150 | 05 | 40900 | 40900
050159 | 37100 |  | 31084
050168 | 42044 | 31084 | 31084
050173 | 42044 | 31084 | 31084
050174 | 42220 | 41884 | 41884
050193 | 42044 | 31084 | 31084
050197 | 41884 | 36084 | 36084
050224 | 42044 | 31084 | 31084
050226 | 42044 | 31084 | 31084
050228 | 41884 | 36084 | 36084
050230 | 42044 | 31084 | 31084
050236 | 37100 |  | 31084
050243 | 40140 | 42044 | 42044
050245 | 40140 | 31084 | 31084
050251 | 05 | 39900 | 39900
050272 | 40140 | 31084 | 31084
050279 | 40140 | 31084 | 31084
050291 | 42220 | 41884 | 41884
050292 | 40140 | 42044 | 42044
050298 | 40140 | 31084 | 31084
050300 | 40140 | 31084 | 31084
050327 | 40140 | 31084 | 31084
050329 | 40140 | 42044 | 42044
050348 | 42044 | 31084 | 31084
050367 | 46700 | 36084 | 36084
050385 | 42220 | 41884 | 41884
050390 | 40140 | 42044 | 42044
050394 | 37100 |  | 31084
050423 | 40140 | 42044 | 42044
050426 | 42044 | 31084 | 31084
050430 | 05 | 39900 | 39900
050510 | 41884 | 36084 | 36084
050517 | 40140 | 31084 | 31084
050526 | 42044 | 31084 | 31084
050534 | 40140 | 42044 | 42044
050535 | 42044 | 31084 | 31084
050541 | 41884 | 36084 | 36084
050543 | 42044 | 31084 | 31084
050547 | 42220 | 41884 | 41884
050548 | 42044 | 31084 | 31084
050549 | 37100 |  | 31084
050550 | 42044 | 31084 | 31084
050551 | 42044 | 31084 | 31084
050567 | 42044 | 31084 | 31084
050569 | 05 | 42220 | 42220
050570 | 42044 | 31084 | 31084
050573 | 40140 | 42044 | 42044
050580 | 42044 | 31084 | 31084
050584 | 40140 | 31084 | 31084
050585 | 42044 | 31084 | 31084
050586 | 40140 | 31084 | 31084
050589 | 42044 | 31084 | 31084
050592 | 42044 | 31084 | 31084
050594 | 42044 | 31084 | 31084
050603 | 42044 | 31084 | 31084
050609 | 42044 | 31084 | 31084
050616 | 37100 |  | 31084
050667 | 34900 | 46700 | 46700
050678 | 42044 | 31084 | 31084
050680 | 46700 | 36084 | 36084
050684 | 40140 | 42044 | 42044
050686 | 40140 | 42044 | 42044
050690 | 42220 | 41884 | 41884
050693 | 42044 | 31084 | 31084
050694 | 40140 | 42044 | 42044
050701 | 40140 | 42044 | 42044
050709 | 40140 | 31084 | 31084
050718 | 40140 | 42044 | 42044
050720 | 42044 | 31084 | 31084
050728 | 42220 | 41884 | 41884
050749 | 37100 |  | 31084
060001 | 24540 | 19740 | 19740
060003 | 14500 | 19740 | 19740
060023 | 24300 | 19740 | 19740
060027 | 14500 | 19740 | 19740
060044 | 06 | 19740 | 19740
060049 | 06 | 22660 | 22660
060075 | 06 |  | 24300
060096 | 06 | 19740 | 19740
060103 | 14500 | 19740 | 19740
070001 | 35300 |  | 35004
070003 | 07 | 25540 | 25540 | LUGAR
070005 | 35300 |  | 35004
070006 | 14860 |  | 35644
070010 | 14860 |  | 35644
070016 | 35300 |  | 35004
070017 | 35300 |  | 35004
070018 | 14860 |  | 35644
070019 | 35300 |  | 35004
070022 | 35300 |  | 35004
070028 | 14860 |  | 35644
070031 | 35300 |  | 35004
070033 | 14860 | 35644 | 35644
070034 | 14860 |  | 35644
070036 | 25540 |  | 35300
070038 | 35300 |  | 35004
070039 | 35300 |  | 35004
080004 | 20100 | 48864 | 48864
080006 | 08 | 20100 | 20100
080007 | 08 | 36140 | 36140
100022 | 33124 | 22744 | 22744
100023 | 10 | 36740 | 36740
100024 | 10 | 33124 | 33124
100045 | 19660 | 36740 | 36740
100049 | 10 | 29460 | 29460
100081 | 10 | 23020 | 23020 | LUGAR
100109 | 10 | 36740 | 36740
100118 | 10 | 27260 | 27260
100139 | 10 | 23540 | 23540 | LUGAR
100150 | 10 | 33124 | 33124
100157 | 29460 | 45300 | 45300
100176 | 48424 | 38940 | 38940
100217 | 42680 | 38940 | 38940
100232 | 10 | 27260 | 27260
100239 | 45300 | 42260 | 42260
100249 | 10 | 45300 | 45300
100252 | 10 | 38940 | 38940
100258 | 48424 | 22744 | 22744
100292 | 10 | 23020 | 23020 | LUGAR
110001 | 19140 | 12060 | 12060
110002 | 11 | 12060 | 12060
110003 | 11 | 27260 | 27260
110023 | 11 | 12060 | 12060
110029 | 23580 | 12060 | 12060
110038 | 11 | 10 | 10
110040 | 11 | 12060 | 12060 | LUGAR
110041 | 11 | 12020 | 12020
110052 | 11 | 16860 | 16860 | LUGAR
110054 | 40660 | 12060 | 12060
110069 | 47580 | 31420 | 31420
110075 | 11 | 42340 | 42340
110088 | 11 | 12060 | 12060 | LUGAR
110095 | 11 | 46660 | 46660
110117 | 11 | 12060 | 12060 | LUGAR
110122 | 46660 | 45220 | 45220
110125 | 11 | 31420 | 31420
110128 | 11 | 42340 | 42340
110150 | 11 | 12060 | 12060
110153 | 47580 | 31420 | 31420
110168 | 40660 | 12060 | 12060
110187 | 11 | 12060 | 12060 | LUGAR
110189 | 11 | 12060 | 12060
110205 | 11 | 12060 | 12060
120028 | 12 | 26180 | 26180
130002 | 13 | 14260 | 14260
130003 | 30300 | 50 | 50
130018 | 13 | 38540 | 38540
130049 | 17660 | 44060 | 44060
130067 | 13 | 26820 | 26820 | LUGAR
140012 | 14 | 16974 | 16974
140015 | 14 | 41180 | 41180
140032 | 14 | 41180 | 41180
140034 | 14 | 41180 | 41180
140040 | 14 | 37900 | 37900
140043 | 14 | 40420 | 40420
140046 | 14 | 41180 | 41180
140058 | 14 | 41180 | 41180
140064 | 14 | 37900 | 37900
140110 | 14 | 16974 | 16974
140143 | 14 | 37900 | 37900
140160 | 14 | 40420 | 40420
140161 | 14 | 16974 | 16974
140164 | 14 | 41180 | 41180
140189 | 14 | 16580 | 16580
140233 | 40420 | 16974 | 16974
140234 | 14 | 37900 | 37900
140236 | 14 | 28100 | 28100 | LUGAR
140291 | 29404 | 16974 | 16974
150002 | 23844 | 16974 | 16974
150004 | 23844 | 16974 | 16974
150006 | 33140 | 43780 | 43780
150008 | 23844 | 16974 | 16974
150011 | 15 | 26900 | 26900
150015 | 33140 | 16974 | 16974
150030 | 15 | 26900 | 26900 | LUGAR
150034 | 23844 | 16974 | 16974
150048 | 15 | 17140 | 17140
150051 | 14020 | 26900 | 26900
150065 | 15 | 26900 | 26900
150069 | 15 | 17140 | 17140
150076 | 15 | 43780 | 43780
150088 | 11300 | 26900 | 26900
150090 | 23844 | 16974 | 16974
150102 | 15 | 23844 | 23844 | LUGAR
150112 | 18020 | 26900 | 26900
150113 | 11300 | 26900 | 26900
150122 | 15 | 26900 | 26900
150125 | 23844 | 16974 | 16974
150126 | 23844 | 16974 | 16974
150133 | 15 | 23060 | 23060
150146 | 15 | 23060 | 23060
150147 | 23844 | 16974 | 16974
160001 | 16 | 11180 | 11180
160016 | 16 | 19780 | 19780
160057 | 16 | 26980 | 26980
160064 | 16 |  | 24
160080 | 16 | 19340 | 19340
160089 | 16 | 19780 | 19780
160147 | 16 | 19780 | 19780
170006 | 17 | 27900 | 27900
170010 | 17 | 46140 | 46140
170012 | 17 | 48620 | 48620
170013 | 17 | 48620 | 48620
170020 | 17 | 48620 | 48620
170023 | 17 | 48620 | 48620
170033 | 17 | 48620 | 48620
170058 | 17 | 28140 | 28140
170068 | 17 | 11100 | 11100
170120 | 17 | 27900 | 27900
170142 | 17 | 45820 | 45820
170175 | 17 | 48620 | 48620
170190 | 17 | 45820 | 45820
170193 | 17 | 48620 | 48620
180005 | 18 | 26580 | 26580
180011 | 18 | 30460 | 30460
180012 | 21060 | 31140 | 31140
180013 | 14540 | 34980 | 34980
180017 | 18 | 21060 | 21060
180018 | 18 | 30460 | 30460
180019 | 18 | 17140 | 17140
180024 | 18 | 31140 | 31140
180027 | 18 | 17300 | 17300
180029 | 18 | 28700 | 28700
180044 | 18 | 26580 | 26580
180048 | 18 | 31140 | 31140
180066 | 18 | 34980 | 34980
180069 | 18 | 26580 | 26580
180075 | 18 | 14540 | 14540 | LUGAR
180078 | 18 | 26580 | 26580
180080 | 18 | 30460 | 30460
180093 | 18 | 21780 | 21780
180102 | 18 | 17300 | 17300
180104 | 18 | 17300 | 17300
180116 | 18 | 14 | 14
180124 | 14540 | 34980 | 34980
180127 | 18 | 31140 | 31140
180132 | 18 | 30460 | 30460
180139 | 18 | 30460 | 30460
190001 | 19 | 35380 | 35380
190003 | 19 | 29180 | 29180
190015 | 19 | 35380 | 35380
190086 | 19 | 33740 | 33740
190099 | 19 | 12940 | 12940
190106 | 19 | 10780 | 10780
190131 | 12940 | 35380 | 35380
190155 | 19 | 12940 | 12940 | LUGAR
190164 | 19 | 10780 | 10780
190191 | 19 | 12940 | 12940
190208 | 19 | 4 | 4
190218 | 19 | 43340 | 43340
190223 | 19 | 12940 | 12940 | LUGAR
200020 | 38860 | 40484 | 40484
200024 | 30340 | 38860 | 38860
200034 | 30340 | 38860 | 38860
200039 | 20 | 38860 | 38860
200050 | 20 | 12620 | 12620
200063 | 20 | 38860 | 38860
220001 | 49340 | 14484 | 14484
220002 | 15764 | 14484 | 14484
220008 | 39300 | 14484 | 14484
220010 | 21604 | 14484 | 14484
220011 | 15764 | 14484 | 14484
220019 | 49340 | 14484 | 14484
220020 | 39300 | 14484 | 14484
220025 | 49340 | 14484 | 14484
220028 | 49340 | 14484 | 14484
220029 | 21604 | 14484 | 14484
220033 | 21604 | 14484 | 14484
220035 | 21604 | 14484 | 14484
220049 | 15764 | 14484 | 14484
220058 | 49340 | 14484 | 14484
220060 | 14484 | 12700 | 12700
220062 | 49340 | 14484 | 14484
220063 | 15764 | 14484 | 14484
220070 | 15764 | 14484 | 14484
220073 | 39300 | 14484 | 14484
220077 | 44140 | 25540 | 25540
220080 | 21604 | 14484 | 14484
220082 | 15764 | 14484 | 14484
220084 | 15764 | 14484 | 14484
220090 | 49340 | 14484 | 14484
220095 | 49340 | 14484 | 14484
220098 | 15764 | 14484 | 14484
220101 | 15764 | 14484 | 14484
220105 | 15764 | 14484 | 14484
220133 | 15764 | 14484 | 14484
220163 | 49340 | 14484 | 14484
220171 | 15764 | 14484 | 14484
220174 | 21604 | 14484 | 14484
230002 | 19804 |  | 11460
230003 | 26100 |  | 34740
230013 | 47644 |  | 19804
230019 | 47644 |  | 19804
230020 | 19804 |  | 11460
230022 | 23 | 29620 | 29620
230024 | 19804 |  | 11460
230029 | 47644 |  | 19804
230030 | 23 | 40980 | 40980
230035 | 23 | 24340 | 24340 | LUGAR
230036 | 23 |  | 13020
230037 | 23 | 11460 | 11460
230047 | 47644 | 19804 | 19804
230053 | 19804 |  | 11460
230054 | 23 | 24580 | 24580
230065 | 19804 |  | 11460
230069 | 47644 | 22420 | 22420
230071 | 47644 |  | 19804
230072 | 26100 |  | 34740
230077 | 40980 | 22420 | 22420
230080 | 23 | 40980 | 40980
230089 | 19804 |  | 11460
230093 | 23 | 24340 | 24340
230096 | 23 | 28020 | 28020
230097 | 23 |  | 24340
230099 | 33780 | 11460 | 11460
230104 | 19804 |  | 11460
230105 | 23 | 13020 | 13020
230119 | 19804 |  | 11460
230121 | 23 | 29620 | 29620 | LUGAR
230130 | 47644 |  | 19804
230134 | 23 | 26100 | 26100 | LUGAR
230135 | 19804 |  | 11460
230142 | 19804 |  | 11460
230146 | 19804 |  | 11460
230151 | 47644 |  | 19804
230165 | 19804 |  | 11460
230174 | 26100 |  | 34740
230176 | 19804 |  | 11460
230195 | 47644 | 19804 | 19804
230204 | 47644 | 19804 | 19804
230207 | 47644 |  | 19804
230208 | 23 | 24340 | 24340 | LUGAR
230217 | 12980 | 29620 | 29620
230223 | 47644 |  | 19804
230227 | 47644 | 19804 | 19804
230244 | 19804 |  | 11460
230254 | 47644 |  | 19804
230257 | 47644 | 19804 | 19804
230264 | 47644 | 19804 | 19804
230269 | 47644 |  | 19804
230270 | 19804 |  | 11460
230273 | 19804 |  | 11460
230277 | 47644 |  | 19804
230279 | 47644 | 22420 | 22420
230293 | 19804 |  | 11460
230295 | 23 | 26100 | 26100 | LUGAR
240018 | 24 | 33460 | 33460
240030 | 24 | 41060 | 41060
240064 | 24 | 20260 | 20260
240069 | 24 | 40340 | 40340
240071 | 24 | 40340 | 40340
240075 | 24 | 41060 | 41060
240088 | 24 | 41060 | 41060
240093 | 24 | 33460 | 33460
240105 | 24 | 40340 | 40340 | LUGAR
240150 | 24 | 40340 | 40340 | LUGAR
240187 | 24 | 33460 | 33460
240211 | 24 | 33460 | 33460
250002 | 25 |  | 22520
250004 | 25 | 32820 | 32820
250006 | 25 | 32820 | 32820
250009 | 25 | 27180 | 27180
250023 | 25 | 25060 | 25060 | LUGAR
250031 | 25 | 27140 | 27140
250034 | 25 | 32820 | 32820
250040 | 37700 | 25060 | 25060
250042 | 25 | 32820 | 32820
250044 | 25 | 22520 | 22520
250069 | 25 | 46220 | 46220
250079 | 25 | 27140 | 27140
250081 | 25 | 46220 | 46220
250082 | 25 | 38220 | 38220
250094 | 25620 | 25060 | 25060
250097 | 25 | 12940 | 12940
250099 | 25 | 27140 | 27140
250100 | 25 | 46220 | 46220
250104 | 25 | 27140 | 27140
250117 | 25 | 25060 | 25060 | LUGAR
260009 | 26 | 28140 | 28140
260015 | 26 | 27860 | 27860
260017 | 26 | 41180 | 41180
260022 | 26 | 16 | 16
260025 | 26 | 41180 | 41180
260049 | 26 | 44180 | 44180 | LUGAR
260050 | 26 | 41140 | 41140
260064 | 26 | 17860 | 17860
260094 | 26 | 44180 | 44180
260110 | 26 | 41180 | 41180
260113 | 26 | 14 | 14
260116 | 26 | 14 | 14
260119 | 26 | 27860 | 27860
260175 | 26 | 28140 | 28140
260183 | 26 | 41180 | 41180
260186 | 26 | 17860 | 17860
270003 | 27 | 24500 | 24500
270011 | 27 | 24500 | 24500
270017 | 27 | 33540 | 33540
270051 | 27 | 33540 | 33540
280009 | 28 | 30700 | 30700
280023 | 28 | 30700 | 30700
280032 | 28 | 30700 | 30700
280061 | 28 | 53 | 53
280065 | 28 | 24540 | 24540
280077 | 28 | 36540 | 36540
280125 | 28 | 43580 | 43580
290002 | 29 | 16180 | 16180 | LUGAR
290006 | 29 | 39900 | 39900
290008 | 29 | 41620 | 41620
290019 | 16180 | 39900 | 39900
300005 | 30 | 31700 | 31700
300014 | 40484 | 31700 | 31700
300018 | 40484 | 31700 | 31700
300019 | 30 | 49340 | 49340
310002 | 35084 | 35644 | 35644
310009 | 35084 | 35644 | 35644
310013 | 35084 | 35644 | 35644
310014 | 15804 | 37964 | 37964
310015 | 35084 | 35644 | 35644
310017 | 35084 | 35644 | 35644
310018 | 35084 | 35644 | 35644
310021 | 45940 |  | 35084
310031 | 15804 | 20764 | 20764
310038 | 20764 | 35644 | 35644
310039 | 20764 | 35644 | 35644
310048 | 20764 | 35084 | 35084
310050 | 35084 | 35644 | 35644
310054 | 35084 | 35644 | 35644
310070 | 20764 | 35644 | 35644
310076 | 35084 | 35644 | 35644
310078 | 35084 | 35644 | 35644
310081 | 15804 | 37964 | 37964
310083 | 35084 | 35644 | 35644
310093 | 35084 | 35644 | 35644
310096 | 35084 | 35644 | 35644
310108 | 20764 | 35644 | 35644
310119 | 35084 | 35644 | 35644
320005 | 22140 | 10740 | 10740
320006 | 32 | 42140 | 42140
320013 | 32 | 42140 | 42140
320014 | 32 | 29740 | 29740
320033 | 32 | 42140 | 42140 | LUGAR
320063 | 32 | 36220 | 36220
320065 | 32 | 36220 | 36220
330004 | 28740 | 39100 | 39100
330008 | 33 | 15380 | 15380 | LUGAR
330027 | 35004 | 35644 | 35644
330038 | 33 | 40380 | 40380 | LUGAR
330073 | 33 | 40380 | 40380 | LUGAR
330079 | 33 | 47 | 47
330085 | 33 | 45060 | 45060
330094 | 33 | 28740 | 28740
330103 | 33 | 39 | 39
330106 | 35004 |  | 35644
330136 | 33 | 45060 | 45060
330157 | 33 | 45060 | 45060
330167 | 35004 |  | 35644
330181 | 35004 |  | 35644
330182 | 35004 | 35644 | 35644
330191 | 24020 | 10580 | 10580
330198 | 35004 |  | 35644
330224 | 28740 | 39100 | 39100
330225 | 35004 |  | 35644
330229 | 27460 | 21500 | 21500
330235 | 33 | 45060 | 45060 | LUGAR
330239 | 27460 | 21500 | 21500
330250 | 33 | 15540 | 15540
330259 | 35004 |  | 35644
330277 | 33 | 27060 | 27060
330331 | 35004 |  | 35644
330332 | 35004 |  | 35644
330359 | 33 | 39100 | 39100 | LUGAR
330372 | 35004 |  | 35644
330386 | 33 | 39100 | 39100
340004 | 24660 | 49180 | 49180
340008 | 34 | 16740 | 16740
340010 | 24140 | 39580 | 39580
340013 | 34 | 16740 | 16740
340021 | 34 | 16740 | 16740
340027 | 34 | 24780 | 24780
340039 | 34 | 16740 | 16740
340050 | 34 | 22180 | 22180
340051 | 34 | 25860 | 25860
340068 | 34 | 48900 | 48900
340071 | 34 | 39580 | 39580 | LUGAR
340091 | 24660 | 49180 | 49180
340109 | 34 | 47260 | 47260
340115 | 34 | 20500 | 20500
340124 | 34 | 39580 | 39580 | LUGAR
340126 | 34 | 39580 | 39580
340127 | 34 | 20500 | 20500
340129 | 34 | 16740 | 16740
340131 | 34 | 24780 | 24780
340136 | 34 | 20500 | 20500 | LUGAR
340144 | 34 | 16740 | 16740
340145 | 34 | 16740 | 16740 | LUGAR
340147 | 40580 | 39580 | 39580
350003 | 35 |  | 13900
350006 | 35 |  | 13900
350009 | 35 | 22020 | 22020
360008 | 36 | 26580 | 26580
360010 | 36 | 10420 | 10420
360011 | 36 | 18140 | 18140
360013 | 36 | 30620 | 30620
360014 | 36 | 18140 | 18140
360019 | 10420 | 17460 | 17460
360020 | 10420 | 17460 | 17460
360027 | 10420 | 17460 | 17460
360036 | 36 | 17460 | 17460
360039 | 36 | 18140 | 18140
360054 | 36 | 26580 | 26580
360065 | 36 | 17460 | 17460
360078 | 10420 | 17460 | 17460
360079 | 19380 | 17140 | 17140
360086 | 44220 | 19380 | 19380
360095 | 36 | 45780 | 45780
360096 | 36 | 49660 | 49660 | LUGAR
360107 | 36 | 45780 | 45780
360121 | 36 | 11460 | 11460
360150 | 10420 | 17460 | 17460
360159 | 36 | 18140 | 18140
360175 | 36 | 18140 | 18140
360185 | 36 | 49660 | 49660 | LUGAR
360187 | 44220 | 19380 | 19380
360197 | 36 | 18140 | 18140
360211 | 48260 | 38300 | 38300
360238 | 36 | 49660 | 49660 | LUGAR
360241 | 10420 | 17460 | 17460
360245 | 36 | 17460 | 17460 | LUGAR
360253 | 19380 | 17140 | 17140
370004 | 37 | 27900 | 27900
370006 | 37 | 17 | 17
370015 | 37 | 46140 | 46140
370016 | 37 | 36420 | 36420
370018 | 37 | 46140 | 46140
370022 | 37 | 30020 | 30020
370025 | 37 | 46140 | 46140
370026 | 37 | 36420 | 36420
370034 | 37 | 22900 | 22900
370047 | 37 | 43300 | 43300
370049 | 37 | 36420 | 36420
370099 | 37 | 46140 | 46140
370103 | 37 | 45 | 45
370113 | 37 | 22220 | 22220
380001 | 38 | 38900 | 38900
380022 | 38 | 18700 | 18700 | LUGAR
380027 | 38 | 21660 | 21660
380050 | 38 | 32780 | 32780
380090 | 38 |  | 21660
390006 | 39 | 25420 | 25420
390013 | 39 | 25420 | 25420
390030 | 39 | 10900 | 10900
390031 | 39 | 39740 | 39740 | LUGAR
390046 | 49620 | 29540 | 29540
390048 | 39 | 25420 | 25420
390052 | 39 | 11020 | 11020
390065 | 39 | 47894 | 47894
390066 | 30140 | 25420 | 25420
390071 | 39 | 48700 | 48700 | LUGAR
390079 | 39 | 13780 | 13780
390086 | 39 | 44300 | 44300
390091 | 39 | 49660 | 49660
390093 | 39 | 38300 | 38300
390113 | 39 | 36 | 36
390133 | 10900 | 37964 | 37964
390138 | 39 | 47894 | 47894
390151 | 39 | 13644 | 13644
390246 | 39 | 48700 | 48700
400048 | 25020 | 41980 | 41980
410010 | 39300 | 14484 | 14484
410012 | 39300 | 14484 | 14484
410013 | 39300 | 35980 | 35980
420007 | 43900 | 24860 | 24860
420009 | 42 | 24860 | 24860 | LUGAR
420020 | 42 | 16700 | 16700
420027 | 11340 | 24860 | 24860
420028 | 42 | 44940 | 44940 | LUGAR
420030 | 42 | 16700 | 16700
420036 | 42 | 16740 | 16740
420039 | 42 | 43900 | 43900 | LUGAR
420067 | 42 | 42340 | 42340
420068 | 42 | 12260 | 12260
420069 | 42 | 44940 | 44940 | LUGAR
420070 | 44940 | 17900 | 17900
420071 | 42 | 24860 | 24860
420080 | 42 | 42340 | 42340
420083 | 43900 | 24860 | 24860
420085 | 34820 | 48900 | 48900
430012 | 43 | 43620 | 43620
430014 | 43 | 22020 | 22020
430094 | 43 | 53 | 53
440002 | 27180 | 32820 | 32820
440020 | 44 | 26620 | 26620
440024 | 17420 | 16860 | 16860
440025 | 44 | 34 | 34
440035 | 17300 | 34980 | 34980
440050 | 44 | 11700 | 11700
440058 | 44 | 16860 | 16860
440059 | 44 | 34980 | 34980
440067 | 34100 | 28940 | 28940
440068 | 44 | 16860 | 16860
440072 | 44 | 32820 | 32820
440073 | 44 | 34980 | 34980
440148 | 44 | 34980 | 34980
440151 | 44 | 34980 | 34980
440175 | 44 | 34980 | 34980
440180 | 44 | 28940 | 28940
440185 | 17420 | 16860 | 16860
440192 | 44 | 34980 | 34980
450007 | 45 | 41700 | 41700
450032 | 45 | 43340 | 43340
450039 | 23104 | 19124 | 19124
450059 | 41700 | 12420 | 12420
450064 | 23104 | 19124 | 19124
450073 | 45 | 10180 | 10180
450080 | 45 | 30980 | 30980
450087 | 23104 | 19124 | 19124
450099 | 45 | 11100 | 11100
450121 | 23104 | 19124 | 19124
450135 | 23104 | 19124 | 19124
450137 | 23104 | 19124 | 19124
450144 | 45 | 36220 | 36220
450148 | 23104 | 19124 | 19124
450187 | 45 | 26420 | 26420
450192 | 45 | 19124 | 19124
450194 | 45 | 19124 | 19124
450196 | 45 | 19124 | 19124
450211 | 45 | 26420 | 26420
450214 | 45 | 26420 | 26420
450224 | 45 | 46340 | 46340
450283 | 45 | 19124 | 19124 | LUGAR
450286 | 45 | 17780 | 17780 | LUGAR
450324 | 43300 | 19124 | 19124
450347 | 45 | 26420 | 26420
450351 | 45 | 23104 | 23104
450389 | 45 | 19124 | 19124 | LUGAR
450393 | 43300 | 19124 | 19124
450395 | 45 | 26420 | 26420
450400 | 45 | 47380 | 47380
450419 | 23104 | 19124 | 19124
450438 | 45 | 26420 | 26420
450447 | 45 | 19124 | 19124
450451 | 45 | 23104 | 23104
450469 | 43300 | 19124 | 19124
450484 | 45 | 30980 | 30980
450508 | 45 | 46340 | 46340
450547 | 45 | 19124 | 19124
450563 | 23104 | 19124 | 19124
450639 | 23104 | 19124 | 19124
450653 | 45 | 33260 | 33260
450656 | 45 | 46340 | 46340
450672 | 23104 | 19124 | 19124
450675 | 23104 | 19124 | 19124
450677 | 23104 | 19124 | 19124
450694 | 45 | 26420 | 26420
450747 | 45 | 19124 | 19124
450770 | 45 | 12420 | 12420 | LUGAR
450779 | 23104 | 19124 | 19124
450813 | 45 | 41700 | 41700
450830 | 45 | 36220 | 36220
450839 | 45 | 43340 | 43340
450858 | 23104 | 19124 | 19124
450872 | 23104 | 19124 | 19124
450880 | 23104 | 19124 | 19124
460004 | 36260 | 41620 | 41620
460005 | 36260 | 41620 | 41620
460007 | 46 | 41100 | 41100
460011 | 46 | 39340 | 39340
460021 | 41100 | 29820 | 29820
460039 | 46 | 36260 | 36260
460041 | 36260 | 41620 | 41620
460042 | 36260 | 41620 | 41620
470001 | 47 | 30 | 30
470011 | 47 | 15764 | 15764
470012 | 47 | 38340 | 38340
490004 | 25500 | 16820 | 16820
490005 | 49020 | 47894 | 47894
490013 | 49 | 31340 | 31340
490018 | 49 | 16820 | 16820
490042 | 13980 | 40220 | 40220
490079 | 49 | 49180 | 49180
490092 | 49 | 40060 | 40060
490105 | 49 | 28700 | 28700
490106 | 49 | 16820 | 16820
490109 | 47260 | 40060 | 40060
500002 | 50 | 28420 | 28420
500003 | 34580 | 42644 | 42644
500016 | 48300 | 42644 | 42644
500021 | 45104 | 42644 | 42644
500039 | 14740 | 42644 | 42644
500041 | 31020 | 38900 | 38900
500072 | 50 | 42644 | 42644
500079 | 45104 | 42644 | 42644
500108 | 45104 | 42644 | 42644
500129 | 45104 | 42644 | 42644
510001 | 34060 | 38300 | 38300
510002 | 51 | 40220 | 40220
510006 | 51 | 38300 | 38300
510018 | 51 | 16620 | 16620 | LUGAR
510024 | 34060 | 38300 | 38300
510030 | 51 | 34060 | 34060
510046 | 51 | 16620 | 16620
510047 | 51 | 38300 | 38300
510062 | 51 | 16620 | 16620
510070 | 51 | 16620 | 16620
510071 | 51 | 16620 | 16620
510077 | 51 | 26580 | 26580
520002 | 52 | 48140 | 48140
520028 | 52 | 31540 | 31540
520037 | 52 | 48140 | 48140
520059 | 39540 | 29404 | 29404
520060 | 52 | 22540 | 22540 | LUGAR
520066 | 27500 | 31540 | 31540
520071 | 52 | 33340 | 33340 | LUGAR
520076 | 52 | 31540 | 31540
520094 | 39540 | 33340 | 33340
520095 | 52 | 31540 | 31540
520096 | 39540 | 33340 | 33340
520102 | 52 | 33340 | 33340 | LUGAR
520107 | 52 | 24580 | 24580
520113 | 52 | 24580 | 24580
520116 | 52 | 33340 | 33340 | LUGAR
520173 | 52 | 20260 | 20260
530015 | 53 |  | 26820
530025 | 53 | 22660 | 22660

It is important to note that in some cases this Table reflects termination decisions CMS has made on a hospital's behalf. For example, if CMS terminated a hospital's section 1886(d)(10) reclassification on the hospital's behalf to allow the hospital to receive a section 508 reclassification, it would be shown on this Table. Requests to reverse a decision made on behalf of a hospital by CMS and to choose another wage index, reclassification, or adjustment for which the hospital is otherwise eligible must be received by CMS no later than 5 p.m., e.s.t, with a copy sent to the MGCRB, by October 30, 2006 (30 days from the date the information appears on the CMS Web site at: http://www.cms.hhs.gov/AcuteInpatientPPS/WIFN/list.asp.)

TABLE 9B.—Hospital Reclassifications and Redesignations by Individual Hospital Under Section 508 of Pub. L. 108-173—FY 2007
Provider No. | Note | Geographic CBSA | Wage Index CBSA— 10/1/2006- 3/31/2007 | Wage Index CBSA— 4/1/2007- 9/30/2007 * | Own Wage Index— 10/1/2006- 3/31/2007
010150 |  | 01 | 17980 |  |
020008 |  | 02 |  |  | 1.2183
050494 |  | 05 | 42220 |  |
050549 |  | 37100 | 42220 |  |
060075 |  | 06 |  |  | 1.0877
070001 |  | 35300 | 35004 |  |
070005 |  | 35300 | 35004 |  |
070006 | * | 14860 | 35644 |  |
070010 |  | 14860 | 35644 |  |
070016 |  | 35300 | 35004 |  |
070017 |  | 35300 | 35004 |  |
070018 | * | 14860 | 35644 |  |
070019 |  | 35300 | 35004 |  |
070022 |  | 35300 | 35004 |  |
070028 |  | 14860 | 35644 |  |
070031 |  | 35300 | 35004 |  |
070034 | * | 14860 | 35644 |  |
070036 |  | 25540 |  |  | 1.2930
070039 |  | 35300 | 35004 |  |
140155 | * | 28100 | 16974 | 16974 |
140186 | * | 28100 | 16974 | 16974 |
160040 |  | 47940 | 16300 |  |
160064 |  | 16 |  |  | 0.9701
160067 |  | 47940 | 16300 |  |
160110 |  | 47940 | 16300 |  |
220046 |  | 38340 | 14484 |  |
230003 |  | 26100 | 28020 |  |
230004 |  | 34740 | 28020 |  |
230013 |  | 47644 | 22420 |  |
230019 |  | 47644 | 22420 |  |
230020 |  | 19804 | 11460 |  |
230024 |  | 19804 | 11460 |  |
230029 |  | 47644 | 22420 |  |
230036 |  | 23 | 22420 |  |
230038 |  | 24340 | 28020 |  |
230053 |  | 19804 | 11460 |  |
230059 |  | 24340 | 28020 |  |
230066 |  | 34740 | 28020 |  |
230071 |  | 47644 | 22420 |  |
230072 |  | 26100 | 28020 |  |
230089 |  | 19804 | 11460 |  |
230097 |  | 23 | 28020 |  |
230104 |  | 19804 | 11460 |  |
230106 |  | 24340 | 28020 |  |
230119 |  | 19804 | 11460 |  |
230130 |  | 47644 | 22420 |  |
230135 |  | 19804 | 11460 |  |
230146 |  | 19804 | 11460 |  |
230151 |  | 47644 | 22420 |  |
230165 |  | 19804 | 11460 |  |
230174 |  | 26100 | 28020 |  |
230176 |  | 19804 | 11460 |  |
230207 |  | 47644 | 22420 |  |
230223 |  | 47644 | 22420 |  |
230236 |  | 24340 | 28020 |  |
230254 |  | 47644 | 22420 |  |
230269 |  | 47644 | 22420 |  |
230270 |  | 19804 | 11460 |  |
230273 |  | 19804 | 11460 |  |
230277 |  | 47644 | 22420 |  |
250002 |  | 25 | 25060 |  |
250078 | * | 25620 | 25060 | 25060 |
250122 |  | 25 | 25060 |  |
270002 | * | 27 | 33540 | 33540 |
270012 | * | 24500 | 33540 | 33540 |
270023 |  | 33540 | 13740 |  |
270032 |  | 27 | 13740 |  |
270057 |  | 27 | 13740 |  |
310021 |  | 45940 | 35644 |  |
310028 |  | 35084 | 35644 |  |
310051 |  | 35084 | 35644 |  |
310060 |  | 10900 | 35644 |  |
310115 |  | 10900 | 35644 |  |
310120 |  | 35084 | 35644 |  |
330023 | * | 39100 | 35644 | 35644 |
330049 |  | 39100 | 35644 |  |
330067 | * | 39100 | 35644 | 35644 |
330106 |  | 35004 | -- -- -- |  | 1.4779
330126 |  | 39100 | 35644 |  |
330135 |  | 39100 | 35644 |  |
330205 |  | 39100 | 35644 |  |
330209 |  | 39100 | 35004 |
330264 |  | 39100 | 35004 |  |
340002 |  | 11700 | 16740 |  |
350002 |  | 13900 | 22020 |  |
350003 |  | 35 | 22020 |  |
350006 |  | 35 | 22020 |  |
350010 |  | 35 | 22020 |  |
350014 |  | 35 | 22020 |  |
350015 |  | 13900 | 22020 |  |
350017 |  | 35 | 22020 |  |
350019 | * | 24220 | 22020 | 22020 |
350030 |  | 35 | 22020 |  |
380090 |  | 38 |  |  | 1.1162
390001 |  | 42540 | 10900 |  |
390003 |  | 39 | 10900 |  |
390044 | *** | 39 | 37964 | 37964 |
390045 | ** | 39 | 10900 |  |
390096 | *** | 39 | 37964 | 37964 |
390054 |  | 42540 | 29540 |  |
390072 |  | 39 | 10900 |  |
390095 |  | 42540 | 10900 |  |
390119 |  | 42540 | 10900 |  |
390137 |  | 42540 | 10900 |  |
390169 |  | 42540 | 10900 |  |
390185 |  | 42540 | 29540 |  |
390192 |  | 42540 | 10900 |  |
390237 |  | 42540 | 10900 |  |
390270 |  | 42540 | 29540 |  |
430005 |  | 43 | 39660 |  |
430008 | * | 43 | 43620 | 43620 |
430013 | * | 43 | 43620 | 43620 |
430015 |  | 43 | 43620 |  |
430048 |  | 43 | 43620 |  |
430060 |  | 43 | 43620 |  |
430064 |  | 43 | 43620 |  |
430077 |  | 39660 | 43620 |  |
430091 |  | 39660 | 43620 |  |
450010 |  | 48660 | 32580 |  |
450072 |  | 26420 | 26420 |  |
450591 |  | 26420 | 26420 |  |
470003 |  | 15540 | 14484 |  |
490001 |  | 49 | 31340 |  |
490024 |  | 40220 | 19260 |  |
530008 | * | 53 | 16220 | 16220 |
530010 | * | 53 | 16220 | 16220 |
530015 |  | 53 |  |  | 1.006
* These hospitals are assigned a wage index value under a special exceptions policy (see the FY 2005 IPPS final rule, 69 FR 49105).
** This hospital has been assigned a wage index for the 1st half of FY 2007 under a special exceptions policy (71 FR 48070).
*** These hospitals are receiving the same wage index for FY 2007 as hospitals reclassified to the wage index CBSA under a special exceptions policy (71 FR 48072).

Table 9C.—Hospitals Redesignated as Rural Under Section 1886(d)(8)(E) of the Act—FY 2007
Provider Number | Geographic CBSA | Redesignated Rural Area
50192 | 23420 | 05
050469 | 40140 | 05
050528 | 32900 | 05
050618 | 40140 | 05
070004 | 25540 | 07
100048 | 37860 | 10
100134 | 27260 | 10
140167 | 14 | 14
170137 | 29940 | 17
230078 | 35660 | 23
250126 | 32820 | 25
260006 | 41140 | 26
260047 | 27620 | 26
260195 | 44180 | 26
330044 | 46540 | 33
330245 | 46540 | 33
330268 | 10580 | 33
360125 | 36 | 36
370054 | 36420 | 37
380040 | 13460 | 38
440135 | 34980 | 44
440144 | 44 | 44
450052 | 45 | 45
450078 | 10180 | 45
450243 | 10180 | 45
450348 | 45 | 45
500148 | 48300 | 50
520060 | 52 | 52

This Table represents decisions CMS has made on a hospital's behalf to withdraw a redesignation under 1886(d)(8)(B) in order for the hospital to receive an out-migration adjustment. Because such withdrawal removes the hospital's urban status, we have published this separate Table 9D. Requests to reverse a decision made on behalf of a hospital by CMS and to choose another wage index, reclassification, or adjustment for which the hospital is otherwise eligible must be received by CMS from the date the information appears on the CMS Web site at no later than 5 p.m., e.s.t, with a copy sent to the MGCRB, by October 30, 2006 (30 days from the date the information appears on the CMS Web site at: http://www.cms.hhs.gov/AcuteInpatientPPS/WIFN/list.asp.)

TABLE 9D.—HOSPITALS WHO WAIVED LUGAR STATUS TO RECEIVE OUT-MIGRATION ADJUSTMENT
Provider No. | Lugar CBSA | Geographic CBSA
070021 | 25540 | 07
390150 | 38300 | 39

Table 10.—Geometric Mean Plus the Lesser of 0.75 of the National Adjusted Operating Standardized Payment Amount (Increased to Reflect the Difference Between Costs and Charges) or 0.75 of One Standard Deviation of Mean Charges by Diagnosis-Related Group (DRG)—September 2006 ¹
DRG | Number of cases | Threshold
1 | 24,393 | $53,936
2 | 10,183 | $37,116
3 | 3 | $58,151
6 | 288 | $16,761
7 | 15,032 | $41,305
8 | 3,441 | $31,218
9 | 1,775 | $25,448
10 | 19,625 | $25,064
11 | 3,083 | $19,015
12 | 55,944 | $18,885
13 | 7,525 | $17,709
14 | 278,664 | $24,949
15 | 19,988 | $20,868
16 | 17,297 | $26,485
17 | 2,973 | $15,690
18 | 33,443 | $21,281
19 | 8,461 | $15,797
21 | 2,220 | $26,882
22 | 3,168 | $23,893
23 | 10,670 | $17,130
26 | 25 | $20,794
27 | 5,971 | $25,133
28 | 19,908 | $25,479
29 | 6,522 | $15,839
31 | 5,039 | $21,151
32 | 1,903 | $14,225
34 | 27,626 | $21,196
35 | 7,908 | $14,378
36 | 307 | $17,809
37 | 1,219 | $24,783
38 | 50 | $12,362
39 | 328 | $14,783
40 | 1,187 | $22,552
42 | 1,636 | $17,152
43 | 125 | $12,945
44 | 1,290 | $14,832
45 | 2,770 | $16,515
46 | 3,929 | $16,801
47 | 1,309 | $12,127
49 | 2,415 | $31,299
50 | 2,024 | $19,215
51 | 193 | $19,093
52 | 234 | $14,094
53 | 2,145 | $26,688
55 | 1,368 | $20,105
56 | 451 | $19,428
57 | 742 | $20,317
59 | 126 | $14,906
60 | 3 | $18,895
61 | 222 | $28,833
62 | 4 | $7,231
63 | 2,827 | $26,807
64 | 3,234 | $23,214
65 | 40,485 | $13,518
66 | 8,195 | $12,932
67 | 379 | $17,209
68 | 18,913 | $14,133
69 | 5,146 | $10,686
70 | 25 | $7,496
71 | 70 | $15,634
72 | 1,326 | $16,706
73 | 9,957 | $18,059
74 | 3 | $8,077
75 | 46,852 | $48,047
76 | 48,155 | $43,568
77 | 2,111 | $25,944
78 | 49,690 | $26,250
79 | 160,357 | $29,338
80 | 7,158 | $18,890
81 | 6 | $26,040
82 | 63,188 | $26,606
83 | 7,153 | $21,619
84 | 1,403 | $12,794
85 | 22,222 | $25,173
86 | 1,717 | $15,489
87 | 96,688 | $26,941
88 | 427,043 | $19,079
89 | 553,977 | $22,015
90 | 43,487 | $13,141
91 | 53 | $11,532
92 | 16,513 | $24,871
93 | 1,440 | $16,325
94 | 13,655 | $23,739
95 | 1,577 | $12,582
96 | 59,616 | $15,886
97 | 26,688 | $11,792
98 | 13 | $12,385
99 | 21,386 | $15,725
100 | 6,410 | $12,207
101 | 23,368 | $18,532
102 | 4,930 | $12,464
103 | 886 | $234,790
104 | 20,120 | $123,941
105 | 32,626 | $93,509
106 | 3,440 | $110,979
108 | 8,757 | $89,257
110 | 57,708 | $59,154
111 | 10,783 | $45,072
113 | 34,728 | $45,319
114 | 7,959 | $30,164
117 | 5,349 | $25,616
118 | 7,619 | $33,285
119 | 963 | $25,968
120 | 33,555 | $36,452
121 | 150,046 | $29,680
122 | 54,522 | $20,942
123 | 29,563 | $25,710
124 | 120,511 | $29,663
125 | 92,405 | $23,754
126 | 5,422 | $40,934
127 | 667,286 | $21,971
128 | 4,210 | $15,620
129 | 3,521 | $21,831
130 | 87,464 | $20,073
131 | 22,952 | $12,066
132 | 101,373 | $13,642
133 | 5,853 | $12,329
134 | 39,815 | $13,569
135 | 7,164 | $19,619
136 | 943 | $14,096
138 | 206,123 | $17,779
139 | 74,037 | $11,515
140 | 31,103 | $11,148
141 | 123,084 | $16,561
142 | 49,143 | $13,263
143 | 237,810 | $12,620
144 | 104,876 | $24,607
145 | 5,742 | $12,887
146 | 10,269 | $45,085
147 | 2,614 | $31,236
149 | 19,522 | $30,220
150 | 22,971 | $44,985
151 | 5,403 | $27,722
152 | 5,011 | $33,345
153 | 1,951 | $23,305
155 | 6,015 | $27,713
156 | 4 | $42,483
157 | 8,316 | $25,978
158 | 3,718 | $14,380
159 | 19,222 | $28,297
160 | 11,939 | $18,842
161 | 10,145 | $25,543
162 | 4,950 | $15,310
163 | 5 | $14,037
164 | 5,996 | $38,812
165 | 2,457 | $25,557
166 | 5,154 | $29,283
167 | 4,909 | $19,618
168 | 1,640 | $25,297
169 | 895 | $16,754
170 | 17,930 | $44,495
171 | 1,408 | $26,705
172 | 33,048 | $26,386
173 | 2,225 | $17,067
174 | 253,126 | $21,935
175 | 29,235 | $12,619
176 | 14,648 | $23,980
177 | 7,654 | $20,567
178 | 2,557 | $15,456
179 | 14,726 | $22,991
180 | 91,333 | $20,898
181 | 25,350 | $12,543
182 | 255,695 | $17,111
183 | 79,006 | $13,062
184 | 72 | $12,788
185 | 6,251 | $18,891
186 | 7 | $5,682
187 | 646 | $18,329
188 | 87,004 | $22,793
189 | 12,389 | $13,014
190 | 10 | $13,844
191 | 10,586 | $54,763
192 | 1,379 | $32,585
193 | 4,041 | $51,627
194 | 461 | $32,149
195 | 2,846 | $50,151
196 | 594 | $32,373
197 | 16,420 | $41,918
198 | 4,109 | $26,007
199 | 1,481 | $37,168
200 | 1,017 | $39,819
201 | 2,717 | $52,822
202 | 27,495 | $25,144
203 | 32,424 | $26,193
204 | 69,425 | $23,001
205 | 32,781 | $23,350
206 | 2,069 | $16,175
207 | 38,290 | $24,723
208 | 9,444 | $15,567
210 | 126,742 | $36,048
211 | 25,766 | $26,709
212 | 10 | $18,640
213 | 9,549 | $33,765
216 | 19,882 | $35,321
217 | 15,719 | $41,774
218 | 30,183 | $32,723
219 | 21,169 | $23,471
220 | 2 | $23,950
223 | 12,680 | $25,338
224 | 9,900 | $18,613
225 | 6,275 | $26,106
226 | 6,770 | $29,359
227 | 4,857 | $18,625
228 | 2,678 | $24,536
229 | 1,121 | $15,636
230 | 2,473 | $26,449
232 | 570 | $20,932
233 | 18,488 | $34,645
234 | 9,054 | $27,557
235 | 4,763 | $16,225
236 | 41,768 | $15,378
237 | 1,924 | $13,851
238 | 9,693 | $26,241
239 | 40,335 | $23,048
240 | 12,890 | $24,453
241 | 2,848 | $14,337
242 | 2,722 | $22,539
243 | 100,966 | $17,005
244 | 16,921 | $15,401
245 | 5,808 | $10,457
246 | 1,393 | $13,422
247 | 21,347 | $12,738
248 | 16,397 | $18,895
249 | 13,488 | $15,481
250 | 4,164 | $15,047
251 | 2,060 | $10,726
253 | 24,800 | $16,488
254 | 10,027 | $10,231
256 | 7,605 | $17,982
257 | 13,112 | $19,590
258 | 11,382 | $15,403
259 | 2,660 | $21,569
260 | 2,420 | $15,136
261 | 1,569 | $20,684
262 | 602 | $20,906
263 | 22,523 | $32,388
264 | 3,924 | $22,371
265 | 4,035 | $28,311
266 | 2,229 | $19,608
267 | 276 | $20,117
268 | 1,007 | $25,617
269 | 11,061 | $30,458
270 | 2,581 | $17,775
271 | 21,574 | $21,522
272 | 6,063 | $20,960
273 | 1,268 | $12,686
274 | 2,214 | $22,741
275 | 181 | $13,452
276 | 1,611 | $15,546
277 | 118,986 | $18,413
278 | 33,859 | $11,767
279 | 6 | $9,146
280 | 19,325 | $16,074
281 | 6,587 | $11,105
283 | 6,750 | $15,606
284 | 1,860 | $9,719
285 | 8,075 | $35,310
286 | 2,868 | $34,890
287 | 5,459 | $31,321
288 | 11,449 | $36,433
289 | 6,343 | $19,733
290 | 11,873 | $18,847
291 | 60 | $12,885
292 | 7,589 | $41,617
293 | 318 | $27,403
294 | 96,809 | $16,328
295 | 4,384 | $16,246
296 | 247,066 | $17,313
297 | 42,865 | $10,814
298 | 111 | $11,206
299 | 1,529 | $21,388
300 | 21,667 | $23,240
301 | 3,928 | $13,559
302 | 10,492 | $53,338
303 | 19,976 | $35,840
304 | 13,647 | $37,446
305 | 2,957 | $25,330
306 | 5,818 | $25,924
307 | 1,947 | $13,770
308 | 5,453 | $27,143
309 | 2,963 | $19,770
310 | 25,376 | $25,325
311 | 5,890 | $14,282
312 | 1,328 | $24,333
313 | 505 | $16,723
314 | 2 | $63,668
315 | 34,913 | $34,744
316 | 205,564 | $24,392
317 | 2,713 | $17,237
318 | 5,910 | $24,034
319 | 386 | $13,859
320 | 224,863 | $18,222
321 | 31,969 | $12,283
322 | 67 | $13,256
323 | 20,412 | $18,199
324 | 4,635 | $11,384
325 | 9,919 | $14,511
326 | 2,592 | $9,803
327 | 11 | $4,287
328 | 574 | $15,451
329 | 54 | $11,775
331 | 56,121 | $22,455
332 | 3,962 | $13,809
333 | 244 | $18,783
334 | 9,525 | $29,895
335 | 12,194 | $24,054
336 | 28,188 | $18,058
337 | 21,485 | $12,514
338 | 674 | $26,937
339 | 1,237 | $24,400
341 | 3,131 | $26,325
342 | 457 | $16,760
344 | 2,341 | $26,264
345 | 1,390 | $24,260
346 | 3,961 | $22,442
347 | 235 | $12,271
348 | 4,262 | $15,658
349 | 554 | $10,030
350 | 7,276 | $16,403
352 | 1,177 | $16,583
353 | 3,089 | $31,220
354 | 7,566 | $29,704
355 | 4,987 | $19,286
356 | 22,032 | $16,331
357 | 5,537 | $37,764
358 | 20,928 | $24,273
359 | 28,584 | $17,298
360 | 13,855 | $18,950
361 | 287 | $23,686
362 | 2 | $6,796
363 | 2,155 | $23,016
364 | 1,799 | $19,267
365 | 1,617 | $32,699
366 | 4,645 | $23,868
367 | 446 | $12,998
368 | 4,145 | $23,496
369 | 3,723 | $14,363
370 | 2,249 | $17,564
371 | 2,705 | $12,728
372 | 1,376 | $10,829
373 | 5,273 | $7,559
374 | 153 | $13,086
375 | 12 | $22,690
376 | 476 | $12,879
377 | 109 | $24,191
378 | 201 | $16,303
379 | 499 | $8,235
380 | 111 | $9,375
381 | 169 | $15,153
382 | 48 | $3,957
383 | 2,806 | $10,566
384 | 151 | $7,395
389 | 3 | $47,550
392 | 2,139 | $45,748
394 | 2,759 | $31,095
395 | 101,473 | $16,889
396 | 18 | $13,731
397 | 16,392 | $23,042
398 | 6,706 | $23,195
399 | 1,080 | $14,886
401 | 6,451 | $43,898
402 | 1,356 | $25,234
403 | 31,326 | $29,951
404 | 3,820 | $20,323
406 | 2,303 | $42,395
407 | 615 | $24,808
408 | 1,948 | $33,924
409 | 1,748 | $25,090
410 | 29,053 | $23,878
411 | 5 | $9,689
412 | 9 | $9,325
413 | 5,741 | $25,503
414 | 487 | $16,459
417 | 33 | $28,277
418 | 29,977 | $22,170
419 | 17,634 | $18,501
420 | 3,100 | $12,987
421 | 13,255 | $16,161
422 | 79 | $11,719
423 | 8,962 | $28,700
424 | 1,041 | $36,317
425 | 13,096 | $13,579
426 | 4,235 | $10,364
427 | 1,579 | $11,172
428 | 845 | $13,787
429 | 23,937 | $16,841
430 | 75,525 | $13,560
431 | 333 | $12,622
432 | 402 | $14,045
433 | 4,471 | $6,874
439 | 1,759 | $29,662
440 | 5,216 | $29,532
441 | 686 | $20,412
442 | 18,596 | $37,581
443 | 3,589 | $22,657
444 | 6,012 | $16,341
445 | 2,242 | $11,493
447 | 6,323 | $11,529
449 | 40,846 | $18,259
450 | 7,445 | $9,450
451 | 2 | $19,075
452 | 28,815 | $21,740
453 | 5,394 | $11,430
454 | 4,738 | $17,873
455 | 887 | $10,736
461 | 2,290 | $27,973
462 | 7,863 | $17,177
463 | 32,884 | $15,102
464 | 7,661 | $11,329
465 | 163 | $12,758
466 | 1,204 | $14,616
467 | 1,026 | $10,056
468 | 52,034 | $57,130
470 | 128 | $25,337
471 | 15,630 | $55,525
473 | 8,578 | $38,344
476 | 2,850 | $35,320
477 | 28,197 | $34,214
479 | 27,646 | $30,661
480 | 908 | $128,375
481 | 1,198 | $89,005
482 | 5,081 | $49,252
484 | 472 | $75,143
485 | 3,713 | $51,989
486 | 2,712 | $69,289
487 | 5,016 | $32,012
488 | 828 | $63,441
489 | 13,547 | $28,616
490 | 5,252 | $21,801
491 | 22,663 | $35,766
492 | 3,924 | $44,487
493 | 61,082 | $34,534
494 | 24,547 | $22,726
495 | 342 | $121,280
496 | 3,726 | $96,585
497 | 31,201 | $62,709
498 | 21,280 | $52,054
499 | 35,237 | $28,358
500 | 46,425 | $19,847
501 | 3,200 | $42,457
502 | 764 | $29,384
503 | 5,910 | $26,642
504 | 192 | $146,686
505 | 180 | $28,342
506 | 963 | $50,252
507 | 323 | $31,921
508 | 654 | $23,708
509 | 155 | $16,122
510 | 1,782 | $21,231
511 | 627 | $13,442
512 | 550 | $90,296
513 | 226 | $67,441
515 | 58,659 | $86,726
518 | 23,762 | $34,527
519 | 12,586 | $44,237
520 | 16,525 | $35,867
521 | 29,364 | $15,479
522 | 3,423 | $12,533
523 | 14,462 | $8,530
524 | 109,013 | $16,166
525 | 205 | $156,390
528 | 1,845 | $107,946
529 | 5,026 | $36,171
530 | 3,360 | $25,619
531 | 4,993 | $45,629
532 | 2,882 | $28,150
533 | 43,711 | $29,870
534 | 40,201 | $21,434
535 | 8,826 | $119,455
536 | 8,259 | $109,010
537 | 8,983 | $32,598
538 | 5,459 | $22,345
539 | 4,973 | $44,611
540 | 1,504 | $25,501
541 | 25,104 | $251,059
542 | 23,115 | $151,522
543 | 5,718 | $64,397
544 | 445,799 | $39,439
545 | 44,802 | $44,851
546 | 2,360 | $83,437
547 | 32,710 | $97,734
548 | 32,249 | $79,397
549 | 13,141 | $80,495
550 | 34,566 | $63,327
551 | 53,869 | $51,351
552 | 82,058 | $40,481
553 | 39,292 | $46,800
554 | 77,351 | $36,871
555 | 37,378 | $42,659
556 | 18,973 | $37,602
557 | 124,154 | $51,160
558 | 192,637 | $42,298
559 | 2,894 | $40,731
560 | 3,457 | $44,405
561 | 2,952 | $35,694
562 | 52,954 | $22,156
563 | 21,145 | $14,021
564 | 16,327 | $15,310
565 | 46,823 | $78,345
566 | 73,082 | $39,133
567 | 10,363 | $72,728
568 | 16,695 | $48,820
569 | 60,814 | $63,237
570 | 72,247 | $44,163
571 | 11,153 | $23,681
572 | 48,983 | $25,165
573 | 6,683 | $51,724
574 | 26,619 | $24,474
575 | 10,978 | $86,104
576 | 277,472 | $28,309
577 | 5,596 | $35,353
578 | 35,312 | $65,007
579 | 20,665 | $39,583
¹ Cases taken from the FY 2005 MedPAR file; DRGs are from GROUPER Version 24.0.

[FR Doc. 06-8471 Filed 9-29-06; 4:00 pm]

BILLING CODE 4120-01-P